DEPARTMENT OF THE INTERIOR

Fish and Wildlife Service

50 CFR Part 17

RIN 1018-AI72

Endangered and Threatened Wildlife and Plants; Designation of Critical Habitat for the Coastal California Gnatcatcher (Polioptila californica californica) and Determination of Distinct Vertebrate Population Segment for the California Gnatcatcher (Polioptila californica)

AGENCY: Fish and Wildlife Service, Interior.

ACTION: Proposed rule.

SUMMARY: We, the U. S. Fish and Wildlife Service (Service), propose designation of critical habitat for the coastal California gnatcatcher (Polioptila californica californica) pursuant to the Endangered Species Act of 1973, as amended (Act). A total of approximately 200,595 hectares (ha) (495,795 acres (ac)) of gnatcatcher habitat in Los Angeles, Orange, Riverside, San Bernardino, San Diego, and Ventura counties, California are within the boundaries of proposed critical habitat.

Critical habitat receives protection from destruction or adverse modification through required consultation under section 7 of the Act with regard to actions carried out, funded, or authorized by a Federal agency. Section 4 of the Act requires us to consider economic and other relevant impacts when specifying any particular area as critical habitat.

We are also considering revising the table of endangered and threatened wildlife published under 50 CFR 17.11 with respect to the coastal California gnatcatcher. We originally identified the coastal California gnatcatcher as a subspecies of the California gnatcatcher. However, new genetic information raises questions about the distinctiveness of the subspecies. Accordingly, we are considering whether and how the listing of the coastal California gnatcatcher should be amended.

We are soliciting data and comments from the public on all aspects of this proposal, including data on economic and other impacts of the designation. We may revise this proposal prior to final designation to incorporate or address new information received during the comment period.

DATES: We will accept comments until June 23, 2003. Public hearing requests must be received by June 9, 2003.

ADDRESSES: If you wish to comment, you may submit your comments and materials concerning this proposal by any one of several methods:

(1) You may submit written comments and information to the Field Supervisor, Carlsbad Fish and Wildlife Office, U.S. Fish and Wildlife Service, 6010 Hidden Valley Road, Carlsbad, California 92009.

(2) You may also send comments by electronic mail (e-mail) to fw1cfwocagn@r1.fws.gov. See the “Public Comments Solicited” section below for file format and other information about electronic submission of comments.

Comments and materials received will be available for public inspection, by appointment, during normal business hours at the above address.

FOR FURTHER INFORMATION CONTACT: Field Supervisor, Carlsbad Fish and Wildlife Office, at the above address (e-mail: fw1cfwocagn@r1.fws.gov; telephone: 760/431-9440; facsimile 760/431-9618). For information about Ventura and western Los Angeles counties, contact the Field Supervisor, Ventura Fish and Wildlife Office, U. S. Fish and Wildlife Service, 2493 Portola Road Suite B, Ventura, California 93003 (telephone: 805/644-1766; facsimile 805/644-3958).

SUPPLEMENTARY INFORMATION:

Public Comments Solicited

It is our intent that any final action resulting from this proposal will be as accurate as possible. Therefore, we solicit comments or suggestions from the public, other concerned governmental agencies, the scientific community, industry, or any other interested party concerning this proposed rule. Based on public comment, the final rule could find areas not essential, appropriate for exclusion under either 3(5)(A) or 4(b)(2), or not appropriate for exclusion, in which case, they would be made part of the designation. We particularly seek comments concerning:

(1) The reasons why any particular habitat should or should not be determined to be critical habitat as provided by section 4 of the Act;

(2) Specific information on the amount and distribution of coastal California gnatcatchers and what habitat is essential to the conservation of the species and why;

(3) Whether habitat currently preserved in various conservation areas within the coastal California gnatcatcher range is sufficient for the conservation of the species;

(4) Land use practices and current or planned activities in the subject areas and the possible impacts of the proposed critical habitat;

(5) Any foreseeable economic or other impacts resulting from the proposed designation of critical habitat, in particular, any impacts on small entities or businesses;

(6) We have considered, but have not proposed the following areas as critical habitat: mission-essential training areas on Camp Pendleton and lands on Marine Corps Air Station Miramar (MCAS, Miramar); reserve lands in the San Diego Multiple Species Conservation Program (MSCP) and the Orange County Central-Coastal Natural Communities Conservation Program (NCCP), and tribal lands of the Pala Band of Mission Indians because we believe that: (1) Their value for conservation has been addressed by existing protective actions, or (2) they are appropriate for exclusion pursuant to the “other relevant impact” provisions of section 4(b)(2). We specifically solicit comment, however, on the inclusion or exclusion of such areas and: (a) Whether these areas are essential; (b) whether these areas warrant exclusion; and (c) the basis for not designating these areas as critical habitat (section 3(5)(A) or section 4(b)(2)).

(7) Any economic or other impacts associated with designating critical habitat on reserve, preserve, or other conservation lands within the boundaries of approved HCPs that have been developed through cooperative, voluntary partnerships.

(8) The benefits of including or excluding military lands covered by an adequate Integrated Natural Resource Management Plan and tribal lands, NCCP lands, HCP lands, or any other lands covered by an adequate management plan.

(9) With respect to our consideration of listing of the coastal California gnatcatcher subspecies as a distinct vertebrate population segment (DPS) rather than a subspecies on the endangered species list, we are particularly soliciting comments on the following:

(a) Do the recent genetic findings referenced in this report justify a review of the taxonomy of the subspecies of the coastal California gnatcatcher?

(b) Is there any other new information that the Service should consider in this context?

(10) In its consideration of the U.S. population of the California gnatcatcher as a DPS, the Service has presented a proposed five factor analysis of the status of the U.S. population. With respect to this analysis, the Service is particularly soliciting information on the following:

(a) Existing populations of the coastal California gnatcatcher within its range in the United States;

(b) Existing populations of the California gnatcatcher in Mexico;

(c) Information on the regulatory authorities available for the protection of the California gnatcatcher in Mexico;

(d) Information on the adequacy of regulatory authorities available to protect coastal California gnatcatcher habitat in California absent the application of the Act;

(e) Ways in which the coastal California gnatcatcher exists in an ecological setting that is unusual or unique compared to the California gnatcatcher generally;

(f) Any other information that the Service should consider in its review of the taxonomy.

Our practice is to make comments, including names and home addresses of respondents, available for public review during regular business hours. Individual respondents may request that we withhold their home addresses from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Background

The coastal California gnatcatcher (Polioptila californica californica) is a small (length 11 centimeters (cm) (4.5 inches (in)), weight 6 grams (g) (0.2 ounces (oz)), long-tailed member of the old-world warbler and gnatcatcher family Sylviidae (American Ornithologist Union 1998). The bird's plumage is dark blue-gray above and grayish-white below. The tail is mostly black above and below. The male has a distinctive black cap, which is absent during the winter. Both sexes have a distinctive white eye-ring. As its common name implies, the gnatcatcher preys upon arthropods, including insects such as leafhoppers and planthoppers (Homoptera), and spiders (Burger et al. 1999).

The United States population of the coastal California gnatcatcher is restricted to coastal southern California from Ventura and San Bernardino counties, California south to the Mexican border (American Ornithologists' Union 1957; Atwood 1991; Banks and Gardner 1992; Garrett and Dunn 1981). An evaluation of the historic range of the coastal California gnatcatcher indicates that about 41 percent of its latitudinal distribution is within the United States and 59 percent is within Baja California, Mexico (Atwood 1990). An analysis based on elevational limits associated with gnatcatcher locality records reveals that a significant portion (65 to 70 percent) of the coastal California gnatcatcher's historic range may have been located in southern California rather than Baja California (Atwood 1992). The analysis suggested that the species occurs below about 912 meters (m) (3,000 feet (ft)) in elevation.

The coastal California gnatcatcher was considered locally common in the mid-1940s, although a decline in the extent of its habitat was noted (Grinnell and Miller 1944). By the 1960s, this species had apparently experienced a significant population decline in the United States that has been attributed to widespread destruction of its habitat (Pyle and Small 1961). Pyle and Small (1961) reported that “the California subspecies is very rare, and lack of recent records of this race compared with older records may indicate a drastic reduction in population.” Atwood (1980) estimated that no more than 1,000 to 1,500 pairs remained in the United States. Atwood (1980) also noted that remnant portions of its habitat were highly fragmented, with nearly all being bordered on at least one side by rapidly expanding urban centers. Subsequent reviews of coastal California gnatcatcher status by Garrett and Dunn (1981) and Unitt (1984) paralleled the findings of Atwood (1980). The subspecies was listed as threatened on March 30, 1993, because of habitat loss and fragmentation resulting from urban and agricultural development and the synergistic effects of cowbird parasitism and predation (58 FR 16742). Subsequent studies showed that gnatcatcher populations undergo wide variations in numbers, depending on annual rainfall and climatic conditions, but that habitat loss in southern California has continued to restrict gnatcatcher populations in the United States (Erickson and Miner 1998; Preston et al. 1998; Atwood 2001).

The coastal California gnatcatcher typically occurs in or near sage scrub habitat, which is a broad category of vegetation that includes the following plant communities: Venturan coastal sage scrub, Diegan coastal sage scrub, maritime succulent scrub, Riversidean sage scrub, Riversidean alluvial fan (areas created when sediments from the stream are deposited) scrub, southern coastal bluff scrub, and coastal sage-chaparral scrub (Holland 1986; Kirkpatrick and Hutchinson 1977; Westman 1983). Based upon dominant species, these communities have been further divided into series such as black sage, brittlebush, California buckwheat, California buckwheat-white sage, California encelia, California sagebrush, California sagebrush-black sage, California sagebrush-California buckwheat, coast prickly-pear, mixed sage, purple sage, scalebroom, and white sage (Sawyer and Keeler-Wolf 1995).

The majority of plant species found in sage scrub habitat are low-growing, drought-deciduous shrubs and sub-shrubs. Generally speaking, most types of sage scrub are dominated by one or more of the following: Artemisia californica (California sagebrush), Eriogonum fasciculatum and E. cinereum (buckwheat), Encelia californica (coast sunflower), Encelia farinosa (brittlebush), Salvia mellifera, S. apiana, and S. leucophylla (sage). Sage scrub often occurs in a patchy, or mosaic, distribution pattern throughout the range of the gnatcatcher.

Coastal California gnatcatchers also use chaparral (shrubby plants adapted to dry summers and moist winters), grassland, and riparian (areas near a source of water) habitats where they occur in proximity to sage scrub. These non-sage scrub habitats are used for dispersal and foraging (Atwood et al. 1998; Campbell et al. 1998). Availability of these non-sage scrub areas is essential during certain times of the year, particularly during drought conditions, for dispersal, foraging, or nesting. Several studies have also suggested that gnatcatchers avoid nesting on very steep slopes (greater than 40 percent) (Bontrager 1991, Mock and Bolger 1992, Ogden 1992). However, steep slopes may still be suitable for foraging and dispersal.

Several comprehensive overviews of the life history and ecology of the coastal California gnatcatcher have been prepared and are the basis for much of the discussion presented below (e.g., Atwood 1990; Atwood and Bontrager 2000; Western Birds 29(4) 1998). The coastal California gnatcatcher is nonmigratory and defends breeding territories ranging in size from 1 to 6 ha (2 to 14 ac). Reported home ranges vary in size from 5 to 15 ha (13 to 39 ac) for this species (Mock and Jones 1990). The breeding season of the coastal California gnatcatcher extends from late February through July, with the peak of nest initiations (startups) occurring from mid-March through mid-May. Nests are composed of grasses, bark strips, small leaves, spider webs, down, and other materials and are often located in California sagebrush about 1 m (3 ft) above the ground. Nests are constructed over a 4 to 10 day period. Clutch size averages four eggs. The incubation and nestling periods encompass about 14 and 16 days, respectively. Both sexes participate in all phases of the nesting cycle. Although the coastal California gnatcatcher may occasionally produce two broods in one nesting season, the frequency of this behavior is not known. Juveniles are dependent upon, or remain closely associated with, their parents for up to several months following departure from the nest and dispersal from their natal (place of birth) territory.

Dispersal of juveniles generally requires a corridor of native vegetation providing certain foraging and shelter requisites to link larger patches of appropriate sage scrub vegetation (Soulé 1991). These dispersal corridors facilitate the exchange of genetic material and provide a path for recolonization of areas from which the species has been extirpated (Soulé 1991 and Galvin 1998). Galvin (1998) concluded that, “natal dispersal [through corridors] is therefore an important aspect of the biology of [a] * * * nonmigratory, territorial bird * * * [such as] the California gnatcatcher * * *'' While juvenile coastal California gnatcatchers are capable of dispersing long distances (up to 22 kilometers (km) (14 miles (mi)) as modeled by Bailey and Mock 1998) across fragmented and highly disturbed sage scrub habitat, such as found along highway and utility corridors or remnant mosaics of habitat adjacent to developed lands, generally the species disperses short distances through contiguous undisturbed habitat (Bailey and Mock 1998, Famolaro and Newman 1998, and Galvin 1998). Moreover, it is likely that populations will experience increased juvenile mortality in fragmented habitats where dispersal distances are greater than average (Atwood et al. 1998). This would be particularly likely if dispersal was across non- or suboptimal habitats (Soulé 1991).

California Gnatcatcher Taxonomy

The following discussion of the taxonomy of the California gnatcatcher expands upon the discussion presented in the Notice of Determination to Retain the Threatened Status for the Coastal California Gnatcatcher (60 FR 15693, March 27, 1995). The California gnatcatcher (Polioptila californica) was first described in 1881 based on specimens from Riverside and Ventura counties (Brewster 1881). Grinnell (1926) then reduced it to a subspecies of the black-tailed gnatcatcher (Polioptila melanura). Subsequently, on the basis of differences in morphology, ecology, and behavior, Atwood (1988) concluded that P. californica was specifically distinct from P. melanura. Atwood's finding has been recognized by the American Ornithologists' Union Committee on Classification and Nomenclature (American Ornithologists' Union 1998).

The California gnatcatcher consists of up to five subspecies (from north to south): californica (Brewster), atwoodi (Mellink), pontilis (van Rossem), margaritae (Ridgway), and abbreviata (Grinnell). None of the taxonomic treatments recognizing segregate taxa called into question the distinctiveness or identity of subspecies californica. Although various authors have proposed different nomenclatures, several consistencies are evident in the subspecific treatments. Several characters, including body plumage color, tail length, and amount of white on the retrices (tail feathers), show an abrupt change or step at approximately 30° N latitude, near El Rosario, Baja California, Mexico (Grinnell 1926; van Rossem 1931; Philips 1991; Atwood 1991; Mellink and Rea 1994). This is the traditional boundary between subspecies californica and pontilis. Mellink and Rea (1994) also recognized this boundary, but described a new subspecies atwoodi between 30° N latitude and the international border (approximately 32°33′ N). A second step is evident in body plumage and tail length at 28° N latitude, near Guerrero Negro, Baja California Sur, Mexico (van Rossem 1931; Philips 1991; Atwood 1991; Mellink and Rea 1994). This step represents the traditional boundary between subspecies pontilis and margaritae. Some investigators include a third step at approximately 24° N, near La Paz, Baja California Sur, Mexico, on the basis of tail length, bill width and depth, amount of white on the retrices, and wing length (Grinnell 1926, Atwood 1991). South of this latitude subspecies abbreviata has been described (Grinnell 1926).

A recent scientific paper (Zink et al. 2000) presents results of genetic research on the California gnatcatcher and calls into question the status of the coastal California gnatcatcher as a distinct subspecies. This paper presents a contradictory view to all previously published taxonomic reviews of the species (e.g., Atwood 1988, 1991; Grinnell 1926; Mellink and Rea 1994; Philips 1991; van Rossem 1931; summarized in 60 FR 15693). Zink et al. (2000) analyzed the genetic structure of California gnatcatcher populations throughout the range by looking for variation in the mitochondrial DNA (mtDNA) control region and three mtDNA genes. Their analysis failed to reveal genetic structuring consistent with geographically distinct subspecies. Patterns of nucleotide diversity showed a step at approximately 28° N latitude. The authors interpreted these and other data as evidence that the species has expanded its range from a Pleistocene era refugium south of 28° N. The authors argue that morphological variation previously described in taxonomic treatments were not genetically based, and therefore, subspecific divisions of the species are not supported.

Zink et al. (2000) present important new information concerning genetic variability within the California gnatcatcher. Given the uncertainty regarding California gnatcatcher taxonomy that this paper introduces, we consider it appropriate to propose a DPS. In light of this study, we have initiated an evaluation to determine whether the California gnatcatcher (Polioptila californica) species in the United States meets the definition of a DPS pursuant to our 1996 joint U.S. Fish and Wildlife Service and National Marine Fisheries Service Policy Regarding the Recognition of Distinct Vertebrate Populations (61 FR 4722; DPS). We are considering whether the California gnatcatcher meets the definition of a DPS based on the analysis summarized below. If our analysis confirms that the requirements for a DPS are met, we propose to list the U.S. population of the California gnatcatcher as a DPS and reevaluate the status of the remaining California gnatcatcher population in Mexico. This reevaluation could result in delisting the species in Mexico or listing one or more separate DPSs in Mexico.

Distinct Vertebrate Population Segment

We evaluated the U.S. population of the California gnatcatcher according to the February 7, 1996, joint U.S. Fish and Wildlife Service and National Marine Fisheries Service Policy Regarding the Recognition of Distinct Vertebrate Populations (61 FR 4722; DPS). Three elements are considered in a decision regarding the status of a possible DPS as endangered or threatened under the Act. These are applied similarly for additions to the list of endangered and threatened wildlife and plants, reclassification, and removal from the list. They are: (1) Discreteness of the population segment in relation to the remainder of the species to which it belongs; (2) the significance of the population segment to the species to which it belongs; and (3) the population segment's conservation status in relation to the Act's standards for listing.

Discreteness refers to the isolation of a population from other members of the species and is based on two criteria: (1) Marked separation from other populations of the same taxon resulting from physical, physiological, ecological, or behavioral factors, including genetic discontinuity; or (2) populations delimited by international boundaries.

We determine significance by using the available scientific evidence to determine the DPS's importance to the taxon to which it belongs. Our policy lists four examples of factors that may be used to determine significance: (1) Persistence of the DPS in an ecological setting unusual or unique for the taxon; (2) evidence that loss of the DPS would result in a significant gap in the range of the taxon; (3) evidence that the DPS represents the only surviving natural occurrence of the taxon that may be more abundant elsewhere as an introduced population outside its historic range; and (4) evidence that the DPS differs markedly from other populations of the taxon in its genetic characteristics.

If we determine that a population segment is discrete and significant, we evaluate it for endangered or threatened status based on the Act's standards. Endangered means the species is in danger of extinction throughout all or a significant portion of its range. Threatened means the species is likely to become endangered within the foreseeable future throughout all or a significant portion of its range.

Discreteness: In accordance with our DPS policy, we may determine a population to be discrete at an international border where there are significant differences in (1) the control of exploitation; (2) management of habitat; (3) conservation status, or (4) regulatory mechanisms (61 FR 4722).

In the case of the California gnatcatcher, significant differences exist between the United States and Mexico with regard to management of habitat and conservation regulatory mechanisms. As previously discussed, the species' distribution ranges from Ventura County in the United States south to the tip of the Baja California peninsula in Mexico (Atwood 1988). Past surveys within northern Baja California, Mexico, have failed to reveal California gnatcatchers within approximately 25 km (15.5 miles) south of the border, despite apparently suitable habitat (RECON 1991, Mellink and Rea 1994). The closest individual birds have been documented at Valle de las Palmas, an inland locality 25 km (15.5 miles) south of the border; Plaza de Santa Maria, 43 km (26.7 miles) south of the border along the coast; and several locations around Ensenada, 85 km (52.8 miles) south, including Cerro El Vigia, and Punta Banda (Mellink and Rea 1994). Further, Mellink and Rea (1994) found consistent morphological discontinuity between populations north and south of the border, suggesting reduced gene flow across this area.

The populations north and south of the international border are treated under very different regulatory regimes. In Mexico, the California gnatcatcher is not considered rare, threatened, or endangered by the Mexican Government (Diario Official 2000). As such, take of individuals or the loss and degradation of their habitat are not regulated. Several reports have commented on the destruction of natural habitats in northwestern Mexico (e.g., Mellink and Rea 1994, Oberbauer 1992; RECON 1991). Habitat loss and degradation due to housing construction, agriculture, grazing, burning, and off-road recreational vehicles is ongoing (Mellink and Rea 1994, Oberbauer 1992). Within the remaining undisturbed patches of vegetation, gnatcatchers do not appear to be uniformly distributed even in what appears to be appropriate habitat (Mellink and Rea 1994). The already discontinuous gnatcatcher populations in the region may therefore be particularly susceptible to increased isolation and fragmentation due to ongoing unregulated habitat destruction.

Based upon the above discussion, the U.S. population segment of the California gnatcatcher is discrete from populations in Mexico based upon differences in the management of habitat and regulatory mechanisms (see also 56 FR 47053).

Significance: Populations of the California gnatcatcher in the United States are unusual in the ecological setting or habitat that they occupy. Throughout the majority of the species' range, California gnatcatchers inhabit desert scrub habitats, usually in the thicker vegetation found in washes (Atwood 1988). At the southern end of the range, this species also occurs in dense thorn scrub (Atwood 1988). North of 30° N latitude, near El Rosario, Baja California Norte, however, the species enters the California floristic province in what is referred to as maritime succulent scrub (Holland 1986, Mooney 1988, Oberbauer 1992, Westman 1983). This vegetation type is characterized by abundant cacti and other succulents, including Shaw's agave (Agave shawii), golden-spined cereus (Bergerocactus emoryii), live forever (Dudleya spp.), cholla and prickly pear (Opuntia spp.), and pitaya cactus (Machaerocereus gummosus), as well as shrubs such as Parry buckeye (Aesculus parryi), chaparral ash (Fraxinus trifoliata), cliff spurge (Euphorbia misera), boxthorn (Lycium californicum), California sagebrush (Artemisia californica), and coast sunflower (Encelia californica) (Holland 1986, Mellink and Rea 1994, Mooney 1988, Oberbauer 1992, Westman 1983). Maritime succulent scrub extends only a few miles into the United States into southern San Diego County (Holland 1986, Mooney 1988).

Vegetation types within the range of the species in the United States are characterized as (from south to north) Diegan coastal sage scrub, Riversidean sage scrub, and Venturan coastal sage scrub (coastal scrub series) (Kirkpatrick and Hutchinson 1977, Sawyer and Keeler-Wolf 1995). These habitats typically have a relatively low percent cover of succulents and are dominated by drought deciduous (malacophylous) subshrubs such as California sagebrush (Artemisia californica), flat-topped buckwheat (Eriogonum fasciculatum), black sage (Salvia mellifera), white sage (Salvia apiana), coast sunflower (Encelia californica), brittlebush (Encelia farinosa), and deerweed (Lotus scoparius) (Kirkpatrick and Hutchinson 1977, Sawyer and Keeler-Wolf 1995). The ecological setting inhabited by the species north of the border is therefore unique within its range. The species' ability to exist under these conditions suggests unique behavioral and/or physiological adaptations (Mellink and Rea 1994).

The extinction of the population segment of the California gnatcatcher in the United States would also be significant in that it would substantially reduce the overall range of the species. The northern 209 km (130 miles) of the latitudinal range of the species (approximately 20 percent of its total range) occurs within the United States. Extirpation of the species in the northern one-fifth of its latitudinal range would (1) preclude future range expansion into currently unoccupied habitats farther to the north in the United States (e.g., Ventura County), and (2) prevent natural shifts in range in response to future changes in climate and vegetation composition and structure. Current evidence already suggests that vegetation in southern California has undergone substantial shifts in composition and distribution through time (Axelrod 1978; see discussion under Factor E).

Past morphometric studies (studies examining morphological or physical characters) have shown that populations of California gnatcatchers north of 30° N latitude have browner backs and flanks, have white in the retrices, and are longer tailed than birds in the rest of the range (Grinnell 1926, van Rossem 1931, Philips 1991, Atwood 1991, Mellink and Rea 1994 ). Though recent genetic work (Zink et al. 2000) failed to show significant genetic structuring consistent with evolutionarily discrete units, these morphological differences may reveal different selective regimes operating in the northern portion of the species' range. As the coastal sage scrub community inhabited by the California gnatcatchers within the United States is relatively young (less than 4,000 to 8,000 years old; Axelrod 1978), the different selective regimes may not have had sufficient time to reveal distinctiveness evident in mitochondrial DNA studies.

As discussed above, the U.S. population segment of the California gnatcatcher is significant in that it exists in a unique ecological setting, and that the loss of this segment would result in a significant gap in the range of the species.

Conservation Status: Based on our determination that the California population of the California gnatcatcher meets the first two criteria, discreteness and significance, for a distinct vertebrate population segment in accordance with our policy, we are required to evaluate its conservation status and make a determination relative to the Act's standard for listing as endangered or threatened. The proposed rule to list the coastal California gnatcatcher published on September 17, 1991 (56 FR 47053) and final rule published on March 30, 1993 (58 FR 16741) discuss the status of the coastal California gnatcatcher in relation to the Act's standards for listing as threatened. The following discussion summarizes those analyses and adds new information that has become available.

A. The Present or Threatened Destruction, Modification, or Curtailment of its Habitat or Range

As stated in the previous proposed and final listing rules, the habitat and range of the California gnatcatcher in the United States has been significantly reduced. The majority of historical locations in Los Angeles, Ventura, and San Bernardino counties have been completely developed and no longer support known populations (e.g., San Fernando Valley, Pasadena, Santa Anita Wash, Rubio Wash, Eaton Canyon Wash, San Gabriel Wash, Ballona Creek, Redondo Beach, Monrovia, Arcadia, Fairmont Reservoir, Colton, Saticoy; Los Angeles County Museum of Natural History and Field Museum collections). Within the remainder of the range, Orange, Riverside, and San Diego counties have experienced a 50, 59, and 60 to 65 percent reduction in coastal sage scrub, respectively, between 1945 and 1990 (based on comparison of Wieslander and Jensen 1946 vegetation maps, and 1990 county estimates; see 58 FR 16741). Much of the remaining coastal sage scrub is at higher elevations and away from the coast, where California gnatcatcher populations are at lower densities (Atwood and Bolsinger 1992, MBA 1991). Atwood and Bolsinger (1992) and MBA (1991) both reported that greater than 90 percent of gnatcatcher records occur at or below 250 m (820 ft). This relationship may reflect energetic constraints in the California gnatcatcher associated with winter precipitation levels and January mean minimum temperature (Mock 1998). Adult mortality rates above these elevations may be insufficient to support populations through time (Mock 1998).

Much of the remnant coastal sage scrub below 250 m (820 ft) is now fragmented, isolating populations of gnatcatchers (e.g., Palos Verdes peninsula, San Joaquin Hills, Carlsbad-San Marcos, Poway-Santee, and Sweetwater River-Otay Lake populations). Given that this species exhibits extreme fluctuations in abundance (Erickson and Miner 1998, Atwood et al. 1998), isolated populations may be more susceptible to extirpation.

For further discussion of the destruction and curtailment of the species habitat and range, see 58 FR 16741.

B. Overutilization for Commercial, Recreational, Scientific, or Educational Purposes

These factors are not currently known to affect the species.

C. Disease or Predation

Disease is not currently known to be a factor affecting the species, however, the effects of disease may need to be reassessed after the pending arrival of West Nile Virus to California. Also, the entire U.S. range of the California gnatcatcher is under federal quarantine due to an outbreak of Exotic Newcastle Disease. This disease affects a wide range of wild and domestic bird species, but it is not known how California gnatcatchers may be affected.

Predation is the most common cause of nest failure, accounting for as many as 30 to 60 percent of nest failures in some areas (Braden et al. 1997, Grishaver et al. 1998). Most of this predation occurs during egg laying and incubation. Several species have been reported as potential predators of coastal California gnatcatcher eggs or nestlings (Atwood 1990). These include the scrub jay (Aphelocoma coerulescens), common crow (Corvus brachyrhynchos), common raven (Corvus corax), opossum (Didelphis marsupialis), raccoon (Procyon lotor), gray fox (Urocyon cinereoargenteus), coachwhip (Masticophis flagellum), striped racer (Masticophis lateralis), gopher snake (Pituophis melanoleucus), rosy boa (Lichanura trivirgata), common kingsnake (Lampropeltis getulus), southern alligator lizard (Gerrhonotus multicarinatus), domestic or feral cat (Felis domestica), wood rat (Neotoma spp.), deer mouse (Peromyscus maniculatus), house mouse (Mus musculus), and black rat (Rattus rattus). Brood parasitism by the brown-headed cowbird (Molothrus ater) has significantly decreased gnatcatcher productivity (Braden et al. 1997). Thirty-one percent of gnatcatcher nests monitored in Riverside County during the 1992-1995 breeding seasons were parasitized by cowbirds (Braden et al. 1997).

D. The Inadequacy of Existing Regulatory Mechanisms

In 1991, the state of California initiated the Natural Communities Conservation Program (NCCP) to protect coastal sage scrub habitats and rare species in southern California. To date, two regional NCCP/Habitat Conservation Plans (HCP) have been approved for portions of southern San Diego County (Multiple Species Conservation Program) and central Orange County (Central/Coastal NCCP/HCP). Within the range of the California gnatcatcher, several other regional plans are still being developed for northern San Diego County, western Riverside County, southern Orange County, and the Palos Verdes peninsula. Whether these regional plans will be finally approved for these areas, which represent the majority of gnatcatcher populations in southern California, is unknown. Furthermore, at this point, no regional conservation planning effort is underway in the remainder of Los Angeles County or in San Bernardino or Ventura counties. Essential populations are found in each of these counties and represent the northernmost populations within the range of the species.

For a discussion of California gnatcatcher habitat destruction prior to its listing in 1993, refer to 58 FR 16741.

E. Other Natural or Man-Made Factors Affecting its Continued Existence

Throughout southern California, but especially in western Riverside and San Bernardino counties, coastal sage scrub vegetation is being type-converted to non-native grassland and other ruderal (weedy) habitats (Allen et al. 2000, Allen et al. 1996, Minnich and Dezzani 1998). Minnich and Dezzani (1998) resampled Vegetation Type Map plots surveyed 60 years earlier. They found that only 40.1 percent of the coastal sage scrub originally mapped was still extant, while 41.9 percent of this mapped plant community was now open coastal sage scrub mixed with a continuous layer of exotic annual grasses. The remaining 18 percent of plots were entirely converted to exotic annual grassland. This conversion from shrublands to grasslands was due to a combination of factors including invasion of European annual grasses, increased fire frequency, and possibly nitrogen deposition due to air pollution (Minnich and Dezzani 1998). Thus, even in reserve areas not threatened by habitat destruction due to development, a continuous loss of suitable habitat available to the California gnatcatcher is ongoing.

Please refer to the final listing rule (58 FR 16741) for a more detailed discussion of the California gnatcatcher in relation to the five factors.

Previous Federal Action

On March 30, 1993, we published a determination of threatened status for the coastal California gnatcatcher (58 FR 16742). At the time of the listing, we concluded that designation of critical habitat for the species was not prudent because such designation would not benefit the coastal California gnatcatcher and would make the species more vulnerable to activities prohibited under section 9 of the Act. We were aware of several instances of apparently intentional habitat destruction that had occurred during the listing process. In addition, most land occupied by the gnatcatcher was in private ownership and we did not believe a designation of critical habitat to be of benefit because of a lack of a Federal nexus.

On May 21, 1997, the U.S. Court of Appeals for the Ninth Circuit (Circuit Court) issued an opinion in Natural Resources Defense Council v. U.S. Dept. of the Interior (No. 95-56075; D.C. No. CV-93-999) (NRDC v. USDOI) that required us to reevaluate our prudency determination and issue a new decision regarding the prudency of determining critical habitat for the gnatcatcher.

On February 8, 1999, we published a notice of determination in the Federal Register (64 FR 5957) in which we concluded that designation of critical habitat for the gnatcatcher was prudent.

On February 7, 2000, we published a proposed rule to designate critical habitat for the coastal California gnatcatcher (65 FR 5946) on approximately 323,726 ha (799,916 ac) within Los Angeles, Orange, Riverside, San Bernardino, and San Diego counties, California. On October 24, 2000, we published a final rule designating approximately 207,890 ha (513,650 ac) of land as critical habitat for the coastal California gnatcatcher in Los Angeles, Orange, Riverside, San Bernardino, and San Diego counties, California (65 FR 63680).

Following the designation of critical habitat for the coastal California gnatcatcher, NRDC filed an amended complaint on December 20, 2000, challenging the Service's exclusion of some lands from the designation of critical habitat (NRDC v. USDOI, CV 99-5246, (C.D.Cal)). Also in December 2000, Rancho Mission Viejo L.L.C. filed a lawsuit in the U.S. District Court for the District of Columbia, challenging the methodology used by the Service in the economic analysis of the designation of critical habitat (Rancho Mission Viejo, LLC. v. Babbitt, CV-01-8412). In January 2001, the Building Industry Association of Southern California and several other groups filed a separate lawsuit in the U.S. District Court for the District of Columbia which also challenged the designation of critical habitat for the coastal California gnatcatcher (Building Industry Association of Southern California et al v. Norton et al., CV 01-7028) (BIA v. Norton). On July 3, 2001, the D.C. District Court transferred the BIA and Rancho Mission Viejo suits to the U.S. District Court for the Central District of California.

On June 11, 2002, the U.S. District Court for the Central District of California granted the Service's request for a remand of the coastal California gnatcatcher critical habitat designation so that we may reconsider the economic impact associated with designating any particular area as critical habitat. The Court ordered us to complete a new proposed rule by April 11, 2003. In a subsequent order the Court held that the critical habitat designated for the should remain in place until such time as a new, final regulation becomes effective.

Critical Habitat

Section 3 defines critical habitat as—(i) the specific areas within the geographic area occupied by a species, at the time it is listed in accordance with the Act, on which are found those physical or biological features (I) essential to the conservation of the species and (II) that may require special management considerations or protection; and (ii) specific areas outside the geographic area occupied by a species at the time it is listed, upon a determination that such areas are essential for the conservation of the species. “Conservation” means the use of all methods and procedures that are necessary to bring an endangered or a threatened species to the point at which listing under the Act is no longer necessary.

Critical habitat receives protection under section 7 of the Act through the prohibition against destruction or adverse modification of critical habitat with regard to actions carried out, funded, or authorized by a Federal agency. Section 7 also requires conferences on Federal actions that are likely to result in the destruction or adverse modification of proposed critical habitat.

To be included in a critical habitat designation, habitat must be either a specific area within the geographic area occupied by the species on which are found those physical or geographical features essential to the conservation of the species (primary constituent elements, as defined at 50 CFR 424.12(b)) and which require special management considerations or protection, or be specific areas outside of the geographic area occupied by the species which are determined to be essential for the conservation of the species. Habitat areas that support only a subset of the primary constituent elements are included only when they still perform the functions that make them essential to the conservation of the species. Section 3(5)(c) of the Act states that not all areas that can be occupied by a species should be designated as critical habitat unless the Secretary determines that all such areas are essential to the conservation of the species. Our regulations (50 CFR 424.12(e)) also state that “The Secretary shall designate as critical habitat areas outside the geographic area presently occupied by the species only when a designation limited to its present range would be inadequate to ensure the conservation of the species.” Accordingly, we do not designate critical habitat in areas outside the geographic area occupied by the species unless the best available scientific and commercial data demonstrate that unoccupied areas are essential for the conservation of the species.

Private lands previously designated were re-evaluated based on new survey information, and the results of a habitat modeling exercise. Refer to the Criteria Used to Identify Critical Habitat section for further discussion.

Application of Section 3(5)(A) and Exclusions Under Section 4(b)(2) of the Act

Section 3(5)(A) of the Act defines critical habitat as the specific areas within the geographic area occupied by the species on which are found those physical and biological features (I) essential to the conservation of the species and (II) which may require special management considerations and protection. As such, for an area to be designated as critical habitat for a species it must meet both provisions of the definition. In those cases where an area does not provide those physical and biological features essential to the conservation of the species, it has been our policy to not include these specific areas in designated critical habitat. Likewise, if we believe, based on an analysis, that an area determined to be biologically essential has an adequate management plan that covers the species, then special management and protection are already being provided, and those areas do not meet the second provision of the definition and are also not proposed as critical habitat.

We consider a current plan to provide adequate management or protection if it meets three criteria: (1) The plan is complete and provides a conservation benefit to the species (i.e., the plan must maintain or provide for an increase in the species' population, or the enhancement or restoration of its habitat within the area covered by the plan); (2) the plan provides assurances that the conservation management strategies and actions will be implemented (i.e., those responsible for implementing the plan are capable of accomplishing the objectives, and have an implementation schedule or adequate funding for implementing the management plan); and (3) the plan provides assurances the conservation strategies and measures will be effective (i.e., it identifies biological goals, has provisions for reporting progress, and is of a duration sufficient to implement the plan and achieve the plan's goals and objectives).

Further, section 4(b)(2) of the Act states that critical habitat shall be designated, and revised, on the basis of the best available scientific data available after taking into consideration the economic impact, and any other relevant impact, of specifying any particular area as critical habitat. An area may be excluded from critical habitat if it is determined that the benefits of such exclusion outweigh the benefits of specifying a particular area as critical habitat, unless the failure to designate such area as critical habitat will result in the extinction of the species. Consequently, we may exclude an area from critical habitat based on economic impacts, or other relevant impacts such as preservation of conservation partnerships or military readiness considerations, if we determine that the benefits of excluding an area from critical habitat outweigh the benefits of including the area in critical habitat, provided that exclusion will not result in the extinction of the species.

In summary, we use both the definition in section 3(5)(A) and the provisions of section 4(b)(2) of the Act to evaluate those specific areas that are proposed for designation as critical habitat as well as for those areas that are subsequently finalized (i.e., designated as critical habitat). On that basis, it has been our policy to not include in proposed critical habitat, or exclude from designated critical habitat, those areas: (1) Not biologically essential to the conservation of a species, (2) covered by a legally operative individual (project-specific) or regional HCP that covers the subject species, (3) covered by a complete and approved INRMP for specific DoD installations, or (4) covered by an adequate management plan or agreement that protects the primary constituent elements of the habitat.

As discussed further below, for this proposal of critical habitat for the gnatcatcher, we have considered, but have not proposed as critical habitat the mission-essential training areas on Marine Corps Base, Camp Pendleton (Camp Pendleton); MCAS, Miramar; reserve lands in the San Diego Multiple Species Conservation Program and the Orange County Central-Coastal NCCP/HCP; Tribal lands of the Pala Band of Mission Indians; and lands covered by individual completed and approved HCPs that cover the gnatcatcher. Some lands managed by the DoD, including nontraining areas Camp Pendleton and Naval Weapons Station Seal Beach, Detachment Fallbrook (Fallbrook Naval Weapons Station), have been proposed as critical habitat for the gnatcatcher.

Relationship to HCPs

Individual HCPs

In general, we believe that individual HCPs in which the reserves have been established that protect the primary constituent elements of critical habitat of the subject species, establish areas that may be biologically essential to the covered species, but which do not require special management and protections because their value for conservation has been established and perpetuated by the existing protective measures and actions from the provisions of the HCP. Consequently, reserve areas defined in these individual HCPs do not meet the definition of critical habitat and are therefore are not being proposed as critical habitat. Further, to the extent that these areas do meet the definition of critical habitat as defined in 3(5)(A)(i)(II), it is additionally appropriate to exclude these areas from critical habitat pursuant to the “other relevant impacts” provisions of section 4(b)(2).

Numerous individual HCPs that provide incidental take coverage for the coastal California gnatcatcher have been approved and implemented in Los Angeles, Orange, San Diego, and Riverside Counties. Completed individual HCPs include: Bennett Property, Meadowlark Estates, Fieldstone, and Poway Subarea Plan in San Diego County; Coyote Hills East and Shell Oil in Orange County; Ocean Trails in Los Angeles County; and Lake Mathews, North Peak, Railroad Canyon, and Rancho Bella Vista in Riverside County. Collectively, these HCPs have resulted in the protection of 3,935 ha (9,725 ac) of habitat for the coastal California gnatcatcher.

Regional HCPs

We have considered, but have not proposed as critical habitat preserve, reserve or other conservation lands and lands targeted for conservation within the boundaries of approved HCP based on the Secretary of the Interior's authority under section 4(b)(2) of the Act as we believe the benefits of excluding these lands outweigh the benefits of including them.

Development of an HCP is a prerequisite for the issuance of an incidental take permit pursuant to section 10(a)(1)(B) of the Act. HCPs vary in size and may provide for incidental take coverage and conservation management for one or many federally listed species. Additionally, more than one applicant may participate in the development and implementation of an HCP. In the case of the coastal California gnatcatcher, the HCPs are very complex, address multiple species, and are very important to a large area and to many participating permittees.

Large regional HCPs expand upon the basic requirements set forth in section 10(a)(1)(B) of the Act because they reflect a voluntary, cooperative approach to large-scale habitat and species conservation planning. Many of the large regional HCPs in southern California have been, or are being, developed to provide for the conservation of numerous federally listed species and unlisted sensitive species and the habitats that provide for their biological needs. These HCPs are designed to proactively implement conservation actions to address future projects that are anticipated to occur within the planning area of the HCP; however, given the broad scope of these regional HCPs, not all projects envisioned to potentially occur may actually take place.

In the case of approved regional HCPs (e.g., those sponsored by cities, counties or other local jurisdictions) that provide for incidental take coverage for the coastal California gnatcatcher, a primary goal of these regional plans is to provide for the protection and management of habitat essential for the conservation of the species while directing development to other areas. The regional HCP development process provides an opportunity for more intensive data collection and analysis regarding the use of particular habitat areas by coastal California gnatcatchers. The process also enables us to conduct detailed evaluations of the importance of such lands to the long term survival of the species in the context of constructing a system of interlinked habitat blocks that provide for the biological needs of the species.

Completed HCPs and their accompanying implementation agreements contain management measures and protections for identified preserve areas that protect, restore, and enhance the value of these lands as habitat for the coastal California gnatcatcher. These measures, which include explicit standards to minimize any impacts to the covered species and its habitat, are designed to ensure that the value of the conservation lands as suitable habitat for the coastal California gnatcatcher habitat is maintained, expanded and improved.

In approving these HCPs the Service has provided assurances to permit holders that once the protection and management required under the plans are in place and for as long as the permit holders are fulfilling their obligations under the plans, no additional mitigation in the form of land or financial compensation will be required of the permit holders and in some cases, specified third parties. Similar assurances will be extended to future permit holders in accordance with the Service's HCP Assurance (“No Surprises”) rule codified at 50 CFR 17.22(b)(5) and (6) and 17.32(b)(5) and (6).

Because of the similarities between the purposes of regional HCPs and designation of critical habitat, and in light of the intensive investigation and analysis undertaken in conjunction with regional HCP planning processes, regional HCPs currently under development will identify, protect and provide appropriate adaptive management for those specific lands within the boundaries of the plans that are essential for the long-term conservation of the species. The analyses of these HCPs and proposed permits under section 7 show that activities covered under such permits will not result in the destruction or adverse modification of critical habitat proposed within the boundaries of the plans when the covered activities are carried out in accordance with the provisions of the HCP.

As discussed earlier, we have considered, but have not proposed as critical habitat lands within approved HCPs that include the coastal California gnatcatcher as a covered species. It is also our intention to exclude currently proposed HCPs that cover the gnatcatcher if, prior to publication of a final designation of critical habitat, the plans are completed, approved, and legally operative. We will evaluate the exclusion of these lands based on the best scientific data available and after taking into consideration economic and any other relevant impact of designating critical habitat. Following is our preliminary analysis of the benefits of including lands within approved HCPs versus excluding such lands from critical habitat designation.

(1) Benefits of Inclusion

Under Section 7 critical habitat designation will provide little additional benefit to the coastal California gnatcatcher habitat within the boundaries of approved HCPs. The primary benefit of any critical habitat is with regard to activities with a Federal nexus that require consultation pursuant to Section 7 of the Act to ensure that the activity will not destroy or modify designated critical habitat. Currently approved and permitted HCPs are designed to ensure the conservation of covered species within the plan area. HCPs, particularly large regional HCPs, address land use within the plan boundaries, and habitat issues within these plan boundaries will have been thoroughly addressed in the HCP itself and through the Section 7 consultation on the HCP.

Furthermore, HCPs typically provide greater conservation benefits to covered species than independent project-by-project section 7 consultations, because HCPs assure the long-term protection and management of a covered species and its habitat, and funding for such management and protection through the standards found in the 5-Point Policy for HCPs (65 FR 35242) and the HCP No Surprises regulation (63 FR 8859). These types of assurances are typically not provided by section 7 consultations because such consultations do not always commit the project proponent to long-term special management or protections. Thus, a consultation is not likely to accord the lands it covers the extensive benefits an HCP provides.

Development and implementation of HCPs provide other important conservation benefits, including the development of area wide biological information to guide conservation efforts and assist in species' recovery and the creation of innovative solutions to conserve species while allowing for continued economic development. Particularly in the case of large regional HCPs, one species benefit from landscape planning outweighs the fragmented approach that is the result of individual permitting on only those projects with a Federal nexus even when critical habitat is designated.

The educational benefits of critical habitat, including informing the public of areas that are important to the conservation of listed species, are actually less than what occurs in the HCP process. Since the HCP process is voluntary, public participation through multiple public notices and comment periods, as well as direct involvement by local governments, the environmental community, and the regulated community is ensured prior to their approval. For these reasons, we believe that designation of critical habitat typically provides no additional benefit in areas covered by approved HCPs.

(2) Benefits of Exclusion

We have determined that the benefits of excluding lands within approved HCPs from critical habitat designation are typically more substantial than including them. The benefits of excluding lands within HCPs from critical habitat designation include relieving landowners, communities, and Counties of any additional regulatory burden that may result solely from such designation. Many HCPs, particularly large, regional HCPs, take many years to develop and, upon completion, become regional conservation plans that are consistent with the recovery objectives for listed species that are covered within the plan area. Additionally, many of these HCPs provide conservation benefits to unlisted, sensitive species. Imposing an additional regulatory review after an HCP is completed solely as a result of the designation of critical habitat may undermine conservation efforts and partnerships in many areas, and in fact, could result in the loss of species benefits as participants in the voluntary HCPs abandon them in the face of additional regulations requiring more of them than other parties who have not voluntarily participated in species conservation. Designation of critical habitat within the boundaries of approved HCPs could also be viewed as a disincentive to those entities currently developing HCPs or contemplating developing them in the future.

A related benefit of excluding lands within HCPs from critical habitat designation is the continued ability to seek new partnerships with future HCP participants, including States, Counties, local jurisdictions, conservation organizations, and private landowners, which together can implement conservation actions that we would be unable to accomplish otherwise. If lands within HCP plan areas are designated as critical habitat, it would likely have a chilling effect on our ability to establish new partnerships to develop HCPs, particularly large, regional HCPs that involve numerous participants and address landscape-level conservation of species and habitats. By excluding these lands, we preserve our current partnerships and encourage additional conservation actions in the future.

In addition to the conservation benefits HCPs provide to covered species within the plan areas, many of these HCPs, particularly large regional HCPs, also address landscape-level conservation of native habitats. In California, the NCCP Act of 1991 provides a framework for conserving listed and other sensitive species at a regional or ecosystem scale. The pilot program of the NCCP focuses on conservation of native coastal sage scrub communities throughout a 6,000 square mile area in southern California that includes parts of Los Angeles, Orange, San Diego, Riverside, and San Bernardino Counties. The NCCP program complements the objectives of regional HCP planning efforts. In southern California, several regional conservation planning efforts that incorporate the dual objectives of NCCP/HCP have already been approved.

In southwestern San Diego County, the MSCP effort encompasses more than 236,000 ha (582,000 ac) and reflects the potential participation of several local jurisdictions. The MSCP provides for the establishment over the permit term of approximately 69,573 ha (171,000 ac) of preserve areas to provide conservation benefits for 85 Federally listed and sensitive species. An estimated 28,844 ha (71,274 ac) of these preserve lands contain coastal sage scrub, the primary nesting and foraging habitat for the coastal California gnatcatcher. This represents 62 percent of the remaining habitat for the coastal California gnatcatcher in southern San Diego County. These lands are to be permanently maintained and managed for the benefit of the gnatcatcher and other covered species.

The Central-Coastal NCCP/HCP in Orange County was developed in cooperation with numerous local and State jurisdictions and agencies and participating landowners, including the cities of Anaheim, Irvine, Orange, Lake Forest, Laguna Woods, Mission Viejo, Southern California Edison, Transportation Corridor Agencies, The Irvine Company, California Department of Parks and Recreation, Southern California Edison, Metropolitan Water District of Southern California, Irvine Ranch Water District, Transportation Corridor Agency, The Regents of the University of California, and the County of Orange. Approved in 1996, the Central-Coastal NCCP/HCP provides for the establishment of approximately 15,677 ha (38,738 ac) of reserve lands for 39 Federal or State listed, unlisted, and sensitive species. These reserve areas include about 7,621 ha (18,831 ac) of coastal sage scrub habitat. The design of the reserve system for the Central-Coastal NCCP/HCP encompasses approximately 72 percent of the remaining coastal sage scrub habitat within the planning area. These lands are also required to be maintained and managed for the benefit of the gnatcatcher and other covered species.

Additional HCPs within the range of the gnatcatcher, such as the San Diego Gas and Electric Subregional Natural Community Conservation Plan/Habitat Conservation Plan, have also been completed and provide incidental take authorization for the gnatcatcher.

There are currently several regional NCCP/HCP efforts underway in southern California that have not yet been completed but which, upon approval, will provide conservation benefits to the coastal California gnatcatcher.

The MHCP in northwestern San Diego County encompasses approximately 453 square km (175 square mi) within the study area, including about 160 to 200 ha (400-500 ac) of coastal sage scrub habitat. Currently, seven cities are participating in the development of the MHCP.

The proposed Southern Subregion NCCP/HCP in Orange County encompasses approximately 515 square km (200 square mi) or 51,800 ha (128,000 ac) in its planning area, including about 10,412 ha (25,729 ac) of coastal sage scrub habitat for the coastal California gnatcatcher. Jurisdictions and private landowners within the study area include the cities of Rancho Santa Margarita, Mission Viejo, San Juan Capistrano, San Clemente, and Rancho Mission Viejo, and the County of Orange.

Additionally, the proposed Western Riverside MSHCP is being developed in cooperation with the County of Riverside, 12 cities, the Riverside County Flood Control and Water Conservation Agency, Riverside County Transportation Commission, Riverside County Parks and Open Space District, Riverside County Waste Department, California Department of Parks and Recreation, and California Department of Transportation. The proposed MSHCP encompasses approximately 530,000 ha (1.3 million ac) of land. Proposed reserves could potentially conserve up to 60 percent of the remaining habitat for coastal California gnatcatchers within the plan area.

In general, we find that the benefits of critical habitat designation on lands within approved HCPs that cover those species are small while the benefits of excluding such lands from designation of critical habitat are substantial. After weighing the small benefits of including these lands against the much greater benefits derived from exclusion, including encouraging the pursuit of additional conservation partnerships, we have considered but have not proposed as critical habitat, lands within approved and legally operative HCPs that include the coastal California gnatcatcher as a covered species.

In the event that future HCPs covering the coastal California gnatcatcher are developed within the boundaries of designated critical habitat, we will work with applicants to ensure that the HCPs provide for protection and management of habitat areas essential for the conservation of the species. We will provide technical assistance and work closely with applicants throughout the development of future HCPs to identify lands essential for the long-term conservation of the gnatcatcher and appropriate management for those lands. The take minimization and mitigation measures provided under these HCPs will be designed to protect the essential lands that are proposed as critical habitat in this rule. If an HCP that covers the coastal California gnatcatcher is ultimately approved, the Service can reassess the critical habitat boundaries in light of the HCP. The Service intends to undertake this review when the HCP is approved. However, funding constraints may influence the timing of such a review.

Tribal Lands and Exclusions Under 4(b)(2) of the Act

We have considered, but have not proposed as critical habitat Tribal lands of the Pala Band of Mission Indians. Secretarial Order 3206, “American Indian Tribal Rights, Federal-Tribal Trust Responsibilities and the Endangered Species Act” (June 5, 1997), provides that critical habitat shall not be designated in an area that may impact Tribal trust resources unless it is determined essential to conserve a listed species.

Tribal lands we considered, but have not proposed as critical habitat for the coastal California gnatcatcher have been determined to be essential to the conservation of the species. No management plans are currently in place on these Tribal lands to address the conservation needs of the coastal California gnatcatcher. However, projects on Tribal lands with a Federal nexus (e.g., funded, authorized, or carried out by Federal agencies such as the Bureau of Indian Affairs) will trigger a consultation under section 7 of the Act if the action may affect the coastal California gnatcatcher. Through section 7 consultation, we would ensure that actions undertaken, authorized, or permitted by a Federal agency will not jeopardize the continued existence of the species.

(1) Benefits of Inclusion

The primary benefit of any critical habitat with regard to activities that require consultation pursuant to section 7 of the Act is to ensure that the activity will not destroy or adversely modify designated critical habitat. The educational benefits of critical habitat include informing Tribes of areas that are important to the conservation of listed species.

(2) Benefits of Exclusion

The benefits of excluding Tribal lands from critical habitat designation include relieving Tribes of any additional regulatory burden that may result solely from such designation. Designation of critical habitat may undermine future conservation efforts and partnerships and discourage Tribes from developing species and habitat management plans. Designation of critical habitat could also be viewed as a disincentive to Tribes contemplating developing HCPs in the future. By excluding these lands, we preserve our current partnerships and set the stage for additional conservation actions in the future.

After weighing the benefits of critical habitat designation on these lands against the benefits of excluding them, we find the benefits of excluding the Pala Band of Mission Indians' lands from the designation of critical habitat outweigh the benefits of including those areas as critical habitat. We also find that the exclusion of these lands will not lead to the extinction of the gnatcatcher.

Relationship to Lands Managed by DoD Under Section 3(5)(A) Definition

Marine Corps Air Station, Miramar

The Sikes Act requires each military installation that includes land and water suitable for the conservation and management of natural resources to complete, by November 17, 2001, an Integrated Natural Resources Management Plan (INRMP). An INRMP integrates implementation of the military mission of the installation with stewardship of the natural resources found there. Each INRMP includes an assessment of the ecological needs on the installation, including needs to provide for the conservation of listed species; a statement of goals and priorities; a detailed description of management actions to be implemented to provide for these ecological needs; and a monitoring and adaptive management plan. We consult with the military on the development and implementation of INRMPs for installations with listed species. We believe that bases that have completed and approved INRMPs that address the needs of the species generally do not meet the definition of critical habitat discussed above, as the lands do not require special management. Therefore, we do not include these areas in critical habitat designations if they meet the following three criteria: (1) A current INRMP is complete and provide a conservation benefit to the species; (2) the plan provides assurances that the conservation management strategies will be implemented; and (3) the plan provides assurances that the conservation management strategies will be effective, by providing for periodic monitoring and revisions (adaptive management) as necessary. If all of these criteria are met, then the lands covered under the plan would not meet the second provision of the definition of critical habitat pursuant to section 3(5)(A)(i)(II) and consequently not proposed as critical habitat for the covered species.

MCAS, Miramar has completed a final INRMP that provides for adequate conservation management and protection for the gnatcatcher. We have reviewed this plan and have determined that it addresses and meets the three criteria discussed above. Therefore, lands on MCAS, Miramar that are biologically essential to the gnatcatcher do not meet the second provision of the definition of critical habitat pursuant to section 3(5)(A)(i)(II) as they do not require special management and protection. Consequently, these lands essential to the gnatcatcher have not been included in the proposed designation of critical habitat for the species. Further, to the extent that the areas biologically essential to the gnatcatcher on MCAS, Miramar may meet the definition of critical habitat as defined in 3(5)(A)(i)(II), it is additionally appropriate to exclude these areas from critical habitat pursuant to the “other relevant impacts” provisions of section 4(b)(2).

The primary benefit of proposing critical habitat is to identify lands essential to the conservation of the species which, if critical habitat was designated, would require consultation with us to ensure activities would not adversely modify critical habitat or jeopardize the continued existence of the species. As previously discussed MCAS, Miramar has completed a final INRMP that provides for sufficient conservation management and protection for the coastal California gnatcatcher. Therefore, we do not believe that designation of areas on MCAS, Miramar as critical habitat will appreciably benefit the coastal California gnatcatcher beyond the protection already afforded the species under the Act and the completed INRMP. Exclusion of these lands would not result in the extinction of the species.

However, even if the lands on MCAS, Miramar did require special management and meet the definition of critical habitat, there would be appreciable benefits to excluding these areas from critical habitat pursuant to section 4(b)(2). If critical habitat were to be designated, this facility would be compelled to consult under section 7 of the Act on any activity that may affect designated critical habitat. Given the INRMP, the additional burden of consulting could impair its ability to conduct activities. Similarly, including these areas in the proposed critical habitat rule would require this facility to conference with us on any activities that might adversely modify or destroy proposed critical habitat. This could result in unnecessary delays and disruption of base's activities and potentially impair our Nation's military readiness. In light of our country's national security interest, we have considered, but have not proposed critical habitat on MCAS, Miramar.

Relationship to Lands Managed by DoD and Exclusions Under 4(b)(2) of the Act

Marine Corps Base, Camp Pendleton

As we indicated previously, we have considered, but have not proposed mission-essential training areas on Camp Pendleton as critical habitat for the coastal California gnatcatcher under section 4(b)(2) of the Act.

Camp Pendleton operates an amphibious training base that promotes the combat readiness of military forces. The camp is the only West Coast Marine Corps facility where amphibious operations can be combined with air, sea, and ground assault training activities year-round. Currently, the Marine Corps has no alternative installation available for the types of training that occur on Camp Pendleton.

The Marine Corps consults with us under section 7 of the Act for activities that may affect Federally listed species on Camp Pendleton. On March 30, 2000, at the request of the Marine Corps, we initiated a formal consultation regarding Marine Corps activities on upland areas of Camp Pendleton. The consultation covers approximately 50,500 ha (125,000 ac) of land and addresses numerous activities that currently are expected to occur within the upland areas of Camp Pendleton, including combat readiness operations, air operations, vehicle operations, facility maintenance and operations, fire management, recreation activities, and housing. The upland consultation for the gnatcatcher and other species is not yet completed. We are currently working cooperatively with Camp Pendleton to facilitate the completion of this upland consultation.

In order to continue its critical training mission pending completion of the consultation, the Marine Corps has implemented measures which will avoid jeopardy to the coastal California gnatcatcher and other listed species within the uplands area and comply with section 7(d) of the Act. In particular, the Marine Corps is implementing a set of “programmatic instructions” to avoid adverse effects to the coastal California gnatcatcher.

The primary benefit of proposing critical habitat is to identify lands essential to the conservation of the species which, if critical habitat were designated, would require consultation with us to ensure that activities would not adversely modify critical habitat or jeopardize the continued existence of the species. We are already in consultation with the Marine Corps regarding their upland activities to ensure current and proposed actions will not jeopardize the species' continued existence. That consultation already takes into account the essential habitat requirements of the species. Therefore, we do not believe that designation of mission critical training areas on Camp Pendleton as critical habitat will appreciably benefit the gnatcatcher beyond the protection already afforded the species under the Act.

In contrast to the absence of an appreciable benefit resulting from designation of Camp Pendleton training areas as critical habitat, there are substantial benefits to excluding these areas from critical habitat. If critical habitat were to be designated within the training areas, the Marine Corps would be compelled to consult under section 7 of the Act on any activity that may affect designated critical habitat. The additional burden of requirements to avoid the adverse modification of habitat within mission critical training areas could significantly delay and impair the ability of the Marine Corps to conduct effective training activities, thus, severely limiting Camp Pendleton's utility as a military training installation. Similarly, including these areas in the proposed critical habitat rule would require the Marine Corps to conference with us on any activities that might adversely modify or destroy proposed critical habitat. This could result in similar delays and disruption of base's military training mission and impairment of our Nation's military readiness.

In light of our country's national security interests and the Marine Corps' need for the ability to maintain a high level of readiness and fighting capabilities and the disruption to the Marine Corps' training mission that could result from proposing critical habitat on lands identified as mission-essential training areas, we have considered, but have not proposed those areas. We also find that the exclusion of these lands will not lead to the extinction of the gnatcatcher.

We are soliciting public review and comment on our decision to consider, but not propose critical habitat for the coastal California gnatcatcher on mission-essential training areas on Camp Pendleton, reserve and targeted reserve lands in the San Diego MSCP and the Orange County Central-Coastal NCCP and Tribal lands of the Pala Band of Mission Indians based on section 4(b)(2) of the Act. Maps of habitat areas essential to the conservation of the coastal California gnatcatcher that occur within training areas on Camp Pendleton, reserve and targeted reserve lands in the San Diego MSCP and the Orange County Central-Coastal NCCP and Tribal lands of the Pala Band of Mission Indians are available for public review at the Carlsbad Fish and Wildlife Office (see ADDRESSES section) or on the Internet at http://carlsbad.fws.gov. Additionally, maps showing lands essential to the conservation of the gnatcatcher, but not included in the proposed critical habitat based on adequate management and the provisions of section 3(5)(A)(i)(II), are available for viewing at the Carlsbad Fish and Wildlife Office (see ADDRESSES). We will review this issue in light of all public comments received during the public review period and may reconsider our position in the final rule.

Our Policy on Information Standards Under the Endangered Species Act, published in the Federal Register on July 1, 1994 (59 FR 34271), provides criteria, establishes procedures, and provides guidance to ensure that our decisions represent the best scientific and commercial data available. It requires our biologists to use the best scientific and commercial data available and, whenever possible, to use primary and original sources of information as the basis for recommendations to designate critical habitat. When determining which areas are critical habitat, a primary source of information is often the listing package for the species. Additional information may be obtained from a recovery plan, articles in peer-reviewed journals, conservation plans developed by States and Counties, scientific status surveys and studies, biological assessments, or other unpublished materials that meet the standards required by the Act.

Section 4 of the Act requires that we designate critical habitat based on what we know at the time of designation. Habitat is often dynamic, and species may move from one area to another over time. Furthermore, we recognize that designation of critical habitat may not include all of the habitat areas that may eventually be determined to be necessary for the recovery of the species. For these reasons, critical habitat designations do not signal that habitat outside the designation is unimportant or may not be required for recovery. Areas that support newly discovered populations in the future, but are outside the critical habitat designation, will continue to be subject to section 7 and the prohibitions of section 9(a)(1) of the Act. Federally funded or assisted projects affecting listed species outside their designated critical habitat areas may still result in jeopardy findings in some cases. Similarly, critical habitat designations made on the basis of the best available information at the time of designation will not necessarily control the direction and substance of future recovery plans, HCPs, or other species conservation planning efforts.

Methods

In determining areas that are essential to conserve the gnatcatcher, we used the best scientific and commercial data available. This included data from research and survey observations published in peer reviewed articles; regional (GIS) coverages; habitat evaluation models for the San Diego County MSCP, the MHCP, and the North County Subarea of the MSCP for unincorporated San Diego County; approved HCPs; and data collected from reports submitted by biologists holding section 10(a)(1)(A) recovery permits. Following the listing of the species, a concerted effort was undertaken to survey significant portions of the species' range in San Diego and Orange counties for the purpose of developing and implementing regional HCPs, and more recently, surveys of varying intensity have been conducted in Los Angeles, Riverside, San Bernardino, and Ventura counties. As part of an intensive effort to gather range and abundance information, the Service sampled a large number of random points for gnatcatchers within coastal sage scrub vegetation in Orange and San Diego Counties. A habitat model was also developed that helped us refine essential breeding habitat in Orange, Riverside, and San Diego counties (see discussion below under Criteria Used To Identify Critical Habitat).

Primary Constituent Elements

In accordance with section 3(5)(A)(i) of the Act and regulations at 50 CFR 424.12 in determining which areas to propose as critical habitat, we are required to base critical habitat determinations on the best scientific data available and to consider those physical and biological features that are essential to the conservation of the species and that may require special management considerations and protection. Such requirements include but are not limited to: Space for individual and population growth, and for normal behavior; food, water, air, light, minerals, or other nutritional or physiological requirements; cover or shelter; sites for breeding, reproduction, rearing of offspring; and habitats that are protected from disturbance or are representative of the historic geographical and ecological distributions of a species.

We are proposing to designate as critical habitat areas that provide those habitat components essential for the conservation of the gnatcatcher.

The primary constituent elements for the coastal California gnatcatcher are those habitat components that provide for foraging, nesting, rearing of young, intraspecific communication, roosting, dispersal, genetic exchange, or sheltering (Atwood 1990). Primary constituent elements are provided in undeveloped areas that support, through natural successional processes (e.g., post-fire recovery), various types of sage scrub or chaparral, grassland, and riparian habitats where they may be utilized for biological needs such as breeding, foraging, or dispersal (Atwood et al. 1998; Campbell et al. 1998). Primary constituent elements associated with the biological needs of dispersal are also found in undeveloped areas that provide connectivity or linkage between larger core areas, including open space and ruderal (weedy areas that contain introduced plant species) disturbed areas that may receive only periodic use. Probable dispersing individuals have been documented in vegetation dominated by such species as Brass­ica spp. (wild mustard), annual grasses, Salsola tragus (Russian thistle), Baccharis salicifolia (mule fat), Salix spp. (willow), and Tamarix spp. (salt cedar) (Campbell et al. 1998). Some of these species may also be used seasonally by territorial birds as coastal sage scrub dessicates during the summer drought (Campbell et al. 1998).

Primary constituent elements include, but are not limited to, the following plant communities: Venturan coastal sage scrub, Diegan coastal sage scrub, maritime succulent scrub, Riversidean sage scrub, Riversidean alluvial fan scrub, southern coastal bluff scrub, and coastal sage-chaparral scrub (Holland 1986; Kirkpatrick and Hutchinson 1977; Westman 1983). Based upon dominant species, these communities have been further divided into series such as black sage, brittlebush, California buckwheat, California buckwheat-white sage, California encelia, California sagebrush, California sagebrush-black sage, California sagebrush-California buckwheat, coast prickly-pear, mixed sage, purple sage, scalebroom, and white sage (Sawyer and Keeler-Wolf 1995). Dominant species within these plant communities include Artemisia californica, Eriogonum fasciculatum, Encelia californica, Salvia mellifera, S. apiana, and S. leucophylla. Other commonly occurring plants include Isocoma menziesii (coast goldenbush), Viguiera laciniata (San Diego sunflower), Baccharis pilularis (coyote brush), Baccharis sarothroides (broom baccharis), Mimulus aurantiacus (bush monkeyflower), Sambucus mexicana (Mexican elderberry), Isomeris arborea (bladderpod), Lotus scoparius, Malosma laurina (laurel sumac), Rhus integrifolia (lemonadeberry), and Rhus ovata (sugarbush). Species such as Lycium spp. (boxthorn), Euphorbia misera (cliff spurge), Simmondsia chinensis (jojoba), and Opuntia littoralis (prickly pear), O. prolifera (cholla), and Ferocactus viridescens (coast barrel cactus), and Dudleya spp. (live-forever) are represented in maritime succulent scrub, coast prickly-pear scrub, and southern coastal bluff scrubs. In areas of coastal influence, chamise chaparral has also been documented to support breeding pairs (Campbell et al. 1998). Mesic sites dominated by Baccharis salicifolia and other Baccharis species such as Baccharis pilularis and Baccharis sarathroides may also support breeding pairs (Campbell et al. 1998).

Criteria Used To Identify Critical Habitat

We considered several qualitative criteria in the selection and proposal of specific areas or units for gnatcatcher critical habitat. Such criteria focused on designating units: (1) Throughout the geographical and elevational range of the species; (2) within various occupied plant communities, such as Venturan coastal sage scrub, Diegan coastal sage scrub, maritime succulent scrub, Riversidean sage scrub, Riversidean alluvial fan scrub, southern coastal bluff scrub, and coastal sage-chaparral scrub; and (3) in documented areas of large, contiguous blocks of occupied habitat (i.e., core population areas); and/or in areas that link core populations areas (i.e., linkage areas). These criteria are similar to criteria used to identify reserve/preserve lands in approved regional HCPs covering the gnatcatcher.

To help predict gnatcatcher occurrences throughout the range of the species, especially in areas with limited survey information, we commissioned a spatial habitat evaluation model incorporating habitat parameters used by the gnatcatcher during the breeding season. We began with a Geographic Information System (GIS) layer identifying California sagebrush habitats (e.g., Diegan sage scrub, Riversidean sage scrub). We recognize that other habitats are used by coastal California gnatcatchers at various points in their life history, such as riparian and chaparral habitats during foraging or dispersal. However, few breeding territories have been documented in habitats devoid of California sagebrush. Once the vegetation layer was created, “core” patches of sagebrush were selected using a minimum patch size of 10 ha (25 ac) in a coastal climate zone, and 20 ha (50 ac) in an inland climate zone (coastal climate zone is defined as having an average January minimum temperature above 5° Celsius (C) (41° Fahrenheit (F)), whereas an inland climate zone is defined as having an average January minimum temperature below 5° C (41° F)). For gnatcatcher habitat within the Maritime and Coastal Climate Zones, a patch size equal to or greater than 25 acres was considered suitable gnatcatcher habitat. For gnatcatcher habitat east of the Maritime and Coastal Climate Zones, a patch size of equal to or greater than 50 acres was used because the density of gnatcatchers generally is lower farther from the coast. Research on home range and territory size indicates that territory size increases with distance from the coast (ERCE 1991, Preston et al. 1998); therefore, the model reflects this patch size difference between climate zones. Then, “satellite” patches less than 10 ha (25 ac) within 488 m (1600 feet) of “core” areas were identified. The 488 m (1600 ft) distance is the distance a bird would have to travel across the landscape to reach a “core” area while avoiding developed areas (as established by Mock 1992). The vegetation was then expanded beyond the 488 m (1600 ft) search distance by including sagebrush habitat contiguous to the “satellite.” A layer called “high quality habitat” was then created by combining “core” and “satellite” areas. This “high quality habitat” was then given a value of 1, while all other areas were given a value of 0.

The second step used a digital elevation model to separate sagebrush by slope. As discussed in the Background section, many studies have suggested that gnatcatchers avoid nesting on very steep slopes (greater than 40 percent). Approximately 93 percent of the documented gnatcatcher sightings in the MSCP/MHCP study areas occur on slopes less than 40 percent (AMEC 2001). Consequently, sagebrush areas with slopes above 40 percent received a value of 0, while areas with slopes less than 40 percent received a value of 1.

Finally, the sagebrush was overlaid with a climate coverage to delimit areas above and below a mean minimum January temperature of 5° C (41° F), and an average rainfall of 33.66 cm (13.25 in). Five degrees C (41° F) was determined to be the threshold where the effects of temperature had an impact on gnatcatcher energetics (Mock 1998). The threshold for precipitation was determined by identifying the precipitation contour that captured 95 percent of the known occurrences. Sagebrush areas that are cold (i.e., below 5° C (41° F)) and wet (i.e., above 33.66 cm rainfall) received a value of 0. Areas that are warm and wet, or cold and dry, received a value of 1. Areas that are warm and dry received a value of 2.

To create the final model, the values for each area are totaled, with possible scores from 0 to 4. Areas with a value of 0 or 1 are considered to be of low quality, areas with a value of 2 of moderate quality, areas with a a value of 3 of high quality, and areas with a value of 4 of very high quality.

This model was run using the vegetation coverage data available from the three southern California Counties that have digital vegetation maps: San Diego, Orange, and Riverside Counties.

After generating the model across the three Counties, we tested it to see if it accurately predicted coastal California gnatcatcher occurrences. We used an independently derived data set of coastal California gnatcatcher occurrences across Orange and San Diego counties (USFWS unpublished). This data set was collected in the summer of 2002 using systematic point counts with a random start, incorporating distance sampling. Over a GIS data layer depicting vegetation types in the two counties, points were randomly placed over all habitats incorporating coastal sagebrush, including coastal sage scrub vegetation types and coastal sage scrub/chaparral ecotone. The sampling protocol included recording weather, vegetation, and coastal California gnatcatcher observations at each point. Coastal California gnatcatcher observations were recorded for a 10 minute data collection period followed by a 2.5 minute period during which a taped call was played twice. A total of 436 points were surveyed during this effort, each between 1 and 4 times.

To test the predictive power of the model, we compared the independent data set of coastal California gnatcatcher points with the model to see what percentage of gnatcatcher points were found to be occupied in each of the four different zones of habitat quality. The test found that 48 percent of the points located in habitat modeled as very high quality were occupied, 28 percent of the points in high quality were occupied, 8 percent of the points in medium quality were occupied, and essentially 0 percent of the points in low quality were occupied. The model was also tested and accepted under the Akaike's Information Criterion (AIC). This statistic is widely used as a measure for comparing the predictive power of constructed models (Burnham and Anderson 1998). Our independent study only sampled gnatcatcher abundance in San Diego and Orange counties, so we could not test the predictive power of the model in Riverside County. Therefore, the model was used as a guide for determining critical habitat only in San Diego and Orange counties.

In all counties within the range of the subspecies, including the counties that we modeled, we first examined those lands identified for conservation under approved regional HCPs covering the coastal California gnatcatcher. These planning efforts utilized habitat evaluation models, coastal California gnatcatcher occurrence data, and reserve design criteria to identify reserve systems of core gnatcatcher populations and linkage areas that are essential for the conservation of the species. Lands within existing designated reserves, preserves, or other conservation lands were determined by us at the time we issued the permits to be essential to the conservation of the species. We have reevaluated those areas and we adhere to our earlier determination that such lands are essential to the conservation of the gnatcatcher.

Those conservation lands considered for critical habitat designation include: (1) Designated reserve system lands within the Orange County NCCP for the Central-Coastal Subregions; (2) designated preserve lands within the County of San Diego Subarea within the San Diego MSCP; (3) designated preserve lands within the City of San Diego Subarea within the San Diego MSCP; and (4) designated preserve lands within the Poway Subarea within the San Diego MSCP. In addition, we considered conservation lands established through other approved HCPs covering the gnatcatcher (e.g., East Coyote Hills HCP, Shell/Metropolitan Water District HCP, Lake Mathews MSHCP and NCCP, Sycamore Canyon HCP, and the HCP for the Southeast Quadrant of the City of Carlsbad (Villages of La Costa)). The boundaries of these existing reserves, preserves, and other conservation lands are mapped following the most current approved boundaries. Lands outside of existing designated reserves, preserves, or other lands where incidental take has been authorized for the gnatcatcher under section 10(a)(1)(B) of the Act are not proposed as critical habitat. We concluded these lands were not essential to the conservation of the species at the time the permits were issued. We have reviewed those conclusions in developing this revised proposed rule and determined that these conclusions are still valid, and that such lands are not essential to the conservation of the species.

We then evaluated those areas where ongoing regional habitat conservation planning efforts have resulted in the preparation of biological analyses that identify habitat important for the conservation of the gnatcatcher. These include: the Western Riverside County MSHCP, the Rancho Palos Verdes MSHCP, the MHCP, the North County Subarea of the MSCP for unincorporated San Diego County, and the Southern Subregion of Orange County's NCCP. We utilized those biological analyses in concert with data regarding current coastal California gnatcatcher occurrences, sage scrub vegetation, elevation, and connectivity to identify those lands that are essential for the conservation of the coastal California gnatcatcher within the respective planning area boundaries.

Finally, we evaluated other lands for their conservation value for the coastal California gnatcatcher. We delimited a study area by selecting geographic boundaries based on the following: (1) California gnatcatcher occurrences, (2) sage scrub vegetation, (3) elevation, and (4) connectivity to other coastal California gnatcatcher occurrences. We determined conservation value based on the presence of, or proximity to, significant core populations and/or sage scrub, sage scrub habitat quality, parcel or habitat patch size, surrounding land-uses, and potential to support resident coastal California gnatcatchers and/or facilitate movement of birds between known habitat areas.

After determining those specific areas that are biologically essential to the gnatcatcher, we evaluated the areas relative to approved and legally operative individual and regional HCPs, completed and approved INRMPs for DoD lands, and other adequate conservation management plans or agreements. This comparison was conducted to ascertain the extent to which these conservation measures precluded the need to designate critical habitat on those lands based on the management provisions and protections afforded the gnatcatcher and its habitat. As previously discussed, we are not proposing as critical habitat pursuant to sections 3(5)(a) and/or 4(b)(2) lands covered by: (1) Legally operative individual or regional HCPs that cover the coastal California gnatcatcher, (2) a completed and approved INRMP that adequately address the Coastal California gnatcatcher and its habitat, and (3) other appropriate conservation management plans or agreements. Consequently, lands within the boundaries of the Central-Coastal NCCP/HCP, San Diego MSCP, mission-essential training areas on Camp Pendleton; MCAS, Miramar; and Tribal lands of the Pala Band of Mission Indians are not proposed as critical habitat for the gnatcatcher. Maps showing the essential areas considered, but not proposed, are available for public review and comment at the Carlsbad Fish and Wildlife Office (see ADDRESSES section) or on the Internet at http://carlsbad.fws.gov. These maps are provided to allow the public to adequately comment on these exclusions.

Proposed Critical Habitat Units are defined by specific map units. We did not map critical habitat in sufficient detail to exclude all individual developed areas (e.g., structures, roads), other lands unlikely to contain primary constituent elements essential for coastal California gnatcatcher conservation, or lands where incidental take for the gnatcatcher has been authorized under a section 7 biological opinion. Within the delineated critical habitat unit boundaries, only lands containing the primary constituent elements described above, including those lands where primary constituent elements occur through natural successional processes, are considered critical habitat. Existing features and structures within proposed areas, such as buildings, roads, aqueducts, railroads, and other features, do not contain the primary constituent elements. Federal actions limited to these areas, therefore, would not trigger consultation relative to critical habitat under section 7 of the Act unless they affect the species, or affect primary constituent elements in adjacent habitat.

Proposed Critical Habitat Designation

The approximate area of proposed critical habitat by county and land ownership is shown in Table 1. Proposed critical habitat includes gnatcatcher habitat throughout the species' range in the United States (i.e., Los Angeles, Orange, Riverside, San Bernardino, San Diego and Ventura counties, California). Lands proposed are under private, state, and Federal ownership, with Federal lands including lands managed by the Bureau of Land Management (BLM), DoD, Service, and Forest Service. Lands proposed for critical habitat include primary constituent elements for the coastal California gnatcatcher that provide for foraging, nesting, rearing of young, intra-specific communication, roosting, dispersal, genetic exchange, or sheltering (Atwood 1990). Lands proposed include populations throughout the U.S. range of the species in a variety of climatic zones and vegetation types in order to preserve the genetic and behavioral diversity that currently exist within the species. Known movement corridors are also included to allow for demographic and genetic interchange between populations. Lands proposed as critical habitat have been divided into 13 Critical Habitat Units. A brief description of each unit and reasons for proposing it as critical habitat are presented below.

Table 1.—Approximate Proposed Critical Habitat Area (ha (ac)) by County and Land Ownership
[Estimates reflect the total area within critical habitat unit boundaries]
County | Federal * | Local/State | Private | Total
Los Angeles | 2,760 ha (6,825 ac) | 810 ha (2,010 ac) | 27,875 ha (68,900 ac) | 31,445 ha (77,735 ac).
Orange | 420 ha (1,045 ac) | 1,835 ha (4,535 ac) | 19,655 ha (48,580 ac) | 21,910 ha (54,160 ac).
Riverside | 4,345 ha (10,740 ac) | 3,535 ha (8,740 ac) | 60,890 ha (150,465 ac) | 68,770 ha (169,945 ac).
San Bernardino | 335 ha (830 ac) | 645 ha (1,590 ac) | 8,450 ha (20,890 ac) | 9,430 ha (23,310 ac).
San Diego | 10,490 ha (25,940 ac) | 705 ha (1,755 ac) | 39,295 ha (97,110 ac) | 50,490 ha (124,805 ac).
Ventura | 0 | 0 | 18,550 ha (45,840 ac) | 18,550 ha (45,840 ac).
Total | 18,350 ha (45,380 ac) | 7,530 ha (18,630 ac) | 174,715 ha (431,785 ac) | 200,595 ha (495,795 ac).
* Federal lands include Bureau of Land Management, DoD, National Forest, Tribal, and Fish and Wildlife Service lands.

Table 2.—Approximate Proposed Critical Habitat Area (ha (ac)), Essential Area, and Excluded Area
Area considered essential | 307,545 ha (760,075 ac).
Area not included because of special management or protection (MCAS, Miramar)* | 2,725 ha (6,740 ac).
Area excluded under 4(b)(2) (Camp Pendleton, preserve lands under the San Diego MSCP and the Orange County Central-Coastal NCCP, and Tribal lands of the Pala Band of Mission Indians) | 104,225 ha (257,540 ac).
Proposed Critical Habitat | 200,595 ha (495,795 ac).
* Data for individual HCPs are not available.

Table 3.—HCPs and NCCP Areas Within the General Area Containing the Proposed Critical Habitat
NCCP/HCP | Planning area | Preserve area
San Diego MSCP | 236,000 ha (582,000 ac) | 69,573 ha (171,000 ac).
Central-Coastal Orange County NCCP/HCP | 84,463 ha (208,713 ac) | 15,677 ha (38,738 ac).
Proposed Northwestern San Diego MHCP | 453 square kilometers, 175 square miles (111,908 ac) | 8,064 ha (19,928 ac).
Proposed Southern Subregion NCCP/HCP Orange County (pending) | 51,800 ha (128,000 ac) | 5,666 ha (14,000 ac).
Proposed Western Riverside MSHCP | 530,000 ha (1.3 million ac) | 61,919 ha (153,000 ac).

Unit 1: South San Diego County

Unit 1 encompasses approximately 10,155 ha (25,100 ac) within the MSCP planning area. Lands essential to the conservation of the gnatcatcher within the cities of Chula Vista, El Cajon, and Santee; major amendment areas within the San Diego County Subarea Plan; the Otay-Sweetwater Unit of the San Diego National Wildlife Refuge Complex; and water district lands owned by Sweetwater Authority, Helix Water District, and Otay Water District are included. Lands proposed contain core populations of the species, sage scrub and areas providing connectivity between core populations and sage scrub. Populations in this unit occur in high quality coastal sage scrub and persist in high densities. Lands in the eastern section of this unit are also some of the least fragmented within this portion of the range in the United States and therefore less subject to edge effects which negatively influence habitat quality. Lands in this unit are also located adjacent to the U.S./Mexico border, and populations located there may serve to promote demographic and genetic interchange with populations in Mexico. We have considered, but have not proposed lands within the MSCP, MHPA, and preapproved mitigation areas in the City of San Diego, County of San Diego, La Mesa, and Poway and essential lands on MCAS, Miramar.

Unit 2: Upper San Diego River and El Capitan Linkage

Unit 2 encompasses approximately 6,490 ha (16,075 ac) in the upper San Diego River drainage. This unit includes a core population of coastal California gnatcatchers on the Cleveland National Forest south of State Route 78 near the upper reaches of the San Diego River, as well as canyons and corridors that provide linkages to MHPA lands adjacent to this unit. This population is the easternmost and one of the highest in elevation known. Individuals within this population likely contain unique genetic or behavioral adaptations that allow them to persist, which is likely to be important to the species as environmental conditions change through time. Also included within this unit is City of San Diego lands adjacent to El Capitan Reservoir, which serves as a corridor connecting the adjacent core population on Cleveland National Forest lands to populations located at lower elevations to the west (in Unit 1).

Unit 3: North San Diego County Multiple Habitat Conservation Plan (MHCP)

Unit 3 encompasses approximately 13,140 ha (32,465 ac) within the MHCP planning area in northwestern San Diego County. Included are lands within the cities of Carlsbad, Encinitas, Escondido, Oceanside, San Marcos, Solana Beach, and Vista. Lands proposed contain the last significant coastal California gnatcatcher populations remaining south of Camp Pendleton abutting the coast. Coastal populations have been found to be more dense than inland locales (Preston et al 1998). These coastal populations are therefore essential for supporting more inland locales through emigration (i.e., Unit 5). This unit also provides connectivity between core populations at Camp Pendleton (Unit 6), MSCP reserve areas (Unit 1), and populations in northern San Diego County (Unit 5).

Unit 4: Fallbrook Naval Weapons Station

Unit 4 encompasses approximately 3,515 ha (8,690 ac) on Fallbrook Naval Weapons Station in northern San Diego County. This unit contains high quality habitat and a core gnatcatcher population that supports adjacent populations on Camp Pendleton (Unit 6), northern San Diego County (Unit 5), and in southwestern Riverside County (Unit 10). The Santa Margarita River, on the northern boundary of this unit, also functions as an essential linkage connecting coastal populations of coastal California gnatcatchers with inland populations in San Diego and Riverside counties.

Unit 5: North County Subarea of the MSCP for Unincorporated San Diego County

Unit 5 encompasses approximately 14,045 ha (34,705 ac) within the planning area for the North County Subarea of the MSCP for San Diego County. Lands proposed within this unit contain several core coastal California gnatcatcher populations and intervening linkage areas of sage scrub. This unit constitutes the primary inland linkage along the I-15 corridor between San Diego populations and those in southwestern Riverside County (Unit 10). We have considered, but have not proposed occupied high quality habitat on the Pala Indian Reservation. Recent surveys have revealed the existence of a core population on the Pala Indian Reservation. Habitat quality in this area was also depicted as high to very high by the habitat model. This population is located adjacent to a north-south corridor connecting Riverside and San Diego counties, and will likely provide a significant number of dispersing juveniles into this corridor.

Unit 6: Southern NCCP Subregion of Orange County and Marine Corps Base Camp Pendleton

Unit 6 encompasses approximately 17,940 ha (44,340 ac) within the planning area for the Southern NCCP Subregion of Orange County. This unit contains some of the largest, most robust populations known (e.g., Chiquita ridge), as well as essential regional populations (e.g., Prima Deshecha Ca'ada, Talega Canyon) and linkages in Cristianitos Canyon, Arroyo Trabuco, and Saddle Creek/Live Oak Canyon. This unit also provides the primary linkage for core populations in North San Diego MHCP (Unit 3), and the Fallbrook Naval Weapons Station (Unit 4) to those further north in Orange County (Unit 7).

Camp Pendleton contains a coastal corridor of gnatcatcher-occupied sage scrub that provides the primary linkage between San Diego populations and those in southern Orange County. Another corridor of gnatcatcher-occupied sage scrub occurs along the Santa Margarita River valley that branches inland, connecting with habitat in the Fallbrook Naval Weapons Station (Unit 4) and further north into southwestern Riverside County (Unit 10). We are proposing critical habitat in Camp Pendleton on lands determined to be essential, but that are outside of training area boundaries. These areas include lands within the Wire Mountain housing area, De Luz housing area, and State Park lease lands (e.g,. San Onofre State Beach).

Unit 7: Central-Coastal NCCP Subregions of Orange County (Central-Coastal NCCP)

Unit 7 encompasses approximately 2,340 ha (5,775 ac) within the Orange County Central-Coastal NCCP planning area. It includes core gnatcatcher populations and sage scrub habitat within select Existing Use Areas, portions of the Irvine Ranch Land Reserve, and the designated reserve (panhandle portion) of the El Toro Reuse Area. These areas contain high quality habitat and dense populations of gnatcatchers that link populations located in southern Orange County (Unit 6) with those in northern Orange and Riverside counties (Units 9 and 10).

Unit 8: Palos Verdes Peninsula Subregion, Los Angeles County

Unit 8 encompasses approximately 2,895 ha (7,160 ac) within and adjacent to the subregional planning area for the Palos Verdes Peninsula in Los Angeles County, including the City of Rancho Palos Verdes MSHCP area. This unit includes a core population of coastal California gnatcatchers and high quality sage scrub habitat in Portuguese Bend, Agua Amarga Canyon, Defense Fuel Support Point, San Pedro, and adjacent canyons, as well as connecting linkages. The former landfill adjacent to the South Coast Botanic Garden does not currently contain habitat and is not proposed as critical habitat, yet it will continue to be evaluated as it represents a significant potential restoration area for the recovery of this population.

Unit 9 : East Los Angeles County-Matrix NCCP Subregion of Orange County

Unit 9 encompasses approximately 9,140 ha (22,595 ac) within the Montebello Hills, Puente-Chino Hills, and East and West Coyote Hills areas. Core populations are known from the Montebello Hills, south slopes of the Puente-Chino Hills from Whittier east to Yorba Linda, and the East and West Coyote Hills. The Brea Canyon Landfill is not proposed as critical habitat, but it represents a significant potential restoration area to support these remaining populations. The unit also provides the primary connectivity between core gnatcatcher populations and sage scrub habitat within the Central-Coastal Subregions of the Orange County NCCP (Unit 7), the Western Riverside County MSHCP (Unit 10), and the Bonelli Regional Park core population within the East Los Angeles (Unit 12).

Unit 10: Western Riverside County Multiple Species Habitat Conservation Plan (MSHCP)

Unit 10 encompasses approximately 71,505 ha (176,720 ac) within the proposed planning area for the Western Riverside County MSHCP. Lands proposed include important linkages from San Diego County core populations along the Santa Margarita River and Warm Springs Creek, and core populations within the Lake Skinner/Diamond Valley region and the Lake Elsinore/Lake Mathews region. Also proposed are core populations that occur along the I-15 corridor, in the Lake Perris area, in the Alessandro Heights area, in the Box Spring Mountains, and along the foothills of the Santa Ana Mountains connecting into the Chino-Puente Hills. These areas also provide connectivity among core populations within Riverside County and to populations in San Diego, San Bernardino, Orange, and Los Angeles counties. Unit 10 encompasses some of the Core Reserves established under the Stephens' Kangaroo Rat HCP. The Lake Mathews/Estelle Mountain, Steele Peak, Lake Perris/San Jacinto Core Reserves, the Potrero Area of Critical Environmental Concern, and the Southwestern Riverside County Multi-Species Reserve provide high quality habitat for the coastal California gnatcatcher. Lands proposed as critical habitat within Unit 10 are generally encompassed by the Criteria Area (from which the future preserve area will be delineated) designated as part of the MSHCP. Areas proposed outside of the Criteria Area are consistent with those designated in the previous final designation of critical habitat (65 FR 63680). Lands designated outside of Criteria Areas include the Alessandro Heights, which is essential for maintaining linkages with populations in southern San Bernardino County, and the eastern slope of the Santa Ana Mountains, which is an essential linkage to the Puente-Chino Hills and central Orange County (Units 7 and 9). This unit incorporates habitat in the vicinity of Aguanga that is one of three locations in the range of the species, and the only location in the United States, where the California gnatcatcher co-occurs with its sister species, the Black-tailed gnatcatcher (Polioptila melanura; Weaver 1998; Atwood 1988). Maintaining these areas of sympatry (overlapping occupation) are important for reinforcing reproductive isolating mechanisms such as habitat preferences and vocalizations that prevent hybridization between the two species (Weaver 1998, Atwood 1988). This unit also incorporates high-quality coastal sage scrub south and east of Diamond Valley Reservoir that has been shown to be resistant to type conversion to non-native grassland, probably due to the prevalence of gabbro-basalt soils in this area (Minnich and Dezzani 1998). The coastal sage scrub in this region therefore has the highest probability of resisting type conversion in the future, and therefore has the greatest potential to maintain diverse, high quality coastal sage scrub vegetation through time. This unit also encompasses contiguous habitats in southern San Bernardino County, including core populations in the Jurupa Hills, and the Blue Mountain/Reche Canyon region. The Santa Ana River appears to be an important movement corridor in this area, connecting the Jurupa and La Loma Hills to populations in the Box Springs Mountains, as well as to the few pairs known from the Pedley Hills and Norco Hills. Though a few coastal California gnatcatchers have been observed from the upper Santa Ana River wash in the vicinity of Highland, we do not yet have evidence that this area constitutes a core population.

Unit 11: San Bernardino Valley MSHCP, San Bernardino County

Unit 11 encompasses approximately 6,065 ha (14,990 ac) along the foothills of the San Gabriel Mountains in the Etiwanda Fan and Lytle and Cajon Washes. The core populations in these alluvial fans utilize a unique habitat type at the northern extent of their inland range. The vegetation mosaic of the Etiwanda fan is complex and consists of Riversidian alluvial fan sage scrub in the active floodplains of the major washes, and Riversidian sage scrub on the alluvial fan between major washes. These habitats are interspersed with stands of Quercus dumosa (scrub oak), Ceanothus leucodermis (white buckthorn), Cercocarpus betuloides (mountain mahogany), Garrya ssp. (silktassel), Rhamnus spp. (buckthorn), and Rhus ovata (sugarbush). The species' persistence in these unique habitat types may be due to unique genetic or behavioral adaptations that may be important to the species as environmental conditions change through time (Lesica and Allendorf 1995). Linkages from these populations to more southerly portions of the range may include the foothills of the San Gabriel Mountains to the west and the San Bernardino Mountains to the east, however these linkages have yet to be confirmed.

Unit 12: East Los Angeles County

Unit 12 encompasses approximately 1,570 ha (3,890 ac) in eastern Los Angeles County in Bonelli Regional Park and along the San Jose Hills to the west. This unit functions as an archipelago of persistent populations toward the northern end of the range of the species, and is a likely source population for the pairs that are reported from the foothills of the San Gabriel mountains north of the Los Angeles basin. Disturbed and vacant areas within Bonelli Regional Park and the BKK landfill at the western end of the San Jose Hills represent the last available vacant land for restoration of habitat to recover the species in this unit. Isolated habitat patches between this unit and the East Los Angeles County-Matrix NCCP Subregion of Orange County (Unit 9), are not included, but may serve to maintain connectivity. This unit does not include a potential movement corridor along the foothills of the San Gabriel Mountains towards the Etiwanda Fan (Unit 11) as we do not currently have evidence of movement through this area.

Unit 13: Western Los Angeles and Ventura Counties

Unit 13 encompasses approximately 41,795 ha (103,290 ac) in eastern Ventura and western Los Angeles counties along the southern and eastern slopes of the Santa Susana Mountains and a portion of the interior foothills of the San Gabriel Mountains. It includes the only known breeding population of coastal California gnatcatchers in Ventura County and incorporates high quality coastal sage scrub in the Placerita, Box Springs Canyon, Plum Canyon, and Moorpark areas. Its primary function is as a regional source population for the species and as the east-west linkage of sage scrub habitat between the core population in Ventura county and the pairs documented in the foothills of the San Gabriel Mountains. This unit encompasses the northern and western distributional extreme of the coastal California gnatcatcher's current range, and as such would act as a source population for any future recovery of gnatcatcher populations to the north and west. Peripheral populations are also important in that they may contain unique genetic or behavioral adaptations that may be important to the species as environmental conditions change through time (Lesica and Allendorf 1995).

Effects of Critical Habitat Designation

Section 7 Consultation

Individuals, organizations, States, local governments, and other non-Federal entities are affected by the designation of critical habitat if their actions occur on Federal lands, require a Federal permit, license, or other authorization, or involve Federal funding. Regulations implementing this interagency cooperation provision of the Act are codified at 50 CFR part 402.

Section 7(a)(4) of the Act requires Federal agencies to confer with us on any action that is likely to jeopardize the continued existence of a proposed species or result in destruction or adverse modification of proposed critical habitat. We may issue a formal conference report if requested by a Federal agency. Formal conference reports on proposed critical habitat contain a biological opinion that is prepared according to 50 CFR 402.14, as if critical habitat were designated. We may adopt the formal conference report as the biological opinion when the critical habitat is designated, if no significant new information or changes in the action alter the content of the opinion (see 50 CFR 402.10(d)).

If a species is listed or critical habitat is designated, section 7(a)(2) of the Act requires Federal agencies to ensure that actions they authorize, fund, or carry out are not likely to jeopardize the continued existence of the species or to destroy or adversely modify its critical habitat. If a Federal action may affect a listed species or its critical habitat, the responsible Federal agency (action agency) must enter into consultation with us. Through this consultation we would ensure that the permitted actions do not adversely modify critical habitat.

When we issue a biological opinion concluding that a project is likely to result in the destruction or adverse modification of critical habitat, we also provide reasonable and prudent alternatives to the project, if any are identifiable. Reasonable and prudent alternatives are defined at 50 CFR 402.02 as alternative actions identified during consultation that can be implemented in a manner consistent with the intended purpose of the action, that are consistent with the scope of the Federal agency's legal authority and jurisdiction, that are economically and technologically feasible, and that the Director believes would avoid destruction or adverse modification of critical habitat. Reasonable and prudent alternatives can vary from slight project modifications to extensive redesign or relocation of the project. Costs associated with implementing a reasonable and prudent alternative are similarly variable.

Regulations at 50 CFR 402.16 require Federal agencies to reinitiate consultation on previously reviewed actions in instances where critical habitat is subsequently designated and the Federal agency has retained discretionary involvement or control over the action or such discretionary involvement or control is authorized by law. Consequently, some Federal agencies may request reinitiation of consultation or conferencing with us on actions for which formal consultation has been completed if those actions may affect designated critical habitat or adversely modify or destroy proposed critical habitat. Conference reports provide conservation recommendations to assist the agency in eliminating conflicts that may be caused by the proposed action. The conservation recommendations in a conference report are advisory.

Activities on Federal lands that may affect the coastal California gnatcatcher or its critical habitat will require section 7 consultation. Activities on private or State lands requiring a permit from a Federal agency, such as a permit from the U. S. Army Corps of Engineers (Army Corps) under section 404 of the Clean Water Act, or some other Federal action, including funding (e.g., Federal Highway Administration, Federal Aviation Authority, or Federal Emergency Management Agency) will also continue to be subject to the section 7 consultation process. Federal actions not affecting listed species or critical habitat and actions on non-Federal lands that are not Federally funded or permitted do not require section 7 consultation.

We recognize that designation of critical habitat may not include all of the habitat areas that may eventually be determined to be necessary for the recovery of the species. For these reasons, all should understand that critical habitat designations do not signal that habitat outside the designation is unimportant or may not be required for recovery. Areas outside the critical habitat designation will continue to be subject to conservation actions that may be implemented under section 7(a)(1) of the Act and to the regulatory protections afforded by the jeopardy standard in section 7(a)(2) of the Act and the prohibitions of section 9 of the Act. Critical habitat designations made on the basis of the best available information at the time of designation will not control the direction and substance of future recovery plans, HCPs, or other species conservation planning efforts if new information available to these planning efforts calls for a different outcome.

Section 4(b)(8) of the Act requires us to evaluate briefly and describe, in any proposed or final regulation that designates critical habitat, those activities involving a Federal action that may adversely modify such habitat or that may be affected by such designation.

Activities that, when carried out, funded, or authorized by a Federal agency, may directly or indirectly destroy or adversely modify critical habitat of the coastal California gnatcatcher include, but are not limited to the following:

(1) Removing, thinning, or destroying gnatcatcher habitat (as defined in the primary constituent elements discussion), whether by burning or mechanical, chemical, or other means (e.g., woodcutting, grubbing, grading, overgrazing, construction, road building, mining, herbicide application, etc.); and

(2) Activities that cause indirect effects that appreciably decrease habitat value or quality (e.g., activities that create or foster noise, edge effects, invasion of exotic plants or animals, or fragmentation such that it appreciably decreases habitat value or quality).

Designation of critical habitat could affect the following agencies and/or actions: development on private lands requiring permits from Federal agencies, such as authorization from the Corps, pursuant to section 404 of the Clean Water Act, or a section 10(a)(1)(B) permit from the Service, or some other Federal action that includes Federal funding that will subject the action to the section 7 consultation process (e.g., from the Federal Highway Administration, Federal Emergency Management Agency, or the Department of Housing and Urban Development); military activities of the DoD on its lands or lands under its jurisdiction; the release or authorization of release of biological control agents by the U.S. Department of Agriculture; regulation of activities affecting point source pollution discharges into waters of the United States by the Environmental Protection Agency under section 402 of the Clean Water Act; construction of communication sites licensed by the Federal Communications Commission; and authorization of Federal grants or loans. Where Federally listed wildlife species occur on private lands proposed for development, any HCPs submitted by the applicant to secure an incidental take permit pursuant to section 10(a)(1)(B) of the Act would be subject to the section 7 consultation process, a process that would consider all Federally-listed species affected by the HCP, including plants.

If you have questions regarding whether specific activities will likely constitute adverse modification of critical habitat, contact the Field Supervisor, Carlsbad Fish and Wildlife Office (see FOR FURTHER INFORMATION CONTACT section). Requests for copies of the regulations on listed wildlife and inquiries about prohibitions and permits may be addressed to the U.S. Fish and Wildlife Service, Portland Regional Office, 911 NE. 11th Avenue, Portland, OR 97232-4181 (503/231-6131, FAX 503/231-6243).

Relationship to the 4(d) Special Rule for the Gnatcatcher

On December 10, 1993, a final special rule concerning take of the coastal California gnatcatcher was published pursuant to section 4(d) of the Act (58 FR 63088). Under the 4(d) special rule, incidental take of the species is not considered to be a violation of section 9 of the Act if: (1) Take results from activities conducted pursuant to the NCCP and in accordance with an approved NCCP plan for the protection of coastal sage scrub, prepared consistent with the State of California's Conservation and Process Guidelines (Guidelines) dated November 1993; and (2) the Service issues written concurrence that the plan meets the standards for issuance of an incidental take permit under 50 CFR 17.32(b)(2). Within enrolled subregions actively engaged in the preparation of an NCCP plan, the take of gnatcatchers will not be a violation of section 9 of the Act if such take results from activities conducted in accordance with the Guidelines. The Guidelines limit habitat loss during the interim planning period to no more than 5 percent of coastal sage scrub with lower long-term conservation potential in existence at the time of adoption of the 4(d) special rule.

The Guidelines specify criteria to evaluate the long-term conservation potential of sage scrub that is proposed for loss during the period that NCCP plans are being developed to assist participating jurisdictions in providing interim protection for areas that support habitat that is likely to be important to conservation of the gnatcatcher. These jurisdictions are: the Southern and Matrix subregions of Orange County; the cities of Rancho Palos Verdes and San Dimas in Los Angeles County; MSCP subareas in the cities of Santee, El Cajon, Chula Vista, and Coronado; the MHCP Subregion of northwestern San Diego County; the North County Subarea of San Diego's MSCP; San Diego County's MHCOSP; and six water districts in San Diego County.

We intend that participating jurisdictions will be able to continue to apply the 4(d) special rule within designated critical habitat and to issue Habitat Loss Permits, with the joint concurrence of us and the California Department of Fish and Game (CDFG), provided the jurisdictions are actively working to complete their subarea plans and adhere to the Guidelines. To be consistent with the Guidelines, the jurisdictions must find, and we and CDFG must concur, that:

(1) The proposed habitat loss is consistent with the interim loss criteria in the Guidelines and with any subregional process if established by the subregion:

(a) the habitat loss does not cumulatively exceed the 5 percent guideline;

(b) the habitat loss will not preclude connectivity between areas of high habitat values;

(c) the habitat loss will not preclude or prevent the preparation of the subregional NCCP; and

(d) the habitat loss has been minimized and mitigated to the maximum extent practicable in accordance with section 4.3 of the Guidelines.

(2) The habitat loss will not appreciably reduce the likelihood of the survival and recovery of listed species in the wild.

(3) The habitat loss is incidental to otherwise lawful activities.

Because, in addition to avoiding jeopardy to the coastal California gnatcatcher, the Guidelines restrict interim habitat loss allowed under the 4(d) rule to areas with low long-term conservation potential that will not preclude development of adequate NCCP plans and that will not adversely impact connectivity between areas of high habitat value, we believe that allowing a small percentage of habitat loss that could potentially occur within designated critical habitat pursuant to the 4(d) rule is not likely to adversely modify or destroy critical habitat by appreciably reducing its value for both the survival and recovery of the species. When we make a final critical habitat determination, we will prepare a new biological opinion on the 4(d) rule to formally evaluate the effects of the rule on designated critical habitat.

Requests for copies of the regulations on listed wildlife and inquiries about prohibitions and permits may be addressed to the U.S. Fish and Wildlife Service, Division of Endangered Species, 911 NE. 11th Ave., Portland, OR 97232 (telephone 503-231-2063, facsimile 503-231-6143).

Economic Analysis

Section 4(b)(2) of the Act requires us to designate critical habitat on the basis of the best scientific and commercial data available and to consider the economic and other relevant impacts of designating a particular area as critical habitat. We may exclude areas from critical habitat upon a determination that the benefits of such exclusions outweigh the benefits of specifying such areas as critical habitat. We cannot exclude such areas from critical habitat when such exclusion will result in the extinction of the species. We will complete an economic analysis for this proposal prior to a final determination. When completed, we will announce the availability of the draft economic analysis with a notice in the Federal Register, and we will open a 30-day comment period at that time.

Peer Review

In accordance with our policy published on July 1, 1994 (59 FR 34270), we will solicit the expert opinions of at least three appropriate and independent specialists regarding this proposed rule. The purpose of such review is to ensure listing decisions are based on scientifically sound data, assumptions, and analyses. We will send these peer reviewers copies of this proposed rule immediately following publication in the Federal Register. We will invite these peer reviewers to comment, during the public comment period, on the specific assumptions and conclusions regarding the proposed designation of critical habitat.

We will consider all comments and information received during the 60-day comment period on this proposed rule during preparation of a final rulemaking. Accordingly, the final determination may differ from this proposal.

Public Hearings

The Endangered Species Act provides for one or more public hearings on this proposal, if requested. Requests must be received within 45 days of the date of publication of the proposal in the Federal Register. Such requests must be made in writing and be addressed to the Field Supervisor (see ADDRESSES section). We will schedule public hearings on this proposal, if any are requested, and announce the dates, times, and places of those hearings in the Federal Register and local newspapers at least 15 days prior to the first hearing.

Clarity of the Rule

Executive Order 12866 requires each agency to write regulations and notices that are easy to understand. We invite your comments on how to make this proposed rule easier to understand, including answers to questions such as the following: (1) Are the requirements in the proposed rule clearly stated? (2) Does the proposed rule contain technical jargon that interferes with the clarity? (3) Does the format of the proposed rule (grouping and order of the sections, use of headings, paragraphing, etc.) aid or reduce its clarity? (4) Is the description of the notice in the SUPPLEMENTARY INFORMATION section of the preamble helpful in understanding the notice? (5) What else could we do to make this proposed rule easier to understand?

Send a copy of any comments that concern how we could make this notice easier to understand to: Office of Regulatory Affairs, Department of the Interior, Room 7229, 1849 C Street, NW., Washington, DC 20240. You may e-mail your comments to this address: Exsec@ios.doi.gov.

Required Determinations

Regulatory Planning and Review

In accordance with Executive Order 12866, this document is a significant rule and was reviewed by the Office of Management and Budget (OMB). The Service is preparing a draft economic analysis of this proposed action. The Service will use this analysis to meet the requirement of section 4(b)(2) of the Act to determine the economic consequences of designating the specific areas as critical habitat and excluding any area from critical habitat if it is determined that the benefits of such exclusion outweigh the benefits of inclusion, unless failure to designate such area as critical habitat will lead to the extinction of the coastal California gnatcatcher. This analysis will be available for public comment before finalizing this designation. The availability of the draft economic analysis will be announced in the Federal Register.

Regulatory Flexibility Act (5 U.S.C. 601 et seq.)

Under the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. SBREFA amended the Regulatory Flexibility Act (RFA) to require Federal agencies to provide a statement of the factual basis for certifying that a rule will not have a significant economic effect on a substantial number of small entities. SBREFA also amended the RFA to require a certification statement. In the final rule, we anticipate being able to certify that the critical habitat designation for the coastal California gnatcatcher will not have a significant economic impact on a substantial number of small entities. The following discussion explains our rationale.

Small entities include small organizations, such as independent nonprofit organizations and small governmental jurisdictions, including school boards and city and town governments that serve fewer than 50,000 residents, as well as small businesses (13 CFR 121.201). Small businesses include manufacturing and mining concerns with fewer than 500 employees, wholesale trade entities with fewer than 100 employees, retail and service businesses with less than $5 million in annual sales, general and heavy construction businesses with less than $27.5 million in annual business, special trade contractors doing less than $11.5 million in annual business, and agricultural businesses with annual sales less than $750,000. To determine if potential economic impacts to these small entities are significant, we consider the types of activities that might trigger regulatory impacts under this rule, as well as the types of project modifications that may result.

SBREFA does not explicitly define either “substantial number” or “significant economic impact.” Consequently, to assess whether a “substantial number” of small entities is affected by this designation, this analysis considers the relative number of small entities likely to be impacted in the area. Similarly, the analysis considers the relative cost of compliance on the revenues/profit margins of small entities in determining whether or not entities incur a “significant economic impact.” Only small entities that are expected to be directly affected by the designation are considered in this portion of the analysis. This approach is consistent with several judicial opinions related to the scope of the RFA. (Mid-Tex Electric Co-Op, Inc. v. F.E.R.C. and American Trucking Associations, Inc. v. EPA).

To determine if a rule would affect a substantial number of small entities, we consider the number of small entities affected within particular types of economic activities (e.g., housing development, grazing, oil and gas production, timber harvesting, etc.). We apply the “substantial number” test individually to determine if certification is appropriate. In some circumstances, especially with proposed critical habitat designations of very limited extent, we may aggregate across all industries and consider whether the total number of small entities affected is substantial. In estimating the numbers of small entities potentially affected, we also consider whether their activities have any Federal involvement; some kinds of activities are unlikely to have any Federal involvement and so will not be affected by critical habitat designation.

In estimating the numbers of small entities potentially affected, we also consider whether their activities have any Federal involvement. Designation of critical habitat has the potential to affect activities conducted, funded, or permitted by Federal agencies. In areas where the species is present, Federal agencies are already required to consult with us under section 7 of the Act on activities that they fund, permit, or implement that may affect the coastal California gnatcatcher. Federal agencies must also consult with us if their activities may affect designated critical habitat. Some kinds of activities are unlikely to have any Federal involvement and so will not be affected by critical habitat designation.

As required under section 4(b)(2) of the Act, we are preparing a draft analysis of the potential economic impacts of this proposed critical habitat designation. An early version of our draft analysis provides an estimate of the number of small entities potentially affected by the proposed designation of critical habitat for the coastal California gnatcatcher. The analysis conservatively examines total estimated section 7 costs by including both coextensive costs and those solely attributable to critical habitat designation. According to the draft analysis, section 7 implementation for the coastal California gnatcatcher is likely to affect small businesses in the land development and real estate industry and small governments. Approximately 12 small businesses in the land development and real estate industry are affected annually, which represents less than one percent of the total number of small businesses in the industry for the study area. These small businesses are likely to experience impacts equivalent to about 4 percent of their per-business annual gross revenue. For the small governments in the study area, less than one agency is likely to be affected annually, which represents about two percent of the total number of small governments in the study area. Affected small governments are likely to experience impacts equivalent to less than one percent of the median revenue of small governments in the study area.

In summary, we have concluded that this proposed rule would not result in a significant economic effect on a substantial number of small entities. Therefore, we are certifying that the proposed designation of critical habitat for the coastal California gnatcatcher will not have a significant economic impact on a substantial number of small entities, and an initial regulatory flexibility analysis is not required.

This discussion is based upon the information regarding potential economic impact that is available to us at this time. This assessment of economic effect may be modified prior to final rulemaking based upon development and review of the draft economic analysis prepared pursuant to section 4(b)(2) of the Act and E.O. 12866.

Small Business Regulatory Enforcement Fairness Act (5 U.S.C. 804(2))

A preliminary version of our draft economic analysis indicates that designation of critical habitat will cause an effect on the economy of approximately $124 million per year. It does not indicate that this designation will cause: (a) Any increases in costs or prices for consumers; individual industries; Federal, State, or local government agencies; or geographic regions or (b) any significant adverse effects on competition, employment, investment, productivity, innovation, or the ability of U.S.-based enterprises to compete with foreign-based enterprises.

Executive Order 13211

On May 18, 2001, the President issued an Executive Order (E.O. 13211) on regulations that significantly affect energy supply, distribution, and use. Executive Order 13211 requires agencies to prepare Statements of Energy Effects when undertaking certain actions. Although this rule is a significant regulatory action under Executive Order 12866, it is not expected to significantly affect energy supplies, distribution, or use. Therefore, this action is not a significant energy action and no Statement of Energy Effects is required.

Unfunded Mandates Reform Act (2 U.S.C. 1501 et seq.)

In accordance with the Unfunded Mandates Reform Act (2 U.S.C. 1501 et seq.):

(a) This rule will not “significantly or uniquely” affect small governments. A Small Government Agency Plan is not required. Small governments will only be affected to the extent that any Federal funds, permits, or other authorized activities must ensure that their actions will not adversely affect the critical habitat. However, these actions are currently subject to equivalent restrictions through the listing protections of the species, and no further restrictions are anticipated.

(b) This rule will not produce a Federal mandate of $100 million or greater in any year, that is, it is not “significant regulatory action” under the Unfunded Mandates Reform Act. The designation of critical habitat imposes no obligations on State or local governments.

Takings

In accordance with Executive Order 12630 (“Government Actions and Interference with Constitutionally Protected Private Property Rights”), we have analyzed the potential takings implications of proposing to designate approximately 289,850 ha (716,345 ac) of lands in Los Angeles, Orange, Riverside, San Bernardino, San Diego, and Ventura Counties, California, as critical habitat for the coastal California gnatcatcher in a takings implications assessment. This assessment concludes that this proposed rule does not pose significant takings implications.

The proposed designation of critical habitat affects only Federal action agencies. The rule will not increase or decrease the current restrictions on private property concerning take of the gnatcatcher. Because of current public knowledge of the species protection, the prohibition against take of the species both within and outside of the designated areas, and the fact that critical habitat provides no incremental restrictions, we do not anticipate that property values will be affected by the critical habitat designation. While real estate market values may temporarily decline following designation, resulting from the perception that critical habitat designation may impose additional regulatory burdens on land use, we expect any such impacts to be short term. Additionally, critical habitat designation does not preclude development of HCPs and issuance of incidental take permits. Landowners in areas that are included in the designated critical habitat will continue to have the opportunity to utilize their property in ways consistent with the survival of the gnatcatcher.

Federalism

In accordance with Executive Order 13132, the rule does not have significant Federalism effects. A Federalism assessment is not required. The designation of critical habitat within the geographic range occupied by the gnatcatcher imposes no additional restrictions to those currently in place, and therefore has little incremental impact on State and local governments and their activities. The designation may have some benefit to these governments in that the areas essential to the conservation of the species are more clearly defined, and the primary constituent elements of the habitat necessary to the survival of the species are specifically identified. While this definition and identification does not alter where and what Federally sponsored activities may occur, it may assist these local governments in long range planning (rather than waiting for case by case section 7 consultations to occur).

Civil Justice Reform

In accordance with Executive Order 12988, the Office of the Solicitor has determined that the rule does not unduly burden the judicial system and that it meets the requirements of sections 3(a) and 3(b)(2) of the Order. We designate critical habitat in accordance with the provisions of the Endangered Species Act. The determination uses standard property descriptions and identifies the primary constituent elements within the designated areas to assist the public in understanding the habitat needs of the gnatcatcher.

Paperwork Reduction Act of 1995 (44 U.S.C. 3501 et seq.)

This rule does not contain any information collection requirements for which OMB approval under the Paperwork Reduction Act is required.

National Environmental Policy Act

We have determined that an Environmental Assessment and/or an Environmental Impact Statement as defined by the National Environmental Policy Act of 1969 need not be prepared in connection with regulations adopted pursuant to section 4(a) of the Act. A notice outlining our reason for this determination was published in the Federal Register on October 25, 1983 (48 FR 49244). This final determination does not constitute a major Federal action significantly affecting the quality of the human environment.

Government-to-Government Relationship With Tribes

In accordance with the President's memorandum of April 29, 1994, “Government-to-Government Relations with Native American Tribal Governments” (59 FR 22951) and 512 DM 2, we readily acknowledge our responsibility to communicate meaningfully with recognized Federal Tribes on a government-to-government basis. We have determined that there are Tribal lands essential for the conservation of the gnatcatcher because they do support core gnatcatcher populations and provide high quality habitat for this species. We will be coordinating with the Pala Band of Mission Indians.

References Cited

A complete list of all references cited in this proposed rule is available upon request from the Carlsbad Fish and Wildlife Office (see ADDRESSES section).

Author. The primary author of this notice is the Carlsbad Fish and Wildlife Office (see ADDRESSES section)

List of Subjects in 50 CFR Part 17

Endangered and threatened species, Exports, Imports, Reporting and recordkeeping requirements, Transportation.

Proposed Regulation Promulgation

Accordingly, we propose to amend part 17, subchapter B of chapter I, title 50 of the Code of Federal Regulations as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

2. In § 17.95, revise the entry for the coastal California gnatcatcher (Polioptila californica californica) under paragraph (b) as follows:

§ 17.95 Critical habitat—fish and wildlife.

* * * * *

(b) Birds.

* * * * *

Coastal California gnatcatcher (Polioptila californica californica)

(1) Critical Habitat Units are depicted for Los Angeles, Orange, Riverside, San Bernardino, and San Diego counties, California, on the maps below.

(2) The primary constituent elements for the coastal California gnatcatcher are those habitat components that are essential for the primary biological needs of foraging, nesting, rearing of young, intra-specific communication, roosting, dispersal, genetic exchange, or sheltering (Atwood 1990). Primary constituent elements are provided in undeveloped areas, which support or have the potential to support, through natural successional processes (e.g., post-fire recovery), various types of sage scrub or chaparral, grassland, and riparian habitats where they may be utilized for biological needs such as breeding, foraging, or dispersal (Atwood et al. 1998, Campbell et al. 1998). Primary constituent elements associated with the biological needs of dispersal are also found in undeveloped areas that provide or could provide connectivity or linkage between larger core areas, including open space and ruderal (weedy areas that contain introduced plant species) disturbed areas that may receive only periodic use. Probable dispersing individuals have been documented in vegetation dominated by such species as Brassica spp. (wild mustard), annual grasses, Salsola tragus (russian thistle), Baccharis salicifolia (mule fat), Salix spp. (willow), and Tamarix spp. (salt cedar) (Campbell et al. 1998). Some of these species may also be used seasonally by territorial birds because coastal sage scrub dessicates during the summer drought (Campbell et al. 1998).

Primary constituent elements include, but are not limited to, the following plant communities: Venturan coastal sage scrub, Diegan coastal sage scrub, maritime succulent scrub, Riversidean sage scrub, Riversidean alluvial fan scrub, southern coastal bluff scrub, and coastal sage-chaparral scrub (Holland 1986, Kirkpatrick and Hutchinson 1977, Westman 1983). Based upon dominant species, these communities have been further divided into series such as black sage, brittlebush, California buckwheat, California buckwheat-white sage, California encelia, California sagebrush, California sagebrush-black sage, California sagebrush-California buckwheat, coast prickly-pear, mixed sage, purple sage, scalebroom, and white sage (Sawyer and Keeler-Wolf 1995). Dominant species within these plant communities include Artemisia californica, Eriogonum fasciculatum, Encelia californica, Salvia mellifera, S. apiana, and S. leucophylla. Other commonly occurring plants include Isocoma menziesii (coast goldenbush), Viguiera laciniata (San Diego sunflower), Baccharis pilularis (coyote brush), Baccharis sarothroides (broom baccharis), Mimulus aurantiacus (bush monkeyflower), Sambucus mexicana (Mexican elderberry), Isomeris arborea (bladderpod), Lotus scoparius, Malosma laurina (laurel sumac), Rhus integrifolia (lemonadeberry), and Rhus ovata (sugarbush). Species such as Lycium spp. (boxthorn), Euphorbia misera (cliff spurge), Simmondsia chinensis (jojoba), and Opuntia littoralis (prickly pear), O. prolifera (cholla), and Ferocactus viridescens (coast barrel cactus), and Dudleya spp. (live-forever), are represented in maritime succulent scrub, coast prickly-pear scrub, and southern coastal bluff scrubs. In areas of coastal influence, chamise chaparral has also been documented to support breeding pairs (Campbell et al. 1998). Mesic sites dominated by Baccharis salicifolia and other Baccharis species such as Baccharis pilularis and Baccharis sarathroides may also support breeding pairs (Campbell et al. 1998).

(3) Critical habitat does not include lands outside of existing designated reserves, preserves, or other conservation lands where incidental take has been authorized, as of the date of this rule, for the coastal California gnatcatcher under section 7(a)(2) and 10(a)(1)(B) of the Act because these lands are not essential to the conservation of the species.

(4) Note: Index Map follows:

(5) Unit 1: South San Diego County, California.

(i) From USGS 1:100,000 quadrangle maps San Diego and El Cajon, California, lands within County of San Diego Major Amendment areas excluding the San Diego National Wildlife Refuge Otay-Sweetwater Unit (SDNWR).

Land bounded by the following UTM NAD27 coordinates (E, N): 501000, 3635300; 500800, 3635300; 500800, 3635700; 500700, 3635700; 500700, 3635500; 500600, 3635500; 500600, 3635400; 500400, 3635400; 500400, 3635300; 500300, 3635300; 500300, 3638200; 500400, 3638200; 500400, 3638400; 500500, 3638400; 500500, 3638500; thence west to the MCAS, Miramar (MCASM) boundary at UTM y-coordinate 3638500; thence northeast along MCASM boundary to y-coordinate 3640400; thence east and following coordinates: 502000, 3640400; 502000, 3640100; 502200, 3640100; 502200, 3640200; 502700, 3640200; 502700, 3640300; 503200, 3640300; 503200, 3640400; 503600, 3640400; 503600, 3636300; 503500, 3636300; 503500, 3636400; 502900, 3636400; 502900, 3636600; 502800, 3636600; 502800, 3636800; 502700, 3636800; 502700, 3637200; 502000, 3637200; 502000, 3636200; 501600, 3636200; 501600, 3635600; 501700, 3635600; 501700, 3635200; 501600, 3635200; 501600, 3635100; 501300, 3635100; 501300, 3635000; 501000, 3635000; returning to 501000, 3635300; excluding land bounded by 501000, 3635300; 501100, 3635300; 501100, 3635400; 501000, 3635400; 501000, 3635300.

Land bounded by the following UTM NAD27 coordinates (E, N): 510300, 3638600; 510700, 3638600; 510700, 3637400; 510900, 3637400; 510900, 3637500; 511000, 3637500; 511000, 3637600; 511200, 3637600; 511200, 3637700; 511500, 3637700; 511500, 3637000; 511400, 3637000; 511400, 3636900; 511300, 3636900; 511300, 3636700; 511200, 3636700; 511200, 3636600; 511000, 3636600; 511000, 3636500; 511100, 3636500; 511100, 3636400; 511200, 3636400; 511200, 3636300; 511300, 3636300; 511300, 3636100; 511600, 3636100; 511600, 3636000; 511700, 3636000; 511700, 3635200; 511600, 3635200; 511600, 3635100; 511400, 3635100; 511400, 3635000; 511200, 3635000; 511200, 3634900; 511000, 3634900; 511000, 3634800; 510900, 3634800; 510900, 3634700; 510700, 3634700; 510700, 3634600; 510000, 3634600; 510000, 3634900; 509800, 3634900; 509800, 3635400; 510000, 3635400; 510000, 3637200; 510100, 3637200; 510100, 3638500; 510300, 3638500; returning to 510300, 3638600.

Land bounded by the following UTM NAD27 coordinates (E, N): 505000, 3633600; 505300, 3633600; 505300, 3632800; 505400, 3632800; 505400, 3632700; 505500, 3632700; 505500, 3632500; 505600, 3632500; 505600, 3632400; 505700, 3632400; 505700, 3632000; 505800, 3632000; 505800, 3631900; 505900, 3631900; 505900, 3631500; 505600, 3631500; 505600, 3631600; 505300, 3631600; 505300, 3631700; 505200, 3631700; 505200, 3631800; 505000, 3631800; 505000, 3632200; 504100, 3632200; 504100, 3633500; 504400, 3633500; 504400, 3633400; 504500, 3633400; 504500, 3633500; 504600, 3633500; 504600, 3633400; 504700, 3633400; 504700, 3633300; 505000, 3633300; 505000, 3633400; 505100, 3633400; 505100, 3633500; 505000, 3633500; returning to 505000, 3633600.

Lands bounded by the following UTM NAD27 coordinates (E, N): 498600, 3631900; 498600, 3632000; 498700, 3632000; 498700, 3632200; 499200, 3632200; 499200, 3632500; 499500, 3632500; 499500, 3632400; 499600, 3632400; 499600, 3632200; 499700, 3632200; 499700, 3631500; 499800, 3631500; 499800, 3631400; 499900, 3631400; 499900, 3631300; 500000, 3631300; 500000, 3630800; 499700, 3630800; 499700, 3631100; 499400, 3631100; 499400, 3630800; 499300, 3630800; 499300, 3630500; 499200, 3630500; 499200, 3630600; 499100, 3630600; 499100, 3630700; 498900, 3630700; 498900, 3630800; 498800, 3630800; 498800, 3630900; 498700, 3630900; 498700, 3631000; 498500, 3631000; 498500, 3631100; 498400, 3631100; 498400, 3631200; 498300, 3631200; 498300, 3631300; 498100, 3631300; 498100, 3631400; 498000, 3631400; 498000, 3631500; 497900, 3631500; 497900, 3631600; 497700, 3631600; 497700, 3631700; 497600, 3631700; 497600, 3631800; 497500, 3631800; 497500, 3631900; 497400, 3631900; 497400, 3632000; 497200, 3632000; 497200, 3632100; 497100, 3632100; 497100, 3632200; 497000, 3632200; 497000, 3632500; 497700, 3632500; 497700, 3632300; 497600, 3632300; 497600, 3632100; 497700, 3632100; 497700, 3632000; 497900, 3632000; 497900, 3631900; 498000, 3631900; 498000, 3632000; 498100, 3632000; 498100, 3632100; 498200, 3632100; 498200, 3632300; 498500, 3632300; 498500, 3631900; returning to 498600, 3631900; excluding land bounded by 498600, 3631900; 498600, 3631700; 498700, 3631700; 498700, 3631900; 498600, 3631900; and land bounded by 499200, 3632200; 499200, 3632100; 499300, 3632100; 499300, 3632200; 499200, 3632200.

Land bounded by the following UTM NAD27 coordinates (E, N): 500700, 3630700; 500700, 3630900; 500900, 3630900; 500900, 3631100; 501100, 3631100; 501100, 3630800; 501200, 3630800; 501200, 3630600; 501300, 3630600; 501300, 3630500; 501200, 3630500; 501200, 3630400; 501300, 3630400; 501300, 3629900; 501400, 3629900; 501400, 3629700; 501300, 3629700; 501300, 3629600; 501500, 3629600; 501500, 3629400; 501100, 3629400; 501100, 3629500; 501000, 3629500; 501000, 3629800; 501100, 3629800; 501100, 3630400; 500900, 3630400; 500900, 3630200; 501000, 3630200; 501000, 3629900; 500800, 3629900; 500800, 3629800; 500600, 3629800; 500600, 3630000; 500500, 3630000; 500500, 3629700; 500200, 3629700; 500200, 3630000; 500100, 3630000; 500100, 3630600; 500300, 3630600; 500300, 3630800; 500600, 3630800; 500600, 3630700; returning to 500700, 3630700; excluding land bounded by 500800, 3630600; 500800, 3630500; 500900, 3630500; 500900, 3630600; 500800, 3630600; land bounded by 500500, 3630000; 500500, 3630200; 500400, 3630200; 500400, 3630000; 500500, 3630000; land bounded by; 500700, 3630700; 500700, 3630600; 500800, 3630600; 500800, 3630700; 500700, 3630700; and land bounded by 500300, 3630600; 500300, 3630300; 500400, 3630300; 500400, 3630400; 500600, 3630400; 500600, 3630500; 500500, 3630500; 500500, 3630600; 500300, 3630600.

Land bounded by the following UTM NAD27 coordinates (E, N): 501200, 3629300; 501300, 3629300; 501300, 3629200; 501500, 3629200; 501500, 3628900; 501600, 3628900; 501600, 3628800; 501400, 3628800; 501400, 3628900; 501200, 3628900; returning to 501200, 3629300.

Land bounded by the following UTM NAD27 coordinates (E, N): 501400, 3628600; 501700, 3628600; 501700, 3628500; 501800, 3628500; 501800, 3628400; 501900, 3628400; 501900, 3628200; 501700, 3628200; 501700, 3628000; 501400, 3628000; 501400, 3628300; 501300, 3628300; 501300, 3628500; 501400, 3628500; returning to 501400, 3628600.

Land bounded by the following UTM NAD27 coordinates (E, N): 502200, 3619600; 502400, 3619600; 502400, 3619400; 502300, 3619400; 502300, 3619300; 502200, 3619300; 502200, 3619200; 502100, 3619200; 502100, 3619100; 502000, 3619100; 502000, 3618500; 501900, 3618500; 501900, 3618300; 501800, 3618300; 501800, 3618200; 501700, 3618200; 501700, 3618100; 501600, 3618100; 501600, 3617900; 501500, 3617900; 501500, 3617700; 501400, 3617700; 501400, 3617500; 501300, 3617500; 501300, 3617400; 501000, 3617400; 501000, 3617500; 500600, 3617500; 500600, 3617400; 500200, 3617400; 500200, 3617300; 499900, 3617300; 499900, 3617200; 499800, 3617200; 499800, 3617100; 499600, 3617100; 499600, 3617000; 499400, 3617000; 499400, 3617100; 499200, 3617100; 499200, 3616800; 499100, 3616800; 499100, 3617000; 499000, 3617000; 499000, 3617300; 499100, 3617300; 499100, 3617400; 499600, 3617400; 499600, 3617700; 499900, 3617700; 499900, 3617600; 500000, 3617600; 500000, 3617700; 500100, 3617700; 500100, 3617800; 500200, 3617800; 500200, 3617900; 500300, 3617900; 500300, 3618000; 500400, 3618000; 500400, 3618100; 500500, 3618100; 500500, 3618200; 500700, 3618200; 500700, 3618300; 500800, 3618300; 500800, 3618400; 501000, 3618400; 501000, 3618500; 501100, 3618500; 501100, 3618600; 501300, 3618600; 501300, 3618700; 501500, 3618700; 501500, 3618900; 501600, 3618900; 501600, 3619000; 501700, 3619000; 501700, 3619100; 501800, 3619100; 501800, 3619300; 501900, 3619300; 501900, 3619400; 502100, 3619400; 502100, 3619500; 502200, 3619500; returning to 502200, 3619600.

Land bounded by the following UTM NAD27 coordinates (E, N): 504100, 3618800; 504200, 3618800; 504200, 3618300; 504100, 3618300; 504100, 3617900; 503500, 3617900; 503500, 3618000; 503300, 3618000; 503300, 3617900; 503000, 3617900; 503000, 3618000; 502400, 3618000; 502400, 3617900; 502300, 3617900; 502300, 3617800; 502000, 3617800; 502000, 3618100; 502100, 3618100; 502100, 3618300; 502200, 3618300; 502200, 3618400; 502700, 3618400; 502700, 3618500; 503100, 3618500; 503100, 3618600; 503200, 3618600; 503200, 3618400; 503500, 3618400; 503500, 3618300; 503700, 3618300; 503700, 3618200; 503800, 3618200; 503800, 3618300; 503900, 3618300; 503900, 3618400; 504000, 3618400; 504000, 3618600; 504100, 3618600; returning to 504100, 3618800.

Land bounded by the following UTM NAD27 coordinates (E, N): 504000, 3616300; 504500, 3616300; 504500, 3616200; 504900, 3616200; 504900, 3615400; 505600, 3615400; 505600, 3615800; 506500, 3615800; 506500, 3615500; 506300, 3615500; 506300, 3615300; 506200, 3615300; 506200, 3615200; 506100, 3615200; 506100, 3615100; 505900, 3615100; 505900, 3615300; 505600, 3615300; 505600, 3615100; 505500, 3615100; 505500, 3615000; 505300, 3615000; 505300, 3615100; 505100, 3615100; 505100, 3615200; 505000, 3615200; 505000, 3615100; 504900, 3615100; 504900, 3614100; 504600, 3614100; 504600, 3614600; 504500, 3614600; 504500, 3615600; 504400, 3615600; 504400, 3615800; 504200, 3615800; 504200, 3615600; 504100, 3615600; 504100, 3615100; 504000, 3615100; 504000, 3615000; 503900, 3615000; 503900, 3614900; 503800, 3614900; 503800, 3614800; 503900, 3614800; 503900, 3614600; 503800, 3614600; 503800, 3614400; 503700, 3614400; 503700, 3614200; 503400, 3614200; 503400, 3614000; 503200, 3614000; 503200, 3613600; 502900, 3613600; 502900, 3613800; 502800, 3613800; 502800, 3614000; 502900, 3614000; 502900, 3614100; 503000, 3614100; 503000, 3614200; 502900, 3614200; 502900, 3614500; 503000, 3614500; 503000, 3614800; 503500, 3614800; 503500, 3615300; 503700, 3615300; 503700, 3615400; 503800, 3615400; 503800, 3615500; 504000, 3615500; returning to 504000, 3616300.

Land bounded by the following UTM NAD27 coordinates (E, N): 500100, 3615200; 500300, 3615200; 500300, 3615000; 500400, 3615000; 500400, 3614700; 500500, 3614700; 500500, 3614400; 500600, 3614400; 500600, 3614200; 500700, 3614200; 500700, 3614100; 500800, 3614100; 500800, 3614000; 501000, 3614000; 501000, 3614100; 501100, 3614100; 501100, 3614400; 501000, 3614400; 501000, 3614800; 501200, 3614800; 501200, 3614600; 501500, 3614600; 501500, 3614500; 501400, 3614500; 501400, 3614400; 501500, 3614400; 501500, 3614300; 502000, 3614300; 502000, 3613900; 502100, 3613900; 502100, 3613600; 502000, 3613600; 502000, 3613500; 502100, 3613500; 502100, 3613400; 502200, 3613400; 502200, 3613100; 502000, 3613100; 502000, 3613300; 501700, 3613300; 501700, 3613100; 501500, 3613100; 501500, 3613200; 501300, 3613200; 501300, 3613300; 500900, 3613300; 500900, 3613100; 501000, 3613100; 501000, 3613000; 500700, 3613000; 500700, 3613100; 500500, 3613100; 500500, 3613200; 500400, 3613200; 500400, 3613700; 500300, 3613700; 500300, 3614000; 500200, 3614000; 500200, 3614200; 500100, 3614200; 500100, 3614400; 500000, 3614400; 500000, 3614800; 499900, 3614800; 499900, 3615100; 500100, 3615100; returning to 500100, 3615200.

Land bounded by the following UTM NAD27 coordinates (E, N): 506000, 3614700; 506500, 3614700; 506500, 3614500; 506000, 3614500; 506000, 3614700; ,; 20,; 506000, 3614400; 506200, 3614400; 506200, 3614200; 506100, 3614200; 506100, 3614100; 506300, 3614100; 506300, 3613900; 506100, 3613900; 506100, 3613200; 505900, 3613200; 505900, 3613300; 505500, 3613300; 505500, 3613500; 505600, 3613500; 505600, 3613600; 505700, 3613600; 505700, 3613700; 505600, 3613700; 505600, 3614000; 505700, 3614000; 505700, 3614100; 505900, 3614100; 505900, 3614200; 506000, 3614200; returning to 506000, 3614400.

Land bounded by the following UTM NAD27 coordinates (E, N): 499700, 3614200; 499800, 3614200; 499800, 3613900; 499900, 3613900; 499900, 3613600; 499700, 3613600; 499700, 3613700; 499600, 3613700; 499600, 3613800; 499300, 3613800; 499300, 3613700; 499400, 3613700; 499400, 3613400; 499000, 3613400; 499000, 3613700; 498900, 3613700; 498900, 3613900; 499100, 3613900; 499100, 3614000; 499400, 3614000; 499400, 3614100; 499700, 3614100; returning to 499700, 3614200.

Land bounded by the following UTM NAD27 coordinates (E, N): 498500, 3610800; 498500, 3610600; 499200, 3610600; 499200, 3610700; 499300, 3610700; 499300, 3610800; 499600, 3610800; 499600, 3610700; 499700, 3610700; 499700, 3610600; 499400, 3610600; 499400, 3610500; 499300, 3610500; 499300, 3610400; 499000, 3610400; 499000, 3610300; 498800, 3610300; 498800, 3610400; 498600, 3610400; 498600, 3610300; 498500, 3610300; 498500, 3610200; 498400, 3610200; 498400, 3610300; 498300, 3610300; 498300, 3610200; 498200, 3610200; 498200, 3610100; 497900, 3610100; 497900, 3610400; 497600, 3610400; 497600, 3610500; 497400, 3610500; 497400, 3610600; 496700, 3610600; 496700, 3610800; 496600, 3610800; 496600, 3610700; 496200, 3610700; 496200, 3610800; 496100, 3610800; 496100, 3610700; 495800, 3610700; 495800, 3610600; 495700, 3610600; 495700, 3610700; 495500, 3610700; 495500, 3610800; 495400, 3610800; 495400, 3611000; 496000, 3611000; 496000, 3611300; 496100, 3611300; 496100, 3611400; 496200, 3611400; 496200, 3611500; 496300, 3611500; 496300,

3611600; 496400, 3611600; 496400, 3611800; 496300, 3611800; 496300, 3611900; 496200, 3611900; 496200, 3611800; 495700, 3611800; 495700, 3612000; 495900, 3612000; 495900, 3612100; 496200, 3612100; 496200, 3612200; 496500, 3612200; 496500, 3612400; 496400, 3612400; 496400, 3612600; 496300, 3612600; 496300, 3612700; 496600, 3612700; 496600, 3612800; 497100, 3612800; 497100, 3613000; 497500, 3613000; 497500, 3612900; 497600, 3612900; 497600, 3612800; 498400, 3612800; 498400, 3612700; 498500, 3612700; 498500, 3612900; 498300, 3612900; 498300, 3613000; 498000, 3613000; 498000, 3613100; 497900, 3613100; 497900, 3613200; 498200, 3613200; 498200, 3613300; 498400, 3613300; 498400, 3613200; 498600, 3613200; 498600, 3613000; 498700, 3613000; 498700, 3613100; 499000, 3613100; 499000, 3613000; 499400, 3613000; 499400, 3613100; 499100, 3613100; 499100, 3613300; 499400, 3613300; 499400, 3613200; 499700, 3613200; 499700, 3613300; 499900, 3613300; 499900, 3613200; 499800, 3613200; 499800, 3613100; 500000, 3613100; 500000, 3613000; 500200, 3613000; 500200, 3612900; 500300, 3612900; 500300, 3613000; 500600, 3613000; 500600, 3612900; 500500, 3612900; 500500, 3612800; 500300, 3612800; 500300, 3612700; 500500, 3612700; 500500, 3612600; 500700, 3612600; 500700, 3612500; 501100, 3612500; 501100, 3612600; 501500, 3612600; 501500, 3612400; 501600, 3612400; 501600, 3612300; 501800, 3612300; 501800, 3612100; 501600, 3612100; 501600, 3612200; 500900, 3612200; 500900, 3612100; 500600, 3612100; 500600, 3612200; 500500, 3612200; 500500, 3612300; 500200, 3612300; 500200, 3612500; 500100, 3612500; 500100, 3612400; 500000, 3612400; 500000, 3612200; 499800, 3612200; 499800, 3612000; 499600, 3612000; 499600, 3612300; 498900, 3612300; 498900, 3612200; 498800, 3612200; 498800, 3612100; 498600, 3612100; 498600, 3612200; 498500, 3612200; 498500, 3612300; 498400, 3612300; 498400, 3612500; 498300, 3612500; 498300, 3612400; 498200, 3612400; 498200, 3612500; 497900, 3612500; 497900, 3612400; 497300, 3612400; 497300, 3612500; 496800, 3612500; 496800, 3612400; 497100, 3612400; 497100, 3612300; 497200, 3612300; 497200, 3612000; 497300, 3612000; 497300, 3611900; 496900, 3611900; 496900, 3611800; 496700, 3611800; 496700, 3611600; 496800, 3611600; 496800, 3611500; 496900, 3611500; 496900, 3611700; 497200, 3611700; 497200, 3611800; 497500, 3611800; 497500, 3611900; 497700, 3611900; 497700, 3611800; 497800, 3611800; 497800, 3611700; 497900, 3611700; 497900, 3611800; 498400, 3611800; 498400, 3611900; 498800, 3611900; 498800, 3611800; 499000, 3611800; 499000, 3611700; 499100, 3611700; 499100, 3611600; 499200, 3611600; 499200, 3611800; 499300, 3611800; 499300, 3611900; 499500, 3611900; 499500, 3611600; 499300, 3611600; 499300, 3611400; 499000, 3611400; 499000, 3611500; 498500, 3611500; 498500, 3611400; 498000, 3611400; 498000, 3611300; 497900, 3611300; 497900, 3611200; 498300, 3611200; 498300, 3611300; 498600, 3611300; 498600, 3611200; 498900, 3611200; 498900, 3610900; 498700, 3610900; 498700, 3610800; returning to 498500, 3610800; excluding land bounded by 499000, 3612700; 498900, 3612700; 498900, 3612600; 499000, 3612600; 499000, 3612700; land bounded by 497300, 3612500; 497400, 3612500; 497400, 3612600; 497500, 3612600; 497500, 3612700; 497400, 3612700; 497400, 3612800; 497300, 3612800; 497300, 3612500; land bounded by 496000, 3611000; 496000, 3610900; 496400, 3610900; 496400, 3611000; 496000, 3611000; land bounded by 497100, 3610900; 497100, 3611000; 497000, 3611000; 497000, 3611100; 497200, 3611100; 497200, 3611200; 497400, 3611200; 497400, 3611100; 497500, 3611100; 497500, 3611200; 497700, 3611200; 497700, 3611300; 497600, 3611300; 497600, 3611400; 497300, 3611400; 497300, 3611300; 497000, 3611300; 497000, 3611200; 496900, 3611200; 496900, 3611100; 496800, 3611100; 496800, 3611000; 496900, 3611000; 496900, 3610900; 497100, 3610900; land bounded by 499000, 3612700; 499100, 3612700; 499100, 3612800; 499000, 3612800; 499000, 3612700; land bounded by 498500, 3610800; 498500, 3610900; 498600, 3610900; 498600, 3611000; 497700, 3611000; 497700, 3610900; 497100, 3610900; 497100, 3610800; 497300, 3610800; 497300, 3610700; 497700, 3610700; 497700, 3610600; 498100, 3610600; 498100, 3610500; 498200, 3610500; 498200, 3610800; 498500, 3610800; land bounded by 499500, 3612800; 499500, 3612700; 499600, 3612700; 499600, 3612600; 499700, 3612600; 499700, 3612300; 499800, 3612300; 499800, 3612500; 499900, 3612500; 499900, 3612700; 499800, 3612700; 499800, 3612800; 499500, 3612800; and land bounded by 499300, 3612500; 499300, 3612400; 499600, 3612400; 499600, 3612500; 499300, 3612500.

Land bounded by the following UTM NAD27 coordinates (E, N): 496900, 3610500; 497100, 3610500; 497100, 3610000; 497200, 3610000; 497200, 3609800; 497600, 3609800; 497600, 3610100; 497500, 3610100; 497500, 3610200; 497700, 3610200; 497700, 3610100; 497800, 3610100; 497800, 3610000; 497900, 3610000; 497900, 3609900; 498000, 3609900; 498000, 3610000; 498200, 3610000; 498200, 3609800; 498100, 3609800; 498100, 3609700; 498400, 3609700; 498400, 3609600; 498600, 3609600; 498600, 3609700; 498900, 3609700; 498900, 3609800; 499100, 3609800; 499100, 3609700; 499300, 3609700; 499300, 3609600; 499200, 3609600; 499200, 3609500; 499000, 3609500; 499000, 3609400; 498600, 3609400; 498600, 3609300; 498200, 3609300; 498200, 3609100; 498000, 3609100; 498000, 3609200; 497800, 3609200; 497800, 3609300; 497600, 3609300; 497600, 3609400; 497500, 3609400; 497500, 3609300; 497400, 3609300; 497400, 3609200; 497200, 3609200; 497200, 3609400; 497300, 3609400; 497300, 3609600; 497100, 3609600; 497100, 3609800; 497000, 3609800; 497000, 3609900; 496900, 3609900; 496900, 3610000; 496800, 3610000; 496800, 3610100; 496900, 3610100; returning to 496900, 3610500; excluding land bounded by 497700, 3609700; 497700, 3609600; 497900, 3609600; 497900, 3609500; 498000, 3609500; 498000, 3609700; 497700, 3609700.

Land bounded by the following UTM NAD27 coordinates (E, N): 497000, 3609200; 497200, 3609200; 497200, 3609000; 497100, 3609000; 497100, 3608900; 496900, 3608900; 496900, 3609000; 497000, 3609000; returning to 497000, 3609200.

Land bounded by the following UTM NAD27 coordinates (E, N): 500000, 3610500; 500200, 3610500; 500200, 3610400; 500300, 3610400; 500300, 3610300; 500200, 3610300; 500200, 3610200; 500100, 3610200; 500100, 3610100; 500000, 3610100; 500000, 3610000; 499900, 3610000; 499900, 3609900; 499700, 3609900; 499700, 3609800; 499600, 3609800; 499600, 3609700; 499400, 3609700; 499400, 3609900; 499500, 3609900; 499500, 3610000; 499600, 3610000; 499600, 3610100; 499800, 3610100; 499800, 3610300; 499900, 3610300; 499900, 3610200; 500000, 3610200; returning to 500000, 3610500.

Land bounded by the following UTM NAD27 coordinates (E, N): 497500, 3608400; 497700, 3608400; 497700, 3608100; 497600, 3608100; 497600, 3607900; 497700, 3607900; 497700, 3608000; 498300, 3608000; 498300, 3608200; 498500, 3608200; 498500, 3608100; 498600, 3608100; 498600, 3608200; 498800, 3608200; 498800, 3608100; 499000, 3608100; 499000, 3608000; 498900, 3608000; 498900, 3607900; 499000, 3607900; 499000, 3607800; 498600, 3607800; 498600, 3607600; 498400, 3607600; 498400, 3607500; 498300, 3607500; 498300, 3607400; 497500, 3607400; 497500, 3607700; 497400, 3607700; 497400, 3608100; 497500, 3608100; returning to 497500, 3608400.

Land bounded by the following UTM NAD27 coordinates (E, N): 505300, 3610500; 505500, 3610500; 505500, 3610200; 505600, 3610200; 505600, 3609900; 505700, 3609900; 505700, 3609600; 505800, 3609600; 505800, 3609300; 505900, 3609300; 505900, 3609100; 506000, 3609100; 506000, 3608800; 506100, 3608800; 506100, 3608500; 506200, 3608500; 506200, 3608200; 506300, 3608200; 506300, 3608100; 506100, 3608100; 506100, 3608200; 506000, 3608200; 506000, 3608000; 506100, 3608000; 506100, 3607900; 506000, 3607900; 506000, 3607600; 506100, 3607600; 506100, 3607700; 506400, 3607700; 506400, 3607400; 506600, 3607400; 506600, 3607100; 506700, 3607100; 506700, 3606800; 506800, 3606800; 506800, 3606500; 506500, 3606500; 506500, 3606400; 506300, 3606400; 506300, 3606300; 506000, 3606300; 506000, 3606200; 505700, 3606200; 505700, 3606100; 505400, 3606100; 505400, 3606000; 505100, 3606000; 505100, 3605900; 504800, 3605900; 504800, 3605800; 504500, 3605800; 504500, 3605700; 504200, 3605700; 504200, 3605600; 503900, 3605600; 503900, 3605500; 503600, 3605500; 503600, 3605400; 503400, 3605400; 503400, 3605300; 503100, 3605300; 503100, 3605200; 502800, 3605200; 502800, 3605100; 502500, 3605100; 502500, 3605000; 502200, 3605000; 502200, 3604900; 501900, 3604900; 501900, 3604800; 501600, 3604800; 501600, 3604700; 501300, 3604700; 501300, 3604600; 501000, 3604600; 501000, 3604500; 500700, 3604500; 500700, 3604400; 500500, 3604400; 500500, 3604600; 500400, 3604600; 500400, 3604900; 500300, 3604900; 500300, 3604800; 500000, 3604800; 500000, 3604700; 499900, 3604700; 499900, 3604800; 499400, 3604800; 499400, 3604900; 498700, 3604900; 498700, 3605400; 498900, 3605400; 498900, 3605300; 499000, 3605300; 499000, 3605200; 500700, 3605200; 500700, 3605300; 500500, 3605300; 500500, 3605400; 500300, 3605400; 500300, 3605500; 500200, 3605500; 500200, 3605400; 499900, 3605400; 499900, 3605500; 499700, 3605500; 499700, 3605600; 499600, 3605600; 499600, 3605700; 496600, 3605700; 496600, 3605900; 496900, 3605900; 496900, 3606000; 497600, 3606000; 497600, 3606100; 497800, 3606100; 497800, 3606200; 498000, 3606200; 498000, 3606100; 498500, 3606100; 498500, 3606000; 498600, 3606000; 498600, 3606100; 499800, 3606100; 499800, 3606000; 499900, 3606000; 499900, 3606100; 500100, 3606100; 500100, 3606000; 500200, 3606000; 500200, 3606200; 500400, 3606200; 500400, 3606100; 500500, 3606100; 500500, 3606700; 500600, 3606700; 500600, 3607000; 500400, 3607000; 500400, 3607200; 500300, 3607200; 500300, 3607700; 500600, 3607700; 500600, 3607600; 500800, 3607600; 500800, 3607500; 500900, 3607500; 500900, 3607900; 501000, 3607900; 501000, 3608000; 501100, 3608000; 501100, 3608100; 501200, 3608100; 501200, 3608000; 501300, 3608000; 501300, 3608100; 501500, 3608100; 501500, 3607900; 501300, 3607900; 501300, 3607800; 501200, 3607800; 501200, 3607700; 501300, 3607700; 501300, 3607500; 501200, 3607500; 501200, 3607400; 501400, 3607400; 501400, 3607200; 501500, 3607200; 501500, 3607300; 501700, 3607300; 501700, 3607100; 501600, 3607100; 501600, 3606900; 501500, 3606900; 501500, 3606700; 501300, 3606700; 501300, 3606600; 501100, 3606600; 501100, 3606300; 501000, 3606300; 501000, 3606200; 501400, 3606200; 501400, 3606300; 501800, 3606300; 501800, 3606100; 502100, 3606100; 502100, 3606200; 502200, 3606200; 502200, 3606300; 502500, 3606300; 502500, 3606100; 502600, 3606100; 502600, 3606200; 503000, 3606200; 503000, 3606300; 503300, 3606300; 503300, 3606400; 503500, 3606400; 503500, 3606500; 503600, 3606500; 503600, 3606600; 504100, 3606600; 504100, 3606700; 504200, 3606700; 504200, 3606800; 504300, 3606800; 504300, 3606900; 504600, 3606900; 504600, 3607000; 504900, 3607000; 504900, 3607100; 505000, 3607100; 505000, 3607200; 504900, 3607200; 504900, 3607400; 504800, 3607400; 504800, 3607500; 504700, 3607500; 504700, 3607800; 504800, 3607800; 504800, 3608000; 504900, 3608000; 504900, 3608200; 505000, 3608200; 505000, 3608500; 505200, 3608500; 505200, 3608600; 505100, 3608600; 505100, 3608800; 505000, 3608800; 505000, 3608900; 504900, 3608900; 504900, 3609000; 504800, 3609000; 504800, 3609100; 504900, 3609100; 504900, 3609300; 505000, 3609300; 505000, 3609400; 505100, 3609400; 505100, 3610000; 505000, 3610000; 505000, 3610200; 504900, 3610200; 504900, 3610300; 505000, 3610300; 505000, 3610400; 505300, 3610400; returning to 505300, 3610500; excluding land bounded by 503400, 3606100; 503200, 3606100; 503200, 3606000; 503400, 3606000; 503400, 3606100; land bounded by 503400, 3606100; 503700, 3606100; 503700, 3606200; 503800, 3606200; 503800, 3606300; 503600, 3606300; 503600, 3606200; 503400, 3606200; 503400, 3606100; land bounded by 501300, 3606100; 501300, 3606000; 500800, 3606000; 500800, 3605800; 500700, 3605800; 500700, 3605600; 500900, 3605600; 500900, 3605500; 501400, 3605500; 501400, 3605600; 501500, 3605600; 501500, 3605700; 501600, 3605700; 501600, 3605900; 501500, 3605900; 501500, 3606100; 501300, 3606100; land bounded by 502900, 3606000; 502900, 3605900; 502800, 3605900; 502800, 3605800; 502600, 3605800; 502600, 3605700; 502900, 3605700; 502900, 3605800; 503000, 3605800; 503000, 3605900; 503100, 3605900; 503100, 3606000; 502900, 3606000; and land bounded by 501500, 3605300; 501500, 3605200; 501700, 3605200; 501700, 3605300; 501500, 3605300.

Land within the San Diego National Wildlife Refuge Otay-Sweetwater Unit (SDNWR); excluding Lot 707; land bounded by UTM NAD27 coordinates (E, N) 505200, 3616700, thence north along the following UTM NAD27 coordinates: 505200, 3616800; 505000, 3616800; 505000, 3616900; 504800, 3616900; 504800, 3617000; 504700, 3617000; 504700, 3617300; 504800, 3617300; 504800, 3617500; 504700, 3617500; 504700, 3617700; 504800, 3617700; 504800, 3618000; 504900, 3618000; 504900, 3618200; 505000, 3618200; 505000, 3618500; 505100, 3618500; thence north to the SDNWR boundary at x-coordinate 505100; thence east around SDNWR boundary, passing x-coordinate 505000, to y-coordinate 3616700; returning to the point of beginning; land bounded by UTM NAD27 coordinates (E, N) 508600, 3620500, thence east along the following UTM NAD27 coordinates: 508700, 3620500; 508700, 3620400; 508800, 3620400; 508800, 3620200; 509200, 3620200; 509200, 3620500; 509300, 3620500; 509300, 3620600; 509700, 3620600; 509700, 3621000; 509900, 3621000; 509900, 3620900; 510000, 3620900; 510000, 3620600; 510100, 3620600; 510100, 3620400; thence south around SDNWR boundary, passing UTM y-coordinate 3620000, to UTM x-coordinate 508600; returning to the point of beginning; land bounded by UTM NAD27 coordinates (E, N) 513900, 3624700, thence north along the following UTM NAD27 coordinates: 513900, 3625100; 513800, 3625100; thence north to the SDNWR boundary at x-coordinate 513800; thence east around SDNWR boundary, passing x-coordinate 513750, to y-coordinate 3624700; returning to point of beginning.

(ii) Note: Map of Unit 1 follows.

(6) Unit 2: Upper San Diego River and El Capitan Linkage, San Diego County, California.

(i) From USGS 1,24,000 quadrangle maps Alpine, El Cajon Mountain, Tule Springs, Santa Ysabel, and Ramona, California, land bounded by the following UTM NAD27 coordinates (E, N): 525100, 3657000; 525700, 3657000; 525700, 3656900; 525800, 3656900; 525800, 3656700; 525900, 3656700; 525900, 3656200; 525800, 3656200; 525800, 3655500; 525900, 3655500; 525900, 3655700; 526100, 3655700; 526100, 3655800; 526500, 3655800; 526500, 3655700; 526600, 3655700; 526600, 3655300; 526500, 3655300; 526500, 3655200; 526300, 3655200; 526300, 3655100; 526700, 3655100; 526700, 3655200; 527700, 3655200; 527700, 3655100; 527800, 3655100; 527800, 3653500; 528400, 3653500; 528400, 3653600; 528800, 3653600; 528800, 3653500; 528900, 3653500; 528900, 3653400; 529000, 3653400; 529000, 3652900; 529100, 3652900; 529100, 3651900; 529000, 3651900; 529000, 3651800; 527900, 3651800; 527900, 3651200; 527800, 3651200; 527800, 3650500; 527000, 3650500; 527000, 3650100; 526300, 3650100; 526300, 3650000; 525800, 3650000; 525800, 3649900; 525500, 3649900; 525500, 3649500; 526000, 3649500; 526000, 3649400; 526500, 3649400; 526500, 3649500; 527100, 3649500; 527100, 3649400; 527400, 3649400; 527400, 3649300; 527800, 3649300; 527800, 3648500; 527900, 3648500; 527900, 3648300; 525900, 3648300; 525900, 3648200; thence west to the Capitan Grande Reservation boundary (CGR) at y-coordinate 3648200; thence west along CGR boundary to x-coordinate 521500; thence north and following coordinates: 521500, 3649600; 521600, 3649600; 521600, 3649700; 521700, 3649700; 521700, 3649800; 521800, 3649800; 521800, 3649900; 521900, 3649900; 521900, 3650000; 522000, 3650000; 522000, 3650100; 522200, 3650100; 522200, 3650200; 522300, 3650200; 522300, 3650300; 522400, 3650300; 522400, 3650400; 523000, 3650400; 523000, 3652000; 521300, 3652000; 521300, 3653900; 521500, 3653900; 521500, 3654000; 521800, 3654000; 521800, 3654100; 522100, 3654100; 522100, 3654200; 522400, 3654200; 522400, 3654300; 522500, 3654300; 522500, 3654500; 522600, 3654500; 522600, 3654600; 523200, 3654600; 523200, 3654800; 523300, 3654800; 523300, 3654900; 523400, 3654900; 523400, 3655000; 523800, 3655000; 523800, 3655200; 523900, 3655200; 523900, 3655300; 523800, 3655300; 523800, 3655400; 523700, 3655400; 523700, 3656000; 523800, 3656000; 523800, 3656100; 523900, 3656100; 523900, 3656300; 524000, 3656300; 524000, 3656400; 524300, 3656400; 524300, 3656500; 524400, 3656500; 524400, 3656600; 525000, 3656600; 525000, 3656800; 525100, 3656800; returning to 525100, 3657000.

Land bounded by the following UTM NAD27 coordinates (E, N): 521000, 3639200; 521000, 3639300; 520900, 3639300; 520900, 3640000; 520800, 3640000; 520800, 3640400; 520700, 3640400; 520700, 3640600; 520600, 3640600; 520600, 3641500; 520700, 3641500; 520700, 3641700; 520800, 3641700; 520800, 3642400; 520900, 3642400; 520900, 3643000; 521000, 3643000; 521000, 3643400; 521100, 3643400; 521100, 3643600; 521000, 3643600; 521000, 3643500; 520900, 3643500; 520900, 3643300; 520800, 3643300; 520800, 3643200; 520700, 3643200; 520700, 3642900; 520600, 3642900; 520600, 3641900; 520500, 3641900; 520500, 3641500; 520400, 3641500; 520400, 3640500; 520500, 3640500; 520500, 3640400; 520600, 3640400; 520600, 3640000; 520700, 3640000; 520700, 3639700; 520600, 3639700; 520600, 3639100; 520400, 3639100; 520400, 3639200; 520200, 3639200; 520200, 3639100; 519900, 3639100; 519900, 3639000; 519800, 3639000; 519800, 3638900; 519400, 3638900; 519400, 3638500; 519300, 3638500; 519300, 3638300; 518800, 3638300; 518800, 3638200; 518600, 3638200; 518600, 3638100; 518400, 3638100; 518400, 3638200; 518300, 3638200; 518300, 3638300; 518100, 3638300; 518100, 3638400; 517900, 3638400; 517900, 3638300; 517800, 3638300; 517800, 3638200; 517900, 3638200; 517900, 3638100; 518300, 3638100; 518300, 3638000; 518400, 3638000; 518400, 3637900; 518700, 3637900; 518700, 3637800; 518800, 3637800; 518800, 3637900; 518900, 3637900; 518900, 3638000; 519100, 3638000; 519100, 3637900; 519200, 3637900; thence south to the Multi-Habitat Planning Area boundary (MHPA) at x-coordinate 519200; thence west along MHPA boundary to y-coordinate 3637100; thence west and following coordinates: 517800, 3637100; 517800, 3637200; 517500, 3637200; 517500, 3637300; 517300, 3637300; 517300, 3637400; 516900, 3637400; 516900, 3637500; 516500, 3637500; thence north to the MHPA boundary at x-coordinate 516500; thence north along MHPA boundary to y-coordinate 3639500; thence northeast and following coordinates: 516600, 3639500; 516600, 3639700; 516700, 3639700; 516700, 3639900; 517000, 3639900; 517000, 3640000; 517200, 3640000; 517200, 3640100; 517300, 3640100; 517300, 3640400; 517400, 3640400; 517400, 3640600; 517500, 3640600; 517500, 3640700; 517600, 3640700; 517600, 3640900; 517700, 3640900; 517700, 3641200; 517800, 3641200; 517800, 3641300; 518300, 3641300; 518300, 3641400; 518500, 3641400; 518500, 3641700; 518600, 3641700; 518600, 3641800; 518700, 3641800; 518700, 3641900; 519000, 3641900; 519000, 3642000; 519100, 3642000; 519100, 3642100; 519600, 3642100; 519600, 3642000; thence east to the CGR boundary at y-coordinate 3642000; thence south along CGR boundary to y-coordinate 3638200; thence southwest and following coordinates: 521300, 3638200; 521300, 3638100; 521200, 3638100; 521200, 3638000; 521100, 3638000; 521100, 3637900; 521000, 3637900; 521000, 3637800; 520800, 3637800; 520800, 3637700; 520700, 3637700; 520700, 3637400; 520600, 3637400; 520600, 3637300; 520500, 3637300; 520500, 3637100; ,; ,; 519500, 3637200; 519600, 3637200; 519600, 3637400; 519700, 3637400; 519700, 3637600; 519800, 3637600; 519800, 3638000; 519900, 3638000; 519900, 3638500; 520000, 3638500; 520000, 3638700; 520200, 3638700; 520200, 3638900; 520600, 3638900; 520600, 3639000; 520800, 3639000; 520800, 3639200; returning to 521000, 3639200; excluding land bounded by 521000, 3639200; 521000, 3639100; 521100, 3639100; 521100, 3639200; 521000, 3639200; and land bounded by 521100, 3643600; 521200, 3643600; 521200, 3643800; 521100, 3643800; 521100, 3643600.

(ii) Note: Map of Unit 2 follows.

(7) Unit 3: San Diego County Multiple Habitat Conservation Plan (MHCP), San Diego County, California.

(i) From USGS 1:100,000 quadrangle maps Oceanside, Borrego Valley, and San Diego, California. Beginning at Marine Corps Base Camp Pendleton (MCBCP) boundary at y-coordinate 3682100, land bounded by the following UTM NAD27 coordinates (E, N): 3682100; 472900, 3682100; 472900, 3682200; 473300, 3682200; 473300, 3681900; 473200, 3681900; 473200, 3681700; 473300, 3681700; 473300, 3681500; 473200, 3681500; 473200, 3681400; 472800, 3681400; 472800, 3681600; 473100, 3681600; 473100, 3681900; 473000, 3681900; 473000, 3681800; 472800, 3681800; 472800, 3681700; 472600, 3681700; 472600, 3681800; 472500, 3681800; 472500, 3681700; 472200, 3681700; 472200, 3681800; then west to MCBCP at y-coordinate 3681800; then returning to the point of beginning.

Beginning at MCBCP boundary at y-coordinate 3681400, land bounded by the following UTM NAD27 coordinates (E, N): 3681400; 471700, 3681400; 471700, 3680800; 471600, 3680800; 471600, 3680600; 472000, 3680600; 472000, 3680700; 472100, 3680700; 472100, 3680800; 472200, 3680800; 472200, 3681100; 472300, 3681100; 472300, 3681200; 472600, 3681200; 472600, 3681100; 472500, 3681100; 472500, 3680600; 472200, 3680600; 472200, 3680500; 472100, 3680500; 472100, 3680300; 472000, 3680300; 472000, 3680200; 471900, 3680200; 471900, 3680100; 471800, 3680100; 471800, 3680000; 471600, 3680000; 471600, 3679900; 471500, 3679900; 471500, 3679800; 471300, 3679800; 471300, 3679700; 471100, 3679700; 471100, 3679600; 470800, 3679600; then north to MCBCP; then returning to the point of beginning.

Land bounded by the following UTM NAD27 coordinates (E, N): 476100, 3679600; 477300, 3679600; 477300, 3679500; 477300, 3678700; 477300, 3678600; 477300, 3678400; 477400, 3678400; 477400, 3678300; 477300, 3678300; 477300, 3678200; 476900, 3678200; 476900, 3678800; 476800, 3678800; 476800, 3679200; 476500, 3679200; 476500, 3679300; 476100, 3679300; returning to 476100, 3679600.

Beginning at MCBCP boundary at y-coordinate 3678800, land bounded by the following UTM NAD27 coordinates (E, N): 468900, 3678800; 468900, 3678700; 469000, 3678700; 469000, 3678400; 469200, 3678400; 469200, 3678200; 469000, 3678200; 469000, 3678300; 468800, 3678300; 468800, 3678000; 469200, 3678000; 469200, 3677800; 468700, 3677800; 468700, 3677700; 468500, 3677700; 468500, 3677600; 468400, 3677600; 468400, 3677500; 468300, 3677500; 468300, 3677200; 468200, 3677200; 468200, 3677000; 468100, 3677000; 468100, 3676900; 468000, 3676900; 468000, 3677000; 467900, 3677000; 467900, 3677300; 468000, 3677300; 468000, 3677400; 467700, 3677400; 467700, 3677500; 467600, 3677500; then north to MCBCP; then returning to the point of beginning.

Beginning at MCBCP boundary at y-coordinate 3677400, land bounded by the following UTM NAD27 coordinates (E, N): 467300, 3677400; 467300, 3677300; 467500, 3677300; 467500, 3677100; 467200, 3677100; 467200, 3677000; 467100, 3677000; 467100, 3676800; 467000, 3676800; 467000, 3676700; 467100, 3676700; 467100, 3676200; 467000, 3676200; 467000, 3676000; 466800, 3676000; 466800, 3675800; 467700, 3675800; 467700, 3675900; 467800, 3675900; 467800, 3676400; 468400, 3676400; 468400, 3676100; 468500, 3676100; 468500, 3675800; 468600, 3675800; 468600, 3675600; 468700, 3675600; 468700, 3675300; 468800, 3675300; 468800, 3675400; 468900, 3675400; 468900, 3675600; 468800, 3675600; 468800, 3675700; 468900, 3675700; 468900, 3675800; 469000, 3675800; 469000, 3675900; 469200, 3675900; 469200, 3676000; 469400, 3676000; 469400, 3676100; 469700, 3676100; 469700, 3676200; 469900, 3676200; 469900, 3676300; 470100, 3676300; 470100, 3675900; 469700, 3675900; 469700, 3675700; 470100, 3675700; 470100, 3675500; 469800, 3675500; 469800, 3675300; 469700, 3675300; 469700, 3675200; 469500, 3675200; 469500, 3675500; 469300, 3675500; 469300, 3675800; 469200, 3675800; 469200, 3675000; 469100, 3675000; 469100, 3674600; 468400, 3674600; 468400, 3674400; 468300, 3674400; 468300, 3674300; 468000, 3674300; 468000, 3674400; 467900, 3674400; 467900, 3674500; 467400, 3674500; 467400, 3674700; 467500, 3674700; 467500, 3674800; 467700, 3674800; 467700, 3674700; 468000, 3674700; 468000, 3674600; 468100, 3674600; 468100, 3674800; 468200, 3674800; 468200, 3674900; 468700, 3674900; 468700, 3675000; 468600, 3675000; 468600, 3675300; 468500, 3675300; 468500, 3675500; 468400, 3675500; 468400, 3675800; 468300, 3675800; 468300, 3676100; 468200, 3676100; 468200, 3675900; 468100, 3675900; 468100, 3675800; 468000, 3675800; 468000, 3675700; 467900, 3675700; 467900, 3675600; 467700, 3675600; 467700, 3675500; 467200, 3675500; 467200, 3675600; 467000, 3675600; 467000, 3675500; 466800, 3675500; 466800, 3675400; 466700, 3675400; 466700, 3675300; 466800, 3675300; 466800, 3674900; 466500, 3674900; 466500, 3674800; 466700, 3674800; 466700, 3674700; 466800, 3674700; 466800, 3674600; 467000, 3674600; 467000, 3674400; 467300, 3674400; 467300, 3674200; 466900, 3674200; 466900, 3674300; 466800, 3674300; 466800, 3674400; 466300, 3674400; 466300, 3674500; 466200, 3674500; 466200, 3674400; 466100, 3674400; 466100, 3674500; 466000, 3674500; 466000, 3674300; 465900, 3674300; 465900, 3674400; 465800, 3674400; 465800, 3674700; 465100, 3674700; 465100, 3674600; 465000, 3674600; 465000, 3674500; 464900, 3674500; 464900, 3674400; 465100, 3674400; 465100, 3674100; 465200, 3674100; 465200, 3673500; 465000, 3673500; 465000, 3673600; 464800, 3673600; 464800, 3673700; 464700, 3673700; 464700, 3673800; 464600, 3673800; 464600, 3673900; 464500, 3673900; 464500, 3674000; 464300, 3674000; 464300, 3674400; 464400, 3674400; 464400, 3674500; 464500, 3674500; 464500, 3674600; 464600, 3674600; 464600, 3674700; 464700, 3674700; 464700, 3675000; 464800, 3675000; 464800, 3675100; 464900, 3675100; 464900, 3675200; 465100, 3675200; 465100, 3675100; 465300, 3675100; 465300, 3675200; 465400, 3675200; 465400, 3675400; 465300, 3675400; 465300, 3675600; 465500, 3675600; 465500, 3675700; 465600, 3675700; 465600, 3675800; 465700, 3675800; 465700, 3675900; 465800, 3675900; then north to MCBCP; then northeast along the MCBCP boundary to y-coordinate 3676200; then bounded by 466100, 3676200; 466100, 3676300; 466200, 3676300; 466200, 3676400; 466300, 3676400; 466300, 3676500; 466400, 3676500; 466400, 3676600; 466500, 3676600; 466500, 3676700; 466600, 3676700; then north to MCBCP; then returning to the point of beginning; excluding land bounded by 466100, 3675800; 466100, 3675400; 465900, 3675400; 465900, 3675300; 465800, 3675300; 465800, 3675100; 466200, 3675100; 466200, 3675200; 466300, 3675200; 466300, 3675300; 466200, 3675300; 466200, 3675600; 466300, 3675600; 466300, 3675700; 466200, 3675700; 466200, 3675800; 466100, 3675800.

Land bounded by the following UTM NAD27 coordinates (E, N): 471200, 3676500; 471500, 3676500; 471500, 3676300; 471600, 3676300; 471600, 3675700; 471300, 3675700; 471300, 3675800; 471200, 3675800; 471200, 3676200; 471300, 3676200; 471300, 3676300; 471200, 3676300; returning to 471200, 3676500.

Land bounded by the following UTM NAD27 coordinates (E, N): 471500, 3675100; 471700, 3675100; 471700, 3674800; 471500, 3674800; 471500, 3674700; 471300, 3674700; 471300, 3674600; 471100, 3674600; 471100, 3674500; 470900, 3674500; 470900, 3674400; 470800, 3674400; 470800, 3674600; 470500, 3674600; 470500, 3674500; 470100, 3674500; 470100, 3674300; 470000, 3674300; 470000, 3674200; 469800, 3674200; 469800, 3674100; 469700, 3674100; 469700, 3674000; 469600, 3674000; 469600, 3673600; 470000, 3673600; 470000, 3673700; 470100, 3673700; 470100, 3673800; 470300, 3673800; 470300, 3673600; 470400, 3673600; 470400, 3673700; 470800, 3673700; 470800, 3673800; 470900, 3673800; 470900, 3673900; 471100, 3673900; 471100, 3674000; 471300, 3674000; 471300, 3674300; 471900, 3674300; 471900, 3674100; 471800, 3674100; 471800, 3674000; 471700, 3674000; 471700, 3673900; 471500, 3673900; 471500, 3673800; 472500, 3673800; 472500, 3673300; 472000, 3673300; 472000, 3673400; 471000, 3673400; 471000, 3673300; 470900, 3673300; 470900, 3673100; 470700, 3673100; 470700, 3673000; 470600, 3673000; 470600, 3673100; 470400, 3673100; 470400, 3673000; 470500, 3673000; 470500, 3672800; 470600, 3672800; 470600, 3672400; 470500, 3672400; 470500, 3672300; 470300, 3672300; 470300, 3672400; 470200, 3672400; 470200, 3672600; 470300, 3672600; 470300, 3672700; 470200, 3672700; 470200, 3673000; 469900, 3673000; 469900, 3672900; 469800, 3672900; 469800, 3672800; 469600, 3672800; 469600, 3672700; 469500, 3672700; 469500, 3672600; 469200, 3672600; 469200, 3672800; 468900, 3672800; 468900, 3672300; 468700, 3672300; 468700, 3672400; 468500, 3672400; 468500, 3673000; 468400, 3673000; 468400, 3673100; 468200, 3673100; 468200, 3673200; 468300, 3673200; 468300, 3673300; 469200, 3673300; 469200, 3673400; 469300, 3673400; 469300, 3673500; 469000, 3673500; 469000, 3674300; 469200, 3674300; 469200, 3674400; 469500, 3674400; 469500, 3674500; 469600, 3674500; 469600, 3674600; 469800, 3674600; 469800, 3674700; 470600, 3674700; 470600, 3674800; 470700, 3674800; 470700, 3674900; 471300, 3674900; 471300, 3675000; 471500, 3675000; returning to 471500, 3675100; excluding land bounded by 470800, 3673600; 470800, 3673500; 471100, 3673500; 471100, 3673600; 470800, 3673600; and land bounded by 470000, 3673500; 470000, 3673400; 470600, 3673400; 470600, 3673500; 470000, 3673500.

Land bounded by the following UTM NAD27 coordinates (E, N): 488900, 3674500; 489200, 3674500; 489300, 3674500; 489300, 3674200; 489200, 3674200; 489200, 3674100; 489300, 3674100; 489300, 3673700; 489400, 3673700; 489400, 3673500; 489300, 3673500; 489300, 3673300; 489400, 3673300; 489400, 3672800; 489800, 3672800; 489800, 3672600; 490000, 3672600; 490000, 3672500; 490100, 3672500; 490100, 3673100; 490300, 3673100; 490300, 3673200; 490400, 3673200; 490400, 3673300; 490500, 3673300; 490500, 3674000; 490100, 3674000; 490100, 3674500; 491700, 3674500; 492100, 3674500; 492100, 3674400; 492100, 3674200; 491800, 3674200; 491800, 3674100; 491600, 3674100; 491600, 3674300; 491500, 3674300; 491500, 3674200; 491400, 3674200; 491400, 3674100; 491300, 3674100; 491300, 3673900; 491400, 3673900; 491400, 3673700; 491500, 3673700; 491500, 3673500; 491600, 3673500; 491600, 3673200; 491500, 3673200; 491500, 3673000; 491400, 3673000; 491400, 3672900; 491300, 3672900; 491300, 3672800; 491200, 3672800; 491200, 3672700; 491100, 3672700; 491100, 3672400; 491200, 3672400; 491200, 3672200; 491300, 3672200; 491300, 3671900; 491200, 3671900; 491200, 3671600; 490900, 3671600; 490900, 3671500; 490800, 3671500; 490800, 3671400; 491100, 3671400; 491100, 3670500; 490800, 3670500; 490800, 3670400; 490700, 3670400; 490700, 3670300; 491000, 3670300; 491000, 3670200; 491100, 3670200; 491100, 3670100; 491200, 3670100; 491200, 3669800; 491500, 3669800; 491500, 3669600; 490600, 3669600; 490600, 3669700; 490300, 3669700; 490300, 3669600; 489400, 3669600; 489400, 3669800; 489300, 3669800; 489300, 3670000; 489200, 3670000; 489200, 3670100; 489100, 3670100; 489100, 3670200; 489000, 3670200; 489000, 3671600; 489200, 3671600; 489200, 3671500; 489500, 3671500; 489500, 3671400; 489600, 3671400; 489600, 3671200; 489500, 3671200; 489500, 3671000; 489600, 3671000; 489600, 3670900; 489800, 3670900; 489800, 3670500; 490200, 3670500; 490200, 3670600; 490300, 3670600; 490300, 3670700; 490200, 3670700; 490200, 3671300; 490600, 3671300; 490600, 3671500; 490500, 3671500; 490500, 3671400; 490200, 3671400; 490200, 3671900; 489900, 3671900; 489900, 3672000; 489800, 3672000; 489800, 3672100; 489700, 3672100; 489700, 3672000; 489500, 3672000; 489500, 3672100; 489400, 3672100; 489400, 3672400; 489300, 3672400; 489300, 3672500; 489100, 3672500; 489100, 3672600; 489000, 3672600; 489000, 3673300; 488900, 3673300; returning to 488900, 3674500.

Land bounded by the following UTM NAD27 coordinates (E, N): 465900, 3673000; 466400, 3673000; 466400, 3672700; 466300, 3672700; 466300, 3672500; 466100, 3672500; 466100, 3672600; 466000, 3672600; 466000, 3672700; 465900, 3672700; returning to 465900, 3673000.

Land bounded by the following UTM NAD27 coordinates (E, N): 467200, 3672300; 467200, 3672200; 467000, 3672200; 467000, 3672300; 466900, 3672300; 466900, 3672600; 467100, 3672600; 467100, 3672700; 467300, 3672700; 467300, 3672800; 467400, 3672800; 467400, 3672900; 467500, 3672900; 467500, 3673000; 467800, 3673000; 467800, 3672900; 467700, 3672900; 467700, 3672800; 467600, 3672800; 467600, 3672500; 467400, 3672500; 467400, 3672400; 467300, 3672400; 467300, 3672300; returning to 467200, 3672300; excluding land bounded by 467200, 3672300; 467200, 3672400; 467100, 3672400; 467100, 3672300; 467200, 3672300.

Land bounded by the following UTM NAD27 coordinates (E, N): 491800, 3672800; 492300, 3672800; 492300, 3672700; 492800, 3672700; 492800, 3672600; 492900, 3672600; 492900, 3672500; 493000, 3672500; 493000, 3672100; 493100, 3672100; 493100, 3671800; 493200, 3671800; 493200, 3671400; 493300, 3671400; 493300, 3671300; 493400, 3671300; 493400, 3671200; 493500, 3671200; 493500, 3671100; 493600, 3671100; 493600, 3671000; 493700, 3671000; 493700, 3670900; 493800, 3670900; 493800, 3670700; 494000, 3670700; 494000, 3670500; 494100, 3670500; 494100, 3670400; 494200, 3670400; 494200, 3670300; 494300, 3670300; 494300, 3670200; 494500, 3670200; 494500, 3670100; 494700, 3670100; 494700, 3670200; 494800, 3670200; 494800, 3670300; 494900, 3670300; 494900, 3670600; 494800, 3670600; 494800, 3670900; 494700, 3670900; 494700, 3671000; 494600, 3671000; 494600, 3671300; 495400, 3671300; 495400, 3671200; 495600, 3671200; 495600, 3670900; 495500, 3670900; 495500, 3669700; 496400, 3669700; 496400, 3669600; 496700, 3669600; 496700, 3669200; 496800, 3669200; 496800, 3669300; 496900, 3669300; 496900, 3669400; 497000, 3669400; 497000, 3669600; 497100, 3669600; 497100, 3670000; 497500, 3670000; 497500, 3669900; 497600, 3669900; 497600, 3670100; 497700, 3670100; 497700, 3670300; 497400, 3670300; 497400, 3670200; 497200, 3670200; 497200, 3670100; 497100, 3670100; 497100, 3670200; 497000, 3670200; 497000, 3670700; 496900, 3670700; 496900, 3671300; 497800, 3671300; 497800, 3671200; 498500, 3671200; 498500, 3671000; 498600, 3671000; 498600, 3670200; 498500, 3670200; 498500, 3669800; 498600, 3669800; 498600, 3669500; 498700, 3669500; 498700, 3669100; 498000, 3669100; 498000, 3668700; 497900, 3668700; 497900, 3668100; 497600, 3668100; 497600, 3668200; 497500, 3668200; 497500, 3668800; 497600, 3668800; 497600, 3669100; 497500, 3669100; 497500, 3669300; 497600, 3669300; 497600, 3669500; 497500, 3669500; 497500, 3669400; 497300, 3669400; 497300, 3669300; 497200, 3669300; 497200, 3669200; 497300, 3669200; 497300, 3669000; 497100, 3669000; 497100, 3668900; 497000, 3668900; 497000, 3668700; 497100, 3668700; 497100, 3668400; 497200, 3668400; 497200, 3668300; 496500, 3668300; 496500, 3668100; 496600, 3668100; 496600, 3667900; 496200, 3667900; 496200, 3668000; 496100, 3668000; 496100, 3668100; 496000, 3668100; 496000, 3668300; 495700, 3668300; 495700, 3668100; 495500, 3668100; 495500, 3668300; 495400, 3668300; 495400, 3668400; 495300, 3668400; 495300, 3668500; 495200, 3668500; 495200, 3668700; 495100, 3668700; 495100, 3668600; 494900, 3668600; 494900, 3668700; 494800, 3668700; 494800, 3668900; 494900, 3668900; 494900, 3669200; 495100, 3669200; 495100, 3669600; 494200, 3669600; 494200, 3669800; 494000, 3669800; 494000, 3670000; 492800, 3670000; 492800, 3671500; 492600, 3671500; 492600, 3671400; 492500, 3671400; 492500, 3671600; 492300, 3671600; 492300, 3671100; 492200, 3671100; 492200, 3671000; 491900, 3671000; 491900, 3671100; 491800, 3671100; 491800, 3672000; 492100, 3672000; 492100, 3672200; 492000, 3672200; 492000, 3672100; 491700, 3672100; 491700, 3672200; 491600, 3672200; 491600, 3672400; 491700, 3672400; 491700, 3672500; 491800, 3672500; returning to 491800, 3672800; excluding land bounded by 495300, 3670900; 495000, 3670900; 495000, 3670700; 495100, 3670700; 495100, 3670600; 495300, 3670600; 495300, 3670900; and land bounded by 495300, 3670900; 495400, 3670900; 495400, 3671100; 495300, 3671100; 495300, 3670900.

Land bounded by the following UTM NAD27 coordinates (E, N): 469500, 3672600; 469700, 3672600; 469700, 3672000; 469800, 3672000; 469800, 3671500; 469900, 3671500; 469900, 3671400; 469500, 3671400; 469500, 3671800; 469400, 3671800; 469400, 3672100; 469500, 3672100; returning to 469500, 3672600.

Land bounded by the following UTM NAD27 coordinates (E, N): 475000, 3672600; 475300, 3672600; 475300, 3672500; 475200, 3672500; 475200, 3672400; 475100, 3672400; 475100, 3672300; 475000, 3672300; 475000, 3672200; 474900, 3672200; 474900, 3672100; 474700, 3672100; 474700, 3672000; 474600, 3672000; 474600, 3671800; 474200, 3671800; 474200, 3671700; 474100, 3671700; 474100, 3671600; 474000, 3671600; 474000, 3671400; 473900, 3671400; 473900, 3671300; 473600, 3671300; 473600, 3671400; 473700, 3671400; 473700, 3671500; 473800, 3671500; 473800, 3671600; 473900, 3671600; 473900, 3671800; 474100, 3671800; 474100, 3671900; 474400, 3671900; 474400, 3672000; 474500, 3672000; 474500, 3672100; 474600, 3672100; 474600, 3672400; 474800, 3672400; 474800, 3672500; 475000, 3672500; returning to 475000, 3672600.

Land bounded by the following UTM NAD27 coordinates (E, N): 475300, 3653100; 475400, 3653100; 475400, 3653200; 475600, 3653200; 475600, 3653500; 475700, 3653500; 475700, 3653800; 475600, 3653800; 475600, 3655100; 475900, 3655100; 475900, 3654600; 476100, 3654600; 476100, 3654800; 476400, 3654800; 476400, 3654500; 476600, 3654500; 476600, 3655200; 477000, 3655200; 477000, 3655100; 477600, 3655100; 477600, 3654900; 477500, 3654900; 477500, 3654600; 477600, 3654600; 477600, 3654800; 477700, 3654800; 477700, 3654900; 477800, 3654900; 477800, 3655000; 478000, 3655000; 478000, 3655200; 478200, 3655200; 478200, 3655400; 478300, 3655400; 478300, 3655500; 478400, 3655500; 478400, 3655700; 478500, 3655700; 478500, 3655900; 478600, 3655900; 478600, 3656300; 478700, 3656300; 478700, 3656600; 478800, 3656600; 478800, 3656700; 478900, 3656700; 478900, 3656900; 478700, 3656900; 478700, 3657100; 479000, 3657100; 479000, 3657200; 479400, 3657200; 479400, 3657100; 479500, 3657100; 479500, 3657200; 479600, 3657200; 479600, 3657100; 479800, 3657100; 479800, 3657200; 479900, 3657200; 479900, 3657300; 479800, 3657300; 479800, 3657900; 479900, 3657900; 479900, 3658100; 479700, 3658100; 479700, 3658700; 479800, 3658700; 479800, 3658800; 479900, 3658800; 479900, 3659400; 479800, 3659400; 479800, 3659500; 479500, 3659500; 479500, 3659300; 479400, 3659300; 479400, 3659200; 479300, 3659200; 479300, 3659100; 479000, 3659100; 479000, 3658800; 478700, 3658800; 478700, 3658700; 478500, 3658700; 478500, 3658600; 478900, 3658600; 478900, 3658400; 479400, 3658400; 479400, 3658300; 479300, 3658300; 479300, 3657900; 479000, 3657900; 479000, 3657800; 478600, 3657800; 478600, 3658000; 478500, 3658000; 478500, 3657900; 478300, 3657900; 478300, 3658000; 478100, 3658000; 478100, 3658100; 478200, 3658100; 478200, 3658200; 478300, 3658200; 478300, 3658500; 478200, 3658500; 478200, 3658400; 477700, 3658400; 477700, 3658300; 477500, 3658300; 477500, 3658200; 477400, 3658200; 477400, 3658000; 477300, 3658000; 477300, 3657900; 477400, 3657900; 477400, 3657800; 477200, 3657800; 477200, 3658000; 477100, 3658000; 477100, 3658100; 476900, 3658100; 476900, 3658000; 476500, 3658000; 476500, 3657900; 476200, 3657900; 476200, 3657700; 476300, 3657700; 476300, 3657400; 476400, 3657400; 476400, 3657100; 476300, 3657100; 476300, 3657200; 476200, 3657200; 476200, 3657400; 476100, 3657400; 476100, 3657700; 476000, 3657700; 476000, 3658000; 475900, 3658000; 475900, 3657900; 475700, 3657900; 475700, 3657800; 475600, 3657800; 475600, 3657600; 475400, 3657600; 475400, 3658100; 475500, 3658100; 475500, 3658600; 475400, 3658600; 475400, 3658800; 475200, 3658800; 475200, 3659100; 475300, 3659100; 475300, 3659200; 475400, 3659200; 475400, 3659400; 475300, 3659400; 475300, 3659500; 475200, 3659500; 475200, 3659700; 475100, 3659700; 475100, 3660100; 475000, 3660100; 475000, 3660300; 474900, 3660300; 474900, 3660000; 475000, 3660000; 475000, 3659500; 475100, 3659500; 475100, 3659400; 475200, 3659400; 475200, 3659200; 475100, 3659200; 475100, 3658600; 475200, 3658600; 475200, 3657900; 475100, 3657900; 475100, 3657800; 475200, 3657800; 475200, 3657600; 475100, 3657600; 475100, 3657500; 475000, 3657500; 475000, 3657400; 475100, 3657400; 475100, 3657000; 475400, 3657000; 475400, 3656900; 475500, 3656900; 475500, 3656800; 475600, 3656800; 475600, 3656700; 475200, 3656700; 475200, 3656400; 475100, 3656400; 475100, 3656800; 475000, 3656800; 475000, 3657100; 474900, 3657100; 474900, 3657400; 474800, 3657400; 474800, 3657800; 474700, 3657800; 474700, 3658300; 474800, 3658300; 474800, 3658400; 474700, 3658400; 474700, 3658500; 474600, 3658500; 474600, 3658600; 474400, 3658600; 474400, 3658800; 474500, 3658800; 474500, 3659200; 474200,

3659200; 474200, 3659100; 474300, 3659100; 474300, 3658700; 473800, 3658700; 473800, 3658800; 473700, 3658800; 473700, 3658700; 473600, 3658700; 473600, 3658800; 473400, 3658800; 473400, 3659500; 473300, 3659500; 473300, 3659800; 473200, 3659800; 473200, 3660000; 473100, 3660000; 473100, 3660400; 472900, 3660400; 472900, 3660200; 472700, 3660200; 472700, 3660000; 472600, 3660000; 472600, 3659900; 472700, 3659900; 472700, 3659800; 472800, 3659800; 472800, 3659500; 472500, 3659500; 472500, 3659800; 472400, 3659800; 472400, 3659700; 472200, 3659700; 472200, 3659800; 472100, 3659800; 472100, 3660300; 472400, 3660300; 472400, 3660600; 472500, 3660600; 472500, 3660700; 472700, 3660700; 472700, 3660800; 473600, 3660800; 473600, 3660900; 474300, 3660900; 474300, 3660800; 474400, 3660800; 474400, 3660700; 474600, 3660700; 474600, 3660600; 475100, 3660600; 475100, 3660400; 475200, 3660400; 475200, 3660200; 475300, 3660200; 475300, 3659900; 475500, 3659900; 475500, 3660000; 475700, 3660000; 475700, 3660100; 476000, 3660100; 476000, 3660000; 475900, 3660000; 475900, 3659900; 475700, 3659900; 475700, 3659800; 475600, 3659800; 475600, 3659600; 475700, 3659600; 475700, 3659400; 475800, 3659400; 475800, 3659600; 476200, 3659600; 476200, 3659700; 476300, 3659700; 476300, 3659900; 476400, 3659900; 476400, 3660000; 476300, 3660000; 476300, 3660200; 476400, 3660200; 476400, 3660300; 476600, 3660300; 476600, 3660200; 476700, 3660200; 476700, 3660100; 476600, 3660100; 476600, 3659800; 476500, 3659800; 476500, 3659700; 476600, 3659700; 476600, 3659500; 476300, 3659500; 476300, 3659400; 476100, 3659400; 476100, 3659300; 476200, 3659300; 476200, 3659100; 475900, 3659100; 475900, 3659000; 475800, 3659000; 475800, 3658800; 475900, 3658800; 475900, 3658600; 476000, 3658600; 476000, 3658500; 476300, 3658500; 476300, 3658400; 476500, 3658400; 476500, 3658500; 476600, 3658500; 476600, 3658600; 476700, 3658600; 476700, 3658500; 477600, 3658500; 477600, 3658600; 477700, 3658600; 477700, 3658700; 478000, 3658700; 478000, 3658800; 478300, 3658800; 478300, 3659000; 478200, 3659000; 478200, 3659100; 478400, 3659100; 478400, 3659000; 478500, 3659000; 478500, 3659100; 478700, 3659100; 478700, 3659200; 478900, 3659200; 478900, 3659300; 478600, 3659300; 478600, 3659400; 478500, 3659400; 478500, 3659500; 478700, 3659500; 478700, 3659600; 479000, 3659600; 479000, 3659500; 479100, 3659500; 479100, 3659600; 479400, 3659600; 479400, 3659700; 479500, 3659700; 479500, 3660000; 479400, 3660000; 479400, 3660100; 479500, 3660100; 479500, 3660200; 479400, 3660200; 479400, 3660300; 479300, 3660300; 479300, 3659900; 479200, 3659900; 479200, 3659800; 479100, 3659800; 479100, 3659700; 479000, 3659700; 479000, 3659800; 478900, 3659800; 478900, 3660000; 478800, 3660000; 478800, 3659900; 478600, 3659900; 478600, 3660000; 478500, 3660000; 478500, 3660100; 478600, 3660100; 478600, 3660200; 478800, 3660200; 478800, 3660100; 478900, 3660100; 478900, 3660200; 479000, 3660200; 479000, 3660300; 479200, 3660300; 479200, 3660400; 478900, 3660400; 478900, 3660300; 478800, 3660300; 478800, 3660600; 479100, 3660600; 479100, 3660500; 479400, 3660500; 479400, 3660400; 479700,

3660400; 479700, 3660500; 479800, 3660500; 479800, 3661600; 479400, 3661600; 479400, 3661900; 479700, 3661900; 479700, 3661800; 479900, 3661800; 479900, 3661700; 480500, 3661700; 480500, 3661800; 480400, 3661800; 480400, 3661900; 480300, 3661900; 480300, 3662000; 480200, 3662000; 480200, 3662100; 480000, 3662100; 480000, 3662300; 479800, 3662300; 479800, 3662200; 479500, 3662200; 479500, 3662300; 479400, 3662300; 479400, 3662400; 479200, 3662400; 479200, 3662600; 479100, 3662600; 479100, 3662700; 479500, 3662700; 479500, 3662600; 479600, 3662600; 479600, 3662500; 479700, 3662500; 479700, 3662400; 479800, 3662400; 479800, 3662500; 479900, 3662500; 479900, 3662600; 480000, 3662600; 480000, 3662700; 479900, 3662700; 479900, 3662800; 479800, 3662800; 479800, 3663000; 479900, 3663000; 479900, 3663100; 479400, 3663100; 479400, 3663200; 479100, 3663200; 479100, 3663300; 479000, 3663300; 479000, 3663500; 478900, 3663500; 478900, 3664000; 479000, 3664000; 479000, 3664100; 478800, 3664100; 478800, 3664000; 478600, 3664000; 478600, 3664200; 478500, 3664200; 478500, 3664300; 478400, 3664300; 478400, 3664400; 478300, 3664400; 478300, 3664300; 478200, 3664300; 478200, 3664000; 478300, 3664000; 478300, 3664100; 478500, 3664100; 478500, 3663900; 478700, 3663900; 478700, 3663600; 478600, 3663600; 478600, 3663700; 478500, 3663700; 478500, 3663800; 478300, 3663800; 478300, 3663600; 478100, 3663600; 478100, 3663800; 478000, 3663800; 478000, 3663700; 477700, 3663700; 477700, 3663800; 477400, 3663800; 477400, 3663600; 477500, 3663600; 477500, 3663500; 477600, 3663500; 477600, 3663400; 477000, 3663400; 477000, 3663500; 476900, 3663500; 476900, 3663600; 476600, 3663600; 476600, 3663500; 476400, 3663500; 476400, 3663600; 476200, 3663600; 476200, 3663700; 476000, 3663700; 476000, 3663600; 475900, 3663600; 475900, 3663700; 475800, 3663700; 475800, 3663800; 475700, 3663800; 475700, 3663900; 475600, 3663900; 475600, 3664400; 475800, 3664400; 475800, 3664100; 475900, 3664100; 475900, 3664200; 476100, 3664200; 476100, 3664100; 476000, 3664100; 476000, 3664000; 475900, 3664000; 475900, 3663900; 476100, 3663900; 476100, 3664000; 476300, 3664000; 476300, 3664100; 476400, 3664100; 476400, 3664200; 476800, 3664200; 476800, 3664300; 476700, 3664300; 476700, 3664400; 476400, 3664400; 476400, 3664700; 476500, 3664700; 476500, 3664900; 476400, 3664900; 476400, 3665100; 476600, 3665100; 476600, 3665200; 476500, 3665200; 476500, 3665300; 476600, 3665300; 476600, 3665400; 476900, 3665400; 476900, 3665300; 477000, 3665300; 477000, 3665400; 477100, 3665400; 477100, 3665600; 477200, 3665600; 477200, 3665400; 477300, 3665400; 477300, 3665100; 477400, 3665100; 477400, 3664900; 477300, 3664900; 477300, 3665000; 477200, 3665000; 477200, 3664700; 477500, 3664700; 477500, 3664900; 477700, 3664900; 477700, 3665200; 477900, 3665200; 477900, 3664800; 477800, 3664800; 477800, 3664700; 477700, 3664700; 477700, 3664500; 477900, 3664500; 477900, 3664600; 478000, 3664600; 478000, 3664800; 478100, 3664800; 478100, 3665100; 478300, 3665100; 478300, 3665200; 478400, 3665200; 478400, 3665500; 478300, 3665500; 478300, 3665600; 478400, 3665600; 478400, 3665700; 478300, 3665700; 478300, 3665900; 477400, 3665900; 477400, 3665800; 477100, 3665800; 477100, 3665900; 477000, 3665900; 477000, 3666000; 476900, 3666000; 476900, 3666100; 476600, 3666100; 476600, 3665800; 476400, 3665800; 476400, 3665900; 476300, 3665900; 476300, 3666000; 476100, 3666000; 476100, 3666100; 475800, 3666100; 475800, 3666000; 475600, 3666000; 475600, 3666100; 475500, 3666100; 475500, 3666200; 475400, 3666200; 475400, 3666400; 475300, 3666400; 475300, 3666600; 474800, 3666600; 474800, 3666500; 474600, 3666500; 474600, 3666800; 474400, 3666800; 474400, 3666600; 474500, 3666600; 474500, 3666400; 474400, 3666400; 474400, 3666300; 474200, 3666300; 474200, 3666200; 474000, 3666200; 474000, 3666300; 473900, 3666300; 473900, 3666900; 474200, 3666900; 474200, 3667100; 474000, 3667100; 474000, 3667200; 473900, 3667200; 473900, 3667400; 474400, 3667400; 474400, 3667300; 474500, 3667300; 474500, 3667200; 474600, 3667200; 474600, 3667000; 474800, 3667000; 474800, 3667200; 474900, 3667200; 474900, 3667400; 474700, 3667400; 474700, 3667300; 474600, 3667300; 474600, 3667400; 474500, 3667400; 474500, 3667600; 474400, 3667600; 474400, 3667800; 474300, 3667800; 474300, 3667900; 474200, 3667900; 474200, 3668100; 474100, 3668100; 474100, 3667900; 473800, 3667900; 473800, 3668000; 473700, 3668000; 473700, 3668100; 473500, 3668100; 473500, 3668300; 473600, 3668300; 473600, 3668400; 473500, 3668400; 473500, 3668500; 473600, 3668500; 473600, 3668600; 473700, 3668600; 473700, 3668700; 473600, 3668700; 473600, 3668900; 473500, 3668900; 473500, 3669000; 473400, 3669000; 473400, 3668900; 473300, 3668900; 473300, 3669000; 473200, 3669000; 473200, 3668400; 472800, 3668400; 472800, 3668200; 472700, 3668200; 472700, 3668000; 472600, 3668000; 472600, 3667800; 472500, 3667800; 472500, 3667700; 472600, 3667700; 472600, 3667600; 472800, 3667600; 472800, 3667500; 473000, 3667500; 473000, 3667300; 472800, 3667300; 472800, 3667000; 473000, 3667000; 473000, 3666700;

472800, 3666700; 472800, 3666800; 472700, 3666800; 472700, 3666600; 472900, 3666600; 472900, 3666200; 473100, 3666200; 473100, 3665900; 472800, 3665900; 472800, 3665800; 472900, 3665800; 472900, 3665700; 473200, 3665700; 473200, 3665600; 473400, 3665600; 473400, 3665500; 473500, 3665500; 473500, 3665200; 473100, 3665200; 473100, 3665100; 472800, 3665100; 472800, 3665000; 472700, 3665000; 472700, 3664800; 472800, 3664800; 472800, 3664900; 473100, 3664900; 473100, 3664700; 473000, 3664700; 473000, 3664600; 472800, 3664600; 472800, 3664500; 472900, 3664500; 472900, 3664400; 473200, 3664400; 473200, 3664300; 473300, 3664300; 473300, 3664400; 473500, 3664400; 473500, 3664300; 473700, 3664300; 473700, 3664200; 474000, 3664200; 474000, 3664100; 474500, 3664100; 474500, 3663800; 474600, 3663800; 474600, 3663700; 474700, 3663700; 474700, 3663500; 474800, 3663500; 474800, 3663400; 474900, 3663400; 474900, 3663300; 475000, 3663300; 475000, 3663100; 475100, 3663100; 475100, 3663000; 475200, 3663000; 475200, 3662700; 475000, 3662700; 475000, 3662800; 474900, 3662800; 474900, 3662900; 474800, 3662900; 474800, 3663200; 474500, 3663200; 474500, 3663100; 474600, 3663100; 474600, 3663000; 474700, 3663000; 474700, 3662600; 474800, 3662600; 474800, 3662400; 474700, 3662400; 474700, 3662200; 474500, 3662200; 474500, 3661900; 474700, 3661900; 474700, 3661700; 475100, 3661700; 475100, 3661400; 475000, 3661400; 475000, 3661300; 474800, 3661300; 474800, 3661400; 474600, 3661400; 474600, 3661500; 474500, 3661500; 474500, 3661600; 474400, 3661600; 474400, 3661800; 474200, 3661800; 474200, 3661900; 474100, 3661900; 474100, 3662100; 474000, 3662100; 474000, 3661800; 473900, 3661800; 473900, 3661700; 473800, 3661700; 473800, 3661600; 473700, 3661600; 473700, 3661900; 473800, 3661900; 473800, 3662000; 473500, 3662000; 473500, 3662100; 473400, 3662100; 473400, 3661700; 473200, 3661700; 473200, 3661600; 473100, 3661600; 473100, 3661700; 473000, 3661700; 473000, 3661500; 472500, 3661500; 472500, 3661400; 471800, 3661400; 471800, 3661500; 471700, 3661500; 471700, 3661600; 471600, 3661600; 471600, 3661700; 471700, 3661700; 471700, 3661900; 471600, 3661900; 471600, 3662300; 471500, 3662300; 471500, 3662800; 471400, 3662800; 471400, 3662900; 471700, 3662900; 471700, 3662700; 471600, 3662700; 471600, 3662600; 471700, 3662600; 471700, 3662200; 471800, 3662200; 471800, 3661900; 471900, 3661900; 471900, 3662000; 472200, 3662000; 472200, 3661900; 472100, 3661900; 472100, 3661800; 472200, 3661800; 472200, 3661600; 472300, 3661600; 472300, 3661700; 472400, 3661700; 472400, 3662000; 472500, 3662000; 472500, 3662100; 472600, 3662100; 472600, 3662200; 472500, 3662200; 472500, 3662400; 472600, 3662400; 472600, 3662800; 472500, 3662800; 472500, 3662600; 472400, 3662600; 472400, 3663300; 472600, 3663300; 472600, 3663500; 472400, 3663500; 472400, 3663600; 472300, 3663600; 472300, 3663800; 472500, 3663800; 472500, 3663900;

472400, 3663900; 472400,

3664000; 472200, 3664000; 472200, 3664300; 472100, 3664300; 472100, 3664500; 472000, 3664500; 472000, 3664700; 471800, 3664700; 471800, 3664300; 471700, 3664300; 471700, 3664400; 471600, 3664400; 471600, 3664200; 471800, 3664200; 471800, 3664100; 471900, 3664100; 471900, 3663900; 471600, 3663900; 471600, 3664000; 471500, 3664000; 471500, 3664100; 471400, 3664100; 471400, 3664000; 471300, 3664000; 471300, 3663500; 471200, 3663500; 471200, 3663700; 471100, 3663700; 471100, 3663900; 471000, 3663900; 471000, 3664300; 470800, 3664300; 470800, 3664200; 470600, 3664200; 470600, 3664100; 470300, 3664100; 470300, 3664300; 470400, 3664300; 470400, 3664400; 470600, 3664400; 470600, 3664500; 470700, 3664500; 470700, 3664600; 471000, 3664600; 471000, 3664700; 471600, 3664700; 471600, 3664800; 472200, 3664800; 472200, 3664900; 472300, 3664900; 472300, 3665000; 472400, 3665000; 472400, 3665100; 472100, 3665100; 472100, 3665000; 472000, 3665000; 472000, 3664900; 471600, 3664900; 471600, 3665000; 471800, 3665000; 471800, 3665100; 471900, 3665100; 471900, 3665200; 472000, 3665200; 472000, 3665300; 471600, 3665300; 471600, 3665400; 471500, 3665400; 471500, 3665500; 471300, 3665500; 471300, 3665700; 471100, 3665700; 471100, 3665900; 471000, 3665900; 471000, 3666000; 470800, 3666000; 470800, 3666300; 470600, 3666300; 470600, 3666400; 470400, 3666400; 470400, 3666600; 470500, 3666600; 470500, 3666700; 470300, 3666700; 470300, 3666800; 470100, 3666800; 470100, 3667000; 470300, 3667000; 470300, 3667100; 470400, 3667100; 470400, 3667000; 470700, 3667000; 470700, 3667100; 470900, 3667100; 470900, 3667400; 471300, 3667400; 471300, 3667500; 471500, 3667500; 471500, 3667600; 471900, 3667600; 471900, 3667700; 472000, 3667700; 472000, 3668100; 471900, 3668100; 471900, 3668500; 471700, 3668500; 471700, 3668400; 471600, 3668400; 471600, 3668300; 471400, 3668300; 471400, 3668200; 471200, 3668200; 471200, 3668400; 471300, 3668400; 471300, 3668700; 471500, 3668700; 471500, 3668800; 471600, 3668800; 471600, 3669400; 471700, 3669400; 471700, 3669300; 471900, 3669300; 471900, 3669400; 472000, 3669400; 472000, 3669500; 472100, 3669500; 472100, 3669400; 472300, 3669400; 472300, 3669300; 472500, 3669300; 472500, 3669200; 472700, 3669200; 472700, 3669500; 472600, 3669500; 472600, 3669700; 472000, 3669700; 472000, 3669800; 471900, 3669800; 471900, 3669700; 471700, 3669700; 471700, 3669600; 471500, 3669600; 471500, 3669700; 471400, 3669700; 471400, 3669900; 471300, 3669900; 471300, 3670100; 471200, 3670100; 471200, 3670300; 470800, 3670300; 470800, 3670000; 471000, 3670000; 471000, 3669900; 471100, 3669900; 471100, 3669800; 470800, 3669800; 470800, 3669500; 470600, 3669500; 470600, 3670000; 470300, 3670000; 470300, 3670200; 470400, 3670200; 470400, 3670300; 470500, 3670300; 470500, 3670400; 470400, 3670400; 470400, 3670500; 470300, 3670500; 470300, 3670600; 470200, 3670600; 470200, 3670800; 470100, 3670800; 470100, 3670900; 470000, 3670900; 470000, 3670800; 469800, 3670800; 469800, 3671300; 470000, 3671300; 470000, 3671100; 470200, 3671100; 470200, 3671300; 470400, 3671300; 470400, 3671200; 470800, 3671200; 470800, 3671100; 471600, 3671100; 471600, 3671200; 471700, 3671200; 471700, 3671300; 472200, 3671300; 472200, 3671200; 473000, 3671200; 473000, 3671300; 473300, 3671300; 473300, 3671100; 473000, 3671100; 473000, 3671000; 472500, 3671000; 472500, 3671100; 472400, 3671100; 472400, 3671000; 472100, 3671000; 472100, 3671100; 471800, 3671100; 471800, 3670900; 472200, 3670900; 472200, 3670600; 472100, 3670600; 472100, 3670500; 472200, 3670500; 472200, 3670400; 472400, 3670400; 472400, 3670500; 472700, 3670500; 472700, 3670700; 472800, 3670700; 472800, 3670600; 472900, 3670600; 472900, 3670300; 472800, 3670300; 472800,

3670000; 472900, 3670000; 472900, 3669800; 473000, 3669800; 473000, 3670000; 473100, 3670000; 473100, 3670100; 473200, 3670100; 473200, 3670300; 473400, 3670300; 473400, 3670400; 473500, 3670400; 473500, 3670500; 473600, 3670500; 473600, 3670400; 473800, 3670400; 473800, 3670500; 474000, 3670500; 474000, 3670700; 474400, 3670700; 474400, 3670800; 475100, 3670800; 475100, 3670700; 475200, 3670700; 475200, 3670600; 475300, 3670600; 475300, 3670500; 475500, 3670500; 475500, 3670300; 474900, 3670300; 474900, 3668100; 475800, 3668100; 475800, 3668000; 475900, 3668000; 475900, 3667800; 476000, 3667800; 476000, 3667900; 476100, 3667900; 476100, 3668000; 476200, 3668000; 476200, 3668100; 476300, 3668100; 476300, 3668500; 476500, 3668500; 476500, 3668400; 476800, 3668400; 476800, 3668600; 477100, 3668600; 477100, 3668800; 477200, 3668800; 477200, 3668900; 477300, 3668900; 477300, 3668500; 477400, 3668500; 477400, 3668300; 477800, 3668300; 477800, 3668400; 478200, 3668400; 478200, 3668500; 478300, 3668500; 478300, 3668600; 478200, 3668600; 478200, 3668800; 478300, 3668800; 478300, 3669000; 478400, 3669000; 478400, 3669100; 478700, 3669100; 478700, 3669000; 478900, 3669000; 478900, 3668900; 479000, 3668900; 479000, 3668400; 478900, 3668400; 478900, 3668000; 477900, 3668000; 477900, 3667800; 477700, 3667800; 477700, 3667900; 477600, 3667900; 477600, 3668000; 477500, 3668000; 477500, 3667800; 477200, 3667800; 477200, 3667500; 477300, 3667500; 477300, 3667100; 477200, 3667100; 477200, 3667000; 477100, 3667000; 477100, 3666900; 477200, 3666900; 477200, 3666200; 477700, 3666200; 477700, 3666400; 477800, 3666400; 477800, 3666500; 477900, 3666500; 477900, 3666600; 478000, 3666600; 478000, 3666700; 478100, 3666700; 478100, 3666800; 478300, 3666800; 478300, 3666900; 478500, 3666900; 478500, 3666600; 478300, 3666600; 478300, 3666100; 478400, 3666100; 478400, 3666000; 478500, 3666000; 478500, 3665800; 478600, 3665800; 478600, 3665700; 478700, 3665700; 478700, 3665600; 479100, 3665600; 479100, 3665700; 478800, 3665700; 478800, 3665800; 479000, 3665800; 479000, 3665900; 479100, 3665900; 479100, 3666000; 479200, 3666000; 479200, 3666200; 479300, 3666200; 479300, 3666300; 479500, 3666300; 479500, 3666200; 479700, 3666200; 479700, 3666000; 479600, 3666000; 479600, 3665800; 479800, 3665800; 479800, 3665900; 479900, 3665900; 479900, 3665700; 479600, 3665700; 479600, 3665600; 479500, 3665600; 479500, 3665500; 479400, 3665500; 479400, 3665400; 479300, 3665400; 479300, 3665300; 479200, 3665300; 479200, 3665400; 479100, 3665400; 479100, 3665200; 478800, 3665200; 478800, 3664600; 478900, 3664600; 478900, 3664500; 479100, 3664500; 479100, 3663700; 479900, 3663700; 479900, 3663300; 481300, 3663300; 481300, 3663100; 481200, 3663100; 481200, 3663000; 480900, 3663000; 480900, 3662900; 480700, 3662900; 480700, 3662800; 480800, 3662800; 480800, 3662700; 480700, 3662700; 480700, 3662400; 480600, 3662400; 480600, 3662500; 480400, 3662500; 480400, 3662400; 480500, 3662400; 480500, 3662300; 480600, 3662300; 480600, 3662200; 480700, 3662200; 480700, 3662100; 480800, 3662100; 480800, 3662000; 480900, 3662000; 480900, 3661900; 481300, 3661900; 481300, 3661700; 481900, 3661700; 481900, 3661800; 482000, 3661800; 482000, 3661900; 482500, 3661900; 482500, 3661700; 482900, 3661700; 482900, 3661800; 483000, 3661800; 483000, 3662100; 483500, 3662100; 483500, 3662200; 483400, 3662200; 483400, 3662400; 483300, 3662400; 483300, 3662300; 482900, 3662300; 482900, 3662400; 482800, 3662400; 482800, 3662500; 482500, 3662500; 482500, 3662400; 482000, 3662400; 482000, 3662500; 481900, 3662500; 481900, 3662400; 481800, 3662400; 481800, 3662500; 481600, 3662500; 481600, 3662400; 481400, 3662400; 481400, 3662500; 481300, 3662500; 481300, 3662800; 481400, 3662800; 481400, 3663000; 481500, 3663000; 481500, 3663300; 482300, 3663300; 482300, 3664300; 482500, 3664300; 482500, 3664400; 482300, 3664400; 482300, 3664800; 482400, 3664800; 482400, 3664900; 483500, 3664900; 483500, 3664800; 483700, 3664800; 483700, 3664700; 484200, 3664700; 484200, 3664500; 484700, 3664500; 484700, 3664600; 484900, 3664600; 484900, 3664800; 485100, 3664800; 485100, 3664900; 485600, 3664900; 485600, 3662400; 485000, 3662400; 485000, 3662600; 484900, 3662600; 484900, 3662900; 484800, 3662900; 484800, 3663000; 484500, 3663000; 484500, 3663100; 484400, 3663100; 484400, 3663200; 484000, 3663200; 484000, 3661700; 485000, 3661700; 485000, 3661600; 485500, 3661600; 485500, 3660100; 485900, 3660100; then south along x-coordinate 485900 to the MHPA, then west along the MHPA to y-coordinate 3658300; then west to the MHPA; then west along the MHPA to y-coordinate 3658300; then to 484300, 3658300; then south along x-coordinate 484300 to the MHPA; then along the MHPA to x-coordinate 484300; then south to the MHPA; then south along the MHPA to y-coordinate 3656700; then bounded by 483900, 3656700; 483900, 3656800; 483600, 3656800; 483600, 3657300; 483700, 3657300; 483700, 3657400; 483400, 3657400; 483400, 3657500; 483000, 3657500; 483000, 3657600; 482700, 3657600; 482700, 3657500; 482400, 3657500; 482400, 3657200; 482200, 3657200; 482200, 3657100; 482000, 3657100; 482000, 3657200; 481900, 3657200; 481900, 3657100; 481800, 3657100; 481800, 3657000; 481500, 3657000; 481500, 3656900; 481400, 3656900; 481400, 3656800; 481300, 3656800; 481300, 3656700; 481000, 3656700; 481000, 3656600; 480800, 3656600; 480800, 3656500; 480700, 3656500; 480700, 3656400; 480500, 3656400; 480500, 3656500; 480300, 3656500; 480300, 3656600; 480000, 3656600; 480000, 3656700; 479800, 3656700; 479800, 3656800; 479600, 3656800; 479600, 3656900; 479500, 3656900; 479500, 3656800; 479300, 3656800; 479300, 3656500; 479200, 3656500; 479200, 3656200; 478900, 3656200; 478900, 3655900; 478800, 3655900; 478800, 3655500; 478700, 3655500; 478700, 3655200; 478600, 3655200; 478600, 3655100; 478500, 3655100; 478500, 3655000; 478300, 3655000; 478300, 3654800; 478200, 3654800; 478200, 3654600; 478100, 3654600; 478100, 3654500; 478000, 3654500; 478000, 3654400; 477900, 3654400; 477900, 3654100; 477700, 3654100; 477700, 3654200; 477600, 3654200; 477600, 3654000; 477700, 3654000; 477700, 3653600; 477600, 3653600; 477600, 3653400; 477500, 3653400; 477500, 3653300; 477400, 3653300; 477400, 3653100; 477300, 3653100; 477300, 3653000; 477200, 3653000; 477200, 3652900; 477100, 3652900; 477100, 3652600; 477300, 3652600; 477300, 3652800; 477400, 3652800; 477400, 3652900; 477600, 3652900; 477600, 3652400; 477700, 3652400; 477700, 3652300; 477800, 3652300; 477800, 3652100; 477600, 3652100; 477600, 3652000; 477700, 3652000; 477700, 3651900; 475900, 3651900; 475900, 3651700; 476000, 3651700; 476000, 3651400; 476100, 3651400; 476100, 3650900; 476000, 3650900; 476000, 3651000; 475900, 3651000; 475900, 3651200; 475800, 3651200; 475800, 3651300; 475700, 3651300; 475700, 3651400; 475600, 3651400; 475600, 3651300; 475400, 3651300; 475400, 3651200; 475200, 3651200; 475200, 3651300; 475000, 3651300; 475000, 3651400; 474900, 3651400; 474900, 3651500; 474500, 3651500; 474500, 3652300; 474400, 3652300; 474400, 3652600; 474300, 3652600; 474300, 3652700; 474500, 3652700; 474500, 3653600; 474800, 3653600; 474800, 3653200; 475100, 3653200; 475100, 3653300; 475300, 3653300; returning to 475300, 3653100; excluding land bounded by 472200, 3670100; 472200, 3670300; 472100, 3670300; 472100, 3670100; 472200, 3670100; land bounded by 472100, 3668600; 472100, 3668300; 472300, 3668300; 472300, 3668400; 472400, 3668400; 472400, 3668500; 472300, 3668500;

472300, 3668600; 472100, 3668600; land bounded by 472100, 3668600; 472100, 3668700; 472200, 3668700; 472200, 3668800; 472300, 3668800; 472300, 3669000; 472200, 3669000; 472200, 3669100; 472100, 3669100; 472100, 3669200; 472000, 3669200; 472000, 3669100; 471900, 3669100; 471900, 3668900; 471800, 3668900; 471800, 3668700; 472000, 3668700; 472000, 3668600; 472100, 3668600; land bounded by 474200, 3666900; 474200, 3666800; 474300, 3666800; 474300, 3666900; 474200, 3666900; land bounded by 471900, 3666600; 471900, 3666500; 471600, 3666500; 471600, 3666400; 471700, 3666400; 471700, 3666000; 471800, 3666000; 471800, 3665900; 471900, 3665900; 471900, 3666000; 472000, 3666000; 472000, 3666600; 471900, 3666600; land bounded by 471900, 3666600; 471900, 3666700; 472000, 3666700; 472000, 3667000; 471900, 3667000; 471900, 3666900; 471800, 3666900; 471800, 3666800; 471500, 3666800; 471500, 3666600; 471900, 3666600; land bounded by 476800, 3664900; 476900, 3664900; 476900, 3665000; 476800, 3665000; 476800, 3664900; land bounded by 476800, 3664900; 476700, 3664900; 476700, 3664600; 476800, 3664600; 476800, 3664900; land bounded by 477700, 3664500; 477600, 3664500; 477600, 3664400; 477700, 3664400; 477700, 3664500; land bounded by 478300, 3664400; 478300, 3664500; 478200, 3664500; 478200, 3664400; 478300, 3664400; land bounded by 72600, 3664300; 472600, 3664400; 472500, 3664400; 472500, 3664300; 472600, 3664300; land bounded by 472700, 3664200; 472700, 3664100; 472800, 3664100; 472800, 3664200; 472700, 3664200; land bounded by 471400, 3664100; 471400, 3664400; 471200, 3664400; 471200, 3664300; 471300, 3664300; 471300, 3664100; 471400, 3664100; land bounded by 472600, 3663300; 472600, 3663200; 472700, 3663200; 472700, 3663300; 472600, 3663300; land bounded by 473800, 3663000; 473800, 3663100; 473900, 3663100; 473900, 3663200; 474000, 3663200; 474000, 3663600; 474200, 3663600; 474200, 3663700; 474400, 3663700; 474400, 3663800; 474300, 3663800; 474300, 3663900; 473700, 3663900; 473700, 3663600; 473900, 3663600; 473900, 3663300; 473700, 3663300; 473700, 3663000; 473800, 3663000; land bounded by 473800, 3662900; 473700, 3662900; 473700, 3662600; 473600, 3662600; 473600, 3662500; 473700, 3662500; 473700, 3662300; 473800, 3662300; 473800, 3662900; land bounded by 474000, 3662700; 474000, 3662500; 474200, 3662500; 474200, 3662400; 474300, 3662400; 474300, 3662500; 474400, 3662500; 474400, 3662700; 474300, 3662700; 474300, 3662800; 474100, 3662800; 474100, 3662700; 474000, 3662700; land bounded by 474000, 3662700; 474000, 3662800; 473900, 3662800; 473900, 3662700; 474000, 3662700; land bounded by 482000, 3662500; 482100, 3662500; 482100, 3662600; 482000, 3662600; 482000, 3662500; land bounded by 475200, 3653000; 475100, 3653000; 475100, 3652900; 475200, 3652900; 475200, 3653000; land bounded by 472200, 3670100; 472200, 3670000; 472500, 3670000; 472500, 3670100; 472600, 3670100; 472600, 3670300; 472500, 3670300; 472500, 3670200; 472400, 3670200; 472400, 3670100; 472200, 3670100; land bounded by 472700, 3664200; 472700, 3664300; 472600, 3664300; 472600, 3664200; 472700, 3664200; land bounded by 473800, 3662900; 473900, 3662900; 473900, 3663000; 473800, 3663000; 473800, 3662900; land bounded by 472600, 3670300; 472700, 3670300; 472700, 3670400; 472600, 3670400; 472600, 3670300; land bounded by 475300, 3653100; 475200, 3653100; 475200, 3653000; 475300, 3653000; 475300, 3653100; land bounded by 471600, 3670300; 471600, 3670100; 471700, 3670100; 471700, 3670000; 471800, 3670000; 471800, 3670100; 471900, 3670100; 471900, 3670300; 471600, 3670300; land bounded by 472800, 3669200; 472800, 3669100; 472700, 3669100; 472700, 3668800; 472600, 3668800; 472600, 3668700; 473000, 3668700; 473000, 3669200; 472800, 3669200; land bounded by 472200, 3667500; 472200, 3667400; 472000, 3667400; 472000, 3667300; 472200, 3667300; 472200, 3667200; 472400, 3667200; 472400, 3667300; 472300, 3667300; 472300, 3667500; 472200, 3667500; land bounded by 472300, 3667000; 472300, 3666800; 472400, 3666800; 472400, 3667000; 472300, 3667000; land bounded by 472500, 3666600; 472500, 3666400; 472600, 3666400; 472600, 3666600; 472500, 3666600; land bounded by 483600, 3664600; 483600, 3664400; 484000, 3664400; 484000, 3664500; 483900, 3664500; 483900, 3664600; 483600, 3664600; land bounded by 472900, 3664100; 472900, 3663800; 472800, 3663800; 472800, 3663500; 473100, 3663500; 473100, 3663300; 473200, 3663300; 473200, 3663100; 473300, 3663100; 473300, 3662800; 473100, 3662800; 473100, 3662700; 473200, 3662700; 473200, 3662600; 473400, 3662600; 473400, 3663100; 473500, 3663100; 473500, 3663500; 473600, 3663500; 473600, 3663600; 473500, 3663600; 473500, 3663800; 473200, 3663800; 473200, 3664000; 473000, 3664000; 473000, 3664100; 472900, 3664100; land bounded by 477400, 3664100; 477400, 3664000; 477500, 3664000; 477500, 3663900; 478100, 3663900; 478100, 3664100; 477400, 3664100; land bounded by 474200, 3663400; 474200, 3663300; 474400, 3663300; 474400, 3663400; 474200, 3663400; land bounded by 471900, 3661700; 471900, 3661600; 472000, 3661600; 472000, 3661700; 471900, 3661700; land bounded by 482300, 3661200; 482300, 3660300; 482500, 3660300; 482500, 3660200; 482600, 3660200; 482600, 3660100; 482800, 3660100; 482800, 3660000; 482900, 3660000; 482900, 3659700; 482800, 3659700; 482800, 3659600; 482700, 3659600; 482700, 3659200; 483300, 3659200; 483300, 3659300; 483400, 3659300; 483400, 3659500; 483500, 3659500; 483500, 3659800; 483700, 3659800; 483700, 3659600; 483800, 3659600; 483800, 3660100; 483700, 3660100; 483700, 3660200; 483600, 3660200; 483600, 3660400; 483500, 3660400; 483500, 3660000; 483400, 3660000; 483400, 3660100; 483300, 3660100; 483300, 3660200; 483100, 3660200; 483100, 3660300; 482800, 3660300; 482800, 3660500; 482700, 3660500; 482700, 3660700; 482600, 3660700; 482600, 3660900; 482700, 3660900; 482700, 3661000; 482500, 3661000; 482500, 3661200; 482300, 3661200; land bounded by 484800, 3661200; 484800, 3661100; 484700, 3661100; 484700, 3660900; 484900, 3660900; 484900, 3661000; 485100, 3661000; 485100, 3661100; 484900, 3661100; 484900, 3661200; 484800, 3661200; land bounded by 473900, 3660600; 473900, 3660500; 474000, 3660500; 474000, 3660200; 473700, 3660200; 473700, 3660100; 474100, 3660100; 474100, 3660000; 474200, 3660000; 474200, 3660200; 474300, 3660200; 474300, 3660500; 474200, 3660500; 474200, 3660600; 473900, 3660600; land bounded by 482300, 3660000; 482300, 3659800; 482500, 3659800; 482500, 3659700; 482600, 3659700; 482600, 3659900; 482700, 3659900; 482700, 3660000; 482300, 3660000; land bounded by 474100, 3659900; 474100, 3659800; 473800, 3659800; 473800, 3659700; 474000, 3659700; 474000, 3659500; 474100, 3659500; 474100, 3659400; 474300, 3659400; 474300, 3659300; 474400, 3659300; 474400, 3659500; 474300, 3659500; 474300, 3659900; 474100, 3659900; land bounded by 484800, 3659900; 484800, 3659800; 484700, 3659800; 484700, 3659700; 484500, 3659700; 484500, 3659600; 484300, 3659600; 484300, 3659500; 484400, 3659500; 484400, 3659300; 484500, 3659300; 484500, 3659100; 484700, 3659100; 484700, 3659300; 484800, 3659300; 484800, 3659400; 484900, 3659400; 484900, 3659600; 485000, 3659600; 485000, 3659700; 485100, 3659700; 485100, 3659800; 485000, 3659800; 485000, 3659900; 484800, 3659900; land bounded by 480500, 3659600; 480500, 3659500; 480600, 3659500; 480600, 3659200; 480500, 3659200; 480500, 3659000; 480600, 3659000; 480600, 3659100; 480900, 3659100;

480900, 3659300; 481000, 3659300; 481000, 3659600; 480500, 3659600; land bounded by 483900, 3659500; 483900, 3659300; 484000, 3659300; 484000, 3659200; 484100, 3659200; 484100, 3659500; 483900, 3659500; land bounded by 480900, 3659000; 480900, 3658900; 480700, 3658900; 480700, 3658700; 480300, 3658700; 480300, 3658900; 480100, 3658900; 480100, 3658800; 480000, 3658800; 480000, 3658500; 479900, 3658500; 479900, 3658300; 480000, 3658300; 480000, 3658200; 480100, 3658200; 480100, 3658000; 480000, 3658000; 480000, 3657600; 479900, 3657600; 479900, 3657500; 480000, 3657500; 480000, 3657200; 480100, 3657200; 480100, 3657400; 480300, 3657400; 480300, 3657500; 480500, 3657500; 480500, 3657300; 480700, 3657300; 480700, 3657200; 480900, 3657200; 480900, 3657300; 481100, 3657300; 481100, 3657400; 481200, 3657400; 481200, 3657200; 481500, 3657200; 481500, 3657300; 481600, 3657300; 481600, 3657600; 481700, 3657600; 481700, 3657800; 481400, 3657800; 481400, 3657900; 481300, 3657900; 481300, 3658300; 481000, 3658300; 481000, 3658600; 481400, 3658600; 481400, 3658800; 481200, 3658800; 481200, 3658900; 481000, 3658900; 481000, 3659000; 480900, 3659000; land bounded by 481500, 3658500; 481500, 3658300; 481700, 3658300; 481700, 3658200; 481900, 3658200; 481900, 3658300; 481800, 3658300; 481800, 3658500; 481500, 3658500; land bounded by 476700, 3658400; 476700, 3658300; 476200, 3658300; 476200, 3658200; 476600, 3658200; 476600, 3658100; 476800, 3658100; 476800, 3658400; 476700, 3658400; land bounded by 478500, 3658400; 478500, 3658200; 478600, 3658200; 478600, 3658300; 478700, 3658300; 478700, 3658400; 478500, 3658400; land bounded by 476100, 3654100; 476100, 3653900; 476200, 3653900; 476200, 3654100; 476100, 3654100; land bounded by 476200, 3653800; 476200, 3653600; 476300, 3653600; 476300, 3653800; 476200, 3653800; land bounded by 476700, 3653800; 476700, 3653700; 476500, 3653700; 476500, 3653600; 476700, 3653600; 476700, 3653400; 476800, 3653400; 476800, 3653800; 476700, 3653800; land bounded by 476100, 3653400; 476100, 3653300; 476000, 3653300; 476000, 3653200; 475900, 3653200; 475900, 3652900; 476000, 3652900; 476000, 3653000; 476100, 3653000; 476100, 3653100; 476200, 3653100; 476200, 3653400; 476100, 3653400; land bounded by 474900, 3652500; 474900, 3652300; 475000, 3652300; 475000, 3652200; 475100, 3652200; 475100, 3652300; 475200, 3652300; 475200, 3652400; 475100, 3652400; 475100, 3652500; 474900, 3652500; and land designated by the MHPA.

Land bounded by the following UTM NAD27 coordinates (E, N): 470600, 3669100; 470800, 3669100; 470800, 3668800; 470900, 3668800; 470900, 3668600; 471000, 3668600; 471000, 3668400; 470900, 3668400; 470900, 3668500; 470800, 3668500; 470800, 3668600; 470700, 3668600; 470700, 3668700; 470600, 3668700; returning to 470600, 3669100.

Land bounded by the following UTM NAD27 coordinates (E, N): 494200, 3668900; 494300, 3668900; 494300, 3668800; 494400, 3668800; 494400, 3668700; 494500, 3668700; 494500, 3668600; 494700, 3668600; 494700, 3668300; 494500, 3668300; 494500, 3668500; 494400, 3668500; 494400, 3668600; 494300, 3668600; 494300, 3668700; 494200, 3668700; returning to 494200, 3668900.

Land bounded by the following UTM NAD27 coordinates (E, N): 470500, 3668100; 470600, 3668100; 470600, 3667500; 470300, 3667500; 470300, 3667700; 470400, 3667700; 470400, 3668000; 470500, 3668000; returning to 470500, 3668100.

Land bounded by the following UTM NAD27 coordinates (E, N): 470900, 3668100; 471100, 3668100; 471100, 3667600; 470800, 3667600; 470800, 3668000; 470900, 3668000; returning to 470900, 3668100.

Land bounded by the following UTM NAD27 coordinates (E, N): 497100, 3667700; 497700, 3667700; 497700, 3667500; 497100, 3667500; returning to 497100, 3667700.

Land bounded by the following UTM NAD27 coordinates (E, N): 498000, 3667600; 498300, 3667600; 498300, 3667300; 498100, 3667300; 498100, 3667400; 498000, 3667400; returning to 498000, 3667600.

Land bounded by the following UTM NAD27 coordinates (E, N): 473400, 3666900; 473600, 3666900; 473600, 3666800; 473500, 3666800; 473500, 3666700; 473300, 3666700; 473300, 3666800; 473400, 3666800; returning to 473400, 3666900.

Land bounded by the following UTM NAD27 coordinates (E, N): 498400, 3666600; 498500, 3666600; 498500, 3666500; 498600, 3666500; 498600, 3666400; 499000, 3666400; 499000, 3666500; 500100, 3666500; 500100, 3666600; 500300, 3666600; 500300, 3665400; 500200, 3665400; 500200, 3664200; then east to the MHPA; then south along the MHPA to y-coordinate 3664000; then to 499900, 3664000; then south to the MHPA; then south along the MHPA to y-coordinate 3663900; the bounded by 499800, 3663900; 499800, 3664200; 499700, 3664200; 499700, 3664500; 499600, 3664500; 499600, 3664600; 499800, 3664600; 499800, 3664700; 499700, 3664700; 499700, 3664800; 499000, 3664800; 499000, 3665000; 499100, 3665000; 499100, 3665100; 499400, 3665100; 499400, 3665200; 499500, 3665200; 499500, 3665300; 499400, 3665300; 499400, 3665400; 499300, 3665400; 499300, 3665200; 499000, 3665200; 499000, 3665100; 498900, 3665100; 498900, 3665200; 498800, 3665200; 498800, 3664800; 498900, 3664800; 498900, 3664700; 499000, 3664700; 499000, 3664600; 499200, 3664600; 499200, 3664300; 499300, 3664300; 499300, 3664100; 499400, 3664100; 499400, 3664300; 499500, 3664300; 499500, 3664400; 499600, 3664400; 499600, 3664100; 499500, 3664100; 499500, 3664000; 499300, 3664000; 499300, 3663800; 499200, 3663800; then south to the MHPA; then west along the MHPA to y-coordinate 3663700; then bounded by 499000, 3663700; 499000, 3663800; 499100, 3663800; 499100, 3664200; 499000, 3664200; 499000, 3664400; 498900, 3664400; 498900, 3664500; 498800, 3664500; 498800, 3664700; 498700, 3664700; 498700, 3664800; 498600, 3664800; 498600, 3665000; 498500, 3665000; then north to the MHPA; then north and west along the MHPA to x-coordinate 498100; the to 498100, 3665400; and 498000, 3665400; the south to the MHPA; then west along the MHPA to y-coordinate 3665300; the bounded by 497700, 3665300; 497700, 3665700; 497800, 3665700; 497800, 3665800; 497500, 3665800; 497500, 3666000; 497900, 3666000; 497900, 3665900; 498100, 3665900; 498100, 3666000; 498300, 3666000; 498300, 3665900; 498500, 3665900; 498500, 3666000; 498400, 3666000; 498400, 3666400; 498300, 3666400; 498300, 3666500; 498400, 3666500; returning to 498400, 3666600.

Land bounded by the following UTM NAD27 coordinates (E, N): 499200, 3663500; 499900, 3663500; 499900, 3663400; 499800, 3663400; 499800, 3663300; 499200, 3663300; returning to 499200, 3663500.

Land bounded by the following UTM NAD27 coordinates (E, N): 478000, 3663400; 478500, 3663400; 478500, 3663100; 478600, 3663100; 478600, 3662900; 478400, 3662900; 478400, 3663100; 478200, 3663100; 478200, 3663200; 478100, 3663200; 478100, 3663100; 478000, 3663100; 478000, 3662800; 477900, 3662800; 477900, 3662700; 477800, 3662700; 477800, 3662600; 477700, 3662600; 477700, 3663000; 477800, 3663000; 477800, 3663100; 477900, 3663100; 477900, 3663200; 478000, 3663200; returning to 478000, 3663400.

Land bounded by the following UTM NAD27 coordinates (E, N): 476200, 3663100; 476400, 3663100; 476400, 3662500; 476600, 3662500; 476600, 3662400; 476700, 3662400; 476700, 3662300; 476900, 3662300; 476900, 3662200; 477100, 3662200; 477100, 3662100; 477300, 3662100; 477300, 3662000; 477400, 3662000; 477400, 3661900; 477100, 3661900; 477100, 3662000; 476900, 3662000; 476900, 3662100; 476700, 3662100; 476700, 3661800; 476500, 3661800; 476500, 3661700; 476300, 3661700; 476300, 3662000; 476500, 3662000; 476500, 3662300; 476400, 3662300; 476400, 3662400; 476200, 3662400; 476200, 3662600; 476300, 3662600; 476300, 3662700; 476200, 3662700; returning to 476200, 3663100.

Land bounded by the following UTM NAD27 coordinates (E, N): 493400, 3662000; 493600, 3662000; 493600, 3661900; 493900, 3661900; 493900, 3661600; 494000, 3661600; 494000, 3661300; 494100, 3661300; 494100, 3661100; 494200, 3661100; 494200, 3660900; 494300, 3660900; 494300, 3660800; 494400, 3660800; 494400, 3660400; 494500, 3660400; 494500, 3660300; 494800, 3660300; 494800, 3659800; 494500, 3659800; 494500, 3659600; 494400, 3659600; 494400, 3659500; 494300, 3659500; 494300, 3659100; 494200, 3659100; 494200, 3659000; 494100, 3659000; 494100, 3659100; 493900, 3659100; 493900, 3659200; 493800, 3659200; 493800, 3659300; 493700, 3659300; 493700, 3659200; 493500, 3659200; 493500, 3659500; 493700, 3659500; 493700, 3659800; 493600, 3659800; 493600, 3659900; 493500, 3659900; 493500, 3660100; 493400, 3660100; 493400, 3660700; 493600, 3660700; 493600, 3660000; 493800, 3660000; 493800, 3660300; 494200, 3660300; 494200, 3660200; 494300, 3660200; 494300, 3660500; 494200, 3660500; 494200, 3660600; 494100, 3660600; 494100, 3660900; 493900, 3660900; 493900, 3661000; 493800, 3661000; 493800, 3661100; 493700, 3661100; 493700, 3661200; 493800, 3661200; 493800, 3661300; 493700, 3661300; 493700, 3661700; 493600, 3661700; 493600, 3661800; 493400, 3661800; returning to 493400, 3662000.

Land bounded by the following UTM NAD27 coordinates (E, N): 494600, 3661700; 494700, 3661700; 494700, 3661400; 494600, 3661400; returning to 494600, 3661700.

Land bounded by the following UTM NAD27 coordinates (E, N): 494600, 3661200; 494700, 3661200; 494700, 3660900; 494800, 3660900; 494800, 3660600; 494700, 3660600; 494700, 3660700; 494600, 3660700; returning to 494600, 3661200.

Land bounded by the following UTM NAD27 coordinates (E, N): 477100, 3660700; 477300, 3660700; 477300, 3660400; 477400, 3660400; 477400, 3660200; 477300, 3660200; 477300, 3660100; 477200, 3660100; 477200, 3660300; 477100, 3660300; 477100, 3660400; 477000, 3660400; 477000, 3660300; 476800, 3660300; 476800, 3660500; 476900, 3660500; 476900, 3660600; 477100, 3660600; returning to 477100, 3660700.

Land bounded by the following UTM NAD27 coordinates (E, N): 477800, 3659500; 478100, 3659500; 478100, 3659400; 478000, 3659400; 478000, 3659300; 477800, 3659300; 477800, 3659200; 477700, 3659200; 477700, 3659100; 477600, 3659100; 477600, 3659000; 477500, 3659000; 477500, 3658900; 477400, 3658900; 477400, 3658800; 477300, 3658800; 477300, 3658600; 477100, 3658600; 477100, 3658900; 477200, 3658900; 477200, 3659000; 477300, 3659000; 477300, 3659100; 477400, 3659100; 477400, 3659200; 477500, 3659200; 477500, 3659300; 477600, 3659300; 477600, 3659400; 477400, 3659400; 477400, 3659600; 477800, 3659600; returning to 477800, 3659500; excluding land bounded by 477800, 3659500; 477700, 3659500; 477700, 3659400; 477800, 3659400; 477800, 3659500.

Land bounded by the following UTM NAD27 coordinates (E, N): 492200, 3659300; 492400, 3659300; 492400, 3659100; 492300, 3659100; 492300, 3659000; 492400, 3659000; 492400, 3658700; 492500, 3658700; 492500, 3658400; then west to the MHPA; then south, west, and north along the MHPA to y-coordinate 3658300; then to 491700, 3658300; then north to the MHPA; then north along the MHPA to 3658400; then bounded by 491800, 3658400; 491800, 3658500; 491900, 3658500; 491900, 3658600; 492000, 3658600; 492000, 3658900; 492100, 3658900; 492100, 3659200; 492200, 3659200; returning to 492200, 3659300.

Land bounded by the following UTM NAD27 coordinates (E, N): 494700, 3659300; 494900, 3659300; 494900, 3659200; 494800, 3659200; 494800, 3659100; 494700, 3659100; 494700, 3659000; 494900, 3659000; 494900, 3659100; 495000, 3659100; 495000, 3659000; 495100, 3659000; 495100, 3658900; 495000, 3658900; 495000, 3658800; 494800, 3658800; 494800, 3658700; 494600, 3658700; 494600, 3658600; 494500, 3658600; 494500, 3658700; 494400, 3658700; 494400, 3659000; 494500, 3659000; 494500, 3659100; 494600, 3659100; 494600, 3659200; 494700, 3659200; returning to 494700, 3659300.

Land bounded by the following UTM NAD27 coordinates (E, N): 495200, 3658700; 495500, 3658700; 495500, 3658400; 495600, 3658400; 495600, 3658300; 495900, 3658300; 495900, 3658400; 496000, 3658400; 496000, 3658300; 496200, 3658300; 496200, 3657800; 496100, 3657800; 496100, 3657700; 496000, 3657700; 496000, 3657600; then west to the MHPA; then northwestward along the MHPA to x-coordinate 494700; then bounded by 494700, 3658000; 495100, 3658000; 495100, 3658100; 495300, 3658100; 495300, 3658200; 495400, 3658200; 495400, 3658400; 495300, 3658400; 495300, 3658300; 494900, 3658300; 494900, 3658200; then west to the MHPA; then north along the MHPA to x-coordinate 494700; then bounded by 494700, 3658400; 495100, 3658400; 495100, 3658600; 495200, 3658600; returning to 495200, 3658700.

Land bounded by the following UTM NAD27 coordinates (E, N): 493400, 3658300; then east to the MHPA; then southwestward along the MHPA to x-coordinate 493300; then bounded by 493300, 3658100; 493400, 3658100; returning to 493400, 3658300.

Land bounded by the following UTM NAD27 coordinates (E, N): 477500, 3657900; 477800, 3657900; 477800, 3657800; 477500, 3657800; returning to 477500, 3657900.

(ii) Note: Map of Unit 3 follows.

(8) Unit 4: Fallbrook Naval Weapons Station (FNWS), San Diego County, California.

(i) From USGS 1:24,000 quadrangle maps Bonsall, Morro Hill, and Fallbrook, California. Lands within the Santa Margarita y Las Flores Land Grant: FNWS; and Federal Lands associated with FNWS within T. 09 S., R. 04 W., San Bernardino Principal Meridian, secs. 35 and 36; and T. 10 S., R. 04 W., San Bernardino Principal Meridian, secs. 1 and 2; excluding land bounded by the following UTM NAD27 coordinates (E, N): 476000, 3692600; 475800, 3692600; 475800, 3692400; 475700, 3692400; 475700, 3692300; 475500, 3692300; 475500, 3692100; 475400, 3692100; 475400, 3691900; 475300, 3691900; 475300, 3691800; 475400, 3691800; 475400, 3691600; 475300, 3691600; 475300, 3691500; 475100, 3691500; 475100, 3691400; 475400, 3691400; 475400, 3691500; 475500, 3691500; 475500, 3691600; 475600, 3691600; 475600, 3691700; 475700, 3691700; 475700, 3691800; 476000, 3691800; 476000, 3692600; land bounded by 474700, 3691700; 474600, 3691700; 474600, 3691600; 474700, 3691600; 474700, 3691700; land bounded by 474700, 3691700; 474800, 3691700; 474800, 3691800; 474900, 3691800; 474900, 3692000; 474700, 3692000; 474700, 3691900; 474600, 3691900; 474600, 3691800; 474700, 3691800; 474700, 3691700; land bounded by 474800, 3693200; 474800, 3693100; 474500, 3693100; 474500, 3693000; 474400, 3693000; 474400, 3692800; 474300, 3692800; 474300, 3692700; 474200, 3692700; 474200, 3692400; 474300, 3692400; 474300, 3692500; 474400, 3692500; 474400, 3692600; 474500, 3692600; 474500, 3692800; 474600, 3692800; 474600, 3692700; 474800, 3692700; 474800, 3692600; 475000, 3692600; 475000, 3692700; 475200, 3692700; 475200, 3692900; 475100, 3692900; 475100, 3693200; 474800, 3693200; land bounded by 474200, 3692100; 474200, 3691700; 474400, 3691700; 474400, 3691800; 474300, 3691800; 474300, 3692100; 474200, 3692100; and land bounded by 475300, 3689700; 475300, 3689600; 475200, 3689600; 475200, 3689500; 475400, 3689500; 475400, 3689700; 475300, 3689700.

(ii) Note: Map of Unit 4 follows.

(9) Unit 5: North County Subarea of the MSCP for Unincorporated San Diego County, California.

(i) From USGS 1:100,000 quadrangle maps Oceanside and Borrego Valley, California, land bounded by the following UTM NAD27 coordinates (E, N): 480000, 3682500; 480000, 3682600; 479900, 3682600; 479900, 3682700; 480000, 3682700; 480000, 3682800; 480100, 3682800; 480100, 3682900; 480400, 3682900; 480400, 3682800; 480700, 3682800; 480700, 3681900; 480500, 3681900; 480500, 3682000; 480200, 3682000; 480200, 3682100; 479900, 3682100; 479900, 3681500; 479500, 3681500; 479500, 3681200; 479400, 3681200; 479400, 3681100; 479300, 3681100; 479300, 3681000; 479200, 3681000; 479200, 3680900; 479100, 3680900; 479100, 3680800; 479300, 3680800; 479300, 3680600; 479400, 3680600; 479400, 3680800; 480100, 3680800; 480100, 3680900; 480200, 3680900; 480200, 3681000; 480500, 3681000; 480500, 3681200; 481100, 3681200; 481100, 3680800; 481500, 3680800; 481500, 3680700; 481800, 3680700; 481800, 3680400; 482100, 3680400; 482100, 3680300; 482200, 3680300; 482200, 3680400; 482400, 3680400; 482400, 3680500; 482700, 3680500; 482700, 3679500; 481800, 3679500; 481800, 3679300; 481900, 3679300; 481900, 3679200; 482300, 3679200; 482300, 3678800; 482800, 3678800; 482800, 3678700; 482900, 3678700; 482900, 3678600;

483000, 3678600; 483000, 3678400; 482900, 3678400; 482900, 3678300; 483000, 3678300; 483000, 3677900; 483100, 3677900; 483100, 3677800; 483200, 3677800; 483200, 3677400; 483300, 3677400; 483300, 3677300; 483400, 3677300; 483400, 3677200; 484100, 3677200; 484100, 3677700; 484300, 3677700; 484300, 3677800; 484500, 3677800; 484500, 3677700; 484800, 3677700; 484800, 3678400; 484900, 3678400; 484900, 3678800; 485200, 3678800; 485200, 3678900; 484900, 3678900; 484900, 3679800; 485000, 3679800; 485000, 3680000; 485200, 3680000; 485200, 3680200; 485100, 3680200; 485100, 3680600; 484600, 3680600; 484600, 3680900; 484400, 3680900; 484400, 3681000; 484300, 3681000; 484300, 3681400; 484100, 3681400; 484100, 3681500; 483800, 3681500; 483800, 3682500; 484000, 3682500; 484000, 3682400; 484300, 3682400; 484300, 3682300; 484500, 3682300; 484500, 3682200; 484600, 3682200; 484600, 3682100; 484700, 3682100; 484700, 3681600; 484800, 3681600; 484800, 3681400; 484700, 3681400; 484700, 3681200; 484900, 3681200; 484900, 3681400; 485000, 3681400; 485000, 3682100; 485500, 3682100; 485500, 3682300; 485600, 3682300; 485600, 3682500; 485800, 3682500; 485800, 3682700; 485900, 3682700; 485900, 3683100; 485700, 3683100; 485700, 3683300; 485800, 3683300; 485800, 3683900; 485700, 3683900; 485700, 3684000; 485900, 3684000; 485900, 3684300; 485700, 3684300; 485700, 3684500; 485800, 3684500; 485800, 3684800; 485000, 3684800; 485000, 3684600; 484900, 3684600; 484900, 3684500; 484500, 3684500; 484500, 3684200; 484400, 3684200; 484400, 3684300; 484300, 3684300; 484300, 3684400; 484200, 3684400; 484200, 3684300; 483800, 3684300; 483800, 3685700; 483900, 3685700; 483900, 3685800; 484300, 3685800; 484300, 3685900; 484400, 3685900; 484400, 3686000; 484500, 3686000; 484500, 3686100; 484700, 3686100; 484700, 3686000; 485000, 3686000; 485000, 3686100; 485100, 3686100; 485100, 3686000; 485200, 3686000; 485200, 3686300; 485100, 3686300; 485100, 3686600; 485000, 3686600; 485000, 3686500; 484800, 3686500; 484800, 3686600; 484600, 3686600; 484600, 3686700; 484500, 3686700; 484500, 3686800; 484200, 3686800; 484200, 3686700; 484100, 3686700; 484100, 3686600; 484000, 3686600; 484000, 3686500; 483900, 3686500; 483900, 3685900; 482200, 3685900; 482200, 3687200; 482300, 3687200; 482300, 3687300; 482500, 3687300; 482500, 3687700; 482600, 3687700; 482600, 3688000; 482900, 3688000; 482900, 3688100; 483000, 3688100; 483000, 3688200; 482900, 3688200; 482900, 3688400; 483100, 3688400; 483100, 3688600; 483200, 3688600; 483200, 3688700; 483500, 3688700; 483500, 3688600; 483600, 3688600; 483600, 3687600; 483300, 3687600; 483300, 3687800; 483200, 3687800; 483200, 3687700; 483100, 3687700; 483100, 3687000; 483000, 3687000; 483000, 3686900; 482800, 3686900; 482800, 3686800; 482600, 3686800; 482600, 3686700; 482500, 3686700; 482500, 3686500; 482400, 3686500; 482400, 3686400; 482800, 3686400; 482800, 3686300; 483100, 3686300; 483100, 3686400; 483200, 3686400; 483200, 3686500; 483300, 3686500; 483300, 3686600; 483400, 3686600; 483400, 3686700; 483500, 3686700; 483500, 3686900; 483800, 3686900; 483800, 3687100; 483900, 3687100; 483900, 3687200; 484500, 3687200; 484500, 3687500; 484300, 3687500; 484300, 3687600; 484200, 3687600; 484200, 3687700; 484100, 3687700; 484100, 3687900; 484300, 3687900; 484300, 3688200; 484200, 3688200; 484200, 3688300; 484300, 3688300; 484300, 3688500; 484400, 3688500; 484400, 3688600; 484500, 3688600; 484500, 3688700; 484400, 3688700; 484400, 3689100; 484600, 3689100; 484600, 3689200; 484400, 3689200; 484400, 3689500; 484300, 3689500; 484300, 3689600; 484100, 3689600; 484100, 3690000; 484200, 3690000; 484200, 3690100; 484400, 3690100; 484400, 3689900; 484500, 3689900; 484500, 3689700; 484600, 3689700; 484600, 3690100; 484500, 3690100; 484500, 3690200; 484400, 3690200; 484400, 3690500; 484300, 3690500; 484300, 3690600; 484100, 3690600; 484100, 3690800; 484200, 3690800; 484200, 3690900; 484300, 3690900; 484300, 3691000; 484500, 3691000; 484500, 3690900; 484600, 3690900; 484600, 3691000; 484800, 3691000; 484800, 3690800; 484900, 3690800; 484900, 3690600; 485000, 3690600; 485000, 3690500; 485100, 3690500; 485100, 3690900; 485000, 3690900; 485000, 3691100; 484900, 3691100; 484900, 3691300; 484500, 3691300; 484500, 3691400; 484400, 3691400; 484400, 3691500; 484300, 3691500; 484300, 3691600; 484200, 3691600; 484200, 3691700; 484100, 3691700; 484100, 3691900; 484000, 3691900; 484000, 3692000; 484100, 3692000; 484100, 3692100; 484300, 3692100; 484300, 3692200; 484400, 3692200; 484400, 3692600; 484500, 3692600; 484500, 3693000; 484400, 3693000; 484400, 3693100; 484300, 3693100; 484300, 3693500; 484500, 3693500; 484500, 3693600; 484600, 3693600; 484600, 3693800; 484500, 3693800; 484500, 3693900; 484400, 3693900; 484400, 3694000; 484300, 3694000; 484300, 3694300; 484500, 3694300; 484500, 3694400; 484300, 3694400; 484300, 3694700; 484100, 3694700; 484100, 3694800; 484000, 3694800; 484000, 3695000; 484100, 3695000; 484100, 3695200; 484200, 3695200; 484200, 3695400; 484400, 3695400; 484400, 3695100; 484800, 3695100; 484800, 3695400; 485000, 3695400; 485000, 3695500; 484800, 3695500; 484800, 3695600; 484400, 3695600; 484400, 3695500; 484000, 3695500; 484000, 3695100; 483800, 3695100; 483800, 3695200; 483700, 3695200; 483700, 3695300; 483600, 3695300; 483600, 3695400; 483500, 3695400; 483500, 3695200; 483600, 3695200; 483600, 3694900; 483700, 3694900; 483700, 3694700; 483600, 3694700; 483600, 3694600; 483400, 3694600; 483400, 3694700; 483300, 3694700; 483300, 3694800; 483100, 3694800; 483100, 3694500; 482800, 3694500; 482800, 3694800; 482900, 3694800; 482900, 3695000; 482800, 3695000; 482800, 3695200; 482700, 3695200; 482700, 3695000; 482600, 3695000; 482600, 3694800; 482200, 3694800; 482200, 3694500; 481700, 3694500; 481700, 3694600; 481600, 3694600; 481600, 3694900; 481900, 3694900; 481900, 3695200; 482100, 3695200; 482100, 3695600; 482000, 3695600; 482000, 3695900; 481800, 3695900; 481800, 3696100; 481000, 3696100; 481000, 3696000; 480500, 3696000; 480500, 3696100; 480100, 3696100; 480100, 3696200;

479900, 3696200; 479900, 3696300; 479800, 3696300; 479800, 3695600; 479000, 3695600; 479000, 3695800; 478500, 3695800; 478500, 3695900; 478400, 3695900; 478400, 3696000; 478300, 3696000; 478300, 3695900; 478200, 3695900; 478200, 3695600; 477600, 3695600; 477600, 3696300; 477500, 3696300; 477500, 3696200; 477400, 3696200; 477400, 3696100; 477100, 3696100; 477100, 3696000; 477200, 3696000; 477200, 3695900; 477100, 3695900; 477100, 3695800; 477000, 3695800; 477000, 3695400; 477100, 3695400; 477100, 3695300; 477200, 3695300; 477200, 3695000; 477300, 3695000; 477300, 3694700; 476900, 3694700; 476900, 3694600; 476600, 3694600; 476600, 3694400; then west to FNWS at y-coordinate 3694400; thence north along FNWS boundary to MCBCP boundary; thence north and west along MCBCP boundary to x-coordinate 475700; then land bounded by 475700, 3697300; 477300, 3697300; 477300, 3697500; 477400, 3697500; 477400, 3697600; 477700, 3697600; 477700, 3697700; 477800, 3697700; 477800, 3697400; 478000, 3697400; 478000, 3697500; 478100, 3697500; 478100, 3697600; 478200, 3697600; 478200, 3697700; 478500, 3697700; 478500, 3697800; 478600, 3697800; 478600, 3697900; 478800, 3697900; 478800, 3698400; 478900, 3698400; 478900, 3698500; 479300, 3698500; 479300, 3698600; 479100, 3698600; 479100, 3698700; 479000, 3698700; 479000, 3699000; 479100, 3699000; then north to the Riverside/San Diego County line; thence eastward along the Riverside/San Diego County line to x-coordinate 486600; then land bounded by 486600, 3698900; 486500, 3698900; 486500, 3698800; 486400, 3698800; 486400, 3698600; 486300, 3698600; 486300, 3698500; 486200, 3698500; 486200, 3698300; 486100, 3698300; 486100, 3698200; 486000, 3698200; 486000, 3698000; 485900, 3698000; 485900, 3697800; 485800, 3697800; 485800, 3697700; 485700, 3697700; 485700, 3697500; 485600, 3697500; 485600, 3697400; 485700, 3697400; 485700, 3697100; 485800, 3697100; 485800, 3696500; 485300, 3696500; 485300, 3696300; 485200, 3696300; 485200, 3696000; 485100, 3696000; 485100, 3695900; 485000, 3695900; 485000, 3695800; 485700, 3695800; 485700, 3695500; 485900, 3695500; 485900, 3695600; 485800, 3695600; 485800, 3695700; 485900, 3695700; 485900, 3695800; 486000, 3695800; 486000, 3695900; 485900, 3695900; 485900, 3696000; 486400, 3696000; 486400, 3695400; 486500, 3695400; 486500, 3695600; 486700, 3695600; 486700, 3695800; 486600, 3695800; 486600, 3696000; 486500, 3696000; 486500, 3696300; 486900, 3696300; 486900, 3696400; 486800, 3696400; 486800, 3696600; 487100, 3696600; 487100, 3696500; 487200, 3696500; 487200, 3696300; 487000, 3696300; 487000, 3696000; 486900, 3696000; 486900, 3695800; 487000, 3695800; 487000, 3695700; 487100, 3695700; 487100, 3695600; 487200, 3695600; 487200, 3694800; 487100, 3694800; 487100, 3694900; 486900, 3694900; 486900, 3695000; 486800, 3695000; 486800, 3695100; 486700, 3695100; 486700, 3695200; 486500, 3695200; 486500, 3694800; 486400, 3694800; 486400, 3694600; 486100, 3694600; 486100, 3694700; 485800, 3694700; 485800, 3694800; 485600, 3694800; 485600, 3694900; 485400, 3694900; 485400, 3694800; 485300, 3694800; 485300, 3694700; 485200, 3694700; 485200, 3694200; 485100, 3694200; 485100, 3693700; 485200, 3693700; 485200, 3693500; 485100, 3693500; 485100, 3692900; 485200, 3692900; 485200, 3693000; 485300, 3693000; 485300, 3693400; 485900, 3693400; 485900, 3693700; 486000, 3693700; 486000, 3693800; 486200, 3693800; 486200, 3693700; 486300, 3693700; 486300, 3693600; 486500, 3693600; 486500, 3693400; 486400, 3693400; 486400, 3693200; 486000, 3693200; 486000, 3693100; 485800, 3693100; 485800, 3692600; 485900, 3692600; 485900, 3692900; 486300, 3692900; 486300, 3692500; 486900, 3692500; 486900, 3692300; 487000,

3692300; 487000, 3692100; 487300, 3692100; 487300, 3692300; 487200, 3692300; 487200, 3692400; 487100, 3692400; 487100, 3693200; 486800, 3693200; 486800, 3693500; 487100, 3693500; 487100, 3693700; 487200, 3693700; 487200, 3694100; 487300, 3694100; 487300, 3694200; 487700, 3694200; 487700, 3693900; 487500, 3693900; 487500, 3693800; 487600, 3693800; 487600, 3693500; 487500, 3693500; 487500, 3693300; 487900, 3693300; 487900, 3693200; 488100, 3693200; 488100, 3693100; 488600, 3693100; 488600, 3692900; 488500, 3692900; 488500, 3692000; 488700, 3692000; 488700, 3692400; 488800, 3692400; 488800, 3692500; 489500, 3692500; 489500, 3692600; 489600, 3692600; 489600, 3693000; 489700, 3693000; 489700, 3693100; 489800, 3693100; 489800, 3693300; 489900, 3693300; 489900, 3693400; 490000, 3693400; 490000, 3693700; 490200, 3693700; 490200, 3693800; 490400, 3693800; 490400, 3694100; 490500, 3694100; 490500, 3694200; 491300, 3694200; thence south to Pala Reservation boundary at x-coordinate 491300; thence south along reservation boundary to y-coordinate 3692400; thence west and following coordinates: 491200, 3692400; 491200, 3692300; 491100, 3692300; 491100, 3692200; 491000, 3692200; 491000, 3692000; 490900, 3692000; 490900, 3691800; 490800, 3691800; 490800, 3691500; 490900, 3691500; 490900, 3691100; 490800, 3691100; 490800, 3691000; 490600, 3691000; 490600, 3690900; 490500, 3690900; 490500, 3690800; 490200, 3690800; 490200, 3690700; 490000, 3690700; 490000, 3690600; 489900, 3690600; 489900, 3690700; 489800, 3690700; 489800, 3690300; 489700, 3690300; 489700, 3689900; 489100, 3689900; 489100, 3689000; 489000, 3689000; 489000, 3688900; 489400, 3688900; 489400, 3689200; 489500, 3689200; 489500, 3689300; 489700, 3689300; 489700, 3689400; 489900, 3689400; 489900, 3689500; 490200, 3689500; 490200, 3689600; 490600, 3689600; 490600, 3689400; 490700, 3689400; 490700, 3689000; 490800, 3689000; 490800, 3688600; 490900, 3688600; 490900, 3688200; 491000, 3688200; 491000, 3688300; thence east to Pala reservation boundary at y-coordinate 3688300; thence south along reservation boundary to x-coordinate 491300; thence south and following coordinates: 491300, 3687600; 490600, 3687600; 490600, 3688000; 490000, 3688000; 490000, 3687900; 489600, 3687900; 489600, 3688000; 489200, 3688000; 489200, 3687800; 489400, 3687800; 489400, 3687700; 490000, 3687700; 490000, 3687400; 489900, 3687400; 489900, 3687300; 489700, 3687300; 489700, 3687200; 489400, 3687200; 489400, 3687300; 489100, 3687300; 489100, 3687400; 488900, 3687400; 488900, 3687500; 488800, 3687500; 488800, 3687100; 488300, 3687100; 488300, 3684500; 488400, 3684500; 488400, 3683800; 488000, 3683800; 488000, 3683500; 487700, 3683500; 487700, 3683300; 487800, 3683300; 487800, 3682700; 487100, 3682700; 487100, 3682400; 487000, 3682400; 487000, 3681100; 486600, 3681100; 486600, 3680800; 486300, 3680800; 486300, 3680700; 486200, 3680700; 486200, 3680600; 485900, 3680600; 485900, 3680500; 486100, 3680500; 486100, 3680400; 486300, 3680400; 486300, 3680300; 486200, 3680300; 486200, 3680200; 486100, 3680200; 486100, 3680100; 486200, 3680100; 486200, 3680000; 486700, 3680000; 486700, 3680100; 486800, 3680100; 486800, 3680300; 487000, 3680300; 487000, 3680200; 487100, 3680200; 487100, 3680100; 487200, 3680100; 487200, 3679900; 487300, 3679900; 487300, 3679100; 487100, 3679100; 487100, 3679200; 487000, 3679200; 487000, 3679300; 486900, 3679300; 486900, 3679400; 486100, 3679400; 486100, 3679300; 486000, 3679300; 486000, 3679000; 486400, 3679000; 486400, 3678900; 486500, 3678900; 486500, 3678500; 486600, 3678500; 486600, 3678400; 486800, 3678400; 486800, 3678000; 487300, 3678000; 487300, 3678300; 487000, 3678300; 487000, 3678400;

486900, 3678400; 486900, 3678500; 486700, 3678500; 486700, 3678600; 486600, 3678600; 486600, 3678800; 486700, 3678800; 486700, 3678900; 487100, 3678900; 487100, 3678800; 487600, 3678800; 487600, 3678700; 487700, 3678700; 487700, 3678600; 487800, 3678600; 487800, 3678500; 487900, 3678500; 487900, 3678400; 488000, 3678400; 488000, 3678300; 488100, 3678300; 488100, 3678200; 488200, 3678200; 488200, 3678100; 488300, 3678100; 488300, 3677200; 488100, 3677200; 488100, 3677100; 488000, 3677100; 488000, 3677000; 487900, 3677000; 487900, 3676900; 488000, 3676900; 488000, 3676500; 488100, 3676500; 488100, 3676400; 488200, 3676400; 488200, 3676300; 488300, 3676300; 488300, 3676200; 488400, 3676200; 488400, 3676100; 488500, 3676100; 488500, 3676000; 488600, 3676000; 488600, 3675700; 488500, 3675700; 488500, 3675400; 488600, 3675400; 488600, 3675100; 488500, 3675100; 488500, 3675000; 488600, 3675000; 488600, 3674900; 488700, 3674900; 488700, 3674800; 489200, 3674800; 489200, 3674500; 488900, 3674500; 486800, 3674500; 486800, 3674600; 485200, 3674600; 485200, 3676300; 483600, 3676300; 483600, 3676200; 482300, 3676200; 482300, 3677400; 482200, 3677400; 482200, 3677900; 482000, 3677900; 482000, 3677800; 480900, 3677800; 480900, 3678000; 480800, 3678000; 480800, 3678200; 480700, 3678200; 480700, 3678300; 480600, 3678300; 480600, 3677800; 479600, 3677800; 479600, 3678000; 479500, 3678000; 479500, 3678200; 479400, 3678200; 479400, 3678400; 479500, 3678400; 479500, 3678500; 479700, 3678500; 479700, 3679900; 479600, 3679900; 479600, 3679800; 479000, 3679800; 479000, 3680000; 478900, 3680000; 478900, 3680300; 478400, 3680300; 478400, 3680200; 478300, 3680200; 478300, 3680000; 478200, 3680000; 478200, 3679500; 478100, 3679500; 478100, 3679200; 478000, 3679200; 478000, 3679000; 477900, 3679000; 477900, 3678600; 477300, 3678600; 477300, 3678700; 477300, 3679500; 477300, 3679600; 477400, 3679600; 477400, 3680000; 477500, 3680000; 477500, 3680100; 477800, 3680100; 477800, 3680200; 477900, 3680200; 477900, 3680400; 478000, 3680400; 478000, 3681400; 477900, 3681400; 477900, 3681500; 477700, 3681500; 477700, 3682000; 478100, 3682000; 478100, 3682100; 478200, 3682100; 478200, 3682200; 478100, 3682200; 478100, 3682300; 477900, 3682300; 477900, 3682600; 478000, 3682600; 478000, 3682800; 477800, 3682800; 477800, 3682900; 477600, 3682900; 477600, 3683000; 477500, 3683000; 477500, 3683500; 477600, 3683500; 477600, 3683600; 477700, 3683600; 477700, 3683700; 477800, 3683700; 477800, 3684400; 478800, 3684400; 478800, 3684500; 479400, 3684500; 479400, 3684400; 479500, 3684400; 479500, 3684100; 479600, 3684100; 479600, 3684200; 479700, 3684200; 479700, 3684400; 483300, 3684400; 483300, 3684300; 483400, 3684300; 483400, 3683400; 483600, 3683400; 483600, 3683300; 483700, 3683300; 483700, 3683200; 483900, 3683200; 483900, 3682700; 481700, 3682700; 481700, 3682800; 481600, 3682800; 481600, 3683000; 481400, 3683000; 481400, 3683100; 480900, 3683100; 480900, 3683300; 481000, 3683300; 481000, 3683600; 481100, 3683600; 481100, 3683700; 481600, 3683700; 481600, 3683800; 481700, 3683800; 481700, 3683900; 481500, 3683900; 481500, 3684000; 481400, 3684000; 481400, 3683900; 480300, 3683900; 480300, 3683700; 480200, 3683700; 480200, 3683600; 480300, 3683600; 480300, 3683500; 479600, 3683500; 479600, 3683400; 479500, 3683400; 479500, 3683100; 479400, 3683100; 479400, 3682900; 479300, 3682900; 479300, 3682200; 479400, 3682200; 479400, 3682100; 479500, 3682100; 479500, 3682200; 479600, 3682200; 479600, 3682300; 479700, 3682300; 479700, 3682500; 480000, 3682500; excluding land bounded by 478400, 3697200; 478300, 3697200; 478300, 3697100; 478400, 3697100; 478400,

3697200; land bounded by 485100, 3690500; 485100, 3690200; 485200, 3690200; 485200, 3690500; 485100, 3690500; land bounded by 484600, 3689200; 484900, 3689200; 484900, 3689100; 485000, 3689100; 485000, 3689000; 485200, 3689000; 485200, 3689900; 485100, 3689900; 485100, 3689400; 484900, 3689400; 484900, 3689300; 484600, 3689300; 484600, 3689200; land bounded by 487300, 3683700; 487400, 3683700; 487400, 3683800; 487300, 3683800; 487300, 3683700; land bounded by 487300, 3683700; 487100, 3683700; 487100, 3684300; 487000, 3684300; 487000, 3684700; 487100, 3684700; 487100, 3684800; 486900, 3684800; 486900, 3685000; 486800, 3685000; 486800, 3685500; 486900, 3685500; 486900, 3685600; 487000, 3685600; 487000, 3686100; 487100, 3686100; 487100, 3686300; 487400, 3686300; 487400, 3686100; 487500, 3686100; 487500, 3686200; 487800, 3686200; 487800, 3686700; 487300, 3686700; 487300, 3686800; 487000, 3686800; 487000, 3687100; 486700, 3687100; 486700, 3687200; 486600, 3687200; 486600, 3688000; 486700, 3688000; 486700, 3688100; 486800, 3688100; 486800, 3688300; 486900, 3688300; 486900, 3688400; 487000, 3688400; 487000, 3688600; 487100, 3688600; 487100, 3688800; 486900, 3688800; 486900, 3688700; 486800, 3688700; 486800, 3688600; 486700, 3688600; 486700, 3688500; 486300, 3688500; 486300, 3688600; 486200, 3688600; 486200, 3688400; 486100, 3688400; 486100, 3688300; 486000, 3688300; 486000, 3688200; 485800, 3688200; 485800, 3688100; 485600, 3688100; 485600, 3688000; 485500, 3688000; 485500, 3687900; 485400, 3687900; 485400, 3687700; 485300, 3687700; 485300, 3687400; 485400, 3687400; 485400, 3687100; 485600, 3687100; 485600, 3686900; 485700, 3686900; 485700, 3686700; 485800, 3686700; 485800, 3686500; 485900, 3686500; 485900, 3686400; 486000, 3686400; 486000, 3686300; 486200, 3686300; 486200, 3686200; 486400, 3686200; 486400, 3685700; 486300, 3685700; 486300, 3685200; 486700, 3685200; 486700, 3684900; 486600, 3684900; 486600, 3684800; 486500, 3684800; 486500, 3684700; 486400, 3684700; 486400, 3683400; 486900, 3683400; 486900, 3683300; 487100, 3683300; 487100, 3683500; 487200, 3683500; 487200, 3683600; 487300, 3683600; 487300, 3683700; land bounded by 480000, 3682500; 480000, 3682400; 480100, 3682400; 480100, 3682500; 480000, 3682500; land bounded by 480500, 3681000; 480500, 3680900; 480600, 3680900; 480600, 3681000; 480500, 3681000; land bounded by 480900, 3680200; 480900, 3680100; 481000, 3680100; 481000, 3680200; 480900, 3680200; land bounded by 480900, 3680200; 480900, 3680400; 481000, 3680400; 481000, 3680500; 480800, 3680500; 480800, 3680600; 480500, 3680600; 480500, 3680300; 480600, 3680300; 480600, 3680200; 480900, 3680200; land bounded by 485600, 3679600; 485600, 3679700; 485500, 3679700; 485500, 3679600; 485600, 3679600; land bounded by 485800, 3679600; 486100, 3679600; 486100, 3679900; 485900, 3679900; 485900, 3679700; 485800, 3679700; 485800, 3679600; land bounded by 481800, 3678600; 481800, 3678500; 481900, 3678500; 481900, 3678600; 481800, 3678600; land bounded by 481800, 3678600; 481800, 3678700; 481700, 3678700; 481700, 3679000; 481600, 3679000; 481600, 3679100; 481200, 3679100; 481200, 3679000; 481500, 3679000; 481500, 3678700; 481600, 3678700; 481600, 3678600; 481800, 3678600; land bounded by 482100, 3678400; 482100, 3678500; 482000, 3678500; 482000, 3678400; 482100, 3678400; land bounded by 482200, 3678300; 482200, 3678200; 482300, 3678200; 482300, 3678100; 482400, 3678100; 482400, 3678300; 482200, 3678300; land bounded by 482500, 3677900; 482500, 3677600; 482600, 3677600; 482600, 3677500; 482700, 3677500; 482700, 3677400; 482900, 3677400; 482900, 3677500; 482800, 3677500; 482800, 3677600; 482700,

3677600; 482700, 3677800; 482600, 3677800; 482600, 3677900; 482500, 3677900; land bounded by 482500, 3677900; 482500, 3678000; 482400, 3678000; 482400, 3677900; 482500, 3677900; land bounded by 485800, 3679600; 485600, 3679600; 485600, 3679500; 485800, 3679500; 485800, 3679600; land bounded by 482200, 3678300; 482200, 3678400; 482100, 3678400; 482100, 3678300; 482200, 3678300; land bounded by 478400, 3697200; 479000, 3697200; 479000, 3697100; 479100, 3697100; 479100, 3697200; 479200, 3697200; 479200, 3697300; 479300, 3697300; 479300, 3697200; 479400, 3697200; 479400, 3697000; 479200, 3697000; 479200, 3696900; 479300, 3696900; 479300, 3696800; 479200, 3696800; 479200, 3696700; 479100, 3696700; 479100, 3696600; 479300, 3696600; 479300, 3696700; 479500, 3696700; 479500, 3696800; 479600, 3696800; 479600, 3696900; 479800, 3696900; 479800, 3697000; 479900, 3697000; 479900, 3697300; 480000, 3697300; 480000, 3697400; 480100, 3697400; 480100, 3697500; 480500, 3697500; 480500, 3697700; 479500, 3697700; 479500, 3697900; 479600, 3697900; 479600, 3698300; 479700, 3698300; 479700, 3698400; 479600, 3698400; 479600, 3698500; 479400, 3698500; 479400, 3698100; 479000, 3698100; 479000, 3697900; 478900, 3697900; 478900, 3697700; 478700, 3697700; 478700, 3697600; 478500, 3697600; 478500, 3697500; 478400, 3697500; 478400, 3697200; land bounded by 484400, 3698900; 484400, 3698700; 484300, 3698700; 484300, 3698600; 484100, 3698600; 484100, 3698500; 484000, 3698500; 484000, 3698400; 483900, 3698400; 483900, 3698300; 483800, 3698300; 483800, 3698200; 483700, 3698200; 483700, 3697900; 483600, 3697900; 483600, 3697500; 483300, 3697500; 483300, 3697400; 483400, 3697400; 483400, 3697300; 483900, 3697300; 483900, 3697400; 484000, 3697400; 484000, 3697500; 484200, 3697500; 484200, 3697600; 484400, 3697600; 484400, 3697700; 484500, 3697700; 484500, 3698100; 484400, 3698100; 484400, 3698200; 484500, 3698200; 484500, 3698300; 484600, 3698300; 484600, 3698800; 484500, 3698800; 484500, 3698900; 484400, 3698900; land bounded by 481200, 3697700; 481200, 3697600; 481300, 3697600; 481300, 3697500; 481200, 3697500; 481200, 3697400; 481000, 3697400; 481000, 3697100; 481100, 3697100; 481100, 3697200; 481200, 3697200; 481200, 3697100; 481300, 3697100; 481300, 3697000; 481400, 3697000; 481400, 3697100; 481500, 3697100; 481500, 3696900; 481200, 3696900; 481200, 3696700; 481000, 3696700; 481000, 3696600; 481100, 3696600; 481100, 3696500; 481300, 3696500; 481300, 3696600; 481500, 3696600; 481500, 3696700; 481600, 3696700; 481600, 3697100; 481700, 3697100; 481700, 3697500; 482000, 3697500; 482000, 3697600; 481500, 3697600; 481500, 3697700; 481200, 3697700; land bounded by 484800, 3697000; 484800, 3696900; 484700, 3696900; 484700, 3696800; 484600, 3696800; 484600, 3696700; 484500, 3696700; 484500, 3696600; 484400, 3696600; 484400, 3696500; 484300, 3696500; 484300, 3696400; 484500, 3696400; 484500, 3696500; 484700, 3696500; 484700, 3696600; 484900, 3696600; 484900, 3696700; 485000, 3696700; 485000, 3696800; 484900, 3696800; 484900, 3697000; 484800, 3697000; land bounded by 487700, 3691000; 487700, 3690900; 487600, 3690900; 487600, 3690800; 487500, 3690800; 487500, 3689400; 487600, 3689400; 487600, 3689300; 487700, 3689300; 487700, 3689100; 487800, 3689100; 487800, 3688900; 487700, 3688900; 487700, 3688400; 487800, 3688400; 487800, 3688300; 487900, 3688300; 487900, 3688200; 488100, 3688200; 488100, 3688300; 488300, 3688300; 488300, 3688400; 488600, 3688400; 488600, 3688800; 488500, 3688800; 488500, 3688900; 488400, 3688900; 488400, 3689100; 488300, 3689100; 488300, 3689200; 488200, 3689200; 488200, 3689300; 488100, 3689300; 488100, 3689900; 488000,

3689900; 488000, 3690300; 488200, 3690300; 488200, 3690500; 487900, 3690500; 487900, 3690700; 487800, 3690700; 487800, 3691000; 487700, 3691000; land bounded by 489700, 3691000; 489700, 3690800; 489900, 3690800; 489900, 3690900; 490000, 3690900; 490000, 3691000; 489700, 3691000; land bounded by 486300, 3690400; 486300, 3690200; 486200, 3690200; 486200, 3690100; 486100, 3690100; 486100, 3690000; 486000, 3690000; 486000, 3689800; 485900, 3689800; 485900, 3689600; 486000, 3689600; 486000, 3689400; 486100, 3689400; 486100, 3689000; 486200, 3689000; 486200, 3689400; 486300, 3689400; 486300, 3689500; 486400, 3689500; 486400, 3689600; 486500, 3689600; 486500, 3689500; 486700, 3689500; 486700, 3689400; 487000, 3689400; 487000, 3689600; 486800, 3689600; 486800, 3689800; 486700, 3689800; 486700, 3690100; 486600, 3690100; 486600, 3690200; 486500, 3690200; 486500, 3690300; 486400, 3690300; 486400, 3690400; 486300, 3690400; land bounded by 484800, 3688100; 484800, 3688000; 484500, 3688000; 484500, 3687800; 484900, 3687800; 484900, 3688100; 484800, 3688100; land bounded by 487300, 3684800; 487300, 3684700; 487400, 3684700; 487400, 3684600; 487700, 3684600; 487700, 3684700; 487800, 3684700; 487800, 3684800; 487300, 3684800; land bounded by 487500, 3684200; 487500, 3683900; 487700, 3683900; 487700, 3684000; 487800, 3684000; 487800, 3684100; 487700, 3684100; 487700, 3684200; 487500, 3684200; land bounded by 479300, 3684000; 479300, 3683900; 479500, 3683900; 479500, 3684000; 479300, 3684000; land bounded by 478900, 3683900; 478900, 3683200; 479100, 3683200; 479100, 3683400; 479000, 3683400; 479000, 3683700; 479100, 3683700; 479100, 3683800; 479000, 3683800; 479000, 3683900; 478900, 3683900; land bounded by 481000, 3679900; 481000, 3679600; 481300, 3679600; 481300, 3679900; 481000, 3679900; land bounded by 485200, 3677900; 485200, 3677800; 485300, 3677800; 485300, 3677700; 485500, 3677700; 485500, 3677800; 485400, 3677800; 485400, 3677900; 485200, 3677900; land bounded by 485600, 3677700; 485600, 3677600; 485900, 3677600; 485900, 3677700; 485600, 3677700; and land bounded by 486400, 3677700; 486400, 3677600; 486500, 3677600; 486500, 3677200; 486600, 3677200; 486600, 3676800; 486700, 3676800; 486700, 3676400; 486800, 3676400; 486800, 3676100; 486900, 3676100; 486900, 3675800; 487000, 3675800; 487000, 3675600; 487200, 3675600; 487200, 3675800; 487300, 3675800; 487300, 3676700; 487200, 3676700; 487200, 3677400; 487000, 3677400; 487000, 3677300; 486800, 3677300; 486800, 3677400; 486700, 3677400; 486700, 3677500; 486600, 3677500; 486600, 3677700; 486400, 3677700.

Land bounded by the following UTM NAD27 coordinates (E, N): 494200, 3691100; 494700, 3691100; 494700, 3691000; 494800, 3691000; 494800, 3690500; 494700, 3690500; 494700, 3690400; 494600, 3690400; 494600, 3690300; 494500, 3690300; 494500, 3690100; 494600, 3690100; 494600, 3690000; 494800, 3690000; 494800, 3689600; 494700, 3689600; 494700, 3689500; 494500, 3689500; 494500, 3689400; 493900, 3689400; 493900, 3689500; 493800, 3689500; 493800, 3689700; 493700, 3689700; 493700, 3689900; 493600, 3689900; 493600, 3690100; 493500, 3690100; 493500, 3690400; 493700, 3690400; 493700, 3690500; 493800, 3690500; 493800, 3690600; 493900, 3690600; 493900, 3690700; 494000, 3690700; 494000, 3690800; 494100, 3690800; 494100, 3691000; 494200, 3691000; returning to 494200, 3691100.

Land bounded by the following UTM NAD27 coordinates (E, N): 483200, 3681200; 484000, 3681200; 484000, 3681100; 484100, 3681100; 484100, 3681000; 484200, 3681000; 484200, 3680900; 484300, 3680900; 484300, 3679900; 483700, 3679900; 483700, 3680300; 483100, 3680300; 483100, 3681000; 483200, 3681000; returning to 483200, 3681200.

Land bounded by the following UTM NAD27 coordinates (E, N): 490400, 3675200; 491500, 3675200; 491500, 3675100; 492200, 3675100; 492200, 3674900; 492100, 3674900; 492100, 3674500; 491700, 3674500; 490100, 3674500; 490100, 3674600; 490200, 3674600; 490200, 3674900; 490300, 3674900; 490300, 3675000; 490400, 3675000; returning to 490400, 3675200.

Land bounded by the following UTM NAD27 coordinates (E, N): 510400, 3660000; 510400, 3659000; 510300, 3659000; 510300, 3658900; 510600, 3658900; 510600, 3659000; 510900, 3659000; 510900, 3658900; 511100, 3658900; 511100, 3658800; 511400, 3658800; 511400, 3658700; 511500, 3658700; 511500, 3658600; 511600, 3658600; 511600, 3658500; 511700, 3658500; 511700, 3658000; 511100, 3658000; 511100, 3657500; 511000, 3657500; 511000, 3657400; 510200, 3657400; 510200, 3657100; 509700, 3657100; 509700, 3656900; 509800, 3656900; 509800, 3656800; 509200, 3656800; 509200, 3656700; 505200, 3656700; 505200, 3658400; 508800, 3658400; 508800, 3658700; 508400, 3658700; 508400; then north to the MHPA; then north and east along the MHPA to y-coordinate 3660000; then east along y-coordinate 3660000 to the MHPA; the eastward along the MHPA to y-coordinate 3660000; returning to 510400, 3660000.

(ii) Note: Map of Unit 5 follows.

(10) Unit 6: Southern Orange Co./Northwestern San Diego Co., California.

(i) From USGS 1:100,000 quadrangle maps Oceanside and Santa Ana, California, land bounded by the following UTM NAD27 coordinates (E, N): 445500, 3704000; 445100, 3704000; 445100, 3704800; 443600, 3704800; 443600, 3702000; 443300, 3702000; 443300, 3701900; 443200, 3701900; 443200, 3701700; 443300, 3701700; 443300, 3701600; 443400, 3701600; 443400, 3701400; 443500, 3701400; 443500, 3701000; 443700, 3701000; 443700, 3700900; 443800, 3700900; 443800, 3701000; 444000, 3701000; 444000, 3701100; 444200, 3701100; 444200, 3700800; 444100, 3700800; 444100, 3700500; 443900, 3700500; 443900, 3700400; 443700, 3700400; 443700, 3700300; 443800, 3700300; 443800, 3700200; 444000, 3700200; 444000, 3700100; 444300, 3700100; 444300, 3700000; 444400, 3700000; 444400, 3699900; 444500, 3699900; 444500, 3699800; 444700, 3699800; 444700, 3699600; 444800, 3699600; 444800, 3699500; 445100, 3699500; 445100, 3700000; 445200, 3700000; 445200, 3700100; 445300, 3700100; 445300, 3700300; 445200, 3700300; 445200, 3700500; 445300, 3700500; 445300, 3700600; 445700, 3700600; 445700, 3700100; 445800, 3700100; 445800, 3699900; thence east to Orange/San Diego county line at y-coordinate 3699900; thence southwest along county line to y-coordinate 3697600; thence west and following coordinates: 445300, 3697600; 445300, 3697700; 445100, 3697700; 445100, 3698100; 445000, 3698100; 445000, 3698200; 444900, 3698200; 444900, 3698300; 444800, 3698300; 444800, 3698400; 444700, 3698400; 444700, 3698600; 444600, 3698600; 444600, 3698900; 444500, 3698900; 444500, 3699000; 444400, 3699000; 444400, 3699200; 444100, 3699200; 444100, 3699400; 443900, 3699400; 443900, 3699500; 443800, 3699500; 443800, 3699600; 443700, 3699600; 443700, 3699800; 443600, 3699800; 443600, 3700000; 443500, 3700000; 443500, 3700100; 443200, 3700100; 443200, 3700200; 443000, 3700200; 443000, 3700400; 442900, 3700400; 442900, 3700300; 442800, 3700300; 442800, 3700200; 442700, 3700200; 442700, 3700100; 442600, 3700100; 442600, 3700000; 442300, 3700000; 442300, 3700500; 442500, 3700500; 442500, 3700700; 442400, 3700700; 442400, 3701200; 442500, 3701200; 442500, 3701400; 442700, 3701400; 442700, 3701700; 442500, 3701700; 442500, 3701600; 441900, 3701600; 441900, 3702300; 442100, 3702300; 442100, 3702400; 442200, 3702400; 442200, 3702600; 442100, 3702600; 442100, 3703100; 442200, 3703100; 442200, 3703000; 442500, 3703000; 442500, 3702900; 442600, 3702900; 442600, 3703000; 442700, 3703000; 442700, 3703100; 442800, 3703100; 442800, 3703200; 442900, 3703200; 442900, 3703300; 442800, 3703300; 442800, 3703400; 442700, 3703400; 442700, 3703600; 442800, 3703600; 442800, 3703700; 442900, 3703700; 442900, 3703800; 443000, 3703800; 443000, 3703700; 443200, 3703700; 443200, 3703800; 443100, 3703800; 443100, 3703900; 443200, 3703900; 443200, 3704000; 443100, 3704000; 443100, 3704100; 442800, 3704100; 442800, 3704200; 442400, 3704200; 442400, 3704300; 442100, 3704300; 442100, 3704200; 441900, 3704200; 441900, 3704300; 441700, 3704300; 441700, 3704200; 441400, 3704200; 441400, 3704300; 441200, 3704300; 441200, 3704400; 441100, 3704400; 441100, 3704500; 441000, 3704500; 441000, 3704300; 441100, 3704300; 441100, 3704000; 441000, 3704000; 441000, 3703900; 440800, 3703900; 440800, 3704000; 440700, 3704000; 440700, 3703800; 440600, 3703800; 440600, 3703500; 440500, 3703500; 440500, 3703100; 440600, 3703100; 440600, 3702700; 440400, 3702700; 440400, 3702800; 440200, 3702800; 440200, 3702900; 440000, 3702900; 440000, 3703000; 439900, 3703000; 439900, 3702800; 439400, 3702800; 439400, 3702900; 439300, 3702900; 439300, 3703000; 439200, 3703000; 439200, 3703200; 439100, 3703200; 439100, 3703100; 438900, 3703100; 438900,

3703200; 438800, 3703200; 438800, 3703100; 438700, 3703100; 438700, 3703200; 438600, 3703200; 438600, 3703300; 438800, 3703300; 438800, 3703400; 439700, 3703400; 439700, 3703500; 440000, 3703500; 440000, 3703600; 440200, 3703600; 440200, 3703700; 440100, 3703700; 440100, 3703800; 440000, 3703800; 440000, 3703700; 439100, 3703700; 439100, 3704300; 439000, 3704300; 439000, 3704200; 438900, 3704200; 438900, 3704300; 438700, 3704300; 438700, 3704200; 438600, 3704200; 438600, 3703900; 438500, 3703900; 438500, 3703800; 438300, 3703800; 438300, 3703700; 438100, 3703700; 438100, 3703600; 437900, 3703600; 437900, 3703500; 437800, 3703500; 437800, 3703400; 437700, 3703400; 437700, 3703500; 437600, 3703500; 437600, 3703700; 437700, 3703700; 437700, 3703800; 437400, 3703800; 437400, 3704200; 437500, 3704200; 437500, 3704300; 437700, 3704300; 437700, 3704400; 437800, 3704400; 437800, 3704500; 437900, 3704500; 437900, 3704900; 438100, 3704900; 438100, 3705000; 438400, 3705000; 438400, 3705100; 438500, 3705100; 438500, 3705300; 438600, 3705300; 438600, 3705400; 438500, 3705400; 438500, 3705700; 438600, 3705700; 438600, 3705800; 438800, 3705800; 438800, 3705600; 438900, 3705600; 438900, 3705500; 439000, 3705500; 439000, 3705400; 439100, 3705400; 439100, 3705300; 439300, 3705300; 439300, 3705400; 439400, 3705400; 439400, 3705500; 439500, 3705500; 439500, 3705400; 439600, 3705400; 439600, 3705300; 439800, 3705300; 439800, 3705700; 439900, 3705700; 439900, 3705900; 439800, 3705900; 439800, 3706100; 439900, 3706100; 439900, 3706200; 440100, 3706200; 440100, 3706400; 440200, 3706400; 440200, 3706700; 440700, 3706700; 440700, 3706600; 440800, 3706600; 440800, 3706500; 440900, 3706500; 440900, 3706400; 441000, 3706400; 441000, 3706500; 441100, 3706500; 441100, 3706600; 441300, 3706600; 441300, 3706800; 441000, 3706800; 441000, 3707000; 440900, 3707000; 440900, 3707300; 441100, 3707300; 441100, 3707200; 441300, 3707200; 441300, 3707400; 441400, 3707400; 441400, 3707700; 441600, 3707700; 441600, 3707600; 441700, 3707600; 441700, 3707500; 441800, 3707500; 441800, 3707800; 441900, 3707800; 441900, 3707900; 442000, 3707900; 442000, 3708200; 442100, 3708200; 442100, 3708400; 442300, 3708400; 442300, 3708500; 442400, 3708500; 442400, 3708600; 442500, 3708600; 442500, 3708700; 442700, 3708700; 442700, 3708900; 442800, 3708900; 442800, 3709000; 442900, 3709000; 442900, 3709100; 442500, 3709100; 442500, 3709400; 442600, 3709400; 442600, 3709800; 442700, 3709800; 442700, 3710000; 442600, 3710000; 442600, 3710100; 442500, 3710100; 442500, 3710500; 442400, 3710500; 442400, 3710900; 442300, 3710900; 442300, 3711200; 442200, 3711200; 442200, 3711800; 442100, 3711800; 442100, 3712400; 442000, 3712400; 442000, 3712800; 441900, 3712800; 441900, 3713200; 441800, 3713200; 441800, 3713500; 441900, 3713500; 441900, 3713600; 442000, 3713600; 442000, 3714000; 441900, 3714000; 441900, 3714100; 441800, 3714100; 441800, 3714300; 441900, 3714300; 441900, 3714500; 441700, 3714500; 441700, 3714600; 441400, 3714600; 441400, 3714700; 441300, 3714700; 441300, 3714900; 441200, 3714900; 441200, 3715000; 441000, 3715000; 441000, 3714900; 440900, 3714900; 440900, 3714800; 440700, 3714800; 440700, 3714700; 440600, 3714700; 440600, 3714500; 440500, 3714500; 440500, 3714300; 440400, 3714300; 440400, 3714200; 440100, 3714200; 440100, 3714100; 440000, 3714100; 440000, 3713800; 439900, 3713800; 439900, 3713400; 440000, 3713400; 440000, 3713300; 440200, 3713300; 440200, 3712800; 440300, 3712800; 440300, 3712700; 440400, 3712700; 440400, 3712400; 440300, 3712400; 440300, 3712100; 440200, 3712100; 440200, 3711800; 440100, 3711800; 440100, 3711500; 440200, 3711500; 440200, 3710200; 440100, 3710200; 440100, 3710100; 440000, 3710100; 440000,

3709700; 439700, 3709700; 439700, 3709800; 439600, 3709800; 439600, 3709900; 439500, 3709900; 439500, 3710000; 439400, 3710000; 439400, 3709700; 439300, 3709700; 439300, 3709500; 439400, 3709500; 439400, 3709000; 439200, 3709000; 439200, 3708800; 438800, 3708800; 438800, 3708600; 438600, 3708600; 438600, 3708700; 438500, 3708700; 438500, 3708800; 438300, 3708800; 438300, 3708900; 438400, 3708900; 438400, 3709200; 438600, 3709200; 438600, 3709300; 438800, 3709300; 438800, 3709400; 439000, 3709400; 439000, 3709600; 438700, 3709600; 438700, 3709500; 438600, 3709500; 438600, 3709400; 438400, 3709400; 438400, 3709300; 438300, 3709300; 438300, 3709400; 438100, 3709400; 438100, 3709600; 438200, 3709600; 438200, 3709700; 438300, 3709700; 438300, 3709800; 438100, 3709800; 438100, 3709900; 438000, 3709900; 438000, 3709800; 437800, 3709800; 437800, 3709900; 437700, 3709900; 437700, 3710000; 437600, 3710000; 437600, 3710100; 437900, 3710100; 437900, 3710200; 438000, 3710200; 438000, 3710300; 438100, 3710300; 438100, 3710700; 438200, 3710700; 438200, 3710800; 438300, 3710800; 438300, 3710900; 438500, 3710900; 438500, 3711100; 438600, 3711100; 438600, 3711300; 438400, 3711300; 438400, 3711600; 438500, 3711600; 438500, 3711900; 438600, 3711900; 438600, 3712800; 438700, 3712800; 438700, 3712900; 438800, 3712900; 438800, 3713000; 438900, 3713000; 438900, 3713100; 439000, 3713100; 439000, 3713200; 439100, 3713200; 439100, 3713400; 439200, 3713400; 439200, 3713600; 439300, 3713600; 439300, 3714000; 439400, 3714000; 439400, 3714200; 439500, 3714200; 439500, 3714500; 439600, 3714500; 439600, 3714600; 439700, 3714600; 439700, 3714700; 439800, 3714700; 439800, 3714800; 439900, 3714800; 439900, 3714900; 440000, 3714900; 440000, 3715100; 440100, 3715100; 440100, 3715200; 440200, 3715200; 440200, 3715400; 440300, 3715400; 440300, 3715500; 440400, 3715500; 440400, 3715800; 440500, 3715800; 440500, 3716100; 440600, 3716100; 440600, 3716400; 440700, 3716400; 440700, 3716500; 440800, 3716500; 440800, 3716700; 440700, 3716700; 440700, 3716800; 440600, 3716800; 440600, 3717000; 440700, 3717000; 440700, 3717100; 440600, 3717100; 440600, 3717200; 440700, 3717200; 440700, 3717500; 440800, 3717500; 440800, 3717600; 441000, 3717600; 441000, 3717700; 441100, 3717700; 441100, 3717900; 441200, 3717900; 441200, 3718400; 441300, 3718400; 441300, 3718500; 441400, 3718500; 441400, 3718900; 441600, 3718900; 441600, 3719300; 441800, 3719300; 441800, 3720100; 441900, 3720100; 441900, 3721400; 442100, 3721400; 442100, 3721500; 442200, 3721500; 442200, 3721600; 442300, 3721600; 442300, 3721700; 442400, 3721700; 442400, 3721800; 442500, 3721800; 442500, 3721900; 442600, 3721900; 442600, 3722100; 442500, 3722100; 442500, 3722200; 442400, 3722200; 442400, 3722500; 442700, 3722500; 442700, 3722600; 442800, 3722600; 442800, 3722800; 443200, 3722800; 443200, 3722700; 443300, 3722700; 443300, 3723100; 443400, 3723100; 443400, 3723200; 443500, 3723200; 443500, 3723300; 443600, 3723300; 443600, 3723600; 443400, 3723600; 443400, 3723700; 443300, 3723700; 443300, 3724300; 443400, 3724300; 443400, 3724400; 443500, 3724400; 443500, 3724500; 443600, 3724500; 443600, 3724700; 443500, 3724700; 443500, 3724800; 443400, 3724800; 443400, 3724900; 443000, 3724900; 443000, 3724700; 442900, 3724700; 442900, 3724600; 442800, 3724600; 442800, 3724400; 442700, 3724400; 442700, 3724300; 442400, 3724300; 442400, 3724200; 442300, 3724200; 442300, 3724000; 442200, 3724000; 442200, 3723900; 442100, 3723900; 442100, 3724100; 441900, 3724100; 441900, 3724200; 442000, 3724200; 442000, 3724300; 442100, 3724300; 442100, 3724600; 442300, 3724600; 442300, 3724800; 442400, 3724800; 442400, 3724900; 442600, 3724900; 442600, 3725000; 442700, 3725000; 442700,

3725200; 442800, 3725200; 442800, 3725300; 442700, 3725300; 442700, 3725400; 442800, 3725400; 442800, 3725900; 442600, 3725900; 442600, 3726000; 442300, 3726000; thence north to the Central Orange County NCCP reserve boundary at x-coordinate 442300; thence north along the NCCP reserve boundary to x-coordinate 442300; thence north and following coordinates: 442300, 3727200; 442200, 3727200; 442200, 3727300; 442100, 3727300; 442100, 3727500; 441900, 3727500; 441900, 3727600; 441800, 3727600; thence north to the NCCP reserve boundary at x-coordinate 441800; thence east along NCCP reserve boundary to y-coordinate 3727900; thence east and following coordinates: 442100, 3727900; 442100, 3727800; 442700, 3727800; 442700, 3728200; 442800, 3728200; 442800, 3728300; 443100, 3728300; 443100, 3728200; 443300, 3728200; 443300, 3728100; 443400, 3728100; 443400, 3728000; 443600, 3728000; 443600, 3727900; 443700, 3727900; 443700, 3727800; 443800, 3727800; 443800, 3727600; 443900, 3727600; 443900, 3727500; 444000, 3727500; 444000, 3727400; 444100, 3727400; 444100, 3727300; 444200, 3727300; 444200, 3727200; 444600, 3727200; 444600, 3727100; 444700, 3727100; 444700, 3727000; 444900, 3727000; 444900, 3726900; 445000, 3726900; 445000, 3726800; 445100, 3726800; 445100, 3726700; 445200, 3726700; 445200, 3726600; 445500, 3726600; 445500, 3726700; 445600, 3726700; 445600, 3726800; 445800, 3726800; 445800, 3726900; 446800, 3726900; 446800, 3726800; 447300, 3726800; 447300, 3726700; 447600, 3726700; 447600, 3726600; 447700, 3726600; 447700, 3726500; 447900, 3726500; 447900, 3726400; 448000, 3726400; 448000, 3726300; 448100, 3726300; 448100, 3726200; 448200, 3726200; 448200, 3726100; 448300, 3726100; 448300, 3726000; 448400, 3726000; 448400, 3725400; 448300, 3725400; 448300, 3725300; 448400, 3725300; 448400, 3725100; 448200, 3725100; 448200, 3725000; 448100, 3725000; 448100, 3724900; 448000, 3724900; 448000, 3724800; 447300, 3724800; 447300, 3724700; 447200, 3724700; 447200, 3724600; 447100, 3724600; 447100, 3724500; 446900, 3724500; 446900, 3724400; 446800, 3724400; 446800, 3724300; 446500, 3724300; 446500, 3724100; 446300, 3724100; 446300, 3724200; 446100, 3724200; 446100, 3724100; 445900, 3724100; 445900, 3724000; 445600, 3724000; 445600, 3723900; 445400, 3723900; 445400, 3723800; 445300, 3723800; 445300, 3723700; 445200, 3723700; 445200, 3723600; 445100, 3723600; 445100, 3723500; 445000, 3723500; 445000, 3723400; 444800, 3723400; 444800, 3723300; 444700, 3723300; 444700, 3723200; 444600, 3723200; 444600, 3723100; 444500, 3723100; 444500, 3722800; 444200, 3722800; 444200, 3722700; 444100, 3722700; 444100, 3722600; 444000, 3722600; 444000, 3722500; 443900, 3722500; 443900, 3722400; 443800, 3722400; 443800, 3722300; 443600, 3722300; 443600, 3722100; 443500, 3722100; 443500, 3722000; 443300, 3722000; 443300, 3721900; 443200, 3721900; 443200, 3721800; 443600, 3721800; 443600, 3721700; 443700, 3721700; 443700, 3721500; 443600, 3721500; 443600, 3721400; 443500, 3721400; 443500, 3721200; 443400, 3721200; 443400, 3721000; 443300, 3721000; 443300, 3720800; 442800, 3720800; 442800, 3720700; 442700, 3720700; 442700, 3720600; 442600, 3720600; 442600, 3720400; 442500, 3720400; 442500, 3720200; 442400, 3720200; 442400, 3720100; 442500, 3720100; 442500, 3719400; 442400, 3719400; 442400, 3719300; 442300, 3719300; 442300, 3718800; 442500, 3718800; 442500, 3718900; 442600, 3718900; 442600, 3719000; 442800, 3719000; 442800, 3719100; 442900, 3719100; 442900, 3719300; 443000, 3719300; 443000, 3719400; 443100, 3719400; 443100, 3719500; 443200, 3719500; 443200, 3719700; 443400, 3719700; 443400, 3719900; 443500, 3719900; 443500, 3720000; 443600, 3720000; 443600, 3720200; 443700, 3720200; 443700, 3720300; 443800, 3720300; 443800, 3720400;

443900, 3720400; 443900, 3720500; 444000, 3720500; 444000, 3720600; 444200, 3720600; 444200, 3720700; 444300, 3720700; 444300, 3720900; 444500, 3720900; 444500, 3721000; 444600, 3721000; 444600, 3721100; 444700, 3721100; 444700, 3721200; 444800, 3721200; 444800, 3721300; 444900, 3721300; 444900, 3721400; 445000, 3721400; 445000, 3721500; 445100, 3721500; 445100, 3721600; 445200, 3721600; 445200, 3721800; 445500, 3721800; 445500, 3721900; 445600, 3721900; 445600, 3722100; 445800, 3722100; 445800, 3722300; 446000, 3722300; 446000, 3722400; 446200, 3722400; 446200, 3722500; 446300, 3722500; 446300, 3722600; 446400, 3722600; 446400, 3722500; 446600, 3722500; 446600, 3722300; 446800, 3722300; 446800, 3722100; 446900, 3722100; 446900, 3721600; 447000, 3721600; 447000, 3721200; 447100, 3721200; 447100, 3721100; 447200, 3721100; 447200, 3720100; 447300, 3720100; 447300, 3719900; 447400, 3719900; 447400, 3719800; 447500, 3719800; 447500, 3719900; 447700, 3719900; 447700, 3719800; 447800, 3719800; 447800, 3719700; 447900, 3719700; 447900, 3718900; 447800, 3718900; 447800, 3718300; 447700, 3718300; 447700, 3717900; 447600, 3717900; 447600, 3717300; 447500, 3717300; 447500, 3716100; 447400, 3716100; 447400, 3715600; 447500, 3715600; 447500, 3715100; 447600, 3715100; 447600, 3713900; 447700, 3713900; 447700, 3712600; 447800, 3712600; 447800, 3712300; 447900, 3712300; 447900, 3712100; 448000, 3712100; 448000, 3711900; 448100, 3711900; 448100, 3711700; 448200, 3711700; 448200, 3711500; 448300, 3711500; 448300, 3711300; 448400, 3711300; 448400, 3711000; 448500, 3711000; 448500, 3710800; 448600, 3710800; 448600, 3710600; 448700, 3710600; 448700, 3710300; 448800, 3710300; 448800, 3710100; 448700, 3710100; 448700, 3710000; 448600, 3710000; 448600, 3709800; 448500, 3709800; 448500, 3709700; 448400, 3709700; 448400, 3709400; 448300, 3709400; 448300, 3709300; 448800, 3709300; 448800, 3709200; 449000, 3709200; 449000, 3709100; 449100, 3709100; 449100, 3709000; 449200, 3709000; 449200, 3707700; 449100, 3707700; 449100, 3707200; 449000, 3707200; 449000, 3707100; 449100, 3707100; 449100, 3706800; 449000, 3706800; 449000, 3706300; 449100, 3706300; 449100, 3705900; 449200, 3705900; 449200, 3705700; 449300, 3705700; 449300, 3705600; 449400, 3705600; 449400, 3705200; 449300, 3705200; 449300, 3705000; 449200, 3705000; 449200, 3704500; 449100, 3704500; 449100, 3703400; 449200, 3703400; 449200, 3703200; 449300, 3703200; 449300, 3703100; 449500, 3703100; 449500, 3703000; 450000, 3703000; 450000, 3702900; 450100, 3702900; 450100, 3702200; 450000, 3702200; thence south to the Orange/San Diego county line at x-coordinate 450000; thence west along county line to x-coordinate 446000; thence north and following coordinates: 446000, 3701500; 446000, 3701600; 445400, 3701600; 445400, 3701700; 445100, 3701700; 445100, 3701900; 445500, 3701900; 445500, 3702100; 445700, 3702100; 445700, 3702000; 446100, 3702000; 446100, 3701800; 446600, 3701800; 446600, 3701900; 446700, 3701900; 446700, 3702000; 446800, 3702000; 446800, 3702200; 446900, 3702200; 446900, 3702300; 446800, 3702300; 446800, 3702400; 446600, 3702400; 446600, 3702500; 446400, 3702500; 446400, 3702600; 446300, 3702600; 446300, 3702700; 446200, 3702700; 446200, 3702900; 446300, 3702900; 446300, 3703500; 446200, 3703500; 446200, 3703200; 446100, 3703200; 446100, 3703100; 446000, 3703100; 446000, 3703500; 445500, 3703500; 445500, 3703600; 445400, 3703600; 445400, 3703900; 445500, 3703900; returning to 445500, 3704000; excluding land bounded by 446400, 3715200; 446500, 3715200; 446500, 3715300; 446400, 3715300; 446400, 3715200; land bounded by 442000, 3713600; 442000, 3713500; 442100, 3713500; 442100, 3713600; 442000, 3713600; land bounded by 438400, 3710000; 438500, 3710000;

438500, 3710100; 438400, 3710100; 438400, 3710000; land bounded by 438400, 3710000; 438300, 3710000; 438300, 3709900; 438400, 3709900; 438400, 3710000; land bounded by 440100, 3706200; 440100, 3706100; 440200, 3706100; 440200, 3705900; 440400, 3705900; 440400, 3706100; 440300, 3706100; 440300, 3706200; 440100, 3706200; land bounded by 440500, 3705700; 440500, 3705800; 440400, 3705800; 440400, 3705700; 440500, 3705700; land bounded by 441000, 3705100; 441000, 3705000; 441100, 3705000; 441100, 3705100; 441000, 3705100; land bounded by 446100, 3704400; 446200, 3704400; 446200, 3704500; 446100, 3704500; 446100, 3704400; land bounded by 444400, 3699200; 444500, 3699200; 444500, 3699300; 444400, 3699300; 444400, 3699200; land bounded by 446400, 3715200; 446300, 3715200; 446300, 3715500; 446400, 3715500; 446400, 3715600; 446300, 3715600; 446300, 3715800; 446500, 3715800; 446500, 3715900; 446200, 3715900; 446200, 3716100; 446300, 3716100; 446300, 3716200; 446400, 3716200; 446400, 3716300; 446200, 3716300; 446200, 3716400; 446100, 3716400; 446100, 3716600; 446200, 3716600; 446200, 3716900; 446300, 3716900; 446300, 3717300; 446400, 3717300; 446400, 3717400; 446500, 3717400; 446500, 3717500; 446400, 3717500; 446400, 3717900; 446500, 3717900; 446500, 3718500; 446400, 3718500; 446400, 3718600; 446100, 3718600; 446100, 3718800; 446700, 3718800; 446700, 3718900; 446900, 3718900; 446900, 3719200; 447000, 3719200; 447000, 3719300; 446700, 3719300; 446700, 3719200; 446400, 3719200; 446400, 3719300; 446000, 3719300; 446000, 3719500; 446100, 3719500; 446100, 3719600; 446300, 3719600; 446300, 3719700; 446600, 3719700; 446600, 3719600; 446700, 3719600; 446700, 3719700; 446900, 3719700; 446900, 3720000; 446800, 3720000; 446800, 3720100; 446700, 3720100; 446700, 3720500; 446800, 3720500; 446800, 3720600; 446600, 3720600; 446600, 3720800; 446400, 3720800; 446400, 3720900; 446300, 3720900; 446300, 3721000; 446400, 3721000; 446400, 3721100; 446500, 3721100; 446500, 3721300; 446600, 3721300; 446600, 3721400; 446400, 3721400; 446400, 3721800; 446500, 3721800; 446500, 3721900; 446400, 3721900; 446400, 3722000; 446300, 3722000; 446300, 3721700; 446100, 3721700; 446100, 3722000; 446000, 3722000; 446000, 3721900; 445900, 3721900; 445900, 3721700; 445700, 3721700; 445700, 3721000; 445800, 3721000; 445800, 3720800; 445400, 3720800; 445400, 3720600; 445600, 3720600; 445600, 3720500; 445700, 3720500; 445700, 3720300; 445400, 3720300; 445400, 3720100; 445600, 3720100; 445600, 3720000; 445700, 3720000; 445700, 3719800; 445500, 3719800; 445500, 3719500; 445200, 3719500; 445200, 3719300; 445100, 3719300; 445100, 3719100; 445300, 3719100; 445300, 3719000; 445400, 3719000; 445400, 3718900; 445600, 3718900; 445600, 3718700; 445700, 3718700; 445700, 3718400; 445500, 3718400; 445500, 3718300; 445400, 3718300; 445400, 3718100; 445500, 3718100; 445500, 3718000; 445300, 3718000; 445300, 3717900; 445400, 3717900; 445400, 3717500; 445500, 3717500; 445500, 3717400; 445600, 3717400; 445600, 3717200; 445700, 3717200; 445700, 3717100; 445600, 3717100; 445600, 3717000; 445700, 3717000; 445700, 3716900; 445400, 3716900; 445400, 3716800; 445500, 3716800; 445500, 3716600; 445600, 3716600; 445600, 3716100; 445500, 3716100; 445500, 3715100; 445400, 3715100; 445400, 3715200; 445300, 3715200; 445300, 3715800; 445200, 3715800; 445200, 3716200; 445100, 3716200; 445100, 3716600; 445000, 3716600; 445000, 3717200; 444500, 3717200; 444500, 3717100; 444400, 3717100; 444400, 3716800; 444500, 3716800; 444500, 3716600; 444700, 3716600; 444700, 3716400; 444800, 3716400; 444800, 3716300; 444700, 3716300; 444700, 3716200; 444600, 3716200; 444600, 3715900; 444700, 3715900; 444700, 3715800; 445000, 3715800; 445000, 3715700; 445100, 3715700;

445100, 3715300; 445200, 3715300; 445200, 3715000; 445300, 3715000; 445300, 3714800; 445200, 3714800; 445200, 3714500; 445100, 3714500; 445100, 3714400; 445200, 3714400; 445200, 3714100; 445000, 3714100; 445000, 3714200; 444700, 3714200; 444700, 3714300; 444500, 3714300; 444500, 3714100; 444600, 3714100; 444600, 3714000; 444900, 3714000; 444900, 3713700; 445000, 3713700; 445000, 3713400; 445400, 3713400; 445400, 3713800; 445800, 3713800; 445800, 3713500; 445700, 3713500; 445700, 3713400; 446200, 3713400; 446200, 3713800; 446300, 3713800; 446300, 3713900; 446400, 3713900; 446400, 3714100; 446500, 3714100; 446500, 3714300; 446300, 3714300; 446300, 3714500; 446400, 3714500; 446400, 3714600; 446500, 3714600; 446500, 3714700; 446300, 3714700; 446300, 3714800; 446200, 3714800; 446200, 3714900; 446300, 3714900; 446300, 3715000; 446500, 3715000; 446500, 3715100; 446400, 3715100; 446400, 3715200; land bounded by 440600, 3705600; 440600, 3705700; 440500, 3705700; 440500, 3705600; 440600, 3705600; land bounded by 446000, 3704300; 446100, 3704300; 446100, 3704400; 446000, 3704400; 446000, 3704300; land bounded by 440600, 3705600; 440600, 3705300; 440500, 3705300; 440500, 3705100; 440600, 3705100; 440600, 3705000; 440700, 3705000; 440700, 3705100; 441000, 3705100; 441000, 3705400; 440900, 3705400; 440900, 3705500; 440700, 3705500; 440700, 3705600; 440600, 3705600; land bounded by 445600, 3704100; 445800, 3704100; 445800, 3704200; 446000, 3704200; 446000, 3704300; 445700, 3704300; 445700, 3704200; 445600, 3704200; 445600, 3704100; land bounded by 445000, 3717200; 445100, 3717200; 445100, 3717400; 445000, 3717400; 445000, 3717200; land bounded by 445500, 3704000; 445600, 3704000; 445600, 3704100; 445500, 3704100; 445500, 3704000; land bounded by 442300, 3717500; 442300, 3717400; 442200, 3717400; 442200, 3717300; 441900, 3717300; 441900, 3716800; 441800, 3716800; 441800, 3716700; 441700, 3716700; 441700, 3716600; 441500, 3716600; 441500, 3716400; 441600, 3716400; 441600, 3716300; 441500, 3716300; 441500, 3716100; 441400, 3716100; 441400, 3716000; 441300, 3716000; 441300, 3715700; 441700, 3715700; 441700, 3715600; 442100, 3715600; 442100, 3715700; 442400, 3715700; 442400, 3715900; 442500, 3715900; 442500, 3716300; 442400, 3716300; 442400, 3716400; 442500, 3716400; 442500, 3716700; 442600, 3716700; 442600, 3716800; 442500, 3716800; 442500, 3717500; 442300, 3717500; land bounded by 447800, 3710200; 447800, 3709400; 447900, 3709400; 447900, 3709500; 448000, 3709500; 448000, 3709600; 447900, 3709600; 447900, 3710200; 447800, 3710200; land bounded by 447300, 3709900; 447300, 3709700; 447200, 3709700; 447200, 3709500; 447300, 3709500; 447300, 3709300; 447400, 3709300; 447400, 3709600; 447500, 3709600; 447500, 3709900; 447300, 3709900; land bounded by 446200, 3709800; 446200, 3709700; 446100, 3709700; 446100, 3709600; 446200, 3709600; 446200, 3709500; 446100, 3709500; 446100, 3709400; 446000, 3709400; 446000, 3709500; 445400, 3709500; 445400, 3709400; 445300, 3709400; 445300, 3709300; 445200, 3709300; 445200, 3709200; 445000, 3709200; 445000, 3709100; 444700, 3709100; 444700, 3709000; 444600, 3709000; 444600, 3708900; 445000, 3708900; 445000, 3708800; 445200, 3708800; 445200, 3708700; 445300, 3708700; 445300, 3708600; 445600, 3708600; 445600, 3708700; 446000, 3708700; 446000, 3708600; 446500, 3708600; 446500, 3708700; 447000, 3708700; 447000, 3708800; 447300, 3708800; 447300, 3708900; 446900, 3708900; 446900, 3709200; 446800, 3709200; 446800, 3709300; 446900, 3709300; 446900, 3709500; 446800, 3709500; 446800, 3709700; 446600, 3709700; 446600, 3709300; 446300, 3709300; 446300, 3709500; 446400, 3709500; 446400, 3709600; 446300, 3709600; 446300, 3709800; 446200, 3709800; land bounded by

447000, 3709200; 447000, 3709100; 447300, 3709100; 447300, 3709200; 447000, 3709200; land bounded by 444100, 3708700; 444100, 3708500; 444200, 3708500; 444200, 3708300; 444300, 3708300; 444300, 3708100; 444400, 3708100; 444400, 3707800; 444500, 3707800; 444500, 3707400; 444600, 3707400; 444600, 3707100; 444700, 3707100; 444700, 3706900; 444800, 3706900; 444800, 3706700; 444900, 3706700; 444900, 3706500; 445000, 3706500; 445000, 3706300; 445100, 3706300; 445100, 3706100; 445200, 3706100; 445200, 3705800; 445300, 3705800; 445300, 3705700; 445400, 3705700; 445400, 3705800; 445500, 3705800; 445500, 3705900; 445600, 3705900; 445600, 3706000; 445700, 3706000; 445700, 3706100; 445900, 3706100; 445900, 3706200; 446000, 3706200; 446000, 3706400; 446100, 3706400; 446100, 3706500; 446200, 3706500; 446200, 3706600; 446400, 3706600; 446400, 3706700; 446500, 3706700; 446500, 3706800; 446600, 3706800; 446600, 3706900; 446700, 3706900; 446700, 3707000; 446600, 3707000; 446600, 3707100; 446500, 3707100; 446500, 3707200; 446300, 3707200; 446300, 3707300; 446200, 3707300; 446200, 3707400; 446100, 3707400; 446100, 3707700; 446200, 3707700; 446200, 3707900; 446100, 3707900; 446100, 3708000; 445700, 3708000; 445700, 3708100; 445300, 3708100; 445300, 3708200; 445100, 3708200; 445100, 3708300; 444900, 3708300; 444900, 3708400; 444700, 3708400; 444700, 3708500; 444400, 3708500; 444400, 3708600; 444300, 3708600; 444300, 3708700; 444100, 3708700; land bounded by 442900, 3707600; 442900, 3707500; 442600, 3707500; 442600, 3707400; 442500, 3707400; 442500, 3707100; 442600, 3707100; 442600, 3706900; 442700, 3706900; 442700, 3706700; 442900, 3706700; 442900, 3706800; 443200, 3706800; 443200, 3706900; 443600, 3706900; 443600, 3707000; 443700, 3707000; 443700, 3707500; 443600, 3707500; 443600, 3707600; 442900, 3707600; land bounded by 443000, 3706100; 443000, 3705900; 443200, 3705900; 443200, 3706000; 443100, 3706000; 443100, 3706100; 443000, 3706100; land bounded by 441800, 3705700; 441800, 3705600; 441500, 3705600; 441500, 3705100; 441600, 3705100; 441600, 3704900; 441700, 3704900; 441700, 3704800; 441900, 3704800; 441900, 3704700; 442000, 3704700; 442000, 3704800; 442200, 3704800; 442200, 3704700; 442500, 3704700; 442500, 3704800; 442600, 3704800; 442600, 3704900; 442500, 3704900; 442500, 3705300; 442400, 3705300; 442400, 3705500; 442200, 3705500; 442200, 3705600; 442100, 3705600; 442100, 3705700; 441800, 3705700; land bounded by 438100, 3704600; 438100, 3704300; 438200, 3704300; 438200, 3704600; 438100, 3704600; and land bounded by 438000, 3704200; 438000, 3704100; 437900, 3704100; 437900, 3703900; 438100, 3703900; 438100, 3704200; 438000, 3704200.

Land bounded by the following UTM NAD27 coordinates (E, N): 442600, 3725800; 442600, 3725400; 442500, 3725400; 442500, 3725100; 442300, 3725100; 442300, 3725000; 442200, 3725000; 442200, 3724900; 442100, 3724900; 442100, 3725000; 442000, 3725000; 442000, 3725300; 441900, 3725300; thence north to the Central Orange County NCCP reserve boundary at x-coordinate 441900; thence northeast along the NCCP reserve boundary to y-coordinate 3725800; returning to the point of beginning.

Land bounded by the following UTM NAD27 coordinates (E, N): 468100, 3684800; 468100, 3685000; 468200, 3685000; 468200, 3685200; 468300, 3685200; 468300, 3685400; 468500, 3685400; 468500, 3685500; 468600, 3685500; 468600, 3685600; 468700, 3685600; 468700, 3685700; 468800, 3685700; 468800, 3685800; 469000, 3685800; 469000, 3685900; 469100, 3685900; 469100, 3686000; 469200, 3686000; 469200, 3686100; 469300, 3686100; 469300, 3686200; 469500, 3686200; 469500, 3686300; 469600, 3686300; 469600, 3686500; 469700, 3686500; 469700, 3686800; 470000, 3686800; 470000, 3686900; 469900, 3686900; 469900, 3687000; 469800, 3687000; 469800, 3687300; 470300, 3687300; 470300, 3687500; 470400, 3687500; 470400, 3687700; 470500, 3687700; 470500, 3687800; 470400, 3687800; 470400, 3687900; 470200, 3687900; 470200, 3688300; 470100, 3688300; 470100, 3688400; 470000, 3688400; 470000, 3688500; 469700, 3688500; 469700, 3688600; 469600, 3688600; 469600, 3688700; 469700, 3688700; 469700, 3689000; 469400, 3689000; 469400, 3689200; 469300, 3689200; 469300, 3689500; 469400, 3689500; 469400, 3689700; 469500, 3689700; 469500, 3690000; 469600, 3690000; 469600, 3690100; 469900, 3690100; 469900, 3690200; 470400, 3690200; 470400, 3690100; 470500, 3690100; 470500, 3690000; 470400, 3690000; 470400, 3689900; 470300, 3689900; 470300, 3689800; 469900, 3689800; 469900, 3689600; 470000, 3689600; 470000, 3689200; 470200, 3689200; 470200, 3689500; 470400, 3689500; 470400, 3689600; 470600, 3689600; 470600, 3689500; 470800, 3689500; 470800, 3689400; thence east to Fallbrook Naval Weapons Station boundary (NWS) at y-coordinate 3689400; thence south along NWS boundary to x-coordinate 472200; thence south and following coordinates: 472200, 3687200; 472100, 3687200; 472100, 3686800; 471900, 3686800; 471900, 3687000; 471800, 3687000; 471800, 3687300; 471700, 3687300; 471700, 3687400; 471600, 3687400; 471600, 3687500; 471500, 3687500; 471500, 3687400; 471100, 3687400; 471100, 3687200; 471200, 3687200; 471200, 3686800; 471300, 3686800; 471300, 3686700; 471100, 3686700; 471100, 3686600; 471200, 3686600; 471200, 3686400; 471000, 3686400; 471000, 3686300; 470800, 3686300; 470800, 3686200; 470700, 3686200; 470700, 3686000; 470600, 3686000; 470600, 3685900; 470500, 3685900; 470500, 3685700; 470400, 3685700; 470400, 3685500; 470300, 3685500; 470300, 3685400; 470400, 3685400; 470400, 3684800; 470300, 3684800; 470300, 3684400; 470200, 3684400; 470200, 3684200; 470100, 3684200; 470100, 3683800; 470200, 3683800; 470200, 3683700; 470300, 3683700; 470300, 3683500; 470100, 3683500; 470100, 3683400; 469800, 3683400; 469800, 3684100; 469900, 3684100; 469900, 3684300; 470000, 3684300; 470000, 3684400; 469900, 3684400; 469900, 3684500; 469800, 3684500; 469800, 3684400; 469600, 3684400; 469600, 3684300; 469300, 3684300; 469300, 3684200; 468900, 3684200; 468900, 3684100; 468800, 3684100; 468800, 3684000; 468700, 3684000; 468700, 3683900; 468600, 3683900; 468600, 3683800; 468500, 3683800; 468500, 3683600; 468400, 3683600; 468400, 3683500; 468300, 3683500; 468300, 3684000; 467800, 3684000; 467800, 3684600; 467900, 3684600; 467900, 3684700; 468000, 3684700; 468000, 3684800; 468100, 3684800; excluding land bounded by 468100, 3684800; 468100, 3684700; 468200, 3684700; 468200, 3684600; 468400, 3684600; 468400, 3684800; 468100, 3684800; land bounded by 468800, 3684700; 468900, 3684700; 468900, 3684800; 468800, 3684800; 468800, 3684700; and land bounded by 468800, 3684700; 468500, 3684700; 468500, 3684600; 468600, 3684600; 468600, 3684400; 468700, 3684400; 468700, 3684500; 468800, 3684500; 468800, 3684700.

Land bounded by the following UTM NAD27 coordinates (E, N): 472100, 3686100; 472300, 3686100; 472300, 3685600; 472400, 3685600; 472400, 3685100; 472300, 3685100; 472300, 3685000; 472200, 3685000; 472200, 3684500; 472300, 3684500; 472300, 3684300; 472400, 3684300; 472400, 3684200; 472500, 3684200; 472500, 3684100; 472600, 3684100; 472600, 3684000; 472700, 3684000; 472700, 3683900; 472800, 3683900; 472800, 3684000; 473000, 3684000; 473000, 3683500; 472900, 3683500; 472900, 3683400; 472600, 3683400; 472600, 3683600; 472500, 3683600; 472500, 3683500; 472400, 3683500; 472400, 3683400; 472300, 3683400; 472300, 3683300; 472200, 3683300; 472200, 3683200; 472100, 3683200; 472100, 3682700; 472200, 3682700; 472200, 3682800; 472400, 3682800; 472400, 3682400; 472300, 3682400; 472300, 3682100; 472200, 3682100; 472200, 3682000; 471900, 3682000; 471900, 3682100; 471600, 3682100; 471600, 3682200; 471500, 3682200; 471500, 3682300; 471400, 3682300; 471400, 3682800; 471600, 3682800; 471600, 3683100; 471500, 3683100; 471500, 3683200; 471400, 3683200; 471400, 3683300; 471300, 3683300; 471300, 3683400; 471200, 3683400; 471200, 3683500; 471100, 3683500; 471100, 3683600; 471000, 3683600; 471000, 3683700; 470900, 3683700; 470900, 3684300; 471100, 3684300; 471100, 3684400; 471300, 3684400; 471300, 3684200; 471600, 3684200; 471600, 3684400; 471700, 3684400; 471700, 3684500; 471600, 3684500; 471600, 3684600; 471400, 3684600; 471400, 3684900; 471600, 3684900; 471600, 3685100; 471500, 3685100; 471500, 3685300; 471400, 3685300; 471400, 3685400; 471500, 3685400; 471500, 3685500; 472100, 3685500; 472100, 3685600; 472000, 3685600; 472000, 3686000; 472100, 3686000; returning to 472100, 3686100.

Land bounded by the following UTM NAD27 coordinates (E, N): 464600, 3678000; 466100, 3678000; 466100, 3677800; 466200, 3677800; 466200, 3677700; 466300, 3677700; 466300, 3677600; 466400, 3677600; 466400, 3677300; 466500, 3677300; 466500, 3676900; 466600, 3676900; thence south to Marine Corps Base Camp Pendleton boundary (MCBCP) at x-coordinate 466600; thence southwest along MCBCP boundary to y-coordinate 3676500; thence west and following coordinates: 466100, 3676500; 466100, 3676400; 466000, 3676400; 466000, 3676300; 465900, 3676300; 465900, 3676400; 465800, 3676400; 465800, 3676600; 465700, 3676600; 465700, 3676800; 465600, 3676800; 465600, 3677100; 465300, 3677100; 465300, 3677300; 465200, 3677300; 465200, 3677200; 465000, 3677200; 465000, 3677300; 464500, 3677300; 464500, 3677100; 464600, 3677100; 464600, 3677000; 464800, 3677000; 464800, 3676900; 465300, 3676900; 465300, 3676700; 465400, 3676700; 465400, 3676600; 465500, 3676600; 465500, 3676400; 465700, 3676400; 465700, 3676200; 465800, 3676200; thence south to MCBCP boundary at x-coordinate 465800; thence southwest along MCBCP boundary to y-coordinate 3675600; thence west and following coordinates: 465200, 3675600; 465200, 3675700; 465100, 3675700; 465100, 3675900; 465000, 3675900; 465000, 3676300; 464900, 3676300; 464900, 3676400; 464800, 3676400; 464800, 3676300; 464700, 3676300; 464700, 3676400; 464500, 3676400; 464500, 3676200; 464400, 3676200; 464400, 3676300; 464300, 3676300; 464300, 3676400; 464200, 3676400; 464200, 3676500; 464100, 3676500; 464100, 3676300; 463900, 3676300; 463900, 3676200; 463800, 3676200; 463800, 3676100; 463900, 3676100; 463900, 3675900; 464000, 3675900; 464000, 3675800; 464100, 3675800; 464100, 3675400; 463800, 3675400; 463800, 3675500; 463700, 3675500; 463700, 3675600; 463600, 3675600; 463600, 3676800; 463700, 3676800; 463700, 3676900; 463800, 3676900; 463800, 3677100; 463900, 3677100; 463900, 3677300; 464000, 3677300; 464000, 3677400; 464200, 3677400; 464200, 3677500; 464300, 3677500; 464300, 3677600; 464500, 3677600; 464500, 3677800; 464600, 3677800; returning to 464600, 3678000.

Land within Marine Corps Base Camp Pendleton Designated Areas: San Onofre State Park Lease Area and San Onofre State Beach.

(ii) Note: Map of Unit 6 follows.

(11) Unit 7: Central-Coastal Natural Communities Conservation Plan (NCCP) Subregions of Orange County, Orange County, California.

(i) From USGS 1:100,000 quadrangle maps Santa Ana and Oceanside, California, land defined by the boundary of the designated reserve within Marine Corps Air Station El Toro; the designated reserve in the North Ranch Policy Plan Area, and selected Existing Land Use areas within the NCCP for the Central-Coastal Subregion.

(ii) Note: Map of Unit 7 follows.

(12) Unit 8: Palos Verdes Peninsula Subregion, Los Angeles County, California.

(i) From USGS 1:24,000 quadrangle maps San Pedro, Redondo Beach, Redondo Beach OE S, and Torrance, land bounded by the following UTM NAD27 coordinates (E, N): 378000, 3735500; 378200, 3735500; 378400, 3735600; 378400, 3735700; 378600, 3735700; 378600, 3735500; 378500, 3735500; 378100, 3735300; 378100, 3735200; 377800, 3735200; 377700, 3735100; 377700, 3735000; 377400, 3735000; 377400, 3734900; 377600, 3734900; 377600, 3734800; 377800, 3734800; 377800, 3734700; 377900, 3734600; 378000, 3734600; 378000, 3734400; 378200, 3734400; 378200, 3734500; 378700, 3734500; 378700, 3734300; 378300, 3734300; 378300, 3734200; 377900, 3734200; 377900, 3734300; 377600, 3734300; 377600, 3734000; 377300, 3734000; 377300, 3733700; 377400, 3733600; 377500, 3733600; 377500, 3733400; 377700, 3733400; 377700, 3733200; 377500, 3733200; 377300, 3733100; 377300, 3733000; 377400, 3733000; 377400, 3732800; 377300, 3732800; 377300, 3732500; 377200, 3732500; 377200, 3732400; 377100, 3732400; 377100, 3732500; 376800, 3732500; 376800, 3732600; 376300, 3732600; 376300, 3732700; 376100, 3732700; 376100, 3732800; 375900, 3733000; 375700, 3733000; 375700, 3733100; 375600, 3733100; 375600, 3733300; 375800, 3733300; 375800, 3733200; 376300, 3733200; 376300, 3733100; 376400, 3733100; 376400, 3733200; 376300, 3733300; 376200, 3733300; 376200, 3733600; 376400, 3733600; 376400, 3733500; 376600, 3733300; 376700, 3733300; 376700, 3733400; 376600, 3733400; 376600, 3733500; 376700, 3733500; 376700, 3733600; 377000, 3733600; 377000, 3733800; 376900, 3733800; 376900, 3734000; 376800, 3734000; 376800, 3734200; 376700, 3734200; 376700, 3734100; 376400, 3734100; 376400, 3734200; 376100, 3734200; 376100, 3734000; 376000, 3734000; 376000, 3733800; 375600, 3733800; 375600, 3733600; 375400, 3733600; 375300, 3733500; 375300, 3733400; 375200, 3733400; 375200, 3733500; 374900, 3733800; 374600, 3733800; 374600, 3733900; 374500, 3733900; 374500, 3733600; 374600, 3733500; 374700, 3733500; 374700, 3733200; 374800, 3733200; 374800, 3733100; 374700, 3733100; 374700, 3732900; then west to the Pacific Ocean; thence westward along the coastline past x-coordinate 371500 to y-coordinate 3733800; then bounded by 371000, 3733800; 371000, 3734000; 371100, 3734000; 371100, 3734100; 371500, 3734100; 371700, 3734300; 371700, 3734600; 371800, 3734600; 371800, 3734700; 371600, 3734700; 371600, 3734500; 371200, 3734500; 371200, 3734400; 370900, 3734400; 370900, 3734300; 370600, 3734300; 370200, 3734100; 370200, 3734000; then west to the Pacific Ocean; thence northwestward along the coastline to y-coordinate 3734800; then bounded by 3734800; 369900, 3734800; 370000, 3734900; 370000, 3735000; 369900, 3735000; 369900, 3735400; 369800, 3735400; 369800, 3736200; 369700, 3736300; 369600, 3736300; 369600, 3736800; 369400, 3736800; 369400, 3737100; 369000, 3737200; 368500, 3737200; 368400, 3737100; 368400, 3737000; 368200, 3737000; then north to the Pacific Ocean; thence northward along the coastline to y-coordinate 3737200; then bounded by 368400, 3737200; 368400, 3737400; 368300, 3737600; then west to the Pacific Ocean; thence northwest along the coastline to x-coordinate 368200, then bounded by 368200, 3737800; 368400, 3737800; 368400, 3737700; 368500, 3737500; 368600, 3737400; 368800, 3737300; 369300, 3737300; 369300, 3737200; 369400, 3737200; 369400, 3737400; 369600, 3737400; 369600, 3737300; 369700, 3737300; 369700, 3737500; 369500, 3737500; 369500, 3737600; 369400, 3737600; 369400, 3737800; 369500, 3737800; 369500, 3737700; 369700, 3737700; 369700, 3737800; 369600, 3737900; 369400, 3737900; 369400, 3738100; 369600, 3738100; 369700, 3738200; 369700, 3738400; 369800, 3738400; 369800, 3738900; 369500, 3738900; 369500, 3738800; 369600, 3738800; 369600, 3738600; 369400, 3738600; 369400, 3738800; 369300, 3738800; 369300, 3739100; 369200, 3739200; 369000, 3739200; 368800, 3738900; 368700, 3738900; then north to the Pacific Ocean; thence northeastward along the coastline to y-coordinate 3739900; then bounded by 370500, 3739900; 370800, 3740200; 371000, 3740200; 371000, 3740400; 371100, 3740400; 371100, 3740500; 371800, 3740500; 371800, 3740300; 372100, 3740300; 372100, 3740100; 372400, 3740100; 372400, 3740200; 372500, 3740200; 372500, 3740100; 372700, 3740100; 372700, 3739400; 372600, 3739400; 372400, 3739000; 372400, 3738800; 372500, 3738600; 372600, 3738600; 372600, 3738400; 372300, 3738400; 372300, 3738500; 372200, 3738700; 372100, 3738700; 372100, 3739000; 372200, 3739000; 372200, 3739300; 372100, 3739300; 372100, 3739600; 371800, 3739600; 371800, 3739800; 371900, 3739800; 371900, 3740000; 371800, 3740000; 371800, 3739900; 371700, 3739900; 371700, 3740000; 371500, 3740000; 371400, 3740200; 371200, 3740200; 371200, 3740100; 371000, 3740100; 370900, 3740000; 370900, 3739900; 370700, 3739900; 370600, 3739800; 370600, 3739700; 370700, 3739700; 370700, 3739300; 370500, 3739300; 370300, 3739200; 370300, 3739100; 370000, 3739100; 370000, 3738900; 370200, 3738900; 370200, 3738800; 370300, 3738800; 370300, 3738600; 370200, 3738600; 370200, 3738700; 370100, 3738700; 370000, 3738600; 370000, 3738500; 370100, 3738500; 370100, 3738300; 369900, 3738300; 369900, 3738100; 370000, 3738000; 370100, 3738000; 370100, 3737900; 369900, 3737900; 369900, 3738000; 369800, 3738000; 369800, 3737900; 369900, 3737800; 370000, 3737800; 370000, 3737500; 369900, 3737500; 369900, 3737200; 370000, 3737200; 370000, 3737000; 370100, 3737000; 370200, 3737100; 370600, 3737300;

370700, 3737400; 370700, 3737500; 370800, 3737500; 370800, 3737200; 371200, 3737200; 371200, 3737300; 371300, 3737300; 371300, 3736700; 371200, 3736700; 371200, 3736600; 371400, 3736600; 371600, 3736800; 371600, 3736900; 371800, 3736900; 371800, 3736600; 372000, 3736600; 372000, 3736500; 371600, 3736500; 371500, 3736400; 371500, 3736300; 370900, 3736300; 370900, 3736400; 370600, 3736400; 370600, 3736500; 370400, 3736700; 370000, 3736700; 370000, 3736600; 369800, 3736600; 369800, 3736300; 369900, 3736200; 370000, 3736200; 370000, 3735500; 370200, 3735500; 370200, 3735100; 370300, 3735100; 370300, 3734700; 370500, 3734700; 371000, 3735000; 371000, 3735100; 371100, 3735100; 371100, 3735000; 371200, 3735000; 371200, 3735700; 371300, 3735700; 371300, 3735800; 371700, 3735800; 371700, 3735900; 371800, 3735900; 371800, 3735800; 371900, 3735800; 371900, 3735900; 372400, 3735900; 372400, 3736100; 372500, 3736100; 372500, 3736200; 372700, 3736200; 372700, 3736000; 372900, 3736000; 372900, 3736100; 373400, 3736100; 373400, 3736000; 373600, 3736000; 373600, 3735900; 373700, 3735900; 373700, 3735800; 374000, 3735800; 374000, 3735900; 374300, 3735900; 374300, 3735800; 374400, 3735800; 374400, 3736000; 374500, 3736000; 374500, 3736100; 374400, 3736100; 374400, 3736400; 374300, 3736400; 374300, 3736300; 374100, 3736300; 374100, 3736400; 373700, 3736600; 373600, 3736600; 373600, 3736700; 373900, 3736700; 374000, 3736800; 374000, 3736900; 373500, 3736900; 373500, 3737000; 373100, 3737000; 373100, 3736900; 373000, 3736900; 373000, 3737000; 372600, 3737000; 372600, 3737200; 372500, 3737200; 372500, 3737400; 372400, 3737400; 372400, 3737800; 372300, 3737900; 372200, 3737900; 372200, 3738100; 372400, 3738100; 372400, 3738000; 372500, 3738000; 372500, 3737800; 372800, 3737500; 373000, 3737500; 373000, 3737400; 373100, 3737400; 373100, 3737500; 372900, 3737700; 372800, 3737700; 372800, 3737800; 372900, 3737800; 372900, 3737900; 373000, 3737900; 373000, 3737800; 373100, 3737700; 373400, 3737700; 373400, 3737600; 373500, 3737500; 373700, 3737500; 373700, 3737400; 373800, 3737400; 373800, 3737600; 374000, 3737600; 374000, 3737700; 373900, 3737700; 373900, 3738000; 373800, 3738100; 373600, 3738100; 373500, 3738000; 373500, 3737900; 373300, 3737900; 373300, 3738100; 373400, 3738100; 373500, 3738200; 373500, 3738400; 373900, 3738400; 374000, 3738500; 374000, 3738600; 374200, 3738600; 374200, 3738700; 374500, 3738700; 374500, 3738500; 374300, 3738500; 374200, 3738400; 374200, 3738300; 374600, 3738300; 374600, 3738400; 374800, 3738400; 374800, 3738200; 374700, 3738200; 374700, 3738100; 374500, 3738100; 374500, 3738000; 374400, 3738000; 374100, 3737400; 373900, 3737200; 373900, 3737100; 374100, 3737100; 374600, 3737600; 374600, 3737700; 374800, 3737700; 374800, 3737900; 374900, 3737900; 375100, 3738200; 375100, 3738400; 375300, 3738400; 375300, 3738200; 375200, 3738200; 375000, 3737800; 375000, 3737600; 375200, 3737600; 375200, 3737300; 375100, 3737300; 375000, 3737200; 375000, 3737100; 375800, 3737100; 375800, 3736900; 376100, 3736900; 376200, 3737000; 376200, 3737100; 376800, 3737100; 376800, 3737000; 376700, 3737000; 376500, 3736800; 376500, 3736600; 376400, 3736600; 376400, 3736500; 376500, 3736500; 376500, 3736300; 376800, 3736300; 376800, 3736400; 376900, 3736400; 376900, 3736500; 376800, 3736500; 376800, 3736700; 377000, 3736700; 377000, 3736600; 377200, 3736600; 377200, 3736400; 377300, 3736400; 377300, 3736500; 377600, 3736500; 377600, 3736600; 377500, 3736600; 377500, 3736700; 378100, 3736700; 378100, 3736600; 378200, 3736500; 378300, 3736500; 378300, 3736400; 378200, 3736400; 378200, 3736300; 377600, 3736300; 377600, 3736200; 377800, 3736200; 377800, 3736100; 377900, 3736000; 378100, 3736000; 378100, 3735900; 378200, 3735900; 378200, 3735800; 378100, 3735800; 378000, 3735700; returning to 378000, 3735500; excluding land bounded by 370800, 3737200; 370700, 3737200; 370700, 3737100; 370800, 3737100; 370800, 3737200; land bounded by 375800, 3735800; 375900, 3735700; 376000, 3735700; 376100, 3735800; 376100, 3735900; 375900, 3735900; 375900, 3736000; 375800, 3736000; 375800, 3735800; land bounded by 375800, 3735800; 375700, 3735800; 375700, 3735500; 375900, 3735500; 375900, 3735600; 375800, 3735600; 375800, 3735800; 378000, 3735500; 377900, 3735500; 377900, 3735400; 378000, 3735400; 378000, 3735500; land bounded by 376800, 3734200; 376900, 3734200; 376900, 3734400; 377100, 3734400; 377100, 3734300; 377200, 3734300; 377200, 3734700; 377100, 3734700; 377100, 3735000; 377000, 3735100; 376700, 3735100; 376400, 3734800; 376400, 3734700; 376200, 3734700; 376200, 3734600; 376300, 3734600; 376300, 3734500; 376600, 3734500; 376600, 3734600; 376700, 3734600; 376700, 3734500; 376800, 3734500; 376800, 3734200; land bounded by 377000, 3733600; 377000, 3733500; 377100, 3733400; 377200, 3733400; 377200, 3733500; 377100, 3733600; 377000, 3733600; land bounded by 375000, 3737600; 374900, 3737600; 374900, 3737500; 375000, 3737500; 375000, 3737600; land bounded by 372300, 3739800; 372200, 3739700; 372200, 3739600; 372300, 3739500; 372400, 3739500; 372400, 3739800; 372300, 3739800; land bounded by 369900, 3739400; 369800, 3739300; 369800, 3739200; 369900, 3739200; 369900, 3739300; 370200, 3739300; 370200, 3739400; 369900, 3739400; land bounded by 374000, 3738200; 374000, 3737900; 374100, 3737900; 374100, 3738100; 374200, 3738100; 374200, 3738200; 374000, 3738200; land bounded by 373400, 3737300; 373400, 3737200; 373600, 3737200; 373600, 3737300;

373400, 3737300; land bounded by 370500, 3737100; 370500, 3737000; 370300, 3737000; 370300, 3736900; 370700, 3736900; 370700, 3737000; 370600, 3737000; 370600, 3737100; 370500, 3737100; land bounded by 377700, 3736600; 377700, 3736500; 377900, 3736500; 377900, 3736600; 377700, 3736600; land bounded by 375900, 3736400; 375900, 3736300; 376000, 3736200; 376100, 3736200; 376100, 3736000; 376200, 3736000; 376200, 3736300; 376000, 3736300; 376000, 3736400; 375900, 3736400; land bounded by 375500, 3736200; 375400, 3736100; 375400, 3736000; 375500, 3736000; 375600, 3736100; 375600, 3736200; 375500, 3736200; land bounded by 377300, 3736200; 377300, 3736100; 377000, 3736100; 377000, 3736000; 376700, 3736000; 376700, 3736100; 376500, 3736100; 376200, 3735500; 376200, 3735300; 376100, 3735300; 376000, 3735200; 376000, 3734900; 375900, 3734900; 375900, 3734800; 375700, 3734800; 375700, 3734700; 375900, 3734700; 375900, 3734600; 376000, 3734600; 376000, 3734800; 376100, 3734800; 376200, 3734900; 376200, 3735200; 376300, 3735300; 376300, 3735400; 376400, 3735400; 376400, 3735300; 376600, 3735300; 376600, 3735600; 376800, 3735600; 376800, 3735700; 376600, 3735700; 376600, 3735900; 376900, 3735900; 376900, 3735800; 377100, 3735800; 377200, 3735900; 377200, 3736000; 377400, 3736000; 377400, 3736200; 377300, 3736200; land bounded by 372100, 3735800; 371900, 3735700; 371900, 3735600; 372100, 3735600; 372200, 3735700; 372200, 3735800; 372100, 3735800; land bounded by 377400, 3735800; 377400, 3735700; 377700, 3735700; 377700, 3735800; 377400, 3735800; land bounded by 374800, 3735700; 374800, 3735500; 374700, 3735500; 374700, 3735400; 374900, 3735400; 374900, 3735700; 374800, 3735700; land bounded by 376900, 3735600; 376900, 3735300; 377000, 3735200; 377100, 3735200; 377100, 3735600; 376900, 3735600; land bounded by 372900, 3735400; 372900, 3735300; 373000, 3735200; 373100, 3735200; 373100, 3735000; 372800, 3735000; 372800, 3734900; 372500, 3734900; 372500, 3735100; 372400, 3735100; 372400, 3734900; 372500, 3734800; 372700, 3734800; 372700, 3734500; 372500, 3734500; 372500, 3734400; 372600, 3734300; 372800, 3734300; 372800, 3734200; 372900, 3734200; 373000, 3734300; 373000, 3734900; 373100, 3734900; 373100, 3734800; 373200, 3734800; 373200, 3734300; 373300, 3734200; 373700, 3734200; 373700, 3734600; 373500, 3734600; 373500, 3734800; 373300, 3734800; 373300, 3735000; 373200, 3735000; 373200, 3735200; 373000, 3735400; 372900, 3735400; and land bounded by 375400, 3734800; 375400, 3734600; 375500, 3734600; 375500, 3734800; 375400, 3734800.

Land bounded by the following UTM NAD27 coordinates (E, N): 374700, 3740500; 375100, 3740500; 375100, 3740300; 375200, 3740300; 375200, 3739900; 375000, 3739900; 375000, 3740000; 374800, 3740000; 374800, 3739800; 374100, 3739800; 374100, 3740000; 373800, 3740200; 373600, 3740200; 373600, 3740400; 373900, 3740400; 373900, 3740300; 374200, 3740200; 374800, 3740200; 374800, 3740300; 374700, 3740300; returning to 374700, 3740500.

Land bounded by the following UTM NAD27 coordinates (E, N): 373300, 3739900; 373400, 3739900; 373400, 3739800; 373500, 3739800; 373500, 3739700; 373400, 3739700; 373400, 3739500; 373200, 3739500; 373100, 3739400; 373100, 3739300; 372900, 3739300; 372900, 3739500; 373000, 3739500; 373300, 3739800; returning to 373300, 3739900.

Land bounded by the following UTM NAD27 coordinates (E, N): 369000, 3738600; 369300, 3738600; 369300, 3738400; 369400, 3738400; 369400, 3738500; 369600, 3738500; 369600, 3738200; 369300, 3738200; 369300, 3738000; 369200, 3738000; 369200, 3737900; 369100, 3737900; 369100, 3738000; 369000, 3738100; 368900, 3738100; 368900, 3738400; 369000, 3738400; returning to 369000, 3738600.

Land bounded by the following UTM NAD27 coordinates (E, N): 379800, 3738500; 380100, 3738500; 380100, 3737900; 380200, 3737900; 380200, 3737500; 380300, 3737500; 380300, 3736900; 379500, 3736900; 379500, 3737000; 379200, 3737000; 379200, 3737100; 379000, 3737300; 378900, 3737300; 378900, 3737200; 378100, 3737200; 378100, 3737300; 378000, 3737300; 378000, 3737500; 378300, 3737500; 378300, 3737400; 378800, 3737400; 378800, 3737600; 378900, 3737600; 378900, 3737700; 378800, 3737700; 378800, 3738100; 379000, 3738100; 379000, 3738200; 379400, 3738000; 379500, 3737900; 379700, 3737900; 379700, 3738400; 379800, 3738400; returning to 379800, 3738500.

Beginning at the Pacific Ocean at x-coordinate 376100, land bounded by the following UTM NAD27 coordinates (E, N): 376100, 3732200; 376200, 3732200; 376300, 3732300; 376800, 3732400; 376800, 3732100; 376700, 3732100; 376700, 3732000; 376800, 3731900; 376900, 3731900; 376900, 3731800; then west to the Pacific Ocean; thence northwestward to the point of beginning.

(ii) Note: Map of Unit 8 follows.

(13) Unit 9: East Los Angeles County—Matrix NCCP Subregion of Orange, Los Angeles, and San Bernardino Counties, California.

(i) From USGS 1:24,000 quadrangle maps El Monte, Black Star Canyon, Prado Dam, Yorba Linda, La Habra, and Whittier, California, land bounded by the following UTM NAD27 coordinates (E, N): 399400, 3766400; 400000, 3766400; 400000, 3766300; 400600, 3766300; 400600, 3766400; 400700, 3766400; 400700, 3766300; 400800, 3766300; 400800, 3766200; 400900, 3766200; 400900, 3766100; 401000, 3766100; 401000, 3766000; 401100, 3766000; 401100, 3765900; 401200, 3765900; 401200, 3765800; 401400, 3765800; 401400, 3765700; 401600, 3765700; 401600, 3765600; 401700, 3765600; 401700, 3765700; 402500, 3765700; 402500, 3765800; 403000, 3765800; 403000, 3765900; 403400, 3765900; 403400, 3766000; 404000, 3766000; 404000, 3766100; 404200, 3766100; 404200, 3765900; 404100, 3765900; 404100, 3765800; 403900, 3765800; 403900, 3765700; 403700, 3765700; 403700, 3765600; 403500, 3765600; 403500, 3765400; 403400, 3765400; 403400, 3765300; 403300, 3765300; 403300, 3765200; 403200, 3765200; 403200, 3765000; 403100, 3765000; 403100, 3764800; 403000, 3764800; 403000, 3764700; 402700, 3764700; 402700, 3764800; 401000, 3764800; 401000, 3765000; 401100, 3765000; 401100, 3765100; 400800, 3765100; 400800, 3765200; 400600, 3765200; 400600, 3765100; 400200, 3765100; 400200, 3765200; 399800, 3765200; 399800, 3765400; 398800, 3765400; 398800, 3765300; 398500, 3765300; 398500, 3765200; 398300, 3765200; 398300, 3765700; 398400, 3765700; 398400, 3765900; 398500, 3765900; 398500, 3766000; 398700, 3766000; 398700, 3766100; 399100, 3766100; 399100, 3766200; 399300, 3766200; 399300, 3766300; 399400, 3766300; returning to 399400, 3766400.

Land bounded by the following UTM NAD27 coordinates (E, N): 437900, 3748300; 437800, 3748300; 437800, 3748200; 437200, 3748200; 437200, 3748000; 433500, 3748000; 433500, 3748100; 433700, 3748100; 433700, 3748200; 434800, 3748200; 434800, 3748300; 435100, 3748300; 435100, 3748400; 435400, 3748400; 435400, 3748500; 435500, 3748500; 435500, 3748700; 436200, 3748700; 436200, 3748800; 436000, 3748800; 436000, 3748900; 435700, 3748900; 435700, 3749000; 435300, 3749000; 435300, 3748900; 434900, 3748900; 434900, 3749000; 434700, 3749000; 434700, 3749200; 434800, 3749200; 434800, 3749400; 434700, 3749400; 434700, 3749700; 434900, 3749700; 434900, 3749800; 435000, 3749800; 435000, 3749900; 434700, 3749900; 434700, 3750000; 434500, 3750000; 434500, 3750100; 434400, 3750100; 434400, 3749800; 434200, 3749800; 434200, 3749600; 434100, 3749600; 434100, 3749500; 434000, 3749500; 434000, 3749400; 433900, 3749400; 433900, 3749300; 433800, 3749300; 433800, 3749200; 434100, 3749200; 434100, 3749100; 434300, 3749100; 434300, 3749000; 434200, 3749000; 434200, 3748900; 433900, 3748900; 433900, 3749000; 433500, 3749000; 433500, 3749100; 433400, 3749100; 433400, 3749200; 433100, 3749200; 433100, 3749300; 433000, 3749300; 433000, 3749400; 432700, 3749400; 432700, 3749500; 432500, 3749500; 432500, 3749600; 432200, 3749600; 432200, 3749500; 432100, 3749500; 432100, 3749400; 432200, 3749400; 432200, 3749100; 432100, 3749100; 432100, 3749200; 432000, 3749200; 432000, 3749300; 431600, 3749300; 431600, 3749200; 431500, 3749200; 431500, 3749100; 431400, 3749100; 431400, 3749000; 431300, 3749000; 431300, 3748900; 431200, 3748900; 431200, 3748800; 431000, 3748800; 431000, 3748700; 430800, 3748700; 430800, 3748900; 430900, 3748900; 430900, 3749000; 431000, 3749000; 431000, 3749200; 430900, 3749200; 430900, 3749400; 431000, 3749400; 431000, 3749500; 430900, 3749500; 430900, 3749600; 430800, 3749600; 430800, 3750100; 430700, 3750100; 430700, 3750200; 430600, 3750200; 430600, 3750300; 430300, 3750300; 430300, 3750400; 430100, 3750400; 430100, 3750300; 429900, 3750300; 429900, 3750400; 429400, 3750400; 429400, 3750500; 429300, 3750500; 429300, 3750800; 429400, 3750800; 429400, 3751100; 429600, 3751100; 429600, 3751200; 429500, 3751200; 429500, 3751400; 429600, 3751400; 429600, 3751500; 429500, 3751500; 429500, 3751700; 429600, 3751700; 429600, 3751900; 429700, 3751900; 429700, 3752100; 429800, 3752100; 429800, 3752300; 429700, 3752300; 429700, 3752400; 429600, 3752400; 429600, 3752200; 429400, 3752200; 429400, 3752000; 429200, 3752000; 429200, 3751800; 428400, 3751800; 428400, 3751900; 428100, 3751900; 428100, 3751700; 428200, 3751700; 428200, 3751600; 428300, 3751600; 428300, 3750800; 427800, 3750800; 427800, 3750900; 427500, 3750900; 427500, 3750700; 427400, 3750700; 427400, 3750600; 427200, 3750600; 427200, 3750700; 426600, 3750700; 426600, 3750800; 426300, 3750800; 426300, 3751200; 426600, 3751200; 426600, 3751300; 426500, 3751300; 426500, 3751500; 426600, 3751500; 426600, 3751600; 427400, 3751600; 427400, 3751800; 427000, 3751800; 427000, 3751700; 426800, 3751700; 426800, 3751800; 426500, 3751800; 426500, 3751700; 426300, 3751700; 426300, 3751800; 426200, 3751800; 426200, 3751600; 426100, 3751600; 426100, 3751500; 426000, 3751500; 426000, 3751300; 425900, 3751300; 425900, 3751100; 424900, 3751100; 424900, 3751500; 423400, 3751500; 423400, 3751700; 423200, 3751700; 423200, 3751800; 423000, 3751800; 423000, 3751900; 422600, 3751900; 422600, 3752300; 422500, 3752300; 422500, 3752500; 422300, 3752500; 422300, 3752600; 422200, 3752600; 422200, 3752700; 422100, 3752700; 422100, 3752600; 421900, 3752600; 421900, 3752700; 421800, 3752700; 421800, 3753200; 421700, 3753200; 421700, 3754000; 419400, 3754000; 419400, 3754700; 419300, 3754700; 419300, 3754800; 419200, 3754800; 419200, 3754900; 419000, 3754900; 419000, 3754700; 418300, 3754700; 418300,

3754800; 418100, 3754800; 418100, 3754900; 418000, 3754900; 418000, 3755100; 417700, 3755100; 417700, 3755200; 417400, 3755200; 417400, 3755300; 417300, 3755300; 417300, 3755400; 417000, 3755400; 417000, 3755500; 416900, 3755500; 416900, 3755600; 416600, 3755600; 416600, 3755900; 416400, 3755900; 416400, 3756200; 416100, 3756200; 416100, 3756400; 415400, 3756400; 415400, 3756500; 414900, 3756500; 414900, 3756600; 414600, 3756600; 414600, 3756900; 414500, 3756900; 414500, 3757200; 414800, 3757200; 414800, 3757500; 414900, 3757500; 414900, 3757700; 414800, 3757700; 414800, 3757600; 414700, 3757600; 414700, 3757700; 414500, 3757700; 414500, 3758000; 414300, 3758000; 414300, 3758200; 414200, 3758200; 414200, 3758300; 414100, 3758300; 414100, 3758500; 413900, 3758500; 413900, 3758400; 413800, 3758400; 413800, 3758300; 413700, 3758300; 413700, 3758200; 413600, 3758200; 413600, 3758100; 413500, 3758100; 413500, 3758200; 413400, 3758200; 413400, 3758300; 413300, 3758300; 413300, 3758500; 413200, 3758500; 413200, 3758600; 413100, 3758600; 413100, 3758700; 413000, 3758700; 413000, 3758500; 412900, 3758500; 412900, 3758400; 412500, 3758400; 412500, 3758600; 412000, 3758600; 412000, 3758700; 411900, 3758700; 411900, 3758600; 411800, 3758600; 411800, 3758500; 411600, 3758500; 411600, 3758400; 411500, 3758400; 411500, 3758300; 411200, 3758300; 411200, 3758200; 410900, 3758200; 410900, 3758300; 410500, 3758300; 410500, 3758400; 410400, 3758400; 410400, 3758500; 410300, 3758500; 410300, 3758600; 410200, 3758600; 410200, 3758200; 410300, 3758200; 410300, 3758100; 410400, 3758100; 410400, 3758000; 409300, 3758000; 409300, 3758100; 409200, 3758100; 409200, 3758300; 409100, 3758300; 409100, 3758500; 409200, 3758500; 409200, 3758600; 409300, 3758600; 409300, 3758700; 409400, 3758700; 409400, 3758800; 408800, 3758800; 408800, 3758700; 408700, 3758700; 408700, 3758400; 408500, 3758400; 408500, 3758300; 408300, 3758300; 408300, 3758400; 408200, 3758400; 408200, 3758300; 408100, 3758300; 408100, 3758200; 408000, 3758200; 408000, 3758100; 407800, 3758100; 407800, 3758300; 407900, 3758300; 407900, 3758400; 407800, 3758400; 407800, 3758500; 407100, 3758500; 407100, 3758600; 407000, 3758600; 407000, 3758700; 406900, 3758700; 406900, 3759000; 406800, 3759000; 406800, 3759100; 406600, 3759100; 406600, 3759600; 405600, 3759600; 405600, 3759800; 405800, 3759800; 405800, 3759900; 405900, 3759900; 405900, 3760000; 406100, 3760000; 406100, 3760100; 406200, 3760100; 406200, 3760200; 406300, 3760200; 406300, 3760300; 406400, 3760300; 406400, 3760400; 406600, 3760400; 406600, 3760500; 406500, 3760500; 406500, 3760600; 406300, 3760600; 406300, 3760500; 406200, 3760500; 406200, 3760400; 406100, 3760400; 406100, 3760300; 406000, 3760300; 406000, 3760200; 405800, 3760200; 405800, 3760100; 405700, 3760100; 405700, 3760000; 405600, 3760000; 405600, 3759900; 405400, 3759900; 405400, 3760100; 405300, 3760100; 405300, 3760300; 405400, 3760300; 405400, 3760400; 405600, 3760400; 405600, 3760500; 405700, 3760500; 405700, 3760900; 405800, 3760900; 405800, 3761000; 405600, 3761000; 405600, 3760900; 405400, 3760900; 405400, 3761000; 405300, 3761000; 405300, 3760900; 405000, 3760900; 405000, 3761100; 405200, 3761100; 405200, 3761200; 405100, 3761200; 405100, 3761300; 404200, 3761300; 404200, 3762000; 403500, 3762000; 403500, 3762100; 403300, 3762100; 403300, 3762400; 403400, 3762400; 403400, 3762600; 403300, 3762600; 403300, 3762500; 402800, 3762500; 402800, 3762600; 402700, 3762600; 402700, 3762800; 402600, 3762800; 402600, 3763000; 403400, 3763000; 403400, 3763300; 403500, 3763300; 403500, 3763000; 403700, 3763000; 403700, 3762900; 404200, 3762900; 404200, 3763000; 404300, 3763000; 404300, 3763100; 404200, 3763100; 404200, 3763500; 404300, 3763500; 404300, 3763600; 404400, 3763600; 404400, 3763500; 404500, 3763500; 404500, 3763600; 404700, 3763600; 404700, 3763700; 405100, 3763700; 405100, 3763500; 405600, 3763500; 405600, 3763400; 405700, 3763400; 405700, 3763300; 405900, 3763300; 405900, 3763200; 406000, 3763200; 406000, 3763300; 406100, 3763300; 406100, 3763400; 406500, 3763400; 406500, 3763500; 406400, 3763500; 406400, 3763900; 406300, 3763900; 406300, 3764000; 406100, 3764000; 406100, 3764100; 405900, 3764100; 405900, 3764200; 405800, 3764200; 405800, 3764300; 405700, 3764300; 405700, 3764400; 405000, 3764400; 405000, 3764600; 404800, 3764600; 404800, 3764700; 404700, 3764700; 404700, 3764800; 404400, 3764800; 404400, 3765100; 404600, 3765100; 404600, 3765200; 404700, 3765200; 404700, 3765300; 404800, 3765300; 404800, 3765400; 404900, 3765400; 404900, 3765500; 405700, 3765500; 405700, 3765300; 405600, 3765300; 405600, 3765200; 405400, 3765200; 405400, 3765100; 405500, 3765100; 405500, 3765000; 405600, 3765000; 405600, 3764800; 405700, 3764800; 405700, 3764600; 405800, 3764600; 405800, 3764500; 406000, 3764500; 406000, 3764400; 406100, 3764400; 406100, 3764500; 406700, 3764500; 406700, 3764400; 406800, 3764400; 406800, 3764300; 406700, 3764300; 406700, 3764100; 406800, 3764100; 406800, 3762800; 406900, 3762800; 406900, 3762700; 407000, 3762700; 407000, 3762600; 407100, 3762600; 407100, 3762500; 407200, 3762500; 407200, 3762400; 407300, 3762400; 407300, 3762300; 407500, 3762300; 407500, 3762200; 407700, 3762200; 407700, 3762000; 407600, 3762000; 407600, 3761900; 407800, 3761900; 407800, 3761800; 408100, 3761800; 408100, 3761700; 408200, 3761700; 408200, 3761800; 408300, 3761800; 408300, 3761600; 408400, 3761600; 408400, 3760200; 408300, 3760200; 408300, 3759700; 409800, 3759700; 409800, 3759800; 410600, 3759800; 410600, 3759700; 410700, 3759700; 410700,

3759800; 411000, 3759800; 411000, 3759700; 411100, 3759700; 411100, 3759600; 412100, 3759600; 412100, 3759700; 412200, 3759700; 412200, 3759800; 414500, 3759800; 414500, 3759700; 414800, 3759700; 414800, 3759600; 415100, 3759600; 415100, 3759500; 415200, 3759500; 415200, 3759100; 415400, 3759100; 415400, 3759000; 415500, 3759000; 415500, 3758900; 415600, 3758900; 415600, 3758200; 415500, 3758200; 415500, 3758100; 415300, 3758100; 415300, 3757900; 415200, 3757900; 415200, 3757700; 415600, 3757700; 415600, 3757600; 415900, 3757600; 415900, 3757500; 416000, 3757500; 416000, 3757600; 416200, 3757600; 416200, 3757700; 416800, 3757700; 416800, 3757800; 417000, 3757800; 417000, 3757700; 417100, 3757700; 417100, 3757600; 417200, 3757600; 417200, 3757500; 417600, 3757500; 417600, 3757400; 418000, 3757400; 418000, 3757300; 418300, 3757300; 418300, 3757200; 418500, 3757200; 418500, 3757100; 418800, 3757100; 418800, 3757000; 419000, 3757000; 419000, 3756800; 419100, 3756800; 419100, 3756700; 419200, 3756700; 419200, 3756500; 419300, 3756500; 419300, 3756400; 419400, 3756400; 419400, 3756300; 419600, 3756300; 419600, 3756200; 420100, 3756200; 420100, 3756300; 420300, 3756300; 420300, 3756400; 420400, 3756400; 420400, 3756700; 420500, 3756700; 420500, 3756800; 420600, 3756800; 420600, 3756900; 420800, 3756900; 420800, 3756800; 421100, 3756800; 421100, 3756700; 421400, 3756700; 421400, 3756600; 421700, 3756600; 421700, 3756500; 422000, 3756500; 422000, 3756400; 422300, 3756400; 422300, 3756300; 422400, 3756300; 422400, 3755800; 422300, 3755800; 422300, 3755700; 422200, 3755700; 422200, 3755600; 422100, 3755600; 422100, 3755400; 422000, 3755400; 422000, 3754800; 422200, 3754800; 422200, 3754900; 422500, 3754900; 422500, 3754600; 422600, 3754600; 422600, 3754700; 422900, 3754700; 422900, 3754600; 423100, 3754600; 423100, 3754500; 423200, 3754500; 423200, 3754400; 423300, 3754400; 423300, 3754300; 423400, 3754300; 423400, 3754200; 423500, 3754200; 423500, 3754100; 423600, 3754100; 423600, 3754000; 423700, 3754000; 423700, 3753900; 423800, 3753900; 423800, 3753800; 423900, 3753800; 423900, 3753700; 424000, 3753700; 424000, 3753600; 424100, 3753600; 424100, 3753500; 424200, 3753500; 424200, 3753400; 424300, 3753400; 424300, 3753300; 424500, 3753300; 424500, 3753200; 424800, 3753200; 424800, 3753100; 425100, 3753100; 425100, 3753000; 425200, 3753000; 425200, 3752900; 425800, 3752900; 425800, 3752800; 426400, 3752800; 426400, 3752700; 426900, 3752700; 426900, 3752800; 428700, 3752800; 428700, 3752900; 428900, 3752900; 428900, 3753000; 429100, 3753000; 429100, 3753100; 429400, 3753100; 429400, 3753200; 429600, 3753200; 429600, 3753300; 429700, 3753300; 429700, 3753400; 429900, 3753400; 429900, 3753500; 430600, 3753500; 430600, 3753600; 431300, 3753600; 431300, 3753500; 431400, 3753500; 431400, 3753400; 431500, 3753400; 431500, 3753300; 431600, 3753300; 431600, 3753200; 431800, 3753200; 431800, 3753100; 432200, 3753100; 432200, 3753000; 432600, 3753000; 432600, 3752900; 432800, 3752900; 432800, 3752800; 433000, 3752800; 433000, 3752700; 433100, 3752700; 433100, 3752600; 433200, 3752600; 433200, 3752500; 433300, 3752500; 433300, 3752300; 433400, 3752300; 433400, 3752200; 433600, 3752200; 433600, 3752100; 433700, 3752100; 433700, 3752000; 433900, 3752000; 433900, 3751900; 434000, 3751900; 434000, 3751800; 434100, 3751800; 434100, 3751700; 434200, 3751700; 434200, 3751600; 434500, 3751600; 434500, 3751500; 435100, 3751500; 435100, 3751400; 435700, 3751400; 435700, 3751200; 435800, 3751200; 435800, 3751000; 435900, 3751000; 435900, 3750800; 436000, 3750800; 436000, 3750700; 436200, 3750700; 436200, 3750600; 436400, 3750600; 436400, 3750500; 436600, 3750500; 436600, 3750400; 436800, 3750400; 436800, 3750300; 437100, 3750300; 437100, 3750200; 437200, 3750200; 437200, 3750100; 437400, 3750100; 437400, 3750000; 437500, 3750000; 437500, 3749900; 437600, 3749900; thence south to the San Bernardino County Line at x-coordinate 437600; thence southward along the San Bernardino County Line past y-coordinate 3748400 to x-coordinate 437900; thence south to the point of beginning at 437900, 3748300; excluding land bounded by 410200, 3758600; 410200, 3758700; 410100, 3758700; 410100, 3758800; 409900, 3758800; 409900, 3758600; 410200, 3758600; land bounded by 428100, 3751900; 428100, 3752000; 428000, 3752000; 428000, 3752100; 427900, 3752100; 427900, 3751900; 428100, 3751900; land bounded by 409400, 3758700; 409400, 3758600; 409500, 3758600; 409500, 3758700; 409400, 3758700; 418300, 3755400; 418300, 3755100; 418500, 3755100; 418500, 3755400; 418300, 3755400; land bounded by 424000, 3752600; 424000, 3752500; 424100, 3752500; 424100, 3752400; 424300, 3752400; 424300, 3752300; 424500, 3752300; 424500, 3752400; 424600, 3752400; 424600, 3752500; 424400, 3752500; 424400, 3752600; 424000, 3752600; land bounded by 427100, 3751000; 427100, 3750900; 427300, 3750900; 427300, 3751000; 427100, 3751000; land bounded by 432300, 3750600; 432300, 3750500; 431900, 3750500; 431900, 3750400; 432000, 3750400; 432000, 3750200; 432300, 3750200; 432300, 3750300; 432400, 3750300; 432400, 3750600; 432300, 3750600; and land bounded by 431300, 3750100; 431300, 3750000; 431100, 3750000; 431100, 3749500; 431200, 3749500; 431200, 3749200; 431300, 3749200; 431300, 3749400; 431400, 3749400; 431400, 3749600; 431500, 3749600; 431500, 3749700; 431600, 3749700; 431600, 3749800; 431800, 3749800; 431800, 3749900; 431900, 3749900; 431900, 3750000; 431400, 3750000; 431400, 3750100; 431300, 3750100.

Land bounded by the following UTM NAD27 coordinates (E, N): 409700, 3752300; 411500, 3752300; 411500, 3752100; 411900, 3752100; 411900, 3752000; 412100, 3752000; 412100, 3751900; 412200, 3751900; 412200, 3752000; 412400, 3752000; 412400, 3751900; 412500, 3751900; 412500, 3752000; 412700, 3752000; 412700, 3751900; 412900, 3751900; 412900, 3751000; 412700, 3751000; 412700, 3751100; 412400, 3751100; 412400, 3751200; 412300, 3751200; 412300, 3751300; 412100, 3751300; 412100, 3751200; 411900, 3751200; 411900, 3751300; 411700, 3751300; 411700, 3751400; 411100, 3751400; 411100, 3751300; 410700, 3751300; 410700, 3751200; 410400, 3751200; 410400, 3751000; 410300, 3751000; 410300, 3750800; 409700, 3750800; 409700, 3750900; 409200, 3750900; 409200, 3751000; 409100, 3751000; 409100, 3751200; 409000, 3751200; 409000, 3751500; 409100, 3751500; 409100, 3751700; 409700, 3751700; returning to 409700, 3752300.

Land bounded by the following UTM NAD27 coordinates (E, N): 417000, 3751200; 417300, 3751200; 417300, 3751100; 417500, 3751100; 417500, 3750900; 417700, 3750900; 417700, 3750400; 417500, 3750400; 417500, 3750300; 417600, 3750300; 417600, 3750100; 417400, 3750100; 417400, 3750200; 417300, 3750200; 417300, 3749900; 417000, 3749900; 417000, 3750100; 416800, 3750100; 416800, 3750200; 416700, 3750200; 416700, 3750300; 416800, 3750300; 416800, 3750600; 416600, 3750600; 416600, 3750500; 416500, 3750500; 416500, 3750300; 415400, 3750300; 415400, 3750500; 415900, 3750500; 415900, 3750600; 416000, 3750600; 416000, 3750700; 416100, 3750700; 416100, 3750800; 416200, 3750800; 416200, 3750900; 416600, 3750900; 416600, 3751000; 416700, 3751000; 416700, 3751100; 417000, 3751100; returning to 417000, 3751200; excluding land bounded by 417300, 3750700; 417300, 3750600; 417200, 3750600; 417200, 3750500; 417500, 3750500; 417500, 3750700; 417300, 3750700.

(ii) Note: Map of Unit 9 follows.

(14) Unit 10: Western Riverside County Multiple Species Habitat Conservation Plan (MSHCP), Riverside and San Bernardino Counties, California.

(i) From USGS 1:100,000 quadrangle maps Borrego Valley, Oceanside, Palm Springs, Santa Ana, and San Bernardino, California, land bounded by the following UTM NAD27 coordinates (E, N): 459800, 3767500; 462300, 3767500; 462300, 3766500; 462500, 3766500; 462500, 3766600; 462800, 3766600; 462800, 3766500; 463100, 3766500; 463100, 3766400; 463300, 3766400; 463300, 3766300; 463500, 3766300; 463500, 3766100; 463400, 3766100; 463400, 3766000; 463300, 3766000; 463300, 3765900; 463500, 3765900; 463500, 3765700; 463100, 3765700; 463100, 3763900; 463000, 3763900; 463000, 3763700; 462900, 3763700; 462900, 3763100; 462800, 3763100; 462800, 3763000; 462700, 3763000; 462700, 3762900; 462600, 3762900; 462600, 3762600; 462500, 3762600; 462500, 3762500; 462300, 3762500; 462300, 3762600; 462100, 3762600; 462100, 3762700; 462000, 3762700; 462000, 3762800; 462100, 3762800; 462100, 3762900; 462200, 3762900; 462200, 3763000; 462100, 3763000; 462100, 3763100; 462000, 3763100; 462000, 3763000; 461800, 3763000; 461800, 3763100; 461700, 3763100; 461700, 3762900; 461600, 3762900; 461600, 3763000; 461500, 3763000; 461500, 3763100; 461400, 3763100; 461400, 3764600; 461600, 3764600; 461600, 3765000; 461700, 3765000; 461700, 3765100; 461800, 3765100; 461800, 3765300; 461900, 3765300; 461900, 3765500; 462000, 3765500; 462000, 3765600; 461900, 3765600; 461900, 3765700; 461700, 3765700; 461700, 3765800; 461600, 3765800; 461600, 3765600; 461500, 3765600; 461500, 3765500; 461300, 3765500; 461300, 3765400; 461200, 3765400; 461200, 3765300; 461100, 3765300; 461100, 3765200; 460700, 3765200; 460700, 3765300; 460300, 3765300; 460300, 3765400; 460200, 3765400; 460200, 3765300; 460100, 3765300; 460100, 3764900; 459900, 3764900; 459900, 3764200; 459800, 3764200; 459800, 3764100; 457500, 3764100; 457500, 3764200; 457600, 3764200; 457600, 3764300; 457700, 3764300; 457700, 3764400; 457600, 3764400; 457600, 3764500; 457700, 3764500; 457700, 3764600; 457900, 3764600; 457900, 3764800; 457800, 3764800; 457800, 3764900; 457500, 3764900; 457500, 3765000; 457400, 3765000; 457400, 3764900; 457300, 3764900; 457300, 3764700; 457200, 3764700; 457200, 3764600; 457100, 3764600; 457100, 3764500; 457300, 3764500; 457300, 3764400; 457400, 3764400; 457400, 3764100; 456100, 3764100; 456100, 3764300; 455600, 3764300; 455600, 3764400; 455400, 3764400; 455400, 3764500; 455200, 3764500; 455200, 3764600; 454900, 3764600; 454900, 3764500; 454600, 3764500; 454600, 3764600; 454500, 3764600; 454500, 3764800; 454700, 3764800; 454700, 3765000; 454300, 3765000; 454300, 3764800; 454100, 3764800; 454100, 3764700; 454000, 3764700; 454000, 3764600; 453900, 3764600; 453900, 3764500; 453800, 3764500; 453800, 3764400; 453600, 3764400; 453600, 3764300; 453200, 3764300; 453200, 3765100; 453300, 3765100; 453300, 3765300; 453400, 3765300; 453400, 3765400; 453700, 3765400; 453700, 3765500; 453800, 3765500; 453800, 3765600; 454100, 3765600; 454100, 3765800; 454900, 3765800; 454900, 3765900; 455000, 3765900; 455000, 3766000; 455200, 3766000; 455200, 3765900; 455400, 3765900; 455400, 3765800; 455900, 3765800; 455900, 3765900; 456000, 3765900; 456000, 3766100; 455800, 3766100; 455800, 3766200; 455600, 3766200; 455600, 3766300; 455500, 3766300; 455500, 3766900; 455600, 3766900; 455600, 3767100; 455800, 3767100; 455800, 3767000; 456000, 3767000; 456000, 3766900; 456400, 3766900; 456400, 3766800; 456500, 3766800; 456500, 3766900; 456600, 3766900; 456600, 3766700; 456700, 3766700; 456700, 3766300; 456800, 3766300; 456800, 3766000; 456900, 3766000; 456900, 3765900; 457000, 3765900; 457000, 3765800; 457400, 3765800; 457400, 3766000; 457500, 3766000; 457500, 3766100; 457600, 3766100; 457600, 3766600; 457700, 3766600; 457700, 3766800; 457800, 3766800; 457800, 3766900; 458000, 3766900; 458000, 3767000; 459000, 3767000; 459000, 3767400; 459800, 3767400; returning to 459800, 3767500.

Land bounded by the following UTM NAD27 coordinates (E, N): 474400, 3766500; 474400, 3766600; 474200, 3766600; 474200, 3766700; 473900, 3766700; 473900, 3767000; 473800, 3767000; 473800, 3767100; 473700, 3767100; 473700, 3767300; 473900, 3767300; 473900, 3767400; 474200, 3767400; 474200, 3767300; 474400, 3767300; 474400, 3767200; 474500, 3767200; 474500, 3767300; 474800, 3767300; 474800, 3767400; 475100, 3767400; 475100, 3767200; 475300, 3767200; 475300, 3766700; 475400, 3766700; 475400, 3766600; 475800, 3766600; 475800, 3766700; 476000, 3766700; 476000, 3766600; 476500, 3766600; 476500, 3766400; 477000, 3766400; 477000, 3766000; 476900, 3766000; 476900, 3765800; 477000, 3765800; 477000, 3765700; 477100, 3765700; 477100, 3765400; 477200, 3765400; 477200, 3764900; 477400, 3764900; 477400, 3764800; 477500, 3764800; 477500, 3764400; 477700, 3764400; 477700, 3764200; 477800, 3764200; 477800, 3764100; 477900, 3764100; 477900, 3764000; 478100, 3764000; 478100, 3763900; 478200, 3763900; 478200, 3763800; 478700, 3763800; 478700, 3763700; 479000, 3763700; 479000, 3763400; 479100, 3763400; 479100, 3763200; 479200, 3763200; 479200, 3763100; 479300, 3763100; 479300, 3763000; 479200, 3763000; 479200, 3762900; 479300, 3762900; 479300, 3761200; 479200, 3761200; 479200, 3761300; 479000, 3761300; 479000, 3761400; 478900, 3761400; 478900, 3761600; 478700, 3761600; 478700, 3761300; 478800, 3761300; 478800, 3761200; 478900, 3761200; 478900, 3760800; 479000, 3760800; 479000, 3760700; 479200, 3760700; 479200, 3760500; 479300, 3760500; 479300, 3760600; 479600, 3760600; 479600, 3760400; 479700, 3760400; 479700, 3760300; 479800, 3760300; 479800, 3760100; 480100, 3760100; 480100, 3759900; 480300, 3759900; 480300, 3759800; 480400, 3759800; 480400, 3759700; 480500, 3759700; 480500, 3759600; 480600, 3759600; 480600, 3759400; 480700, 3759400; 480700, 3759300; 480800, 3759300; 480800, 3759200; 480900, 3759200; 480900, 3759100; 481000, 3759100; 481000, 3759000; 481100, 3759000; 481100, 3758900; 481200, 3758900; 481200, 3758700; 481300, 3758700; 481300, 3758400; 481400, 3758400; 481400, 3758300; 481500, 3758300; 481500, 3757900; 481600, 3757900; 481600, 3757600; 479100, 3757600; 479100, 3759200; 479000, 3759200; 479000, 3759400; 478900, 3759400; 478900, 3759800; 478800, 3759800; 478800, 3759700; 478600, 3759700; 478600, 3759500; 478500, 3759500; 478500, 3759400; 478600, 3759400; 478600, 3759200; 475900, 3759200; 475900, 3759900; 475800, 3759900; 475800, 3760000; 475700, 3760000; 475700, 3760100; 475600, 3760100; 475600, 3760200; 475500, 3760200; 475500, 3760300; 475400, 3760300; 475400, 3760400; 475300, 3760400; 475300, 3760800; 475200, 3760800; 475200, 3760900; 475400, 3760900; 475400, 3761000; 475100, 3761000; 475100, 3761200; 474700, 3761200; 474700, 3761300; 474600, 3761300; 474600, 3761500; 474300, 3761500; 474300, 3761400; 474400, 3761400; 474400, 3761200; 474100, 3761200; 474100, 3760900; 473900, 3760900; 473900, 3760800; 473800, 3760800; 473800, 3760700; 473900, 3760700; 473900, 3760500; 474400, 3760500; 474400, 3760400; 474800, 3760400; 474800, 3760200; 475000, 3760200; 475000, 3759900; 475100, 3759900; 475100, 3759800; 475000, 3759800; 475000, 3759700; 474900, 3759700; 474900, 3759500; 475200, 3759500; 475200, 3759200; 474400, 3759200; 474400, 3758900; 474300, 3758900; 474300, 3756400; 474200, 3756400; 474200, 3756500; 473900, 3756500; 473900, 3756600; 473800, 3756600; 473800, 3756900; 473500, 3756900; 473500, 3756800; 473000, 3756800; 473000, 3757300; 472900, 3757300; 472900, 3757200; 472800, 3757200; 472800, 3757100; 472700, 3757100; 472700, 3756100; 472500, 3756100; 472500, 3756200; 472200, 3756200; 472200, 3756300; 472100, 3756300; 472100, 3756500; 472000, 3756500; 472000, 3756800; 471900, 3756800; 471900, 3756900; 471800, 3756900; 471800, 3757100; 471300, 3757100; 471300, 3757000; 471100, 3757000; 471100, 3756900; 471300, 3756900; 471300, 3756800; 471500, 3756800; 471500, 3756700; 471600, 3756700; 471600, 3756600; 471500, 3756600; 471500, 3756400; 471600, 3756400; 471600, 3756300; 471700, 3756300; 471700, 3756000; 471400, 3756000; 471400, 3755900; 471300, 3755900; 471300, 3755600; 471200, 3755600; 471200, 3755400; 471500, 3755400; 471500, 3754300; 471600, 3754300; 471600, 3754200; 471700, 3754200; 471700, 3754100; 471800, 3754100; 471800, 3754000; 472300, 3754000; 472300, 3753900; 472500, 3753900; 472500, 3753800; 472600, 3753800; 472600, 3753700; 472700, 3753700; 472700, 3753600; 472800, 3753600; 472800, 3753500; 472900, 3753500; 472900, 3753400; 473000, 3753400; 473000, 3753300; 473100, 3753300; 473100, 3753100; 472700, 3753100; 472700, 3753200; 472600, 3753200; 472600, 3753000; 472700, 3753000; 472700, 3752800; 473200, 3752800; 473200, 3752700; 472200, 3752700; 472200, 3752900; 472100, 3752900; 472100, 3753000; 471700, 3753000; 471700, 3753100; 471600, 3753100; 471600, 3753200; 471500, 3753200; 471500, 3753100; 471000, 3753100; 471000, 3753900; 470700, 3753900; 470700, 3753800; 470500, 3753800; 470500, 3754000; 470600, 3754000; 470600, 3754200; 470500, 3754200; 470500, 3754300; 470200, 3754300; 470200, 3754400; 469900, 3754400; 469900, 3754200; 469400, 3754200; 469400, 3754300; 469200, 3754300; 469200, 3754500; 469000, 3754500; 469000, 3755100; 469100, 3755100; 469100, 3755200; 469200, 3755200; 469200, 3755300; 469300, 3755300; 469300, 3755500; 469400, 3755500; 469400, 3755900; 469300, 3755900; 469300, 3756100; 470200, 3756100; 470200, 3756900; 470100, 3756900; 470100, 3757000; 469900, 3757000; 469900,

3757400; 470000, 3757400; 470000, 3757500; 470200, 3757500; 470200, 3757900; 470000, 3757900; 470000, 3758000; 469900, 3758000; 469900, 3758200; 469800, 3758200; 469800, 3758600; 470200, 3758600; 470200, 3758700; 470300, 3758700; 470300, 3758900; 470600, 3758900; 470600, 3758800; 470700, 3758800; 470700, 3758600; 470800, 3758600; 470800, 3758700; 471000, 3758700; 471000, 3758600; 471100, 3758600; 471100, 3758400; 471300, 3758400; 471300, 3758500; 471400, 3758500; 471400, 3758800; 471500, 3758800; 471500, 3759700; 471400, 3759700; 471400, 3759800; 471300, 3759800; 471300, 3759900; 471400, 3759900; 471400, 3760000; 471500, 3760000; 471500, 3760300; 471700, 3760300; 471700, 3760600; 471400, 3760600; 471400, 3760500; 471000, 3760500; 471000, 3760900; 471400, 3760900; 471400, 3761100; 471000, 3761100; 471000, 3761400; 471100, 3761400; 471100, 3762100; 471200, 3762100; 471200, 3762200; 471300, 3762200; 471300, 3762300; 471400, 3762300; 471400, 3762400; 471500, 3762400; 471500, 3762500; 471800, 3762500; 471800, 3762700; 472300, 3762700; 472300, 3762600; 472400, 3762600; 472400, 3762500; 472600, 3762500; 472600, 3762300; 472700, 3762300; 472700, 3762200; 473000, 3762200; 473000, 3762100; 473200, 3762100; 473200, 3762800; 473100, 3762800; 473100, 3763500; 472800, 3763500; 472800, 3763600; 472600, 3763600; 472600, 3763700; 471800, 3763700; 471800, 3764200; 471900, 3764200; 471900, 3764300; 471800, 3764300; 471800, 3764400; 471900, 3764400; 471900, 3764600; 472000, 3764600; 472000, 3764800; 471900, 3764800; 471900, 3765100; 472000, 3765100; 472000, 3765200; 472100, 3765200; 472100, 3765300; 472200, 3765300; 472200, 3765400; 472300, 3765400; 472300, 3765800; 472400, 3765800; 472400, 3766000; 472500, 3766000; 472500, 3766100; 472700, 3766100; 472700, 3766400; 472500, 3766400; 472500, 3766500; 472400, 3766500; 472400, 3766600; 472300, 3766600; 472300, 3766700; 472200, 3766700; 472200, 3766800; 472000, 3766800; 472000, 3766900; 471600, 3766900; 471600, 3766800; 471400, 3766800; 471400, 3767000; 471500, 3767000; 471500, 3767200; 471700, 3767200; 471700, 3767100; 471900, 3767100; 471900, 3767200; 472200, 3767200; 472200, 3767000; 472500, 3767000; 472500, 3767100; 472600, 3767100; 472600, 3767000; 473000, 3767000; 473000, 3766900; 473100, 3766900; 473100, 3766800; 473300, 3766800; 473300, 3766700; 473400, 3766700; 473400, 3766600; 473600, 3766600; 473600, 3766500; 473700, 3766500; 473700, 3766300; 473500, 3766300; 473500, 3766200; 473400, 3766200; 473400, 3766100; 473300, 3766100; 473300, 3765700; 473200, 3765700; 473200, 3765400; 473300, 3765400; 473300, 3765300; 474000, 3765300; 474000, 3765200; 474100, 3765200; 474100, 3765400; 474000, 3765400; 474000, 3765500; 473900, 3765500; 473900, 3766000; 473800, 3766000; 473800, 3766300; 473900, 3766300; 473900, 3766400; 474000, 3766400; 474000, 3766500; returning to 474400, 3766500; excluding land bounded by 474900, 3766000; 474900, 3765900; 475100, 3765900; 475100, 3766000; 474900, 3766000; land bounded by 474200, 3765000; 474200, 3764900; 474300, 3764900; 474300, 3764800; 474400, 3764800; 474400, 3764600; 474500, 3764600; 474500, 3764500; 474600, 3764500; 474600, 3764400; 474800, 3764400; 474800, 3764500; 474700, 3764500; 474700, 3764700; 474800, 3764700; 474800, 3764800; 474700, 3764800; 474700, 3765100; 474400, 3765100; 474400, 3765000; 474200, 3765000; 475000, 3764300; 475100, 3764300; 475100, 3764400; 475000, 3764400; 475000, 3764300; land bounded by 475000, 3764300; 474900, 3764300; 474900, 3764100; 475000, 3764100; 475000, 3764300; land bounded by 475400, 3763200; 475400, 3763300; 475200, 3763300; 475200, 3763400; 475100, 3763400; 475100, 3763200; 475400, 3763200; land bounded by 476300, 3762900; 476300, 3762600; 476400, 3762600; 476400, 3762900; 476300, 3762900; 477800, 3762500; 477800, 3762900; 477600, 3762900; 477600, 3762700; 477500, 3762700; 477500, 3762600; 477600, 3762600; 477600, 3762500; 477800, 3762500; land bounded by 478100, 3762500; 478200, 3762500; 478200, 3762600; 478100, 3762600; 478100, 3762500; land bounded by 476100, 3763000; 476100, 3763100; 475900, 3763100; 475900, 3763200; 475400, 3763200; 475400, 3763100; 475800, 3763100; 475800, 3763000; 476100, 3763000; land bounded by 478100, 3762500; 477800, 3762500; 477800, 3762300; 478000, 3762300; 478000, 3761900; 478100, 3761900; 478100, 3762000; 478200, 3762000; 478200, 3762200; 478100, 3762200; 478100, 3762500; land bounded by 474800, 3766100; 474800, 3766000; 474900, 3766000; 474900, 3766100; 474800, 3766100; land bounded by 474100, 3765200; 474100, 3765000; 474200, 3765000; 474200, 3765200; 474100, 3765200; land bounded by 476100, 3763000; 476100, 3762900; 476300, 3762900; 476300, 3763000; 476100, 3763000; land bounded by 474400, 3766500; 474400, 3766400; 474600, 3766400; 474600, 3766200; 474700, 3766200; 474700, 3766100; 474800, 3766100; 474800, 3766500; 474400, 3766500; land bounded by 472700, 3766100; 472700, 3766000; 472800, 3766000; 472800, 3766100; 472700, 3766100; land bounded by 475400, 3764600; 475400, 3764400; 475600, 3764400; 475600, 3764600; 475400, 3764600; land bounded by 475700, 3764100; 475700, 3764000; 475200, 3764000; 475200, 3763900; 475300, 3763900; 475300, 3763800; 475400, 3763800; 475400, 3763700; 475500, 3763700; 475500, 3763600; 475600, 3763600; 475600, 3763500; 475700, 3763500; 475700, 3763400; 475800, 3763400; 475800, 3764100; 475700, 3764100; and land bounded by 473900, 3763100; 473900, 3763000; 473800, 3763000; 473800, 3762900; 473700, 3762900; 473700, 3762800; 473800, 3762800; 473800, 3762500; 473600, 3762500; 473600, 3762600; 473400, 3762600; 473400, 3762400; 473500, 3762400; 473500, 3762200; 473600, 3762200; 473600, 3762100; 473700, 3762100; 473700, 3762000; 473800, 3762000; 473800, 3761900; 473900, 3761900; 473900, 3762100; 474000, 3762100; 474000, 3762500; 474100, 3762500; 474100, 3762600; 474200, 3762600; 474200, 3762800; 474100, 3762800; 474100, 3763000; 474000, 3763000; 474000, 3763100; 473900, 3763100.

Land bounded by the following UTM NAD27 coordinates (E, N): 468400, 3767200; 469000, 3767200; 469000, 3767100; 469100, 3767100; 469100, 3767000; 469200, 3767000; 469200, 3766800; 469100, 3766800; 469100, 3766700; 469000, 3766700; 469000, 3766600; 468900, 3766600; 468900, 3766300; 469000, 3766300; 469000, 3766200; 469100, 3766200; 469100, 3766100; 469000, 3766100; 469000, 3765700; 468900, 3765700; 468900, 3765600; 469000, 3765600; 469000, 3765300; 468900, 3765300; 468900, 3765200; 468700, 3765200; 468700, 3765000; 468600, 3765000; 468600, 3764700; 468700, 3764700; 468700, 3764500; 468300, 3764500; 468300, 3764400; 468200, 3764400; 468200, 3764300; 468000, 3764300; 468000, 3764200; 467600, 3764200; 467600, 3764300; 467400, 3764300; 467400, 3764800; 466700, 3764800; 466700, 3765000; 466800, 3765000; 466800, 3765200; 466900, 3765200; 466900, 3765300; 467000, 3765300; 467000, 3765400; 467100, 3765400; 467100, 3765600; 467200, 3765600; 467200, 3765700; 467300, 3765700; 467300, 3765900; 467400, 3765900; 467400, 3766300; 467500, 3766300; 467500, 3766600; 467600, 3766600; 467600, 3766800; 468300, 3766800; 468300, 3767000; 468400, 3767000; returning to 468400, 3767200.

Land bounded by the following UTM NAD27 coordinates (E, N): 466600, 3756000; 467000, 3756000; 467000, 3755900; 467100, 3755900; 467100, 3755700; 467000, 3755700; 467000, 3755500; 466600, 3755500; 466600, 3755300; 466500, 3755300; 466500, 3755200; 466900, 3755200; 466900, 3755100; 467000, 3755100; 467000, 3755000; 467200, 3755000; 467200, 3754700; 467500, 3754700; 467500, 3754500; 467400, 3754500; 467400, 3754400; 467200, 3754400; 467200, 3754000; 467300, 3754000; 467300, 3753900; 467500, 3753900; 467500, 3753700; 467600, 3753700; 467600, 3753600; 467800, 3753600; 467800, 3754200; 467900, 3754200; 467900, 3754400; 468100, 3754400; 468100, 3754300; 468200, 3754300; 468200, 3754200; 468300, 3754200; 468300, 3753300; 468400, 3753300; 468400, 3753000; 468500, 3753000; 468500, 3752900; 468600, 3752900; 468600, 3752800; 468700, 3752800; 468700, 3752700; 467900, 3752700; 467900, 3751100; 467500, 3751100; 467500, 3750700; 467600, 3750700; 467600, 3750300; 467400, 3750300; 467400, 3750100; 467500, 3750100; 467500, 3749800; 467300, 3749800; 467300, 3749500; 467200, 3749500; 467200, 3749400; 466600, 3749400; 466600, 3749700; 466500, 3749700; 466500, 3749800; 466400, 3749800; 466400, 3749700; 466200, 3749700; 466200, 3750000; 466100, 3750000; 466100, 3750100; 465900, 3750100; 465900, 3750000; 465800, 3750000; 465800, 3750100; 465700, 3750100; 465700, 3750400; 465800, 3750400; 465800, 3750500; 465700, 3750500; 465700, 3750700; 465600, 3750700; 465600, 3750900; 465800, 3750900; 465800, 3751000; 465700, 3751000; 465700, 3751100; 465400, 3751100; 465400, 3751500; 465600, 3751500; 465600, 3752000; 465800, 3752000; 465800, 3752100; 465400, 3752100; 465400, 3752800; 466200, 3752800; 466200, 3753200; 466400, 3753200; 466400, 3753300; 466300, 3753300; 466300, 3753500; 466200, 3753500; 466200, 3755500; 466300, 3755500; 466300, 3755600; 466400, 3755600; 466400, 3755800; 466600, 3755800; returning to 466600, 3756000; excluding land bounded by 466000, 3750600; 466000, 3750500; 466100, 3750500; 466100, 3750400; 466400, 3750400; 466400, 3750500; 466200, 3750500; 466200, 3750600; 466000, 3750600.

Land bounded by the following UTM NAD27 coordinates (E,N): 467900, 3755000; 468300, 3755000; 468300, 3754900; 468700, 3754900; 468700, 3754700; 468600, 3754700; 468600, 3754600; 468500, 3754600; 468500, 3754500; 468200, 3754500; 468200, 3754700; 468000, 3754700; 468000, 3754800; 467900, 3754800; returning to 467900, 3755000.

Land bounded by the following UTM NAD27 coordinates (E,N): 462300, 3751000; 462600, 3751000; 462600, 3750800; 462900, 3750800; 462900, 3750600; 463000, 3750600; 463000, 3750500; 463200, 3750500; 463200, 3750600; 463100, 3750600; 463100, 3750800; 463500, 3750800; 463500, 3750700; 463600, 3750700; 463600, 3750600; 464000, 3750600; 464000, 3750400; 464500, 3750400; 464500, 3750500; 464400, 3750500; 464400, 3750700; 464600, 3750700; 464600, 3750600; 464700, 3750600; 464700, 3750400; 464800, 3750400; 464800, 3750500; 465100, 3750500; 465100, 3750300; 465000, 3750300; 465000, 3750200; 464700, 3750200; 464700, 3749900; 464800, 3749900; 464800, 3749800; 464900, 3749800; 464900, 3749700; 465000, 3749700; 465000, 3749400; 463000, 3749400; 463000, 3749900; 462900, 3749900; 462900, 3750000; 462700, 3750000; 462700, 3750400; 462600, 3750400; 462600, 3750500; 462500, 3750500; 462500, 3750700; 462400, 3750700; 462400, 3750800; 462300, 3750800; returning to 462300, 3751000.

Land bounded by the following UTM NAD27 coordinates (E,N): 462900, 3747100; 462900, 3747000; 462800, 3747000; 462800, 3746800; 463300, 3746800; 463300, 3746700; 463400, 3746700; 463400, 3746500; 463200, 3746500; 463200, 3745900; 463300, 3745900; 463300, 3745800; 463500, 3745800; 463500, 3745700; 464000, 3745700; 464000, 3745600; 464200, 3745600; 464200, 3745500; 464300, 3745500; 464300, 3745400; 464500, 3745400; 464500, 3745300; 464600, 3745300; 464600, 3745200; 464900, 3745200; 464900, 3745100; 465200, 3745100; 465200, 3745000; 465400, 3745000; 465400, 3744900; 465500, 3744900; 465500, 3744700; 466600, 3744700; 466600, 3744500; 467000, 3744500; 467000, 3744000; 467400, 3744000; 467400, 3743500; 467000, 3743500; 467000, 3743200; 466600, 3743200; 466600, 3743300; 464600, 3743300; 464600, 3743200; 464200, 3743200; 464200, 3743100; 463800, 3743100; 463800, 3742800; 463600, 3742800; 463600, 3742600; 462800, 3742600; 462800, 3742400; 462200, 3742400; 462200, 3742300; 462100, 3742300; 462100, 3742200; 461700, 3742200; 461700, 3741800; 461200, 3741800; 461200, 3742000; 460700, 3742000; 460700, 3741700; 461700, 3741700; 461700, 3741400; 461500, 3741400; 461500, 3740800; 461300, 3740800; 461300, 3740600; 460900, 3740600; 460900, 3739100; 461500, 3739100; 461500, 3738700; 461400, 3738700; 461400, 3738500; 461500, 3738500; 461500, 3738400; 461600, 3738400; 461600, 3738300; 461700, 3738300; 461700, 3738100; 461400, 3738100; 461400, 3738200; 461200, 3738200; 461200, 3738000; 461300, 3738000; 461300, 3737800; 461400, 3737800; 461400, 3737600; 461600, 3737600; 461600, 3737500; 461700, 3737500; 461700, 3737300; 462100, 3737300; 462100, 3737200; 462500, 3737200; 462500, 3737100; 462700, 3737100; 462700, 3736800; 462600, 3736800; 462600, 3736700; 462500, 3736700; 462500, 3736200; 461600, 3736200; 461600, 3735400; 461300, 3735400; 461300, 3735200; 461000, 3735200; 461000, 3735300; 460900, 3735300; 460900, 3735200; 460800, 3735200; 460800, 3735100; 463100, 3735100; 463100, 3735400; 463200, 3735400; 463200, 3735500; 463300, 3735500; 463300, 3735600; 463400, 3735600; 463400, 3736000; 463500, 3736000; 463500, 3736200; 463600, 3736200; 463600, 3736300; 463700, 3736300; 463700, 3736400; 463800, 3736400; 463800, 3736500; 464100, 3736500; 464100, 3736600; 464300, 3736600; 464300, 3736700; 464500, 3736700; 464500, 3736600; 464600, 3736600; 464600, 3736700; 466500, 3736700; 466500, 3735600; 466400, 3735600; 466400, 3733500; 466600, 3733500; 466600, 3733400; 468000, 3733400; 468000, 3731800; 469700, 3731800; 469700, 3735000; 470100, 3735000; 470100, 3735100; 471500, 3735100; 471500, 3735000; 471600, 3735000; 471600, 3734800; 471700, 3734800; 471700, 3734500; 471800, 3734500; 471800, 3734200; 471700, 3734200; 471700, 3733700; 471800, 3733700; 471800, 3733600; 472000, 3733600; 472000, 3733500; 472200, 3733500; 472200, 3733400; 472300, 3733400; 472300, 3733100; 472400, 3733100; 472400, 3732700; 472300, 3732700; 472300, 3732600; 471500, 3732600; 471500, 3732500; 471600, 3732500; 471600, 3732200; 471400, 3732200; 471400, 3730200; 472700, 3730200; 472700, 3730300; 474500, 3730300; 474500, 3731100; 474700, 3731100; 474700, 3731500; 475300, 3731500; 475300, 3731600; 475200, 3731600; 475200, 3731800; 474600, 3731800; 474600, 3732100; 474500, 3732100; 474500, 3733500; 476100, 3733500; 476100, 3735100; 476600, 3735100; 476600, 3735200; 477200, 3735200; 477200, 3735100; 477800, 3735100; 477800, 3733500; 479400, 3733500; 479400, 3731900; 481000, 3731900; 481000, 3731400; 480300, 3731400; 480300, 3731200; 480400, 3731200; 480400, 3729800; 480200, 3729800; 480200, 3729500; 480100, 3729500; 480100, 3729400; 479900, 3729400; 479900, 3729300; 480000, 3729300; 480000, 3729100; 480100, 3729100; 480100, 3728800; 479900,

3728800; 479900, 3728700; 478700, 3728700; 478700, 3728600; 478400, 3728600; 478400, 3728800; 478500, 3728800; 478500, 3729600; 478600, 3729600; 478600, 3729900; 478700, 3729900; 478700, 3730000; 478500, 3730000; 478500, 3729900; 478400, 3729900; 478400, 3729800; 478100, 3729800; 478100, 3730000; 478000, 3730000; 478000, 3730100; 477900, 3730100; 477900, 3730500; 477800, 3730500; 477800, 3730300; 477700, 3730300; 477700, 3730200; 476200, 3730200; 476200, 3728600; 474600, 3728600; 474600, 3727000; 474300, 3727000; 474300, 3726900; 474100, 3726900; 474100, 3727000; 474000, 3727000; 474000, 3726900; 473700, 3726900; 473700, 3727000; 473600, 3727000; 473600, 3727100; 473700, 3727100; 473700, 3727300; 473000, 3727300; 473000, 3726700; 473100, 3726700; 473100, 3725900; 473000, 3725900; 473000, 3725800; 473100, 3725800; 473100, 3725700; 473400, 3725700; 473400, 3725800; 473500, 3725800; 473500, 3725900; 474000, 3725900; 474000, 3726000; 474100, 3726000; 474100, 3725900; 474200, 3725900; 474200, 3725800; 474400, 3725800; 474400, 3725700; 474600, 3725700; 474600, 3725600; 474700, 3725600; 474700, 3725500; 474800, 3725500; 474800, 3725600; 474900, 3725600; 474900, 3725800; 474800, 3725800; 474800, 3726100; 475000, 3726100; 475000, 3726200; 475100, 3726200; 475100, 3726300; 475400, 3726300; 475400, 3726000; 475500, 3726000; 475500, 3725900; 475800, 3725900; 475800, 3725700; 475900, 3725700; 475900, 3725600; 476000, 3725600; 476000, 3725500; 476200, 3725500; 476200, 3724800; 476000, 3724800; 476000, 3724600; 475400, 3724600; 475400, 3724100; 475300, 3724100; 475300, 3723900; 477800, 3723900; 477800, 3720700; 478300, 3720700; 478300, 3720500; 478400, 3720500; 478400, 3720300; 478500, 3720300; 478500, 3720200; 478700, 3720200; 478700, 3720000; 478800, 3720000; 478800, 3719800; 479300, 3719800; 479300, 3720000; 479000, 3720000; 479000, 3720200; 478900, 3720200; 478900, 3720300; 478800, 3720300; 478800, 3720600; 478900, 3720600; 478900, 3720700; 481000, 3720700; 481000, 3719000; 482600, 3719000; 482600, 3717500; 482400, 3717500; 482400, 3717600; 482300, 3717600; 482300, 3717300; 481600, 3717300; 481600, 3717400; 481200, 3717400; 481200, 3717200; 480900, 3717200; 480900, 3717500; 480800, 3717500; 480800, 3717600; 480500, 3717600; 480500, 3717500; 480400, 3717500; 480400, 3717400; 480300, 3717400; 480300, 3717300; 477700, 3717300; 477700, 3718200; 478300, 3718200; 478300, 3718400; 478200, 3718400; 478200, 3718800; 478100, 3718800; 478100, 3718900; 477700, 3718900; 477700, 3719000; 476100, 3719000; 476100, 3722200; 475300, 3722200; 475300, 3721900; 474900, 3721900; 474900, 3722000; 474500, 3722000; 474500, 3722200; 473800, 3722200; 473800, 3722300; 473700, 3722300; 473700, 3722500; 473600, 3722500; 473600, 3722700; 473500, 3722700; 473500, 3722900; 473400, 3722900; 473400, 3723000; 473300, 3723000; 473300, 3723200; 473200, 3723200; 473200, 3723400; 473100, 3723400; 473100, 3723500; 473000, 3723500; 473000, 3723700; 472900, 3723700; 472900, 3724500; 472800, 3724500; 472800, 3724600; 472500, 3724600; 472500, 3724700; 472400, 3724700; 472400, 3724800; 472300, 3724800; 472300, 3724700; 472200, 3724700; 472200, 3724800; 472100, 3724800; 472100, 3724900; 472300, 3724900; 472300, 3725000; 472600, 3725000; 472600, 3724900; 472900, 3724900; 472900, 3724800; 473100, 3724800; 473100, 3724700; 473200, 3724700; 473200, 3724900; 473300, 3724900; 473300, 3725000; 472900, 3725000; 472900, 3725100; 472800, 3725100; 472800, 3725300; 472700, 3725300; 472700, 3725200; 472200, 3725200; 472200, 3725400; 471800, 3725400; 471800, 3725100; 471700, 3725100; 471700, 3725200; 471600, 3725200; 471600, 3725300; 471400, 3725300; 471400, 3725400; 471300, 3725400; 471300, 3726900; 469700, 3726900; 469700, 3728600; 469500,

3728600; 469500, 3728700; 469400, 3728700; 469400, 3729200; 469500, 3729200; 469500, 3729300; 468900, 3729300; 468900, 3729500; 468800, 3729500; 468800, 3729600; 468700, 3729600; 468700, 3729700; 468300, 3729700; 468300, 3729600; 468200, 3729600; 468200, 3729500; 468000, 3729500; 468000, 3729300; 467700, 3729300; 467700, 3729200; 467600, 3729200; 467600, 3729100; 467500, 3729100; 467500, 3729000; 467300, 3729000; 467300, 3729100; 467200, 3729100; 467200, 3729200; 467100, 3729200; 467100, 3729300; 467000, 3729300; 467000, 3729400; 466900, 3729400; 466900, 3729500; 466500, 3729500; 466500, 3729400; 466300, 3729400; 466300, 3729300; 465900, 3729300; 465900, 3729200; 465700, 3729200; 465700, 3729100; 465500, 3729100; 465500, 3729200; 465300, 3729200; 465300, 3729300; 465200, 3729300; 465200, 3729400; 465100, 3729400; 465100, 3729500; 465000, 3729500; 465000, 3729600; 464900, 3729600; 464900, 3729700; 464800, 3729700; 464800, 3729800; 464700, 3729800; 464700, 3730000; 464600, 3730000; 464600, 3730100; 464500, 3730100; 464500, 3730200; 464300, 3730200; 464300, 3730300; 464200, 3730300; 464200, 3730400; 464100, 3730400; 464100, 3730500; 464000, 3730500; 464000, 3730600; 463800, 3730600; 463800, 3730700; 463700, 3730700; 463700, 3730800; 463600, 3730800; 463600, 3730900; 463500, 3730900; 463500, 3731000; 463400, 3731000; 463400, 3731100; 463300, 3731100; 463300, 3731200; 463200, 3731200; 463200, 3731400; 463100, 3731400; 463100, 3731800; 461500, 3731800; 461500, 3733400; 459500, 3733400; 459500, 3733500; 459200, 3733500; 459200, 3733600; 459000, 3733600; 459000, 3733700; 458800, 3733700; 458800, 3733800; 458600, 3733800; 458600, 3733900; 458500, 3733900; 458500, 3734000; 458300, 3734000; 458300, 3734100; 458100, 3734100; 458100, 3734000; 457900, 3734000; 457900, 3733900; 457500, 3733900; 457500, 3734200; 457300, 3734200; 457300, 3734500; 457400, 3734500; 457400, 3734600; 457200, 3734600; 457200, 3734500; 457100, 3734500; 457100, 3734400; 456900, 3734400; 456900, 3734500; 456700, 3734500; 456700, 3734700; 456600, 3734700; 456600, 3734900; 456400, 3734900; 456400, 3735000; 456300, 3735000; 456300, 3735100; 456200, 3735100; 456200, 3735500; 455900, 3735500; 455900, 3736000; 456300, 3736000; 456300, 3736200; 455500, 3736200; 455500, 3736300; 455300, 3736300; 455300, 3735900; 455100, 3735900; 455100, 3735800; 454900, 3735800; 454900, 3735900; 454800, 3735900; 454800, 3736000; 454700, 3736000; 454700, 3736100; 454800, 3736100; 454800, 3736200; 454600, 3736200; 454600, 3736300; 454500, 3736300; 454500, 3736400; 454400, 3736400; 454400, 3736600; 454300, 3736600; 454300, 3736800; 454200, 3736800; 454200, 3737000; 454100, 3737000; 454100, 3737100; 454000, 3737100; 454000, 3737300; 453900, 3737300; 453900, 3737200; 453500, 3737200; 453500, 3737600; 453600, 3737600; 453600, 3737700; 453700, 3737700; 453700, 3737800; 453800, 3737800; 453800, 3737900; 453900, 3737900; 453900, 3738000; 454100, 3738000; 454100, 3738100; 454300, 3738100; 454300, 3738200; 454400, 3738200; 454400, 3738400; 454300, 3738400; 454300, 3738600; 454200, 3738600; 454200, 3738800; 454300, 3738800; 454300, 3739800; 454200, 3739800; 454200, 3739900; 454100, 3739900; 454100, 3740100; 453900, 3740100; 453900, 3740300; 453800, 3740300; 453800, 3740400; 453700, 3740400; 453700, 3740600; 453600, 3740600; 453600, 3740700; 453200, 3740700; 453200, 3740500; 453300, 3740500; 453300, 3740300; 453400, 3740300; 453400, 3740100; 452800, 3740100; 452800, 3739800; 453400, 3739800; 453400, 3739700; 453500, 3739700; 453500, 3739200; 453700, 3739200; 453700, 3739000; 453600, 3739000; 453600, 3738900; 453400, 3738900; 453400, 3738800; 453200, 3738800; 453200, 3738700; 453000, 3738700; 453000, 3738400; 453200, 3738400; 453200, 3738200; 453300,

3738200; 453300, 3738000; 453200, 3738000; 453200, 3737900; 453100, 3737900; 453100, 3737800; 452900, 3737800; 452900, 3737500; 452800, 3737500; 452800, 3737300; 452900, 3737300; 452900, 3737100; 453400, 3737100; 453400, 3737000; 453100, 3737000; 453100, 3736300; 453200, 3736300; 453200, 3736200; 453100, 3736200; 453100, 3736100; 453300, 3736100; 453300, 3736000; 453400, 3736000; 453400, 3735900; 453600, 3735900; 453600, 3735800; 453500, 3735800; 453500, 3735600; 453400, 3735600; 453400, 3735500; 453300, 3735500; 453300, 3735400; 453200, 3735400; 453200, 3735200; 453000, 3735200; 453000, 3734900; 452900, 3734900; 452900, 3734700; 452800, 3734700; 452800, 3734600; 452700, 3734600; 452700, 3734500; 452600, 3734500; 452600, 3734400; 452400, 3734400; 452400, 3734700; 452600, 3734700; 452600, 3735500; 452400, 3735500; 452400, 3735400; 452200, 3735400; 452200, 3735200; 452000, 3735200; 452000, 3735300; 451900, 3735300; 451900, 3735600; 452000, 3735600; 452000, 3735700; 452100, 3735700; 452100, 3735800; 452200, 3735800; 452200, 3735900; 452300, 3735900; 452300, 3736200; 452200, 3736200; 452200, 3736400; 452100, 3736400; 452100, 3736500; 452000, 3736500; 452000, 3736400; 451700, 3736400; 451700, 3736500; 451800, 3736500; 451800, 3736700; 451500, 3736700; 451500, 3736600; 450600, 3736600; 450600, 3736700; 450700, 3736700; 450700, 3736800; 450900, 3736800; 450900, 3736900; 451200, 3736900; 451200, 3737000; 451300, 3737000; 451300, 3737100; 451500, 3737100; 451500, 3737200; 451600, 3737200; 451600, 3737400; 451500, 3737400; 451500, 3737500; 451400, 3737500; 451400, 3737400; 451100, 3737400; 451100, 3737900; 451400, 3737900; 451400, 3738000; 451500, 3738000; 451500, 3738100; 451000, 3738100; 451000, 3738200; 450900, 3738200; 450900, 3738500; 451000, 3738500; 451000, 3738700; 450600, 3738700; 450600, 3738800; 450400, 3738800; 450400, 3739000; 450500, 3739000; 450500, 3739100; 450600, 3739100; 450600, 3739300; 450500, 3739300; 450500, 3739400; 450200, 3739400; 450200, 3739300; 450100, 3739300; 450100, 3739200; 450000, 3739200; 450000, 3739100; 449800, 3739100; 449800, 3739200; 449600, 3739200; 449600, 3739100; 449500, 3739100; 449500, 3738800; 449400, 3738800; 449400, 3738600; 448900, 3738600; 448900, 3738500; 448800, 3738500; 448800, 3738400; 448600, 3738400; 448600, 3738300; 448300, 3738300; 448300, 3738400; 448200, 3738400; 448200, 3738500; 448100, 3738500; 448100, 3738600; 448000, 3738600; 448000, 3738700; 447900, 3738700; 447900, 3738900; 448300, 3738900; 448300, 3739000; 448400, 3739000; 448400, 3739100; 448500, 3739100; 448500, 3739200; 448600, 3739200; 448600, 3739300; 448500, 3739300; 448500, 3739400; 448400, 3739400; 448400, 3739600; 448300, 3739600; 448300, 3740000; 449100, 3740000; 449100, 3740100; 449200, 3740100; 449200, 3740400; 449100, 3740400; 449100, 3740600; 449000, 3740600; 449000, 3740700; 448800, 3740700; 448800, 3740800; 448400, 3740800; 448400, 3740900; 448200, 3740900; 448200, 3741000; 447900, 3741000; 447900, 3741100; 447600, 3741100; 447600, 3741000; 447500, 3741000; 447500, 3740900; 447200, 3740900; 447200, 3741400; 447300, 3741400; 447300, 3741500; 447200, 3741500; 447200, 3741600; 447100, 3741600; 447100, 3741500; 446900, 3741500; 446900, 3741400; 446700, 3741400; 446700, 3741900; 446500, 3741900; 446500, 3741800; 446400, 3741800; 446400, 3741700; 446300, 3741700; 446300, 3741600; 446100, 3741600; 446100, 3741500; 446000, 3741500; 446000, 3741400; 445800, 3741400; 445800, 3741300; 445600, 3741300; 445600, 3741200; 445200, 3741200; 445200, 3741400; 445300, 3741400; 445300, 3741500; 445400, 3741500; 445400, 3741600; 445500, 3741600; 445500, 3741700; 445600, 3741700; 445600, 3741900; 445700, 3741900; 445700, 3742000; 445800, 3742000; 445800, 3742500; 445700,

3742500; 445700, 3742600; 445500, 3742600; 445500, 3742500; 445400, 3742500; 445400, 3742400; 445300, 3742400; 445300, 3742300; 444900, 3742300; 444900, 3742600; 444800, 3742600; 444800, 3742700; 444700, 3742700; 444700, 3742800; 444500, 3742800; 444500, 3742600; 444400, 3742600; 444400, 3742400; 444300, 3742400; 444300, 3742000; 444200, 3742000; 444200, 3741800; 443900, 3741800; 443900, 3741700; 443800, 3741700; 443800, 3741800; 443700, 3741800; 443700, 3741900; 443600, 3741900; 443600, 3742200; 443700, 3742200; 443700, 3742300; 443800, 3742300; 443800, 3742500; 443700, 3742500; 443700, 3742600; 443600, 3742600; 443600, 3742700; 443500, 3742700; 443500, 3742800; 443400, 3742800; 443400, 3743300; 443300, 3743300; 443300, 3743400; 443000, 3743400; 443000, 3743500; 442900, 3743500; 442900, 3743400; 442600, 3743400; 442600, 3743300; 442400, 3743300; 442400, 3743200; 442100, 3743200; 442100, 3743700; 442200, 3743700; 442200, 3743900; 442300, 3743900; 442300, 3744100; 442400, 3744100; 442400, 3744300; 442500, 3744300; 442500, 3744700; 442400, 3744700; 442400, 3744800; 442300, 3744800; 442300, 3744900; 442200, 3744900; 442200, 3744800; 442000, 3744800; 442000, 3744700; 441900, 3744700; 441900, 3744600; 441700, 3744600; 441700, 3744500; 441500, 3744500; 441500, 3744600; 441400, 3744600; 441400, 3744800; 441500, 3744800; 441500, 3745100; 441600, 3745100; 441600, 3745200; 441500, 3745200; 441500, 3745400; 441100, 3745400; 441100, 3745600; 441000, 3745600; 441000, 3745800; 440800, 3745800; 440800, 3745900; 440700, 3745900; 440700, 3746000; 440600, 3746000; 440600, 3746100; 440400, 3746100; 440400, 3746200; 440300, 3746200; 440300, 3746300; 440200, 3746300; 440200, 3746400; 439900, 3746400; 439900, 3746500; 439100, 3746500; 439100, 3746600; then west to the Orange County Line at y-coordinate 3746600; then west along the Cleveland National Forest boundary to the Central Orange County NCCP Reserve; then north along the NCCP Reserve boundary to the Coal Canyon Existing Use Area of the Central Orange County NCCP; then north and west along the Coal Canyon Existing Use Area boundary to x-coordinate 437100; then land bounded by 437100, 3748000; 437200, 3748000; 438700, 3748000; 438700, 3748300; 438800, 3748300; 438800, 3748400; 438900, 3748400; 438900, 3748500; 439000, 3748500; 439000, 3748600; 439100, 3748600; 439100, 3748700; 439300, 3748700; 439300, 3748800; 439700, 3748800; 439700, 3748600; 440100, 3748600; 440100, 3748500; 440200, 3748500; 440200, 3748200; 440300, 3748200; 440300, 3748100; 440400, 3748100; 440400, 3747900; 440500, 3747900; 440500, 3747800; 440700, 3747800; 440700, 3747900; 440800, 3747900; 440800, 3748000; 441400, 3748000; 441400, 3747900; 441500, 3747900; 441500, 3747700; 441800, 3747700; 441800, 3747600; 441900, 3747600; 441900, 3747500; 442100, 3747500; 442100, 3747300; 442200, 3747300; 442200, 3747200; 442300, 3747200; 442300, 3747400; 442700, 3747400; 442700, 3747300; 442900, 3747300; 442900, 3747200; 443200, 3747200; 443200, 3747100; 443300, 3747100; 443300, 3746800; 443500, 3746800; 443500, 3746700; 443600, 3746700; 443600, 3746600; 443700, 3746600; 443700, 3746500; 443900, 3746500; 443900, 3746400; 443800, 3746400; 443800, 3746300; 443600, 3746300; 443600, 3745900; 443500, 3745900; 443500, 3745800; 443600, 3745800; 443600, 3745700; 443700, 3745700; 443700, 3745600; 443900, 3745600; 443900, 3745500; 444000, 3745500; 444000, 3745700; 444100, 3745700; 444100, 3744900; 444600, 3744900; 444600, 3744300; 444500, 3744300; 444500, 3744000; 444300, 3744000; 444300, 3743900; 444600, 3743900; 444600, 3743800; 444700, 3743800; 444700, 3744200; 444800, 3744200; 444800, 3744300; 444700, 3744300; 444700, 3744700; 444900, 3744700; 444900, 3744600; 445000, 3744600; 445000, 3744500; 445200, 3744500; 445200, 3744400;

445300, 3744400; 445300, 3744200; 445400, 3744200; 445400, 3744100; 445500, 3744100; 445500, 3743900; 445600, 3743900; 445600, 3743800; 445800, 3743800; 445800, 3743500; 445900, 3743500; 445900, 3743400; 446000, 3743400; 446000, 3743300; 446100, 3743300; 446100, 3743200; 446200, 3743200; 446200, 3743400; 446300, 3743400; 446300, 3743600; 446400, 3743600; 446400, 3743500; 446500, 3743500; 446500, 3743400; 446600, 3743400; 446600, 3743000; 446900, 3743000; 446900, 3742900; 447000, 3742900; 447000, 3742700; 447100, 3742700; 447100, 3742600; 447500, 3742600; 447500, 3742500; 447700, 3742500; 447700, 3742300; 447600, 3742300; 447600, 3742100; 447500, 3742100; 447500, 3742000; 447700, 3742000; 447700, 3741900; 447800, 3741900; 447800, 3741800; 448000, 3741800; 448000, 3741900; 448200, 3741900; 448200, 3741800; 448400, 3741800; 448400, 3741700; 448600, 3741700; 448600, 3741600; 448800, 3741600; 448800, 3741700; 449200, 3741700; 449200, 3741800; 449500, 3741800; 449500, 3741900; 449800, 3741900; 449800, 3742000; 450500, 3742000; 450500, 3741900; 450700, 3741900; 450700, 3741800; 451000, 3741800; 451000, 3741700; 451300, 3741700; 451300, 3741600; 452700, 3741600; 452700, 3741700; 453000, 3741700; 453000, 3741800; 453200, 3741800; 453200, 3742000; 453400, 3742000; 453400, 3742100; 453300, 3742100; 453300, 3742400; 453200, 3742400; 453200, 3742500; 453100, 3742500; 453100, 3742600; 453000, 3742600; 453000, 3742700; 452900, 3742700; 452900, 3742800; 452800, 3742800; 452800, 3743200; 453700, 3743200; 453700, 3744000; 454000, 3744000; 454000, 3744100; 454100, 3744100; 454100, 3744800; 455300, 3744800; 455300, 3745800; 455400, 3745800; 455400, 3745700; 455500, 3745700; 455500, 3745500; 455800, 3745500; 455800, 3745600; 455900, 3745600; 455900, 3745800; 455800, 3745800; 455800, 3746000; 455700, 3746000; 455700, 3746200; 456000, 3746200; 456000, 3746300; 456100, 3746300; 456100, 3746500; 456400, 3746500; 456400, 3746900; 456600, 3746900; 456600, 3747100; 456400, 3747100; 456400, 3748800; 456600, 3748800; 456600, 3748600; 456700, 3748600; 456700, 3748500; 456800, 3748500; 456800, 3748600; 457000, 3748600; 457000, 3748400; 457100, 3748400; 457100, 3748600; 457200, 3748600; 457200, 3748300; 457300, 3748300; 457300, 3748200; 457400, 3748200; 457400, 3747900; 457500, 3747900; 457500, 3748000; 457700, 3748000; 457700, 3748100; 457600, 3748100; 457600, 3748600; 457700, 3748600; 457700, 3748700; 458000, 3748700; 458000, 3748500; 458200, 3748500; 458200, 3748600; 458400, 3748600; 458400, 3748700; 458700, 3748700; 458700, 3748300; 459600, 3748300; 459600, 3748200; 459700, 3748200; 459700, 3748400; 459800, 3748400; 459800, 3749000; 459700, 3749000; 459700, 3749300; 460100, 3749300; 460100, 3749400; 460000, 3749400; 460000, 3749700; 460100, 3749700; 460100, 3749800; 460200, 3749800; 460200, 3749900; 460500, 3749900; 460500, 3750000; 460600, 3750000; 460600, 3750400; 460800, 3750400; 460800, 3750600; 461000, 3750600; 461000, 3750700; 461100, 3750700; 461100, 3750600; 461200, 3750600; 461200, 3750300; 461500, 3750300; 461500, 3750200; 462100, 3750200; 462100, 3750100; 462200, 3750100; 462200, 3750000; 462300, 3750000; 462300, 3749900; 462400, 3749900; 462400, 3749700; 462500, 3749700; 462500, 3749500; 462400, 3749500; 462400, 3749400; 462600, 3749400; 462600, 3749300; 462700, 3749300; 462700, 3749200; 462800, 3749200; 462800, 3749100; 462900, 3749100; 462900, 3749000; 463100, 3749000; 463100, 3747000; 463000, 3747000; 463000, 3747100; returning to 462900, 3747100; excluding land bounded by 457600, 3747000; 457600, 3747100; 457500, 3747100; 457500, 3747000; 457600, 3747000; land bounded by 457700, 3746900; 457700, 3746800; 457800, 3746800; 457800, 3746700; 457900, 3746700; 457900, 3746800; 458000, 3746800;

458000, 3746900; 457700, 3746900; land bounded by 462900, 3743800; 463100, 3743800; 463100, 3743700; 463200, 3743700; 463200, 3743800; 463300, 3743800; 463300, 3743900; 463100, 3743900; 463100, 3744000; 463000, 3744000; 463000, 3743900; 462900, 3743900; 462900, 3743800; land bounded by 457400, 3734600; 457500, 3734600; 457500, 3734800; 457400, 3734800; 457400, 3734600; land bounded by 478700, 3730000; 478800, 3730000; 478800, 3730100; 478700, 3730100; 478700, 3730000; land bounded by 457700, 3746900; 457700, 3747000; 457600, 3747000; 457600, 3746900; 457700, 3746900; land bounded by 441500, 3747700; 441400, 3747700; 441400, 3747600; 441500, 3747600; 441500, 3747700; land bounded by 462900, 3747100; 462900, 3747200; 462600, 3747200; 462600, 3748000; 462800, 3748000; 462800, 3747900; 462900, 3747900; 462900, 3748200; 462400, 3748200; 462400, 3748500; 462300, 3748500; 462300, 3747800; 461500, 3747800; 461500, 3747900; 458200, 3747900; 458200, 3746300; 457700, 3746300; 457700, 3746100; 457600, 3746100; 457600, 3745900; 457500, 3745900; 457500, 3745700; 457400, 3745700; 457400, 3745500; 457300, 3745500; 457300, 3745400; 457200, 3745400; 457200, 3745300; 457100, 3745300; 457100, 3745200; 457000, 3745200; 457000, 3745100; 456800, 3745100; 456800, 3746300; 456700, 3746300; 456700, 3744000; 456800, 3744000; 456800, 3744300; 457000, 3744300; 457000, 3744400; 457200, 3744400; 457200, 3744200; 457100, 3744200; 457100, 3743900; 457000, 3743900; 457000, 3743700; 456800, 3743700; 456800, 3743600; 456900, 3743600; 456900, 3742400; 457200, 3742400; 457200, 3742800; 457300, 3742800; 457300, 3743100; 457200, 3743100; 457200, 3743600; 457500, 3743600; 457500, 3743400; 457600, 3743400; 457600, 3743300; 457700, 3743300; 457700, 3743200; 458000, 3743200; 458000, 3743400; 458100, 3743400; 458100, 3743800; 458400, 3743800; 458400, 3744000; 458500, 3744000; 458500, 3744100; 458600, 3744100; 458600, 3744000; 458700, 3744000; 458700, 3743900; 458800, 3743900; 458800, 3743800; 458900, 3743800; 458900, 3743400; 458800, 3743400; 458800, 3743300; 458600, 3743300; 458600, 3743200; 458900, 3743200; 458900, 3743300; 459500, 3743300; 459500, 3743200; 459600, 3743200; 459600, 3743300; 459700, 3743300; 459700, 3743400; 460100, 3743400; 460100, 3743300; 460200, 3743300; 460200, 3743200; 460300, 3743200; 460300, 3743100; 460400, 3743100; 460400, 3743000; 460500, 3743000; 460500, 3742800; 460600, 3742800; 460600, 3743000; 461100, 3743000; 461100, 3742900; 461200, 3742900; 461200, 3743000; 461300, 3743000; 461300, 3743200; 461500, 3743200; 461500, 3743300; 461900, 3743300; 461900, 3743200; 462000, 3743200; 462000, 3743300; 462300, 3743300; 462300, 3743400; 462500, 3743400; 462500, 3743500; 462800, 3743500; 462800, 3743600; 462900, 3743600; 462900, 3743800; 462800, 3743800; 462800, 3743700; 462400, 3743700; 462400, 3743800; 461900, 3743800; 461900, 3743900; 461800, 3743900; 461800, 3744000; 461700, 3744000; 461700, 3744200; 461600, 3744200; 461600, 3744400; 461300, 3744400; 461300, 3744500; 461200, 3744500; 461200, 3744600; 461100, 3744600; 461100, 3744700; 461000, 3744700; 461000, 3744900; 461100, 3744900; 461100, 3745200; 461300, 3745200; 461300, 3745300; 461600, 3745300; 461600, 3745400; 461900, 3745400; 461900, 3745500; 462000, 3745500; 462000, 3745600; 461900, 3745600; 461900, 3745700; 460800, 3745700; 460800, 3745800; 460400, 3745800; 460400, 3745900; 460500, 3745900; 460500, 3746400; 461000, 3746400; 461000, 3745900; 461400, 3745900; 461400, 3746000; 461300, 3746000; 461300, 3746300; 461600, 3746300; 461600, 3746100; 461700, 3746100; 461700, 3746300; 462100, 3746300; 462100, 3746500; 462500, 3746500; 462500, 3746800; 462600, 3746800; 462600, 3747100; 462900, 3747100; land bounded by 461400, 3749600; 461400, 3749500; 461500, 3749500; 461500, 3749400; 461600, 3749400; 461600, 3749300; 461500, 3749300; 461500, 3749000; 461400, 3749000; 461400, 3748400; 461500, 3748400; 461500, 3748300; 461400, 3748300; 461400, 3748200; 462100, 3748200; 462100, 3748300; 462000, 3748300; 462000, 3748400; 461900, 3748400; 461900, 3748500; 461600, 3748500; 461600, 3748700; 461700, 3748700; 461700, 3748900; 461900, 3748900; 461900, 3748800; 462100, 3748800; 462100, 3748900; 462200, 3748900; 462200, 3749000; 462100, 3749000; 462100, 3749100; 461800, 3749100; 461800, 3749300; 461900, 3749300; 461900, 3749500; 461600, 3749500; 461600, 3749600; 461400, 3749600; land bounded by 465600, 3744300; 465600, 3744100; 465500, 3744100; 465500, 3743900; 465700, 3743900; 465700, 3744100; 465800, 3744100; 465800, 3744200; 465700, 3744200; 465700, 3744300; 465600, 3744300; land bounded by 463500, 3744100; 463500, 3744000; 463700, 3744000; 463700, 3744100; 463500, 3744100; land bounded by 466900, 3743800; 466900, 3743600; 467000, 3743600; 467000, 3743800; 466900, 3743800; land bounded by 466100, 3743700; 466100, 3743500; 466300, 3743500; 466300, 3743700; 466100, 3743700; land bounded by 455000, 3738000; 455000, 3737900; 455100, 3737900; 455100, 3737500; 455200, 3737500; 455200, 3737600; 455300, 3737600; 455300, 3737700; 455400, 3737700; 455400, 3737800; 455700, 3737800; 455700, 3737900; 455200, 3737900; 455200, 3738000; 455000, 3738000; land bounded by 475200, 3731400; 475200, 3731200; 475300, 3731200; 475300, 3731400; 475200, 3731400; land bounded by 478200, 3731200; 478200, 3731100; 478100, 3731100; 478100, 3730900; 478200, 3730900; 478200, 3731000; 478400, 3731000; 478400, 3731100; 478300, 3731100; 478300, 3731200; 478200, 3731200; and land bounded by 475600, 3725200; 475600, 3725000; 475800, 3725000; 475800, 3725100; 475700, 3725100; 475700, 3725200; 475600, 3725200.

Land bounded by the following UTM NAD27 coordinates (E, N): 490700, 3733100; 491000, 3733100; 491000, 3732800; 491300, 3732800; 491300, 3732900; 491500, 3732900; 491500, 3732800; 491800, 3732800; 491800, 3732500; 492000, 3732500; 492000, 3732300; 492300, 3732300; 492300, 3731800; 492400, 3731800; 492400, 3731600; 492500, 3731600; 492500, 3731500; 492600, 3731500; 492600, 3731300; 492500, 3731300; 492500, 3731000; 492800, 3731000; 492800, 3730700; 492900, 3730700; 492900, 3730500; 492800, 3730500; 492800, 3730400; 492300, 3730400; 492300, 3730600; 492100, 3730600; 492100, 3730700; 491900, 3730700; 491900, 3730400; 491800, 3730400; 491800, 3730300; 491700, 3730300; 491700, 3730200; 491500, 3730200; 491500, 3730300; 490900, 3730300; 490900, 3730600; 490700, 3730600; 490700, 3730700; 490600, 3730700; 490600, 3731400; 490500, 3731400; 490500, 3731600; 490400, 3731600; 490400, 3731700; 490300, 3731700; 490300, 3731900; 490100, 3731900; 490100, 3731700; 490200, 3731700; 490200, 3731600; 490300, 3731600; 490300, 3731400; 490400, 3731400; 490400, 3731200; 490300, 3731200; 490300, 3731000; 490200, 3731000; 490200, 3730900; 490100, 3730900; 490100, 3730800; 490000, 3730800; 490000, 3730700; 489800, 3730700; 489800, 3730500; 489700, 3730500; 489700, 3730400; 488900, 3730400; 488900, 3730500; 488400, 3730500; 488400, 3730600; 488300, 3730600; 488300, 3730900; 488200, 3730900; 488200, 3731000; 488100, 3731000; 488100, 3732100; 488200, 3732100; 488200, 3732800; 488400, 3732800; 488400, 3732900; 488600, 3732900; 488600, 3732800; 488700, 3732800; 488700, 3732900; 489000, 3732900; 489000, 3733000; 489300, 3733000; 489300, 3732800; 489500, 3732800; 489500, 3732900; 489600, 3732900; 489600, 3732800; 489700, 3732800; 489700, 3732900; 490300, 3732900; 490300, 3732800; 490500, 3732800; 490500, 3732900; 490600, 3732900; 490600, 3733000; 490700, 3733000; returning to 490700, 3733100.

Land bounded by the following UTM NAD27 coordinates (E, N): 499700, 3730300; 499800, 3730300; 499800, 3730200; 500100, 3730200; 500100, 3730100; 500300, 3730100; 500300, 3730000; 500500, 3730000; 500500, 3729900; 500700, 3729900; 500700, 3729800; 500900, 3729800; 500900, 3729700; 501100, 3729700; 501100, 3729600; 501200, 3729600; 501200, 3728200; 501300, 3728200; 501300, 3727900; 501400, 3727900; 501400, 3727600; 501500, 3727600; 501500, 3726600; 501600, 3726600; 501600, 3726300; 501500, 3726300; 501500, 3726000; 502000, 3726000; 502000, 3722200; 500700, 3722200; 500700, 3722100; 500800, 3722100; 500800, 3722000; 500700, 3722000; 500700, 3721900; 500600, 3721900; 500600, 3721800; 500700, 3721800; 500700, 3721700; 500800, 3721700; 500800, 3721600; 500900, 3721600; 500900, 3721000; 500800, 3721000; 500800, 3720900; 500500, 3720900; 500500, 3721000; 500400, 3721000; 500400, 3720700; 500500, 3720700; 500500, 3720800; 500600, 3720800; 500600, 3720600; 500700, 3720600; 500700, 3720200; 500300, 3720200; 500300, 3720000; 500400, 3720000; 500400, 3719400; 501000, 3719400; 501000, 3719200; 500800, 3719200; 500800, 3719100; 500400, 3719100; 500400, 3719000; 498800, 3719000; 498800, 3717200; 499400, 3717200; 499400, 3717300; 499300, 3717300; 499300, 3717500; 503200, 3717500; 503200, 3717700; 503100, 3717700; 503100, 3717900; 503200, 3717900; 503200, 3718100; 503300, 3718100; 503300, 3718200; 504200, 3718200; 504200, 3718100; 504400, 3718100; 504400, 3718000; 504500, 3718000; 504500, 3717900; 504600, 3717900; 504600, 3717800; 504700, 3717800; 504700, 3717600; 504800, 3717600; 504800, 3717500; 504900, 3717500; 504900, 3717400; 505000, 3717400; 505000, 3717300; 505200, 3717300; 505200, 3717200; 505300, 3717200; 505300, 3717100; 505400, 3717100; 505400, 3717000; 505500, 3717000; 505500,

3716900; 505600, 3716900; 505600, 3716800; 505800, 3716800; 505800, 3716500; 505900, 3716500; 505900, 3716400; 506000, 3716400; 506000, 3716300; 506100, 3716300; 506100, 3716200; 506200, 3716200; 506200, 3716100; 506300, 3716100; 506300, 3715400; 506400, 3715400; 506400, 3715100; 506300, 3715100; 506300, 3714900; 506500, 3714900; 506500, 3714800; 506800, 3714800; 506800, 3714700; 507000, 3714700; 507000, 3714600; 507100, 3714600; 507100, 3714500; 507200, 3714500; 507200, 3714400; 507300, 3714400; 507300, 3714300; 507400, 3714300; 507400, 3714200; 507500, 3714200; 507500, 3714000; 507600, 3714000; 507600, 3713900; 507700, 3713900; 507700, 3713700; 507800, 3713700; 507800, 3713500; 507900, 3713500; 507900, 3713400; 508000, 3713400; 508000, 3713200; 508100, 3713200; 508100, 3713100; 508200, 3713100; 508200, 3713000; 508300, 3713000; 508300, 3712800; 508400, 3712800; 508400, 3712700; 508500, 3712700; 508500, 3712600; 508600, 3712600; 508600, 3712100; 508700, 3712100; 508700, 3711900; 508800, 3711900; 508800, 3711700; 508900, 3711700; 508900, 3711400; 508800, 3711400; 508800, 3711300; 508700, 3711300; 508700, 3711100; 508600, 3711100; 508600, 3710800; 508500, 3710800; 508500, 3710700; 508400, 3710700; 508400, 3710600; 508100, 3710600; 508100, 3710500; 508000, 3710500; 508000, 3710400; 508100, 3710400; 508100, 3709900; 508000, 3709900; 508000, 3709600; 508100, 3709600; 508100, 3709400; 508300, 3709400; 508300, 3709300; 508600, 3709300; 508600, 3709000; 508500, 3709000; 508500, 3708600; 508600, 3708600; 508600, 3708500; 508700, 3708500; 508700, 3708400; 508800, 3708400; 508800, 3708500; 509000, 3708500; 509000, 3708700; 509100, 3708700; 509100, 3708800; 509300, 3708800; 509300, 3708900; 509700, 3708900; 509700, 3709000; 510000, 3709000; 510000, 3709100; 510200, 3709100; 510200, 3709200; 510500, 3709200; 510500, 3709300; 511000, 3709300; 511000, 3709400; 511200, 3709400; 511200, 3709300; 511600, 3709300; 511600, 3709200; 511800, 3709200; 511800, 3709100; 512000, 3709100; 512000, 3709200; 512100, 3709200; 512100, 3709400; 512200, 3709400; 512200, 3709700; 512300, 3709700; 512300, 3709800; 512700, 3709800; 512700, 3709600; 512800, 3709600; 512800, 3709500; 512900, 3709500; 512900, 3709400; 513000, 3709400; 513000, 3709300; 513100, 3709300; 513100, 3709200; 513200, 3709200; 513200, 3709100; 513300, 3709100; 513300, 3709000; 513400, 3709000; 513400, 3708900; 513500, 3708900; 513500, 3708800; 513600, 3708800; 513600, 3708700; 513700, 3708700; 513700, 3708600; 513800, 3708600; 513800, 3708500; 513900, 3708500; 513900, 3708400; 514000, 3708400; 514000, 3708100; 514100, 3708100; 514100, 3708000; 514600, 3708000; 514600, 3708100; 515200, 3708100; 515200, 3708000; 515300, 3708000; 515300, 3707900; 515400, 3707900; 515400, 3707700; 515500, 3707700; 515500, 3707300; 515400, 3707300; 515400, 3707200; 515100, 3707200; 515100, 3707100; 515000, 3707100; 515000, 3707000; 515100, 3707000; 515100, 3706800; 515200, 3706800; 515200, 3706400; 515300, 3706400; 515300, 3705700; 515200, 3705700; 515200, 3705600; 515100, 3705600; 515100, 3705500; 514900, 3705500; 514900, 3705400; 514800, 3705400; 514800, 3705300; 514700, 3705300; 514700, 3705000; 514800, 3705000; 514800, 3704900; 515300, 3704900; 515300, 3704800; 515500, 3704800; 515500, 3704700; 515600, 3704700; 515600, 3704600; 515700, 3704600; 515700, 3704500; 515800, 3704500; 515800, 3704400; 515900, 3704400; 515900, 3704300; 516100, 3704300; 516100, 3704200; 516400, 3704200; 516400, 3704100; 516600, 3704100; 516600, 3704000; 516900, 3704000; 516900, 3703900; 517100, 3703900; 517100, 3703800; 517200, 3703800; 517200, 3703700; 517300, 3703700; 517300, 3703600; 517500, 3703600; 517500, 3703500; 517600, 3703500; 517600, 3703400; 517800, 3703400; 517800,

3703300; 517900, 3703300; 517900, 3703200; 518000, 3703200; 518000, 3703000; 518100, 3703000; 518100, 3702600; 518000, 3702600; 518000, 3702500; 517400, 3702500; 517400, 3702400; 517300, 3702400; 517300, 3702100; 517200, 3702100; 517200, 3701700; 516600, 3701700; 516600, 3701800; 516200, 3701800; 516200, 3701900; 515800, 3701900; 515800, 3702000; 515400, 3702000; 515400, 3702100; 515000, 3702100; 515000, 3702200; 514000, 3702200; 514000, 3702100; 513800, 3702100; 513800, 3702000; 513600, 3702000; 513600, 3702400; 513400, 3702400; 513400, 3701900; 513300, 3701900; 513300, 3701800; 513200, 3701800; 513200, 3701500; 513300, 3701500; 513300, 3701100; 513400, 3701100; 513400, 3700900; 513500, 3700900; 513500, 3700800; 514000, 3700800; 514000, 3700700; 514100, 3700700; 514100, 3700600; 514300, 3700600; 514300, 3700500; 514400, 3700500; 514400, 3700400; 514500, 3700400; 514500, 3700200; 514600, 3700200; 514600, 3700100; 514700, 3700100; 514700, 3700000; 514800, 3700000; 514800, 3699800; 514900, 3699800; 514900, 3699700; 515000, 3699700; 515000, 3699300; 514900, 3699300; 514900, 3699100; 514700, 3699100; 514700, 3699000; 514500, 3699000; 514500, 3698900; 514000, 3698900; 514000, 3698800; 513400, 3698800; 513400, 3698900; 513300, 3698900; 513300, 3699000; 513200, 3699000; 513200, 3699100; 513000, 3699100; 513000, 3699200; 512900, 3699200; 512900, 3699300; 513000, 3699300; 513000, 3699600; 512800, 3699600; 512800, 3699700; 512600, 3699700; 512600, 3699400; 512500, 3699400; 512500, 3699200; 512300, 3699200; 512300, 3699100; 512500, 3699100; 512500, 3699000; 512400, 3699000; 512400, 3698800; 512500, 3698800; 512500, 3698600; 512400, 3698600; 512400, 3698500; 512100, 3698500; 512100, 3698600; 511900, 3698600; 511900, 3698900; 511800, 3698900; 511800, 3699000; 511600, 3699000; 511600, 3699100; 511500, 3699100; 511500, 3699200; 511400, 3699200; 511400, 3699300; 511300, 3699300; 511300, 3699600; 511400, 3699600; 511400, 3699800; 511000, 3699800; 511000, 3699900; 510900, 3699900; 510900, 3700300; 510800, 3700300; 510800, 3700400; 510600, 3700400; 510600, 3700500; 510700, 3700500; 510700, 3700600; 510800, 3700600; 510800, 3700700; 510900, 3700700; 510900, 3701000; 510800, 3701000; 510800, 3700900; 510600, 3700900; 510600, 3701100; 510700, 3701100; 510700, 3701500; 510800, 3701500; 510800, 3702100; 510900, 3702100; 510900, 3702300; 511000, 3702300; 511000, 3703100; 510900, 3703100; 510900, 3703300; 510800, 3703300; 510800, 3703500; 510700, 3703500; 510700, 3703800; 510800, 3703800; 510800, 3703900; 510500, 3703900; 510500, 3704000; 510300, 3704000; 510300, 3704100; 510200, 3704100; 510200, 3704500; 510300, 3704500; 510300, 3704700; 510100, 3704700; 510100, 3704800; 509900, 3704800; 509900, 3705000; 509600, 3705000; 509600, 3705300; 509400, 3705300; 509400, 3705200; 509300, 3705200; 509300, 3705000; 509100, 3705000; 509100, 3704900; 508700, 3704900; 508700, 3704800; 508500, 3704800; 508500, 3704900; 508300, 3704900; 508300, 3704800; 507800, 3704800; 507800, 3704900; 507700, 3704900; 507700, 3705100; 507400, 3705100; 507400, 3705200; 507200, 3705200; 507200, 3705300; 507000, 3705300; 507000, 3705500; 506800, 3705500; 506800, 3705600; 506500, 3705600; 506500, 3705500; 506400, 3705500; 506400, 3705600; 506200, 3705600; 506200, 3705800; 506100, 3705800; 506100, 3705900; 506000, 3705900; 506000, 3706000; 505900, 3706000; 505900, 3706100; 505800, 3706100; 505800, 3706200; 505700, 3706200; 505700, 3706300; 505500, 3706300; 505500, 3706100; 505400, 3706100; 505400, 3706000; 505200, 3706000; 505200, 3705900; 505100, 3705900; 505100, 3706000; 504900, 3706000; 504900, 3706100; 504800, 3706100; 504800, 3706300; 504700, 3706300; 504700, 3706200; 504600, 3706200; 504600, 3706000; 504400, 3706000; 504400,

3705900; 504300, 3705900; 504300, 3705800; 504000, 3705800; 504000, 3705900; 503300, 3705900; 503300, 3706000; 502900, 3706000; 502900, 3706200; 502300, 3706200; 502300, 3706100; 502200, 3706100; 502200, 3706000; 501600, 3706000; 501600, 3706100; 501100, 3706100; 501100, 3706400; 501200, 3706400; 501200, 3706500; 501300, 3706500; 501300, 3706700; 501200, 3706700; 501200, 3706600; 501000, 3706600; 501000, 3706500; 500800, 3706500; 500800, 3706600; 500700, 3706600; 500700, 3706700; 500600, 3706700; 500600, 3706800; 500500, 3706800; 500500, 3706900; 500400, 3706900; 500400, 3706800; 500300, 3706800; 500300, 3706700; 500200, 3706700; 500200, 3706600; 499800, 3706600; 499800, 3706800; 499700, 3706800; 499700, 3707000; 499600, 3707000; 499600, 3707100; 499400, 3707100; 499400, 3707200; 498800, 3707200; 498800, 3707300; 498700, 3707300; 498700, 3707600; 498000, 3707600; 498000, 3707700; 497900, 3707700; 497900, 3708900; 498700, 3708900; 498700, 3709700; 500300, 3709700; 500300, 3709800; 501000, 3709800; 501000, 3709700; 505500, 3709700; 505500, 3709800; 505600, 3709800; 505600, 3710000; 505700, 3710000; 505700, 3710200; 505800, 3710200; 505800, 3711600; 505700, 3711600; 505700, 3711800; 505500, 3711800; 505500, 3711900; 505000, 3711900; 505000, 3712900; 501700, 3712900; 501700, 3713000; 500900, 3713000; 500900, 3713900; 500800, 3713900; 500800, 3714000; 500700, 3714000; 500700, 3714100; 500600, 3714100; 500600, 3713900; 500500, 3713900; 500500, 3714000; 500400, 3714000; 500400, 3714100; 500300, 3714100; 500300, 3714400; 500100, 3714400; 500100, 3714500; 499800, 3714500; 499800, 3714400; 499900, 3714400; 499900, 3714300; 499800, 3714300; 499800, 3714000; 499900, 3714000; 499900, 3713900; 500000, 3713900; 500000, 3713800; 500200, 3713800; 500200, 3713700; 500400, 3713700; 500400, 3713600; 500600, 3713600; 500600, 3713500; 500700, 3713500; 500700, 3713300; 500600, 3713300; 500600, 3713200; 500500, 3713200; 500500, 3713000; 498800, 3713000; 498800, 3713200; 498900, 3713200; 498900, 3713300; 498200, 3713300; 498200, 3713200; 497400, 3713200; 497400, 3713100; 497200, 3713100; 497200, 3713900; 497100, 3713900; 497100, 3714100; 496700, 3714100; 496700, 3713800; 496600, 3713800; 496600, 3713700; 496500, 3713700; 496500, 3713400; 496000, 3713400; 496000, 3713300; 495600, 3713300; 495600, 3712500; 495200, 3712500; 495200, 3712200; 495100, 3712200; 495100, 3712000; 495000, 3712000; 495000, 3712100; 494800, 3712100; 494800, 3712000; 494900, 3712000; 494900, 3711900; 495100, 3711900; 495100, 3711700; 495000, 3711700; 495000, 3711600; 494900, 3711600; 494900, 3711500; 494800, 3711500; 494800, 3711400; 494700, 3711400; 494700, 3711300; 494500, 3711300; 494500, 3711200; 494400, 3711200; 494400, 3711100; 494200, 3711100; 494200, 3711300; 494100, 3711300; 494100, 3711200; 493900, 3711200; 493900, 3711300; 493800, 3711300; 493800, 3711400; 493400, 3711400; 493400, 3711500; 493100, 3711500; 493100, 3711400; 492900, 3711400; 492900, 3711500; 492800, 3711500; 492800, 3711700; 492400, 3711700; 492400, 3711800; 492300, 3711800; 492300, 3711700; 492200, 3711700; 492200, 3711800; 492100, 3711800; 492100, 3711900; 492000, 3711900; 492000, 3711800; 491600, 3711800; 491600, 3711700; 490800, 3711700; 490800, 3711600; 490600, 3711600; 490600, 3714200; 493900, 3714200; 493900, 3715200; 493800, 3715200; 493800, 3715600; 494100, 3715600; 494100, 3715500; 494200, 3715500; 494200, 3715600; 494700, 3715600; 494700, 3715500; 494900, 3715500; 494900, 3715400; 495000, 3715400; 495000, 3715300; 495100, 3715300; 495100, 3715400; 495400, 3715400; 495400, 3715500; 495600, 3715500; 495600, 3715600; 495800, 3715600; 495800, 3715400; 497100, 3715400; 497100, 3716400; 497000, 3716400; 497000, 3716600; 496800, 3716600; 496800,

3717000; 497100, 3717000; 497100, 3716800; 497200, 3716800; 497200, 3716700; 497500, 3716700; 497500, 3716800; 497300, 3716800; 497300, 3717100; 497200, 3717100; 497200, 3717200; 497300, 3717200; 497300, 3717300; 497400, 3717300; 497400, 3717500; 497200, 3717500; 497200, 3717400; 496400, 3717400; 496400, 3717300; 496300, 3717300; 496300, 3717400; 496200, 3717400; 496200, 3717200; 496300, 3717200; 496300, 3717100; 495900, 3717100; 495900, 3717200; 495800, 3717200; 495800, 3717100; 495700, 3717100; 495700, 3717000; 495200, 3717000; 495200, 3716900; 495000, 3716900; 495000, 3717000; 494900, 3717000; 494900, 3716900; 494200, 3716900; 494200, 3717000; 494100, 3717000; 494100, 3716900; 493900, 3716900; 493900, 3717100; 493800, 3717100; 493800, 3717200; 493600, 3717200; 493600, 3717300; 493500, 3717300; 493500, 3717400; 492300, 3717400; 492300, 3719000; 492200, 3719000; 492200, 3719100; 492700, 3719100; 492700, 3719200; 492900, 3719200; 492900, 3719300; 493100, 3719300; 493100, 3719500; 493000, 3719500; 493000, 3719600; 492900, 3719600; 492900, 3719700; 492800, 3719700; 492800, 3720600; 488200, 3720600; 488200, 3720500; 488100, 3720500; 488100, 3720400; 488000, 3720400; 488000, 3720300; 487900, 3720300; 487900, 3720200; 487800, 3720200; 487800, 3720100; 487700, 3720100; 487700, 3719900; 487600, 3719900; 487600, 3719800; 487700, 3719800; 487700, 3719600; 487800, 3719600; 487800, 3719000; 487700, 3719000; 487700, 3718900; 487600, 3718900; 487600, 3718700; 487500, 3718700; 487500, 3718600; 487400, 3718600; 487400, 3718500; 487500, 3718500; 487500, 3718400; 487600, 3718400; 487600, 3717900; 487500, 3717900; 487500, 3717800; 487400, 3717800; 487400, 3717400; 489100, 3717400; 489100, 3714500; 489200, 3714500; 489200, 3714100; 489100, 3714100; 489100, 3713300; 488300, 3713300; 488300, 3713000; 488000, 3713000; 488000, 3712800; 487800, 3712800; 487800, 3712700; 487400, 3712700; 487400, 3713100; 487700, 3713100; 487700, 3713300; 487200, 3713300; 487200, 3713700; 487300, 3713700; 487300, 3714200; 487400, 3714200; 487400, 3714600; 487500, 3714600; 487500, 3714900; 486700, 3714900; 486700, 3714500; 486600, 3714500; 486600, 3714100; 485100, 3714100; 485100, 3714000; 485200, 3714000; 485200, 3713800; 485300, 3713800; 485300, 3713500; 485200, 3713500; 485200, 3713400; 485300, 3713400; 485300, 3713300; 485200, 3713300; 485200, 3713000; 485100, 3713000; 485100, 3712700; 485000, 3712700; 485000, 3712600; 484900, 3712600; 484900, 3712500; 484700, 3712500; 484700, 3712400; 484800, 3712400; 484800, 3712200; 484700, 3712200; 484700, 3712100; 484600, 3712100; 484600, 3712000; 484500, 3712000; 484500, 3711900; 484400, 3711900; 484400, 3711800; 484300, 3711800; 484300, 3711600; 484400, 3711600; 484400, 3711500; 484500, 3711500; 484500, 3711400; 484600, 3711400; 484600, 3711300; 484700, 3711300; 484700, 3711000; 484600, 3711000; 484600, 3710900; 484500, 3710900; 484500, 3710800; 484200, 3710800; 484200, 3710600; 484000, 3710600; 484000, 3710800; 483900, 3710800; 483900, 3711000; 483800, 3711000; 483800, 3711100; 483700, 3711100; 483700, 3711300; 483600, 3711300; 483600, 3711500; 483500, 3711500; 483500, 3711700; 483400, 3711700; 483400, 3711900; 483300, 3711900; 483300, 3712500; 484100, 3712500; 484100, 3712700; 484400, 3712700; 484400, 3712600; 484600, 3712600; 484600, 3712800; 484700, 3712800; 484700, 3712900; 484800, 3712900; 484800, 3713000; 484900, 3713000; 484900, 3713200; 485000, 3713200; 485000, 3713600; 484900, 3713600; 484900, 3713700; 485000, 3713700; 485000, 3713800; 484900, 3713800; 484900, 3713900; 484800, 3713900; 484800, 3714000; 484700, 3714000; 484700, 3714500; 484300, 3714500; 484300, 3714800; 484200, 3714800; 484200, 3714900; 484100, 3714900; 484100, 3715700; 483300, 3715700; 483300,

3715800; 483100, 3715800; 483100, 3715900; 483000, 3715900; 483000, 3716000; 482900, 3716000; 482900, 3716100; 482800, 3716100; 482800, 3716200; 481900, 3716200; 481900, 3716100; 481700, 3716100; 481700, 3716300; 481800, 3716300; 481800, 3716500; 482000, 3716500; 482000, 3716600; 482100, 3716600; 482100, 3716700; 482300, 3716700; 482300, 3716800; 482500, 3716800; 482500, 3717400; 485800, 3717400; 485800, 3717800; 485700, 3717800; 485700, 3721600; 485800, 3721600; 485800, 3722300; 489000, 3722300; 489000, 3723900; 492200, 3723900; 492200, 3724700; 493000, 3724700; 493000, 3725100; 493200, 3725100; 493200, 3725000; 493400, 3725000; 493400, 3724900; 493500, 3724900; 493500, 3725800; 493400, 3725800; 493400, 3726000; 493200, 3726000; 493200, 3726700; 493100, 3726700; 493100, 3727100; 492800, 3727100; 492800, 3727000; 492300, 3727000; 492300, 3726400; 492100, 3726400; 492100, 3726100; 491800, 3726100; 491800, 3726200; 490500, 3726200; 490500, 3726400; 490600, 3726400; 490600, 3727000; 490100, 3727000; 490100, 3727100; 489900, 3727100; 489900, 3727600; 490000, 3727600; 490000, 3727700; 490700, 3727700; 490700, 3727600; 490800, 3727600; 490800, 3727500; 490900, 3727500; 490900, 3727400; 491000, 3727400; 491000, 3727500; 491100, 3727500; 491100, 3727600; 491300, 3727600; 491300, 3727700; 491400, 3727700; 491400, 3727800; 491600, 3727800; 491600, 3728000; 491900, 3728000; 491900, 3727900; 493800, 3727900; 493800, 3728000; 494100, 3728000; 494100, 3728100; 494300, 3728100; 494300, 3728200; 494400, 3728200; 494400, 3728300; 495300, 3728300; 495300, 3728400; 496500, 3728400; 496500, 3728500; 496700, 3728500; 496700, 3728600; 496800, 3728600; 496800, 3728700; 497000, 3728700; 497000, 3728800; 497300, 3728800; 497300, 3728900; 497400, 3728900; 497400, 3729100; 497800, 3729100; 497800, 3729200; 498000, 3729200; 498000, 3729300; 498100, 3729300; 498100, 3729400; 498200, 3729400; 498200, 3729700; 498300, 3729700; 498300, 3729800; 498500, 3729800; 498500, 3729900; 498600, 3729900; 498600, 3730000; 498900, 3730000; 498900, 3730100; 499200, 3730100; 499200, 3730200; 499700, 3730200; returning to 499700, 3730300; excluding land bounded by 499300, 3724700; 499300, 3724900; 499400, 3724900; 499400, 3725500; 499500, 3725500; 499500, 3725600; 499600, 3725600; 499600, 3725700; 499700, 3725700; 499700, 3725800; 500300, 3725800; 500300, 3725700; 500400, 3725700; 500400, 3725600; 500700, 3725600; 500700, 3725700; 500600, 3725700; 500600, 3725800; 500700, 3725800; 500700, 3725900; 500800, 3725900; 500800, 3725800; 501100, 3725800; 501100, 3727400; 501000, 3727400; 501000, 3727800; 500900, 3727800; 500900, 3728000; 500800, 3728000; 500800, 3728200; 500700, 3728200; 500700, 3728400; 500600, 3728400; 500600, 3728600; 500500, 3728600; 500500, 3728700; 500400, 3728700; 500400, 3728800; 500300, 3728800; 500300, 3728700; 500200, 3728700; 500200, 3728800; 500000, 3728800; 500000, 3729300; 499900, 3729300; 499900, 3729400; 499700, 3729400; 499700, 3729100; 499600, 3729100; 499600, 3729000; 499500, 3729000; 499500, 3729100; 499200, 3729100; 499200, 3728900; 499100, 3728900; 499100, 3728800; 499000, 3728800; 499000, 3728900; 498900, 3728900; 498900, 3729100; 498700, 3729100; 498700, 3729000; 498600, 3729000; 498600, 3728900; 498700, 3728900; 498700, 3728800; 498800, 3728800; 498800, 3728600; 498700, 3728600; 498700, 3728400; 498200, 3728400; 498200, 3728000; 498100, 3728000; 498100, 3727900; 497900, 3727900; 497900, 3727800; 497500, 3727800; 497500, 3728000; 497200, 3728000; 497200, 3727800; 497100, 3727800; 497100, 3727700; 497000, 3727700; 497000, 3727300; 496800, 3727300; 496800, 3727200; 496700, 3727200; 496700, 3727100; 496600, 3727100; 496600, 3727200; 496500, 3727200; 496500, 3727300; 496400, 3727300; 496400, 3727200; 496300, 3727200; 496300, 3727300; 496100, 3727300; 496100, 3727200; 496000, 3727200; 496000, 3727300; 495900, 3727300; 495900, 3727400; 495800, 3727400; 495800, 3727500; 495600, 3727500; 495600, 3727600; 495500, 3727600; 495500, 3727700; 495200, 3727700; 495200, 3727800; 495000, 3727800; 495000, 3727700; 494700, 3727700; 494700, 3727500; 494600, 3727500; 494600, 3727400; 494100, 3727400; 494100, 3727300; 494200, 3727300; 494200, 3727100; 494000, 3727100; 494000, 3727000; 494100, 3727000; 494100, 3726800; 494000, 3726800; 494000, 3726700; 494100, 3726700; 494100, 3726600; 494000, 3726600; 494000, 3726500; 493800, 3726500; 493800, 3725800; 493700, 3725800; 493700, 3725600; 493800, 3725600; 493800, 3725000; 493700, 3725000; 493700, 3724500; 493800, 3724500; 493800, 3724300; 493900, 3724300; 493900, 3724000; 494000, 3724000; 494000, 3723800; 494700, 3723800; 494700, 3723900; 494800, 3723900; 494800, 3724000; 495400, 3724000; 495400, 3723900; 495600, 3723900; 495600, 3723800; 496700, 3723800; 496700, 3724000; 496600, 3724000; 496600, 3724200; 496500, 3724200; 496500, 3724400; 496300, 3724400; 496300, 3724500; 496100, 3724500; 496100, 3724600; 496000, 3724600; 496000, 3725200; 496300, 3725200; 496300, 3725100; 496700, 3725100; 496700, 3725200; 496600, 3725200; 496600, 3725600; 496700, 3725600; 496700, 3725700; 496900, 3725700; 496900, 3725900; 497200, 3725900; 497200, 3725800; 497400, 3725800; 497400, 3725700; 497500, 3725700; 497500, 3725600; 497700, 3725600; 497700, 3725800; 497800, 3725800; 497800, 3725900; 498000, 3725900; 498000, 3726100; 498100, 3726100; 498100, 3726000; 498200, 3726000; 498200, 3725900; 498300, 3725900; 498300, 3725700; 498400, 3725700; 498400, 3725500; 498500, 3725500; 498500, 3725400; 498700, 3725400; 498700, 3725200; 498800, 3725200; 498800, 3725100; 498900, 3725100; 498900, 3725200; 499000, 3725200; 499000, 3725100; 499100, 3725100; 499100, 3725000; 499200, 3725000; 499200, 3724900; 499100, 3724900; 499100, 3724800; 499200, 3724800; 499200, 3724700; 499300, 3724700; land bounded by 499300, 3724700; 499300, 3724600; 499400, 3724600; 499400, 3724700; 499300, 3724700; land bounded by 493300, 3723500; 493300, 3723200; 493400, 3723200; 493400, 3723300; 493500, 3723300; 493500, 3723500; 493300, 3723500; land bounded by 500400, 3721600; 500400, 3721200; 500600, 3721200; 500600, 3721300; 500500, 3721300; 500500, 3721600; 500400, 3721600; land bounded by 503100, 3714900; 503100, 3714700; 503200, 3714700; 503200, 3714600; 503500, 3714600; 503500, 3714900; 503100, 3714900; and land bounded by 511800, 3701200; 511800, 3701000; 512300, 3701000; 512300, 3701100; 512400, 3701100; 512400, 3701000; 512500, 3701000; 512500, 3701200; 511800, 3701200.

Beginning at the Riverside/San Diego County line at y-coordinate 3700600, land bounded by the following UTM NAD27 coordinates (E, N): 477900, 3700600; 477900, 3700700; 479200, 3700700; 479200, 3700600; 479100, 3700600; 479100, 3700500; 479000, 3700500; 479000, 3700400; 479300, 3700400; 479300, 3700500; 479500, 3700500; 479500, 3700600; 479800, 3700600; 479800, 3700700; 480000, 3700700; 480000, 3700600; 480800, 3700600; 480800, 3701100; 481000, 3701100; 481000, 3701200; 481200, 3701200; 481200, 3701300; 481400, 3701300; 481400, 3701400; 481700, 3701400; 481700, 3701500; 481900, 3701500; 481900, 3701600; 482100, 3701600; 482100, 3701700; 482400, 3701700; 482400, 3701800; 482600, 3701800; 482600, 3701900; 482800, 3701900; 482800, 3702000; 483000, 3702000; 483000, 3702100; 483300, 3702100; 483300, 3702200; 483500, 3702200; 483500, 3702300; 483700, 3702300; 483700, 3702400; 484000, 3702400; 484000, 3702500; 484100, 3702500; 484100, 3702800; 484200, 3702800; 484200, 3702900; 484300, 3702900; 484300, 3703000; 484700, 3703000; 484700, 3702900; 484800, 3702900; 484800, 3702800; 485000, 3702800; 485000, 3702900; 485200, 3702900; 485200, 3703000; 485300, 3703000; 485300, 3703100; 485200, 3703100; 485200, 3703200; 485100, 3703200; 485100, 3703300; 484700, 3703300; 484700, 3703500; 485200, 3703500; 485200, 3703600; 485600, 3703600; 485600, 3703700; 485700, 3703700; 485700, 3703800; 485800, 3703800; 485800, 3704000; 485900, 3704000; 485900, 3704300; 486000, 3704300; 486000, 3704500; 485900, 3704500; 485900, 3704600; 485400, 3704600; 485400, 3704900; 485200, 3704900; 485200, 3705000; 485000, 3705000; 485000, 3704900; 484900, 3704900; 484900, 3704800; 485000, 3704800; 485000, 3704600; 485100, 3704600; 485100, 3704500; 485200, 3704500; 485200, 3704300; 485300, 3704300; 485300, 3704100; 485200, 3704100; 485200, 3703900; 485000, 3703900; 485000, 3704000; 484900, 3704000; 484900, 3704100; 484600, 3704100; 484600, 3704200; 484500, 3704200; 484500, 3704300; 484400, 3704300; 484400, 3704600; 484300, 3704600; 484300, 3704700; 484100, 3704700; 484100, 3704600; 483500, 3704600; 483500, 3705400; 483400, 3705400; 483400, 3705800; 483300, 3705800; 483300, 3705900; 483100, 3705900; 483100, 3706200; 482900, 3706200; 482900, 3706400; 482600, 3706400; 482600, 3706600; 482500, 3706600; 482500, 3707000; 482000, 3707000; 482000, 3707200; 481700, 3707200; 481700, 3707600; 482000, 3707600; 482000, 3707800; 481800, 3707800; 481800, 3707900; 481300, 3707900; 481300, 3708100; 481400, 3708100; 481400, 3708200; 481500, 3708200; 481500, 3708300; 481700, 3708300; 481700, 3708400; 481600, 3708400; 481600, 3708500; 481500, 3708500; 481500, 3708600; 481100, 3708600; 481100, 3708800; 481000, 3708800; 481000, 3708900; 480000, 3708900; 480000, 3709900; 480500, 3709900; 480500, 3709800; 480600, 3709800; 480600, 3709700; 481100, 3709700; 481100, 3709500; 481300, 3709500; 481300, 3709400; 481400, 3709400; 481400, 3709300; 481600, 3709300; 481600, 3709200; 481700, 3709200; 481700, 3709100; 481800, 3709100; 481800, 3709000; 482000, 3709000; 482000, 3708900; 482100, 3708900; 482100, 3708800; 482200, 3708800; 482200, 3708600; 482600, 3708600; 482600, 3708500; 482700, 3708500; 482700, 3708300; 482800, 3708300; 482800, 3708200; 482900, 3708200; 482900, 3708000; 483000, 3708000; 483000, 3707600; 483100, 3707600; 483100, 3707500; 483200, 3707500; 483200, 3707200; 483300, 3707200; 483300, 3707100; 484000, 3707100; 484000, 3707000; 484300, 3707000; 484300, 3706700; 484500, 3706700; 484500, 3706600; 484600, 3706600; 484600, 3706500; 484700, 3706500; 484700, 3706400; 484900, 3706400; 484900, 3706300; 485100, 3706300; 485100, 3706200; 485200, 3706200; 485200, 3706100; 485300, 3706100; 485300, 3706000; 485700, 3706000; 485700, 3705900; 485800, 3705900; 485800, 3705800; 485900, 3705800; 485900, 3705700; 486000, 3705700; 486000, 3705600; 486100, 3705600; 486100, 3705500; 486200, 3705500; 486200, 3705400; 486300, 3705400; 486300, 3705200; 486400, 3705200; 486400, 3704900; 486600, 3704900; 486600, 3704800; 486700, 3704800; 486700, 3704400; 486800, 3704400; 486800, 3704500; 486900, 3704500; 486900, 3704400; 487000, 3704400; 487000, 3704200; 487100, 3704200; 487100, 3703900; 487200, 3703900; 487200, 3703800; 487300, 3703800; 487300, 3703900; 487500, 3703900; 487500, 3699200; 487400, 3699200; then south to the Riverside/San Diego County line; thence westward along the county line to the point of beginning.

(ii) Note: Map of Unit 10 follows.

(15) Unit 11: San Bernardino Valley MSHCP, San Bernardino County, California.

(i) From USGS 1:24,000 quadrangle maps San Bernardino North, Devore, and Cucamonga Peak, California, land bounded by the following UTM NAD27 coordinates (E, N): 461600, 3787700; 461700, 3787700; 461700, 3787600; 461800, 3787600; 461800, 3787500; 461900, 3787500; 461900, 3787400; 462000, 3787400; 462000, 3787300; 462100, 3787300; 462100, 3787200; 462200, 3787200; 462200, 3787000; 462400, 3787000; 462400, 3786900; 462600, 3786900; 462600, 3786700; 462700, 3786700; 462700, 3786600; 463000, 3786600; 463000, 3786500; 463100, 3786500; 463100, 3786200; 463000, 3786200; 463000, 3786100; 463100, 3786100; 463100, 3786000; 463200, 3786000; 463200, 3785900; 463400, 3785900; 463400, 3785800; 463500, 3785800; 463500, 3785700; 463600, 3785700; 463600, 3785500; 463700, 3785500; 463700, 3785400; 463800, 3785400; 463800, 3785200; 463900, 3785200; 463900, 3785100; 464000, 3785100; 464000, 3785000; 464100, 3785000; 464100, 3784900; 464200, 3784900; 464200, 3784800; 464400, 3784800; 464400, 3784700; 464600, 3784700; 464600, 3784600; 464700, 3784600; 464700, 3784500; 464800, 3784500; 464800, 3784200; 464900, 3784200; 464900, 3783900; 465000, 3783900; 465000, 3783800; 465100, 3783800; 465100, 3783600; 465300, 3783600; 465300, 3783500; 465400, 3783500; 465400, 3783400; 465500, 3783400; 465500, 3783300; 465600, 3783300; 465600, 3783000; 465500, 3783000; 465500, 3782900; 465600, 3782900; 465600, 3782800; 465700, 3782800; 465700, 3782700; 465800, 3782700; 465800, 3782600; 466000, 3782600; 466000, 3782400; 466100, 3782400; 466100, 3782300; 466200, 3782300; 466200, 3782100; 466100, 3782100; 466100, 3781700; 466000, 3781700; 466000, 3781600; 466600, 3781600; 466600, 3781800; 466500, 3781800; 466500, 3782100; 466400, 3782100; 466400, 3782300; 466300, 3782300; 466300, 3782400; 466200, 3782400; 466200, 3782600; 466100, 3782600; 466100, 3782700; 466000, 3782700; 466000, 3782800; 466100, 3782800; 466100, 3782900; 466200, 3782900; 466200, 3783000; 466500, 3783000; 466500, 3782900; 466600, 3782900; 466600, 3782700; 466700, 3782700; 466700, 3782600; 466800, 3782600; 466800, 3782500; 466900, 3782500; 466900, 3782300; 467000, 3782300; 467000, 3782200; 467100, 3782200; 467100, 3782100; 467200, 3782100; 467200, 3782000; 467300, 3782000; 467300, 3781800; 467400, 3781800; 467400, 3781700; 467500, 3781700; 467500, 3781600; 467600, 3781600; 467600, 3781500; 467700, 3781500; 467700, 3781300; 467600, 3781300; 467600, 3781100; 467500, 3781100; 467500, 3781000; 467400, 3781000; 467400, 3780900; 466400, 3780900; 466400, 3778600; 465600, 3778600; 465600, 3778700; 464800, 3778700; 464800, 3778800; 464700, 3778800; 464700, 3778900; 464300, 3778900; 464300, 3779000; 464100, 3779000; 464100, 3779100; 463800, 3779100; 463800, 3779000; 463600, 3779000; 463600, 3779100; 463400, 3779100; 463400, 3779200; 463300, 3779200; 463300, 3779300; 463200, 3779300; 463200, 3779400; 463000, 3779400; 463000, 3779500; 462900, 3779500; 462900, 3779600; 462800, 3779600; 462800, 3779700; 462600, 3779700; 462600, 3779800; 462500, 3779800; 462500, 3779900; 462400, 3779900; 462400, 3780000; 462200, 3780000; 462200, 3780100; 462100, 3780100; 462100, 3780200; 461900, 3780200; 461900, 3780300; 461800, 3780300; 461800, 3780400; 461700, 3780400; 461700, 3780500; 461500, 3780500; 461500, 3780600; 461400, 3780600; 461400, 3780700; 461300, 3780700; 461300, 3780800; 461100, 3780800; 461100, 3780900; 461000, 3780900; 461000, 3781000; 460900, 3781000; 460900, 3781100; 460700, 3781100; 460700, 3781200; 460600, 3781200; 460600, 3781300; 460500, 3781300; 460500, 3781400; 460300, 3781400; 460300, 3781500; 460200, 3781500; 460200, 3781600; 460100, 3781600; 460100, 3781700; 459900, 3781700; 459900, 3781800; 459800, 3781800; 459800, 3781900; 459700, 3781900; 459700, 3782000; 459600, 3782000; 459600, 3781900; 459500, 3781900; 459500, 3781800; 459400, 3781800; 459400, 3781700; 459300, 3781700; 459300, 3781600; 459100, 3781600; 459100, 3781500; 459000, 3781500; 459000, 3781400; 458800, 3781400; 458800, 3781300; 458700, 3781300; 458700, 3781200; 458500, 3781200; 458500, 3781100; 458400, 3781100; 458400, 3781000; 458200, 3781000; 458200, 3780900; 458100, 3780900; 458100, 3780800; 458000, 3780800; 458000, 3780700; 457900, 3780700; 457900, 3780600; 457800, 3780600; 457800, 3780500; 457700, 3780500; 457700, 3780400; 457600, 3780400; 457600, 3780300; 455800, 3780300; 455800, 3780600; 455700, 3780600; 455700, 3780500; 455400, 3780500; 455400, 3780300; 455200, 3780300; 455200, 3780000; 455100, 3780000; 455100, 3778700; 454600, 3778700; 454600, 3778900; 454500, 3778900; 454500, 3779100; 454400, 3779100; 454400, 3779500; 453900, 3779500; 453900, 3778700; 451800, 3778700; 451800, 3779500; 451500, 3779500; 451500, 3779400; 451400, 3779400; 451400, 3779300; 451300, 3779300; 451300, 3779200; 450300, 3779200; 450300, 3777900; 449800, 3777900; 449800, 3778000; 449500, 3778000; 449500, 3778100; 449300, 3778100; 449300, 3778200; 449200, 3778200; 449200, 3778300; 449100, 3778300; 449100, 3778400; 448500, 3778400; 448500, 3778800; 448400, 3778800; 448400, 3779400; 448300, 3779400; 448300, 3779500; 448200, 3779500; 448200, 3780000; 448100, 3780000; 448100, 3780400; 447500, 3780400; 447500, 3780300; 447200, 3780300; 447200, 3780400; 447100, 3780400; 447100, 3780300; 446600, 3780300; 446600, 3780600; 446700, 3780600; 446700, 3780700; 446800, 3780700; 446800, 3780800; 446900, 3780800; 446900, 3781000; 447000, 3781000; 447000, 3781300; 447100, 3781300; 447100, 3781600; 447200, 3781600; 447200, 3781800; 447100, 3781800; 447100, 3782500;

447200, 3782500; 447200, 3782600; 447500, 3782600; 447500, 3782400; 447600, 3782400; 447600, 3781900; 447700, 3781900; 447700, 3781800; 447800, 3781800; 447800, 3781600; 448000, 3781600; 448000, 3781500; 448200, 3781500; 448200, 3781400; 448400, 3781400; 448400, 3781300; 449000, 3781300; 449000, 3781400; 449100, 3781400; 449100, 3781500; 449200, 3781500; 449200, 3781600; 449400, 3781600; 449400, 3781500; 449700, 3781500; 449700, 3781600; 449800, 3781600; 449800, 3781700; 450100, 3781700; 450100, 3781600; 450400, 3781600; 450400, 3781700; 450500, 3781700; 450500, 3782000; 450900, 3782000; 450900, 3781900; 451600, 3781900; 451600, 3781800; 452300, 3781800; 452300, 3781700; 452500, 3781700; 452500, 3781600; 452900, 3781600; 452900, 3781500; 455600, 3781500; 455600, 3781600; 457400, 3781600; 457400, 3781700; 458000, 3781700; 458000, 3781800; 458200, 3781800; 458200, 3781900; 458300, 3781900; 458300, 3782100; 458400, 3782100; 458400, 3782400; 458500, 3782400; 458500, 3782700; 458600, 3782700; 458600, 3783600; 461400, 3783600; 461400, 3783800; 461500, 3783800; 461500, 3784000; 461600, 3784000; 461600, 3784300; 461700, 3784300; 461700, 3784500; 461800, 3784500; 461800, 3784700; 461900, 3784700; 461900, 3784900; 462000, 3784900; 462000, 3785400; 462100, 3785400; 462100, 3786000; 462200, 3786000; 462200, 3786200; 462100, 3786200; 462100, 3786300; 461900, 3786300; 461900, 3786400; 461800, 3786400; 461800, 3786500; 461700, 3786500; 461700, 3786600; 461600, 3786600; returning to 461600, 3787700; excluding land bounded by 462500, 3785300; 462500, 3785200; 462400, 3785200; 462400, 3785100; 462300, 3785100; 462300, 3784900; 462500, 3784900; 462500, 3784700; 462600, 3784700; 462600, 3784600; 462700, 3784600; 462700, 3784500; 462800, 3784500; 462800, 3784400; 463000, 3784400; 463000, 3784500; 463200, 3784500; 463200, 3784800; 463000, 3784800; 463000, 3785000; 462900, 3785000; 462900, 3785100; 462800, 3785100; 462800, 3785200; 462700, 3785200; 462700, 3785300; 462500, 3785300; land bounded by 453900, 3780200; 453900, 3779700; 454500, 3779700; 454500, 3780000; 454600, 3780000; 454600, 3780200; 453900, 3780200; and land bounded by 449200, 3779700; 449200, 3779600; 449300, 3779600; 449300, 3779400; 449400, 3779400; 449400, 3779200; 449900, 3779200; 449900, 3779600; 450000, 3779600; 450000, 3779700; 449200, 3779700.

(ii) Note: Map of Unit 11 follows.

(16) Unit 12: East Los Angeles County Linkage, Los Angeles County, California.

(i) From USGS 1:24,000 quadrangle maps San Dimas and Baldwin Park, California, land bounded by the following UTM NAD27 coordinates (E, N): 426700, 3772700; 427000, 3772700; 427000, 3772400; 427200, 3772400; 427200, 3772300; 427700, 3772300; 427700, 3770400; 427600, 3770400; 427600, 3770300; 427200, 3770300; 427200, 3770200; 426900, 3770200; 426900, 3770100; 426800, 3770100; 426800, 3770000; 426600, 3770000; 426600, 3769900; 426400, 3769900; 426400, 3769800; 426100, 3769800; 426100, 3769700; 425700, 3769700; 425700, 3769800; 425600, 3769800; 425600, 3770000; 425500, 3770000; 425500, 3769500; 425300, 3769500; 425300, 3769400; 424900, 3769400; 424900, 3769300; 424300, 3769300; 424300, 3769100; 424200, 3769100; 424200, 3769000; 424100, 3769000; 424100, 3768800; 424000, 3768800; 424000, 3768700; 423600, 3768700; 423600, 3768600; 423700, 3768600; 423700, 3768400; 423300, 3768400; 423300, 3768500; 423200, 3768500; 423200, 3768600; 423100, 3768600; 423100, 3768500; 422900, 3768500; 422900, 3768400; 422600, 3768400; 422600, 3768500; 422400, 3768500; 422400, 3768400; 422200, 3768400; 422200, 3768200; 422000, 3768200; 422000, 3768100; 421800, 3768100; 421800, 3768000; 421500, 3768000; 421500, 3768100; 421400, 3768100; 421400, 3768200; 421300, 3768200; 421300, 3768100; 421100, 3768100; 421100, 3768200; 421000, 3768200; 421000, 3768000; 420800, 3768000; 420800, 3767900; 420700, 3767900; 420700, 3767800; 420800, 3767800; 420800, 3767700; 420700, 3767700; 420700, 3767600; 420200, 3767600; 420200, 3767400; 420000, 3767400; 420000, 3767300; 419800, 3767300; 419800, 3767200; 419700, 3767200; 419700, 3767300; 419600, 3767300; 419600, 3767500; 419300, 3767500; 419300, 3767400; 419100, 3767400; 419100, 3767300; 419000, 3767300; 419000, 3767200; 418800, 3767200; 418800, 3767100; 418700, 3767100; 418700, 3767000; 418500, 3767000; 418500, 3766900; 418400, 3766900; 418400, 3766800; 418500, 3766800; 418500, 3766600; 418400, 3766600; 418400, 3766200; 418500, 3766200; 418500, 3766300; 419300, 3766300; 419300, 3766200; 419000, 3766200; 419000, 3766100; 418600, 3766100; 418600, 3766000; 418400, 3766000; 418400, 3765900; 418300, 3765900; 418300, 3765800; 417600, 3765800; 417600, 3766000; 417700, 3766000; 417700, 3766100; 417800, 3766100; 417800, 3766600; 418100, 3766600; 418100, 3766700; 418200, 3766700; 418200, 3766800; 418100, 3766800; 418100, 3766900; 418000, 3766900; 418000, 3767000; 417800, 3767000; 417800, 3766900; 417500, 3766900; 417500, 3766800; 416900, 3766800; 416900, 3766900; 416500, 3766900; 416500, 3767000; 416400, 3767000; 416400, 3766900; 415900, 3766900; 415900, 3767200; 416000, 3767200; 416000, 3767300; 416100, 3767300; 416100, 3767400; 416200, 3767400; 416200, 3767500; 416300, 3767500; 416300, 3767200; 416700, 3767200; 416700, 3767400; 417200, 3767400; 417200, 3767200; 417300, 3767200; 417300, 3767100; 417400, 3767100; 417400, 3767200; 417600, 3767200; 417600, 3767100; 417800, 3767100; 417800, 3767200; 418200, 3767200; 418200, 3767500; 418400, 3767500; 418400, 3767400; 418500, 3767400; 418500, 3767300; 418600, 3767300; 418600, 3767800; 418800, 3767800; 418800, 3767500; 418900, 3767500; 418900, 3767800; 419000, 3767800; 419000, 3767900; 419100, 3767900; 419100, 3768000; 419300, 3768000; 419300, 3767800; 419500, 3767800; 419500, 3767900; 419600, 3767900; 419600, 3768200; 419700, 3768200; 419700, 3768100; 419800, 3768100; 419800, 3767700; 419900, 3767700; 419900, 3767800; 420100, 3767800; 420100, 3768400; 420200, 3768400; 420200, 3768500; 420300, 3768500; 420300, 3768600; 420500, 3768600; 420500, 3768800; 421000, 3768800; 421000, 3768900; 420900, 3768900; 420900, 3769000; 420800, 3769000; 420800, 3769100; 420700, 3769100; 420700, 3769300; 421200, 3769300; 421200, 3769100; 421300, 3769100; 421300, 3769000; 421500, 3769000; 421500, 3769200; 421800, 3769200; 421800, 3769300; 422100, 3769300; 422100, 3769000; 422200, 3769000; 422200, 3768900; 422700, 3768900; 422700, 3769000; 422800, 3769000; 422800, 3769100; 423000, 3769100; 423000, 3769000; 423100, 3769000; 423100, 3769100; 423400, 3769100; 423400, 3769200; 423700, 3769200; 423700, 3769300; 423800, 3769300; 423800, 3769500; 423900, 3769500; 423900, 3769700; 424300, 3769700; 424300, 3769600; 424700, 3769600; 424700, 3769700; 424800, 3769700; 424800, 3769800; 424900, 3769800; 424900, 3769900; 424600, 3769900; 424600, 3770300; 424800, 3770300; 424800, 3770200; 425100, 3770200; 425100, 3770400; 424700, 3770400; 424700, 3770600; 424800, 3770600; 424800, 3770700; 425100, 3770700; 425100, 3770800; 425000, 3770800; 425000, 3771000; 424800, 3771000; 424800, 3771200; 424700, 3771200; 424700, 3771300; 424600, 3771300; 424600, 3771400; 424500, 3771400; 424500, 3771700; 424400, 3771700; 424400, 3772100; 424500, 3772100; 424500, 3773000; 424600, 3773000; 424600, 3773100; 425000, 3773100; 425000, 3773200; 425100, 3773200; 425100, 3773300; 425200, 3773300; 425200, 3773500; 425500, 3773500; 425500, 3773400; 426000, 3773400; 426000, 3773500; 426200, 3773500; 426200, 3773300; 426300, 3773300; 426300, 3773400; 426600, 3773400; 426600, 3773300; 427000, 3773300; 427000, 3773200; 427200, 3773200; 427200, 3773100; 427300, 3773100; 427300, 3772800; 426700, 3772800; returning to 426700, 3772700; excluding land bounded by 425800, 3771300; 425700, 3771300; 425700, 3771200; 425800, 3771200; 425800, 3771300; land bounded by 425300, 3770000; 425300, 3769900; 425400, 3769900; 425400, 3770000; 425300, 3770000; land bounded by 426600, 3772600; 426500, 3772600; 426500, 3772500; 426200, 3772500; 426200, 3772800; 426400, 3772800; 426400, 3773000; 426200, 3773000; 426200, 3773100; 425900, 3773100; 425900, 3773200; 425800, 3773200; 425800, 3773100; 425600, 3773100; 425600, 3772900; 425500, 3772900; 425500, 3772800; 425300, 3772800; 425300, 3772600; 425800, 3772600; 425800, 3772400; 425900, 3772400; 425900, 3772300; 425800, 3772300; 425800, 3772200; 425500, 3772200; 425500, 3772300; 425200, 3772300; 425200, 3772200; 425100, 3772200; 425100, 3772000; 425200, 3772000; 425200, 3771900; 425400, 3771900; 425400, 3771600; 425500, 3771600; 425500, 3771700; 425600, 3771700; 425600, 3771600; 425800, 3771600; 425800, 3771300; 426200, 3771300; 426200, 3771400; 426300, 3771400; 426300, 3771500; 426200, 3771500; 426200, 3771800; 426100, 3771800; 426100, 3772000; 426200, 3772000; 426200, 3772100; 426300, 3772100; 426300, 3772200; 426500, 3772200; 426500, 3772400; 426600, 3772400; 426600, 3772600; land bounded by 425100, 3770200; 425100, 3770000; 425300, 3770000; 425300, 3770100; 425200, 3770100; 425200, 3770200; 425100, 3770200; land bounded by 425500, 3773400; 425400, 3773400; 425400, 3773200; 425500, 3773200; 425500, 3773400; land bounded by 426700, 3772700; 426600, 3772700; 426600, 3772600; 426700, 3772600; 426700, 3772700; and land bounded by 426600, 3771900; 426600, 3771800; 426500, 3771800; 426500, 3771700; 426700, 3771700; 426700, 3771800; 426900, 3771800; 426900, 3771900; 426600, 3771900.

Land bounded by the following UTM NAD27 coordinates (E, N): 419000, 3767000; 419200, 3767000; 419200, 3766900; 419500, 3766900; 419500, 3767000; 420000, 3767000; 420000, 3766900; 420200, 3766900; 420200, 3766800; 420500, 3766800; 420500, 3766600; 420200, 3766600; 420200, 3766400; 420000, 3766400; 420000, 3766300; 419700, 3766300; 419700, 3766400; 419200, 3766400; 419200, 3766500; 419100, 3766500; 419100, 3766600; 419000, 3766600; 419000, 3766700; 418800, 3766700; 418800, 3766800; 418700, 3766800; 418700, 3766900; 419000, 3766900; returning to 419000, 3767000.

(ii) Note: Map of Unit 12 follows.

(17) Unit 13: Western Los Angeles and Ventura Counties, California.

(i) From USGS 1:100,000 quadrangle map Los Angeles, California, land bounded by the following UTM NAD83 coordinates (E, N): 367023, 3809918; 366923, 3809918; 366923, 3810118; 367123, 3810118; 367123, 3810218; 367323, 3810218; 367323, 3810318; 367423, 3810318; 367423, 3810518; 367523, 3810518; 367523, 3810718; 367623, 3810718; 367623, 3810918; 367723, 3810918; 367723, 3811018; 367823, 3811018; 367823, 3811118; 367923, 3811118; 367923, 3811218; 367823, 3811218; 367823, 3811318; 367723, 3811318; 367723, 3811218; 367523, 3811218; 367523, 3811118; 367423, 3811118; 367423, 3811018; 367323, 3811018; 367323, 3810918; 367223, 3810918; 367223, 3810818; 367123, 3810818; 367123, 3810718; 367023, 3810718; 367023, 3810618; 366923, 3810618; 366923, 3810518; 366823, 3810518; 366823, 3810418; 366723, 3810418; 366723, 3810318; 366623, 3810318; 366623, 3810218; 366523, 3810218; 366523, 3810118; 366423, 3810118; 366423, 3810018; 366323, 3810018; 366323, 3809918; 366123, 3809918; 366123, 3810118; 366023, 3810118; 366023, 3810518; 365823, 3810518; 365823, 3810618; 365723, 3810618; 365723, 3810718; 365623, 3810718; 365623, 3810818; 365523, 3810818; 365523, 3810918; 365623, 3810918; 365623, 3812018; 365523, 3812018; 365523, 3812118; 365123, 3812118; 365123, 3811418; 365023, 3811418; 365023, 3811318; 364823, 3811318; 364823, 3811418; 364723, 3811418; 364723, 3811518; 364423, 3811518; 364423, 3811618; 364323, 3811618; 364323, 3811718; 363823, 3811718; 363823, 3812018; 363223, 3812018; 363223, 3811918; 363123, 3811918; 363123, 3811718; 362723, 3811718; 362723, 3811618; 362923, 3811618; 362923, 3811518; 362723, 3811518; 362723, 3811118; 362823, 3811118; 362823, 3811218; 362923, 3811218; 362923, 3811318; 363123, 3811318; 363123, 3811118; 363723, 3811118; 363723, 3811018; 364123, 3811018; 364123, 3810918; 364023, 3810918; 364023, 3810818; 363623, 3810818; 363623, 3810918; 363523, 3810918; 363523, 3811018; 363323, 3811018; 363323, 3810918; 363223, 3810918; 363223, 3810818; 363123, 3810818; 363123, 3810718; 362523, 3810718; 362523, 3810618; 361923, 3810618; 361923, 3810518; 361323, 3810518; 361323, 3810418; 361123, 3810418; 361123, 3810318; 361023, 3810318; 361023, 3810218; 360923, 3810218; 360923, 3810118; 360723, 3810118; 360723, 3810018; 360623, 3810018; 360623, 3809918; 360523, 3809918; 360523, 3810218; 360623, 3810218; 360623, 3810318; 360723, 3810318; 360723, 3810418; 360823, 3810418; 360823, 3810618; 360923, 3810618; 360923, 3810718; 361023, 3810718; 361023, 3810818; 361123, 3810818; 361123, 3811018; 361223, 3811018; 361223, 3811118; 361323, 3811118; 361323, 3811218; 361423, 3811218; 361423, 3811318; 361523, 3811318; 361523, 3811418; 361623, 3811418; 361623, 3811518; 361723, 3811518; 361723, 3811618; 361823, 3811618; 361823, 3811718; 361923, 3811718; 361923, 3812118; 362023, 3812118; 362023, 3812418; 362223, 3812418; 362223, 3812518; 363223, 3812518; 363223, 3812418; 363623, 3812418; 363623, 3812318; 363823, 3812318; 363823, 3812418; 363923, 3812418; 363923, 3812818; 364023, 3812818; 364023, 3813018; 364123, 3813018; 364123, 3813218; 364323, 3813218; 364323, 3813418; 364423, 3813418; 364423, 3813618; 364323, 3813618; 364323, 3814018; 364523, 3814018; 364523, 3814118; 364623, 3814118; 364623, 3814218; 364823, 3814218; 364823, 3814318; 364923, 3814318; 364923, 3814418; 365923, 3814418; 365923, 3814518; 366223, 3814518; 366223, 3814618; 366423, 3814618; 366423, 3814718; 366623, 3814718; 366623, 3814818; 366823, 3814818; 366823, 3814918; 366923, 3814918; 366923, 3815118; 367023, 3815118; 367023, 3815218; 367223, 3815218; 367223, 3815318; 367323, 3815318; 367323, 3815418;

367623, 3815418; 367623, 3815518; 368023, 3815518; 368023, 3815418; 368123, 3815418; 368123, 3815318; 368523, 3815318; 368523, 3815218; 368723, 3815218; 368723, 3815118; 368823, 3815118; 368823, 3815018; 369023, 3815018; 369023, 3814918; 369123, 3814918; 369123, 3814818; 369023, 3814818; 369023, 3814618; 368923, 3814618; 368923, 3814118; 368723, 3814118; 368723, 3814018; 368423, 3814018; 368423, 3813918; 368323, 3813918; 368323, 3813418; 368723, 3813418; 368723, 3813318; 368923, 3813318; 368923, 3813018; 368823, 3813018; 368823, 3812918; 368723, 3812918; 368723, 3812818; 368623, 3812818; 368623, 3812718; 368523, 3812718; 368523, 3812218; 368423, 3812218; 368423, 3811918; 368523, 3811918; 368523, 3811818; 368423, 3811818; 368423, 3811718; 368623, 3811718; 368623, 3811618; 368823, 3811618; 368823, 3812018; 368923, 3812018; 368923, 3812218; 368823, 3812218; 368823, 3812318; 368923, 3812318; 368923, 3812518; 369023, 3812518; 369023, 3812618; 369123, 3812618; 369123, 3812718; 369223, 3812718; 369223, 3812818; 369323, 3812818; 369323, 3812718; 369423, 3812718; 369423, 3812518; 369623, 3812518; 369623, 3812618; 369723, 3812618; 369723, 3813018; 369623, 3813018; 369623, 3813218; 370723, 3813218; 370723, 3813318; 370923, 3813318; 370923, 3813418; 371223, 3813418; 371223, 3813618; 371323, 3813618; 371323, 3813818; 371223, 3813818; 371223, 3814418; 371123, 3814418; 371123, 3814718; 371223, 3814718; 371223, 3814818; 371623, 3814818; 371623, 3814918; 372323, 3814918; 372323, 3814818; 373023, 3814818; 373023, 3814118; 373123, 3814118; 373123, 3813818; 373223, 3813818; 373223, 3813718; 373123, 3813718; 373123, 3813618; 373023, 3813618; 373023, 3813518; 372923, 3813518; 372923, 3813418; 372823, 3813418; 372823, 3813318; 372723, 3813318; 372723, 3813118; 372623, 3813118; 372623, 3813818; 372523, 3813818; 372523, 3814018; 372423, 3814018; 372423, 3814118; 372123, 3814118; 372123, 3814018; 372023, 3814018; 372023, 3813518; 371923, 3813518; 371923, 3813318; 371823, 3813318; 371823, 3813118; 371723, 3813118; 371723, 3813018; 371523, 3813018; 371523, 3812918; 371223, 3812918; 371223, 3812718; 371123, 3812718; 371123, 3812618; 371023, 3812618; 371023, 3812518; 370923, 3812518; 370923, 3812418; 370823, 3812418; 370823, 3812218; 370923, 3812218; 370923, 3812118; 371023, 3812118; 371023, 3812018; 371223, 3812018; 371223, 3811818; 370823, 3811818; 370823, 3811718; 370523, 3811718; 370523, 3811818; 370323, 3811818; 370323, 3811618; 370223, 3811618; 370223, 3811518; 370323, 3811518; 370323, 3811418; 370423, 3811418; 370423, 3811118; 370323, 3811118; 370323, 3810918; 370123, 3810918; 370123, 3811218; 370023, 3811218; 370023, 3811118; 369923, 3811118; 369923, 3810718; 369823, 3810718; 369823, 3810618; 369623, 3810618; 369623, 3810518; 369423, 3810518; 369423, 3810718; 369523, 3810718; 369523, 3810918; 369623, 3810918; 369623, 3811218; 369223, 3811218; 369223, 3810918; 369023, 3810918; 369023, 3811118; 368923, 3811118; 368923, 3811218; 368723, 3811218; 368723, 3811118; 368623, 3811118; 368623, 3811018; 368523, 3811018; 368523, 3810918; 368423, 3810918; 368423, 3810718; 368323, 3810718; 368323, 3810618; 368023, 3810618; 368023, 3810518; 367723, 3810518; 367723, 3810418; 367623, 3810418; 367623, 3810018; 367023, 3810018; returning to 367023, 3809918.

Land bounded by the following UTM NAD83 coordinates (E, N): 369323, 3800418; 369323, 3800518; 369423, 3800518; 369423, 3800618; 369523, 3800618; 369523, 3800718; 369423, 3800718; 369423, 3801018; 369523, 3801018; 369523, 3800918; 369623, 3800918; 369623, 3800818; 369723, 3800818; 369723, 3800718; 369823, 3800718; 369823, 3801018; 369923, 3801018; 369923, 3800918; 370023, 3800918; 370023, 3800618; 370123, 3800618; 370123, 3800518; 370023, 3800518; 370023, 3800318; 370423, 3800318; 370423, 3800218; 370523, 3800218; 370523, 3800118; 370423, 3800118; 370423, 3799918; 370523, 3799918; 370523, 3800018; 370923, 3800018; 370923, 3800118; 371023, 3800118; 371023, 3800218; 371123, 3800218; 371123, 3800318; 371023, 3800318; 371023, 3800518; 371323, 3800518; 371323, 3800418; 371423, 3800418; 371423, 3800518; 371523, 3800518; 371523, 3800818; 371123, 3800818; 371123, 3801018; 371223, 3801018; 371223, 3801118; 371123, 3801118; 371123, 3801218; 371323, 3801218; 371323, 3801118; 371423, 3801118; 371423, 3801218; 371523, 3801218; 371523, 3801518; 371723, 3801518; 371723, 3801418; 371923, 3801418; 371923, 3801518; 372023, 3801518; 372023, 3801318; 372123, 3801318; 372123, 3801418; 372323, 3801418; 372323, 3801818; 372223, 3801818; 372223, 3801918; 372123, 3801918; 372123, 3802018; 372323, 3802018; 372323, 3802218; 372023, 3802218; 372023, 3802318; 371923, 3802318; 371923, 3802418; 371823, 3802418; 371823, 3802518; 372023, 3802518; 372023, 3802418; 372123, 3802418; 372123, 3802518; 372223, 3802518; 372223, 3802718; 372323, 3802718; 372323, 3802518; 372723, 3802518; 372723, 3802418; 372923, 3802418; 372923, 3802318; 373023, 3802318; 373023, 3802218; 373423, 3802218; 373423, 3802118; 373523, 3802118; 373523, 3802318; 373623, 3802318; 373623, 3802118; 373723, 3802118; 373723, 3802018; 373823, 3802018; 373823, 3801918; 373923, 3801918; 373923, 3801818; 374123, 3801818; 374123, 3801718; 374423, 3801718; 374423, 3801818; 374523, 3801818; 374523, 3801718; 374623, 3801718; 374623, 3801618; 374823, 3801618; 374823, 3801918; 374923, 3801918; 374923, 3802218; 375023, 3802218; 375023, 3802118; 375123, 3802118; 375123, 3802218; 375223, 3802218; 375223, 3802318; 375323, 3802318; 375323, 3802518; 375223, 3802518; 375223, 3802618; 375323, 3802618; 375323, 3802718; 375423, 3802718; 375423, 3802818; 375523, 3802818; 375523, 3802718; 375823, 3802718; 375823, 3802618; 376123, 3802618; 376123, 3802818; 376423, 3802818; 376423, 3803018; 376523, 3803018; 376523, 3802918; 376923, 3802918; 376923, 3802818; 377023, 3802818; 377023, 3802718; 376823, 3802718; 376823, 3802818; 376723, 3802818; 376723, 3802718; 376423, 3802718; 376423, 3802618; 376323, 3802618; 376323, 3802518; 376123, 3802518; 376123, 3802218; 375723, 3802218; 375723, 3802518; 375623, 3802518; 375623, 3801918; 375523, 3801918; 375523, 3802018; 375423, 3802018; 375423, 3801918; 375223, 3801918; 375223, 3801818; 375323, 3801818; 375323, 3801618; 375423, 3801618; 375423, 3801418; 375523, 3801418; 375523, 3801318; 375423, 3801318; 375423, 3801218; 375523, 3801218; 375523, 3800918; 375023, 3800918; 375023, 3800818; 374923, 3800818; 374923, 3800918; 374623, 3800918; 374623, 3801018; 374323, 3801018; 374323, 3800918; 374223, 3800918; 374223, 3801118; 374023, 3801118; 374023, 3801218; 373723, 3801218; 373723, 3801318; 373423, 3801318; 373423, 3801518; 373023, 3801518; 373023, 3801618; 372923, 3801618; 372923, 3801518; 372823, 3801518; 372823, 3801418; 372923, 3801418; 372923, 3801218; 373023, 3801218; 373023, 3800918; 372923, 3800918; 372923, 3800618; 372823, 3800618; 372823, 3800718; 372723, 3800718; 372723, 3800818; 372623, 3800818; 372623, 3800918; 372523, 3800918; 372523, 3800818; 372323, 3800818; 372323, 3800718; 372123, 3800718; 372123, 3800818; 372023, 3800818; 372023, 3799918; 371823, 3799918; 371823, 3799818; 371623, 3799818; 371623, 3799518; 371923, 3799518; 371923, 3799418; 372423, 3799418; 372423, 3799118; 372323, 3799118; 372323, 3798918; 372423, 3798918; 372423, 3798718; 371823, 3798718; 371823, 3798618; 371023, 3798618; 371023, 3799318; 370923, 3799318; 370923, 3799418; 370723, 3799418; 370723, 3799518; 370223, 3799518; 370223, 3799618; 369923, 3799618; 369923, 3799718; 369623, 3799718; 369623, 3799618; 369523, 3799618; 369523, 3799518; 369223, 3799518; 369223, 3799618; 369123, 3799618; 369123, 3799718; 368223, 3799718; 368223, 3799518; 367523, 3799518; 367523, 3799618; 366823, 3799618; 366823, 3799518; 366723, 3799518; 366723, 3799418; 366323, 3799418; 366323, 3799318; 366223, 3799318; 366223, 3799218; 365823, 3799218; 365823, 3799318; 365723, 3799318; 365723, 3799418; 365623, 3799418; 365623, 3799518; 365423, 3799518; 365423, 3799618; 365323, 3799618; 365323, 3799918; 365123, 3799918; 365123, 3799818; 364823, 3799818; 364823, 3799718; 364723, 3799718; 364723, 3799318; 364523, 3799318; 364523, 3799218; 363923, 3799218; 363923, 3799718; 364023, 3799718; 364023, 3799918; 363423, 3799918; 363423, 3799818; 363223, 3799818; 363223, 3799718; 362123, 3799718; 362123, 3799818; 362023, 3799818; 362023, 3800018; 361923, 3800018; 361923, 3800218; 361823, 3800218; 361823, 3801218; 361923, 3801218; 361923, 3801418; 361423, 3801418; 361423, 3801118; 361323, 3801118; 361323, 3800818; 361223, 3800818; 361223, 3800618; 361023, 3800618; 361023, 3800718; 360823, 3800718; 360823, 3800818; 360623, 3800818; 360623, 3800618; 360523, 3800618; 360523, 3800518; 359623, 3800518; 359623, 3800418; 359423, 3800418; 359423, 3800218; 359323, 3800218; 359323, 3799918; 359423, 3799918; 359423, 3799718; 359523,

3799718; 359523, 3799518; 359623, 3799518; 359623, 3799418; 359723, 3799418; 359723, 3799218; 359823, 3799218; 359823, 3799118; 359923, 3799118; 359923, 3799018; 360123, 3799018; 360123, 3798918; 360223, 3798918; 360223, 3798818; 360323, 3798818; 360323, 3798718; 360423, 3798718; 360423, 3798618; 360523, 3798618; 360523, 3798518; 360623, 3798518; 360623, 3798418; 360723, 3798418; 360723, 3798318; 360823, 3798318; 360823, 3798218; 360923, 3798218; 360923, 3798118; 361023, 3798118; 361023, 3798018; 361123, 3798018; 361123, 3797918; 361323, 3797918; 361323, 3797618; 361023, 3797618; 361023, 3797418; 360923, 3797418; 360923, 3797318; 360823, 3797318; 360823, 3797218; 360623, 3797218; 360623, 3797118; 360423, 3797118; 360423, 3797018; 360323, 3797018; 360323, 3796918; 359723, 3796918; 359723, 3796818; 359523, 3796818; 359523, 3796718; 359423, 3796718; 359423, 3796618; 359323, 3796618; 359323, 3796418; 359223, 3796418; 359223, 3796318; 359323, 3796318; 359323, 3796118; 359523, 3796118; 359523, 3796018; 359723, 3796018; 359723, 3795918; 359923, 3795918; 359923, 3795518; 359323, 3795518; 359323, 3795418; 359123, 3795418; 359123, 3795318; 358923, 3795318; 358923, 3795418; 358823, 3795418; 358823, 3795518; 358723, 3795518; 358723, 3795718; 358623, 3795718; 358623, 3795818; 358523, 3795818; 358523, 3795918; 358423, 3795918; 358423, 3796118; 358323, 3796118; 358323, 3796218; 358223, 3796218; 358223, 3796318; 358123, 3796318; 358123, 3796418; 357823, 3796418; 357823, 3796318; 357423, 3796318; 357423, 3796218; 357023, 3796218; 357023, 3796318; 356623, 3796318; 356623, 3796418; 356423, 3796418; 356423, 3796518; 356323, 3796518; 356323, 3796418; 356123, 3796418; 356123, 3796318; 356023, 3796318; 356023, 3796218; 355923, 3796218; 355923, 3796118; 355723, 3796118; 355723, 3796018; 355423, 3796018; 355423, 3796218; 355323, 3796218; 355323, 3796318; 355223, 3796318; 355223, 3796518; 354723, 3796518; 354723, 3796418; 354623, 3796418; 354623, 3796318; 354423, 3796318; 354423, 3796018; 354323, 3796018; 354323, 3795818; 354423, 3795818; 354423, 3795618; 354523, 3795618; 354523, 3795518; 354823, 3795518; 354823, 3795418; 355123, 3795418; 355123, 3795118; 355023, 3795118; 355023, 3794318; 355123, 3794318; 355123, 3794118; 355223, 3794118; 355223, 3793718; 353323, 3793718; 353323, 3793818; 353223, 3793818; 353223, 3793918; 353123, 3793918; 353123, 3794018; 353023, 3794018; 353023, 3794218; 352923, 3794218; 352923, 3794318; 352723, 3794318; 352723, 3794418; 352623, 3794418; 352623, 3794518; 352523, 3794518; 352523, 3794618; 352423, 3794618; 352423, 3794718; 352323, 3794718; 352323, 3794818; 352223, 3794818; 352223, 3794918; 352023, 3794918; 352023, 3795018; 351923, 3795018; 351923, 3795118; 351823, 3795118; 351823, 3795218; 351723, 3795218; 351723, 3795318; 351323, 3795318; 351323, 3795218; 351223, 3795218; 351223, 3795118; 351123, 3795118; 351123, 3795018; 351023, 3795018; 351023, 3794918; 350823, 3794918; 350823, 3794818; 350723, 3794818; 350723, 3794718; 350523, 3794718; 350523, 3794518; 350423, 3794518; 350423, 3794118; 350323, 3794118; 350323, 3793918; 350123, 3793918; 350123, 3793818; 350023, 3793818; 350023, 3793718; 349823, 3793718; 349823, 3793518; 349723, 3793518; 349723, 3793418; 349623, 3793418; 349623, 3793318; 349423, 3793318; 349423, 3793218; 349323, 3793218; 349323, 3793118; 349223, 3793118; 349223, 3793018; 348823, 3793018; 348823, 3793118; 348623, 3793118; 348623, 3793218; 348523, 3793218; 348523, 3793318; 348323, 3793318; 348323, 3793418; 347923, 3793418; 347923, 3793518; 347723, 3793518; 347723, 3793618; 347623, 3793618; 347623, 3793818; 347523, 3793818; 347523, 3794018; 347423, 3794018; 347423, 3794218; 347323, 3794218; 347323, 3794318; 347223, 3794318; 347223, 3794418; 346723, 3794418; 346723, 3794518; 346423, 3794518; 346423, 3794618; 346523, 3794618; 346523, 3794818; 346623, 3794818; 346623, 3795018; 346723, 3795018; 346723, 3795118; 346823, 3795118; 346823, 3795418; 346723, 3795418; 346723, 3795518; 346123, 3795518; 346123, 3795718; 346223, 3795718; 346223, 3796018; 346023, 3796018; 346023, 3796418; 345923, 3796418; 345923, 3796518; 345823, 3796518; 345823, 3796618; 345223, 3796618; 345223, 3796418; 344423, 3796418; 344423, 3796218; 344523, 3796218; 344523, 3795718; 344323, 3795718; 344323, 3795618; 344223, 3795618; 344223, 3795518; 344023, 3795518; 344023, 3795618; 344123, 3795618; 344123, 3796218; 344223, 3796218; 344223, 3796418; 344323, 3796418; 344323, 3796718; 344423, 3796718; 344423, 3796818; 344323, 3796818; 344323, 3797018; 343923, 3797018; 343923, 3796918; 343823, 3796918; 343823, 3796818; 341623, 3796818; 341623, 3796718; 341423, 3796718; 341423, 3796618; 341223, 3796618; 341223, 3796518; 340723, 3796518; 340723, 3796418; 340223, 3796418; 340223, 3796318; 339923, 3796318; 339923, 3796218; 339523, 3796218; 339523, 3796118; 339323, 3796118; 339323, 3796018; 339223, 3796018; 339223, 3795918; 339023, 3795918; 339023, 3795818; 338923, 3795818; 338923, 3795718; 338223, 3795718; 338223, 3795618; 338023, 3795618; 338023, 3795518; 337823, 3795518; 337823, 3795418; 337623, 3795418; 337623, 3795318; 337523, 3795318; 337523, 3795218; 337423, 3795218; 337423, 3795118; 337323, 3795118; 337323, 3795018; 337123, 3795018; 337123, 3794918; 336723, 3794918; 336723, 3795318; 335723, 3795318; 335723, 3795518; 335623, 3795518; 335623, 3795618; 335523, 3795618; 335523, 3795718; 335323, 3795718; 335323, 3795618; 335223, 3795618; 335223, 3795518; 335123, 3795518; 335123, 3795418; 335023, 3795418; 335023, 3795318; 334923,

3795318; 334923, 3795418; 334623, 3795418; 334623, 3795618; 334723, 3795618; 334723, 3795818; 334823, 3795818; 334823, 3795918; 334923, 3795918; 334923, 3796018; 335023, 3796018; 335023, 3796218; 335123, 3796218; 335123, 3796918; 334723, 3796918; 334723, 3796818; 334623, 3796818; 334623, 3796518; 334423, 3796518; 334423, 3796418; 334123, 3796418; 334123, 3796318; 334023, 3796318; 334023, 3795918; 334123, 3795918; 334123, 3795818; 334223, 3795818; 334223, 3795718; 334323, 3795718; 334323, 3795618; 334223, 3795618; 334223, 3795518; 334123, 3795518; 334123, 3795418; 334023, 3795418; 334023, 3795318; 333923, 3795318; 333923, 3795218; 333823, 3795218; 333823, 3795318; 333623, 3795318; 333623, 3795418; 333223, 3795418; 333223, 3795518; 332323, 3795518; 332323, 3795218; 331823, 3795218; 331823, 3794618; 331923, 3794618; 331923, 3794518; 332423, 3794518; 332423, 3794618; 332723, 3794618; 332723, 3794718; 332823, 3794718; 332823, 3794618; 333223, 3794618; 333223, 3794718; 333323, 3794718; 333323, 3795018; 333523, 3795018; 333523, 3794918; 333623, 3794918; 333623, 3794818; 333723, 3794818; 333723, 3794718; 333823, 3794718; 333823, 3794618; 333923, 3794618; 333923, 3794518; 333823, 3794518; 333823, 3794418; 333623, 3794418; 333623, 3794318; 333423, 3794318; 333423, 3794218; 333123, 3794218; 333123, 3794118; 332923, 3794118; 332923, 3794018; 333023, 3794018; 333023, 3793918; 333323, 3793918; 333323, 3793718; 333423, 3793718; 333423, 3793618; 333523, 3793618; 333523, 3793218; 333723, 3793218; 333723, 3793318; 333823, 3793318; 333823, 3793518; 333923, 3793518; 333923, 3793418; 334023, 3793418; 334023, 3793118; 333923, 3793118; 333923, 3793018; 334023, 3793018; 334023, 3792918; 334223, 3792918; 334223, 3792518; 334123, 3792518; 334123, 3792418; 333723, 3792418; 333723, 3792218; 333623, 3792218; 333623, 3792118; 333323, 3792118; 333323, 3792018; 333123, 3792018; 333123, 3792118; 332923, 3792118; 332923, 3792018; 332823, 3792018; 332823, 3791918; 332723, 3791918; 332723, 3791818; 332623, 3791818; 332623, 3791718; 332323, 3791718; 332323, 3791618; 332223, 3791618; 332223, 3791718; 332123, 3791718; 332123, 3791618; 331923, 3791618; 331923, 3791418; 331323, 3791418; 331323, 3791318; 331223, 3791318; 331223, 3791218; 330923, 3791218; 330923, 3791018; 331023, 3791018; 331023, 3790818; 330823, 3790818; 330823, 3790718; 330723, 3790718; 330723, 3790618; 330623, 3790618; 330623, 3790718; 330223, 3790718; 330223, 3790518; 330023, 3790518; 330023, 3790618; 329423, 3790618; 329423, 3790918; 329523, 3790918; 329523, 3791218; 329623, 3791218; 329623, 3791418; 330623, 3791418; 330623, 3792018; 330523, 3792018; 330523, 3792318; 330423, 3792318; 330423, 3792418; 330323, 3792418; 330323, 3792518; 330423, 3792518; 330423, 3792618; 330623, 3792618; 330623, 3792718; 331223, 3792718; 331223, 3792818; 331423, 3792818; 331423, 3792918; 331523, 3792918; 331523, 3793018; 331623, 3793018; 331623, 3793918; 331523, 3793918; 331523, 3793818; 331423, 3793818; 331423, 3793618; 331023, 3793618; 331023, 3793518; 330723, 3793518; 330723, 3793818; 330523, 3793818; 330523, 3793918; 329923, 3793918; 329923, 3794218; 329823, 3794218; 329823, 3794318; 329323, 3794318; 329323, 3794218; 329223, 3794218; 329223, 3794118; 329023, 3794118; 329023, 3794018; 329123, 3794018; 329123, 3793818; 329223, 3793818; 329223, 3793618; 329323, 3793618; 329323, 3793518; 329423, 3793518; 329423, 3793218; 329323, 3793218; 329323, 3793118; 329223, 3793118; 329223, 3793018; 328723, 3793018; 328723, 3793218; 328623, 3793218; 328623, 3793418; 328723, 3793418; 328723, 3794118; 328523, 3794118; 328523, 3794218; 328323, 3794218; 328323, 3794418; 328423, 3794418; 328423, 3794318; 328623, 3794318; 328623, 3794418; 328723, 3794418; 328723, 3794618; 328923, 3794618; 328923, 3794718; 329123, 3794718; 329123, 3794818; 329423, 3794818; 329423, 3794918; 329523, 3794918; 329523, 3795318; 329423, 3795318; 329423, 3795618; 329523, 3795618; 329523, 3795718; 329823, 3795718; 329823, 3795818; 330023, 3795818; 330023, 3795918; 330323, 3795918; 330323, 3796018; 330623, 3796018; 330623, 3796118; 330823, 3796118; 330823, 3796218; 331123, 3796218; 331123, 3796318; 331223, 3796318; 331223, 3796518; 331323, 3796518; 331323, 3796618; 331423, 3796618; 331423, 3796718; 331523, 3796718; 331523, 3796818; 331623, 3796818; 331623, 3797018; 331523, 3797018; 331523, 3797118; 331423, 3797118; 331423, 3797218; 331323, 3797218; 331323, 3797418; 331423, 3797418; 331423, 3797818; 331123, 3797818; 331123, 3797918; 330223, 3797918; 330223, 3797618; 330023, 3797618; 330023, 3797118; 330123, 3797118; 330123, 3796818; 330023, 3796818; 330023, 3796918; 329923, 3796918; 329923, 3797218; 329823, 3797218; 329823, 3797318; 329723, 3797318; 329723, 3797418; 329623, 3797418; 329623, 3797518; 329523, 3797518; 329523, 3797618; 329423, 3797618; 329423, 3797718; 329323, 3797718; 329323, 3797818; 328923, 3797818; 328923, 3797118; 328423, 3797118; 328423, 3797018; 328323, 3797018; 328323, 3796818; 328223, 3796818; 328223, 3796518; 328323, 3796518; 328323, 3796418; 328523, 3796418; 328523, 3796318; 328723, 3796318; 328723, 3796218; 328523, 3796218; 328523, 3796118; 328423, 3796118; 328423, 3796018; 328323, 3796018; 328323, 3795818; 327923, 3795818; 327923, 3795718; 327123, 3795718; 327123, 3795918; 327023, 3795918; 327023, 3796118; 327123, 3796118; 327123, 3796418; 326923, 3796418; 326923, 3796318; 326823, 3796318; 326823, 3796218; 326723, 3796218; 326723, 3796118; 326623, 3796118; 326623, 3796018; 326323, 3796018; 326323, 3795718; 326223,

3795718; 326223, 3795418; 325523, 3795418; 325523, 3795318; 325123, 3795318; 325123, 3795218; 324623, 3795218; 324623, 3795518; 324723, 3795518; 324723, 3795618; 324923, 3795618; 324923, 3795718; 325423, 3795718; 325423, 3796318; 324923, 3796318; 324923, 3796218; 324323, 3796218; 324323, 3796318; 324223, 3796318; 324223, 3796718; 324323, 3796718; 324323, 3796918; 324523, 3796918; 324523, 3797018; 324623, 3797018; 324623, 3797118; 324723, 3797118; 324723, 3797318; 324823, 3797318; 324823, 3797618; 324923, 3797618; 324923, 3797718; 325323, 3797718; 325323, 3797818; 325523, 3797818; 325523, 3797918; 325723, 3797918; 325723, 3798118; 326523, 3798118; 326523, 3798018; 326723, 3798018; 326723, 3798118; 326923, 3798118; 326923, 3798018; 327023, 3798018; 327023, 3797918; 327523, 3797918; 327523, 3798218; 327823, 3798218; 327823, 3798418; 327723, 3798418; 327723, 3798618; 327623, 3798618; 327623, 3798718; 327523, 3798718; 327523, 3799518; 327423, 3799518; 327423, 3799718; 327223, 3799718; 327223, 3799818; 327123, 3799818; 327123, 3799918; 327023, 3799918; 327023, 3800018; 326823, 3800018; 326823, 3800318; 326923, 3800318; 326923, 3800518; 327023, 3800518; 327023, 3800718; 327123, 3800718; 327123, 3800818; 327423, 3800818; 327423, 3800718; 327623, 3800718; 327623, 3800818; 327723, 3800818; 327723, 3801718; 327823, 3801718; 327823, 3801818; 327723, 3801818; 327723, 3801918; 327423, 3801918; 327423, 3802018; 327323, 3802018; 327323, 3802118; 327223, 3802118; 327223, 3802318; 327123, 3802318; 327123, 3802518; 327023, 3802518; 327023, 3802818; 326623, 3802818; 326623, 3802918; 326523, 3802918; 326523, 3803018; 326423, 3803018; 326423, 3803118; 326523, 3803118; 326523, 3803218; 326623, 3803218; 326623, 3803318; 328423, 3803318; 328423, 3803218; 328623, 3803218; 328623, 3803318; 328823, 3803318; 328823, 3803418; 329123, 3803418; 329123, 3803518; 329323, 3803518; 329323, 3803618; 329623, 3803618; 329623, 3803518; 329823, 3803518; 329823, 3803418; 330023, 3803418; 330023, 3803318; 330123, 3803318; 330123, 3803418; 330223, 3803418; 330223, 3803318; 330523, 3803318; 330523, 3803418; 330823, 3803418; 330823, 3803518; 331023, 3803518; 331023, 3803618; 331323, 3803618; 331323, 3803518; 331423, 3803518; 331423, 3803418; 331523, 3803418; 331523, 3803218; 331623, 3803218; 331623, 3803118; 331723, 3803118; 331723, 3803018; 332223, 3803018; 332223, 3803118; 332323, 3803118; 332323, 3803218; 332423, 3803218; 332423, 3803318; 332623, 3803318; 332623, 3803218; 332723, 3803218; 332723, 3803118; 332923, 3803118; 332923, 3803218; 333123, 3803218; 333123, 3803418; 333223, 3803418; 333223, 3803618; 333323, 3803618; 333323, 3803818; 333423, 3803818; 333423, 3804018; 333623, 3804018; 333623, 3804118; 333723, 3804118; 333723, 3804218; 333823, 3804218; 333823, 3804318; 333923, 3804318; 333923, 3804418; 334023, 3804418; 334023, 3804318; 334123, 3804318; 334123, 3804218; 334623, 3804218; 334623, 3803818; 334923, 3803818; 334923, 3803918; 335123, 3803918; 335123, 3803818; 335223, 3803818; 335223, 3803918; 335423, 3803918; 335423, 3803718; 335723, 3803718; 335723, 3803018; 335823, 3803018; 335823, 3803418; 335923, 3803418; 335923, 3803318; 336123, 3803318; 336123, 3803418; 336323, 3803418; 336323, 3803618; 336223, 3803618; 336223, 3803718; 336523, 3803718; 336523, 3803818; 336623, 3803818; 336623, 3803618; 336723, 3803618; 336723, 3803418; 336823, 3803418; 336823, 3803318; 337023, 3803318; 337023, 3803418; 337123, 3803418; 337123, 3803518; 337023, 3803518; 337023, 3803718; 337123, 3803718; 337123, 3803818; 337023, 3803818; 337023, 3804018; 337123, 3804018; 337123, 3803918; 337223, 3803918; 337223, 3804318; 337323, 3804318; 337323, 3804218; 337523, 3804218; 337523, 3804018; 337623, 3804018; 337623, 3804218; 337823, 3804218; 337823, 3804518; 337923, 3804518; 337923, 3804418; 338223, 3804418; 338223, 3804118; 338323, 3804118; 338323, 3804218; 338423, 3804218; 338423, 3803818; 338523, 3803818; 338523, 3803718; 338923, 3803718; 338923, 3804018; 339023, 3804018; 339023, 3803818; 339123, 3803818; 339123, 3803718; 339223, 3803718; 339223, 3803818; 339323, 3803818; 339323, 3803718; 339523, 3803718; 339523, 3803518; 339623, 3803518; 339623, 3803318; 339723, 3803318; 339723, 3803218; 339823, 3803218; 339823, 3803318; 339923, 3803318; 339923, 3803418; 339823, 3803418; 339823, 3803518; 340023, 3803518; 340023, 3803718; 340323, 3803718; 340323, 3803518; 340223, 3803518; 340223, 3803018; 340323, 3803018; 340323, 3802918; 340223, 3802918; 340223, 3802518; 340523, 3802518; 340523, 3802618; 340423, 3802618; 340423, 3802718; 340523, 3802718; 340523, 3802818; 340623, 3802818; 340623, 3802718; 340723, 3802718; 340723, 3803018; 341023, 3803018; 341023, 3803118; 341123, 3803118; 341123, 3802918; 341223, 3802918; 341223, 3802818; 341123, 3802818; 341123, 3802518; 341423, 3802518; 341423, 3802618; 341523, 3802618; 341523, 3802518; 341623, 3802518; 341623, 3802618; 341823, 3802618; 341823, 3802318; 341923, 3802318; 341923, 3802218; 342023, 3802218; 342023, 3802418; 342223, 3802418; 342223, 3802318; 342423, 3802318; 342423, 3802418; 342523, 3802418; 342523, 3802518; 342423, 3802518; 342423, 3802618; 342223, 3802618; 342223, 3802718; 342323, 3802718; 342323, 3802818; 342423, 3802818; 342423, 3802718; 342623, 3802718; 342623, 3802818; 342523, 3802818; 342523, 3803118; 342623, 3803118; 342623, 3803318; 342723, 3803318; 342723, 3803418; 342823, 3803418; 342823, 3803518; 343023, 3803518; 343023, 3803618; 342523, 3803618; 342523, 3803918; 342623, 3803918; 342623, 3804018; 342723,

3804018; 342723, 3804118; 342623, 3804118; 342623, 3804618; 342723, 3804618; 342723, 3804718; 342623, 3804718; 342623, 3804918; 342523, 3804918; 342523, 3805118; 342623, 3805118; 342623, 3805318; 342523, 3805318; 342523, 3805418; 342423, 3805418; 342423, 3805518; 342323, 3805518; 342323, 3805818; 342223, 3805818; 342223, 3806118; 342123, 3806118; 342123, 3806418; 342023, 3806418; 342023, 3806518; 341923, 3806518; 341923, 3806918; 341823, 3806918; 341823, 3807018; 341723, 3807018; 341723, 3807218; 341823, 3807218; 341823, 3807318; 341923, 3807318; 341923, 3807418; 342123, 3807418; 342123, 3807518; 342223, 3807518; 342223, 3807718; 342523, 3807718; 342523, 3807618; 342623, 3807618; 342623, 3807518; 342723, 3807518; 342723, 3807418; 342823, 3807418; 342823, 3807318; 342923, 3807318; 342923, 3807218; 343123, 3807218; 343123, 3807118; 343223, 3807118; 343223, 3807218; 343323, 3807218; 343323, 3807318; 344123, 3807318; 344123, 3807418; 344423, 3807418; 344423, 3807318; 344523, 3807318; 344523, 3807418; 344723, 3807418; 344723, 3808018; 344923, 3808018; 344923, 3807918; 345523, 3807918; 345523, 3808018; 345623, 3808018; 345623, 3808118; 345823, 3808118; 345823, 3808218; 346023, 3808218; 346023, 3808318; 346423, 3808318; 346423, 3808418; 346723, 3808418; 346723, 3808518; 347823, 3808518; 347823, 3808618; 347923, 3808618; 347923, 3808718; 348023, 3808718; 348023, 3808918; 348123, 3808918; 348123, 3809118; 348223, 3809118; 348223, 3809218; 348323, 3809218; 348323, 3809318; 348423, 3809318; 348423, 3809618; 348523, 3809618; 348523, 3809718; 350323, 3809718; 350323, 3809818; 350423, 3809818; 350423, 3809918; 350523, 3809918; 350523, 3810018; 350623, 3810018; 350623, 3810118; 350723, 3810118; 350723, 3810218; 350923, 3810218; 350923, 3810318; 351123, 3810318; 351123, 3810418; 351323, 3810418; 351323, 3810618; 351423, 3810618; 351423, 3810918; 351523, 3810918; 351523, 3811018; 351623, 3811018; 351623, 3811218; 351723, 3811218; 351723, 3811318; 351823, 3811318; 351823, 3811518; 352223, 3811518; 352223, 3811418; 352323, 3811418; 352323, 3811318; 352423, 3811318; 352423, 3811218; 352523, 3811218; 352523, 3811118; 352623, 3811118; 352623, 3811018; 352723, 3811018; 352723, 3810718; 352823, 3810718; 352823, 3810118; 352923, 3810118; 352923, 3809818; 353523, 3809818; 353523, 3809918; 354323, 3809918; 354323, 3810018; 354423, 3810018; 354423, 3809918; 354523, 3809918; 354523, 3809718; 354623, 3809718; 354623, 3809518; 354723, 3809518; 354723, 3809418; 354823, 3809418; 354823, 3808518; 354723, 3808518; 354723, 3808418; 355023, 3808418; 355023, 3808518; 355123, 3808518; 355123, 3808218; 355223, 3808218; 355223, 3807818; 355323, 3807818; 355323, 3807418; 355423, 3807418; 355423, 3807118; 355523, 3807118; 355523, 3807018; 355423, 3807018; 355423, 3806918; 355123, 3806918; 355123, 3806818; 354723, 3806818; 354723, 3806918; 354623, 3806918; 354623, 3807118; 354423, 3807118; 354423, 3807218; 354223, 3807218; 354223, 3807318; 353223, 3807318; 353223, 3807218; 353023, 3807218; 353023, 3807118; 352823, 3807118; 352823, 3807018; 352623, 3807018; 352623, 3806918; 352423, 3806918; 352423, 3806818; 352323, 3806818; 352323, 3806718; 352223, 3806718; 352223, 3806518; 352123, 3806518; 352123, 3806118; 352223, 3806118; 352223, 3806018; 352423, 3806018; 352423, 3805918; 352623, 3805918; 352623, 3805818; 352823, 3805818; 352823, 3805718; 353223, 3805718; 353223, 3805618; 353623, 3805618; 353623, 3805518; 354023, 3805518; 354023, 3805418; 354823, 3805418; 354823, 3805518; 355023, 3805518; 355023, 3805418; 355123, 3805418; 355123, 3805018; 355223, 3805018; 355223, 3804718; 355323, 3804718; 355323, 3804618; 355423, 3804618; 355423, 3804518; 355523, 3804518; 355523, 3804418; 356023, 3804418; 356023, 3804318; 356423, 3804318; 356423, 3804218; 356523, 3804218; 356523, 3804018; 356623, 3804018; 356623, 3803818; 356723, 3803818; 356723, 3803618; 356823, 3803618; 356823, 3803418; 357023, 3803418; 357023, 3803318; 357323, 3803318; 357323, 3803218; 357523, 3803218; 357523, 3803118; 357823, 3803118; 357823, 3803018; 358123, 3803018; 358123, 3802918; 358323, 3802918; 358323, 3803118; 358423, 3803118; 358423, 3803618; 358523, 3803618; 358523, 3803718; 358723, 3803718; 358723, 3803618; 358823, 3803618; 358823, 3803518; 358923, 3803518; 358923, 3803418; 359023, 3803418; 359023, 3803318; 359123, 3803318; 359123, 3803118; 359323, 3803118; 359323, 3803218; 359423, 3803218; 359423, 3803318; 359523, 3803318; 359523, 3803418; 359623, 3803418; 359623, 3803518; 359923, 3803518; 359923, 3803218; 360023, 3803218; 360023, 3803118; 360223, 3803118; 360223, 3803918; 360323, 3803918; 360323, 3804018; 360623, 3804018; 360623, 3803918; 360723, 3803918; 360723, 3803818; 360923, 3803818; 360923, 3803718; 361623, 3803718; 361623, 3803618; 361923, 3803618; 361923, 3803518; 362023, 3803518; 362023, 3803718; 362423, 3803718; 362423, 3803918; 362023, 3803918; 362023, 3804218; 362123, 3804218; 362123, 3804318; 362223, 3804318; 362223, 3804518; 362323, 3804518; 362323, 3804618; 362423, 3804618; 362423, 3804718; 362523, 3804718; 362523, 3804818; 362623, 3804818; 362623, 3804918; 362823, 3804918; 362823, 3804818; 362923, 3804818; 362923, 3804718; 363523, 3804718; 363523, 3804818; 363623, 3804818; 363623, 3804718; 363823, 3804718; 363823, 3804618; 363923, 3804618; 363923, 3804518; 364123, 3804518; 364123, 3804618; 364223, 3804618; 364223, 3804718; 364523, 3804718; 364523, 3804818; 364623, 3804818; 364623, 3805018; 364523, 3805018; 364523, 3805118; 364423, 3805118; 364423, 3805218; 364123,

3805218; 364123, 3805318; 363623, 3805318; 363623, 3805218; 363023, 3805218; 363023, 3805318; 363123, 3805318; 363123, 3805418; 363223, 3805418; 363223, 3805518; 363323, 3805518; 363323, 3805618; 363423, 3805618; 363423, 3805718; 363523, 3805718; 363523, 3805818; 363723, 3805818; 363723, 3805918; 363923, 3805918; 363923, 3806018; 364023, 3806018; 364023, 3806118; 364123, 3806118; 364123, 3806218; 364223, 3806218; 364223, 3806318; 364323, 3806318; 364323, 3806418; 364623, 3806418; 364623, 3806518; 364823, 3806518; 364823, 3806618; 364923, 3806618; 364923, 3806718; 365023, 3806718; 365023, 3806818; 365223, 3806818; 365223, 3806918; 365323, 3806918; 365323, 3807018; 365423, 3807018; 365423, 3807118; 365623, 3807118; 365623, 3807218; 365723, 3807218; 365723, 3807318; 365923, 3807318; 365923, 3806818; 367423, 3806818; 367423, 3807318; 367223, 3807318; 367223, 3808218; 367423, 3808218; 367423, 3808318; 367623, 3808318; 367623, 3808418; 367923, 3808418; 367923, 3808518; 368023, 3808518; 368023, 3808618; 368123, 3808618; 368123, 3808718; 368223, 3808718; 368223, 3808818; 368823, 3808818; 368823, 3808718; 368923, 3808718; 368923, 3807518; 368523, 3807518; 368523, 3807218; 368423, 3807218; 368423, 3807018; 368323, 3807018; 368323, 3806818; 368223, 3806818; 368223, 3806718; 368423, 3806718; 368423, 3806618; 368623, 3806618; 368623, 3806718; 368823, 3806718; 368823, 3806818; 369023, 3806818; 369023, 3806918; 369123, 3806918; 369123, 3807018; 369523, 3807018; 369523, 3806718; 369623, 3806718; 369623, 3806418; 369523, 3806418; 369523, 3806318; 369423, 3806318; 369423, 3806218; 369323, 3806218; 369323, 3806118; 369223, 3806118; 369223, 3805118; 370523, 3805118; 370523, 3805218; 370723, 3805218; 370723, 3805318; 370623, 3805318; 370623, 3805418; 370423, 3805418; 370423, 3805618; 370323, 3805618; 370323, 3805718; 370223, 3805718; 370223, 3805918; 370423, 3805918; 370423, 3806018; 370723, 3806018; 370723, 3805918; 370823, 3805918; 370823, 3805818; 371023, 3805818; 371023, 3805918; 371123, 3805918; 371123, 3806018; 371323, 3806018; 371323, 3806118; 371423, 3806118; 371423, 3806718; 370723, 3806718; 370723, 3806818; 370623, 3806818; 370623, 3807118; 370823, 3807118; 370823, 3807218; 371123, 3807218; 371123, 3807118; 371223, 3807118; 371223, 3806918; 371423, 3806918; 371423, 3807018; 371523, 3807018; 371523, 3807118; 371423, 3807118; 371423, 3807518; 371323, 3807518; 371323, 3807818; 371023, 3807818; 371023, 3807918; 370823, 3807918; 370823, 3808018; 370723, 3808018; 370723, 3808118; 370823, 3808118; 370823, 3808418; 370723, 3808418; 370723, 3808518; 370623, 3808518; 370623, 3808618; 370523, 3808618; 370523, 3808718; 370423, 3808718; 370423, 3808818; 370323, 3808818; 370323, 3808918; 370223, 3808918; 370223, 3809018; 369423, 3809018; 369423, 3809218; 369323, 3809218; 369323, 3809418; 369423, 3809418; 369423, 3809518; 369923, 3809518; 369923, 3809418; 370423, 3809418; 370423, 3809918; 371023, 3809918; 371023, 3810018; 371123, 3810018; 371123, 3810218; 371323, 3810218; 371323, 3810318; 371823, 3810318; 371823, 3810418; 372023, 3810418; 372023, 3810618; 372223, 3810618; 372223, 3810718; 372623, 3810718; 372623, 3810618; 372723, 3810618; 372723, 3810518; 373023, 3810518; 373023, 3810418; 373123, 3810418; 373123, 3810518; 373423, 3810518; 373423, 3810318; 373523, 3810318; 373523, 3810218; 373623, 3810218; 373623, 3810118; 373823, 3810118; 373823, 3810218; 374023, 3810218; 374023, 3810318; 374123, 3810318; 374123, 3810918; 374223, 3810918; 374223, 3811118; 374523, 3811118; 374523, 3811018; 374623, 3811018; 374623, 3810918; 374823, 3810918; 374823, 3810818; 375023, 3810818; 375023, 3810718; 375223, 3810718; 375223, 3810518; 375523, 3810518; 375523, 3810618; 375623, 3810618; 375623, 3810518; 375823, 3810518; 375823, 3810418; 375923, 3810418; 375923, 3810318; 376223, 3810318; 376223, 3810018; 376323, 3810018; 376323, 3809718; 376223, 3809718; 376223, 3809818; 376123, 3809818; 376123, 3809918; 375823, 3809918; 375823, 3810018; 375523, 3810018; 375523, 3810118; 375323, 3810118; 375323, 3810018; 375423, 3810018; 375423, 3809918; 375223, 3809918; 375223, 3809818; 375323, 3809818; 375323, 3809718; 375223, 3809718; 375223, 3809618; 375123, 3809618; 375123, 3809718; 375023, 3809718; 375023, 3810018; 374723, 3810018; 374723, 3809718; 374823, 3809718; 374823, 3809318; 374923, 3809318; 374923, 3809218; 374823, 3809218; 374823, 3809118; 374923, 3809118; 374923, 3809018; 375023, 3809018; 375023, 3808918; 374923, 3808918; 374923, 3808718; 375023, 3808718; 375023, 3808518; 375223, 3808518; 375223, 3808318; 375123, 3808318; 375123, 3808418; 374923, 3808418; 374923, 3808618; 374823, 3808618; 374823, 3808818; 374723, 3808818; 374723, 3809018; 374623, 3809018; 374623, 3809318; 374523, 3809318; 374523, 3809418; 374423, 3809418; 374423, 3809518; 374223, 3809518; 374223, 3809418; 374123, 3809418; 374123, 3809318; 374023, 3809318; 374023, 3809218; 373823, 3809218; 373823, 3809118; 373723, 3809118; 373723, 3809018; 373823, 3809018; 373823, 3808918; 373423, 3808918; 373423, 3808618; 373323, 3808618; 373323, 3808518; 373223, 3808518; 373223, 3808318; 373123, 3808318; 373123, 3808218; 373723, 3808218; 373723, 3808118; 373523, 3808118; 373523, 3808018; 373423, 3808018; 373423, 3807918; 373523, 3807918; 373523, 3807818; 373623, 3807818; 373623, 3807618; 373423, 3807618; 373423, 3807718; 373323, 3807718; 373323, 3807818; 373023, 3807818; 373023, 3807918; 372923, 3807918; 372923, 3807818; 372823, 3807818; 372823, 3807718; 372923, 3807718; 372923, 3807618; 372623,

3807618; 372623, 3807518; 372423, 3807518; 372423, 3807418; 372323, 3807418; 372323, 3807118; 372423, 3807118; 372423, 3807018; 372623, 3807018; 372623, 3807118; 373023, 3807118; 373023, 3807018; 373123, 3807018; 373123, 3806818; 373023, 3806818; 373023, 3806918; 372923, 3806918; 372923, 3807018; 372823, 3807018; 372823, 3806918; 372623, 3806918; 372623, 3806718; 372523, 3806718; 372523, 3806818; 372423, 3806818; 372423, 3806718; 372223, 3806718; 372223, 3806818; 371823, 3806818; 371823, 3806318; 372023, 3806318; 372023, 3806218; 372123, 3806218; 372123, 3806118; 372223, 3806118; 372223, 3806018; 372323, 3806018; 372323, 3806118; 372423, 3806118; 372423, 3806018; 372723, 3806018; 372723, 3805818; 372823, 3805818; 372823, 3805718; 373023, 3805718; 373023, 3805618; 373123, 3805618; 373123, 3805518; 372923, 3805518; 372923, 3805618; 372623, 3805618; 372623, 3805718; 372423, 3805718; 372423, 3805818; 371923, 3805818; 371923, 3805918; 371623, 3805918; 371623, 3805818; 371723, 3805818; 371723, 3805718; 371523, 3805718; 371523, 3805418; 371723, 3805418; 371723, 3805318; 371923, 3805318; 371923, 3805118; 372223, 3805118; 372223, 3805018; 372123, 3805018; 372123, 3804818; 372223, 3804818; 372223, 3804718; 372723, 3804718; 372723, 3804618; 372823, 3804618; 372823, 3804518; 372923, 3804518; 372923, 3804418; 372723, 3804418; 372723, 3804518; 372623, 3804518; 372623, 3804418; 372223, 3804418; 372223, 3804518; 372023, 3804518; 372023, 3804618; 371823, 3804618; 371823, 3804718; 371523, 3804718; 371523, 3804218; 371723, 3804218; 371723, 3804018; 372023, 3804018; 372023, 3803818; 372123, 3803818; 372123, 3803718; 371923, 3803718; 371923, 3803818; 371823, 3803818; 371823, 3803618; 371923, 3803618; 371923, 3803518; 372023, 3803518; 372023, 3803418; 372123, 3803418; 372123, 3803318; 372423, 3803318; 372423, 3803218; 372323, 3803218; 372323, 3803118; 372023, 3803118; 372023, 3803218; 371923, 3803218; 371923, 3803318; 371823, 3803318; 371823, 3803118; 371723, 3803118; 371723, 3803318; 371523, 3803318; 371523, 3803118; 371423, 3803118; 371423, 3803218; 371223, 3803218; 371223, 3803318; 371123, 3803318; 371123, 3803118; 371023, 3803118; 371023, 3803218; 370423, 3803218; 370423, 3803118; 370323, 3803118; 370323, 3803318; 370223, 3803318; 370223, 3803418; 370123, 3803418; 370123, 3803518; 370023, 3803518; 370023, 3803418; 369923, 3803418; 369923, 3803518; 369823, 3803518; 369823, 3803418; 369623, 3803418; 369623, 3803518; 369323, 3803518; 369323, 3803618; 369223, 3803618; 369223, 3803718; 368923, 3803718; 368923, 3803618; 368823, 3803618; 368823, 3803718; 368723, 3803718; 368723, 3803818; 368623, 3803818; 368623, 3803918; 368423, 3803918; 368423, 3803718; 368223, 3803718; 368223, 3803518; 368123, 3803518; 368123, 3803618; 367923, 3803618; 367923, 3803718; 367723, 3803718; 367723, 3803818; 367623, 3803818; 367623, 3803718; 367023, 3803718; 367023, 3803818; 366923, 3803818; 366923, 3803918; 367023, 3803918; 367023, 3804018; 366923, 3804018; 366923, 3804118; 366823, 3804118; 366823, 3804218; 366623, 3804218; 366623, 3804318; 366523, 3804318; 366523, 3804218; 366223, 3804218; 366223, 3804318; 366023, 3804318; 366023, 3804118; 365823, 3804118; 365823, 3804018; 365923, 3804018; 365923, 3803918; 365823, 3803918; 365823, 3803818; 365623, 3803818; 365623, 3803718; 365723, 3803718; 365723, 3803618; 365923, 3803618; 365923, 3803518; 365723, 3803518; 365723, 3803418; 365523, 3803418; 365523, 3803318; 365423, 3803318; 365423, 3803418; 365223, 3803418; 365223, 3803318; 364923, 3803318; 364923, 3803218; 364823, 3803218; 364823, 3803418; 364723, 3803418; 364723, 3803318; 364523, 3803318; 364523, 3803118; 364623, 3803118; 364623, 3802918; 364523, 3802918; 364523, 3802618; 364323, 3802618; 364323, 3802518; 364423, 3802518; 364423, 3802318; 364223, 3802318; 364223, 3802418; 364123, 3802418; 364123, 3802118; 364023, 3802118; 364023, 3801918; 363923, 3801918; 363923, 3801818; 363823, 3801818; 363823, 3801918; 363723, 3801918; 363723, 3801318; 363523, 3801318; 363523, 3801218; 363423, 3801218; 363423, 3801118; 363323, 3801118; 363323, 3801018; 363423, 3801018; 363423, 3800918; 363323, 3800918; 363323, 3800718; 363423, 3800718; 363423, 3800518; 363323, 3800518; 363323, 3800418; 363423, 3800418; 363423, 3800218; 363523, 3800218; 363523, 3800518; 363723, 3800518; 363723, 3800418; 363923, 3800418; 363923, 3800318; 364023, 3800318; 364023, 3800218; 364123, 3800218; 364123, 3800318; 364323, 3800318; 364323, 3800418; 364223, 3800418; 364223, 3800618; 364123, 3800618; 364123, 3800718; 364423, 3800718; 364423, 3800818; 364523, 3800818; 364523, 3800718; 364623, 3800718; 364623, 3800918; 364723, 3800918; 364723, 3801018; 364623, 3801018; 364623, 3801318; 364523, 3801318; 364523, 3801418; 364623, 3801418; 364623, 3801518; 364723, 3801518; 364723, 3801618; 364823, 3801618; 364823, 3801718; 365023, 3801718; 365023, 3801618; 364923, 3801618; 364923, 3801518; 365023, 3801518; 365023, 3801418; 365123, 3801418; 365123, 3801218; 365223, 3801218; 365223, 3801018; 365323, 3801018; 365323, 3801118; 365623, 3801118; 365623, 3801018; 365923, 3801018; 365923, 3800818; 366023, 3800818; 366023, 3801018; 366123, 3801018; 366123, 3800918; 366323, 3800918; 366323, 3801018; 366423, 3801018; 366423, 3801318; 366623, 3801318; 366623, 3801218; 366823, 3801218; 366823, 3801318; 366923, 3801318; 366923, 3801718; 367023, 3801718; 367023, 3801918; 367123, 3801918; 367123, 3801818; 367223, 3801818; 367223, 3801718; 367123, 3801718; 367123, 3801618; 367223, 3801618; 367223, 3801518; 367323,

3801518; 367323, 3801618; 367423, 3801618; 367423, 3801718; 367623, 3801718; 367623, 3801618; 367723, 3801618; 367723, 3801518; 367623, 3801518; 367623, 3801418; 367523, 3801418; 367523, 3801118; 367723, 3801118; 367723, 3801018; 367823, 3801018; 367823, 3800818; 367923, 3800818; 367923, 3800918; 368023, 3800918; 368023, 3800618; 368223, 3800618; 368223, 3800418; 368323, 3800418; 368323, 3800518; 368423, 3800518; 368423, 3800418; 368523, 3800418; 368523, 3800618; 368623, 3800618; 368623, 3800318; 368823, 3800318; 368823, 3800518; 368923, 3800518; 368923, 3800318; 369023, 3800318; 369023, 3800418; returning to 369323, 3800418; excluding land bounded by 350923, 3803918; 350923, 3804018; 350823, 3804018; 350823, 3803918; 350923, 3803918; land bounded by 368223, 3803718; 368223, 3803818; 368123, 3803818; 368123, 3803718; 368223, 3803718; land bounded by 335123, 3803818; 335023, 3803818; 335023, 3803618; 335123, 3803618; 335123, 3803818; land bounded by 350223, 3803618; 350223, 3803718; 350123, 3803718; 350123, 3803818; 349923, 3803818; 349923, 3803718; 350023, 3803718; 350023, 3803618; 350223, 3803618; land bounded by 371523, 3803318; 371523, 3803418; 371423, 3803418; 371423, 3803318; 371523, 3803318; land bounded by 364123, 3802418; 364123, 3802518; 364023, 3802518; 364023, 3802418; 364123, 3802418; land bounded by 353823, 3802318; 353823, 3802218; 353923, 3802218; 353923, 3802318; 353823, 3802318; land bounded by 364023, 3802118; 364023, 3802218; 363923, 3802218; 363923, 3802118; 364023, 3802118; land bounded by 366923, 3801318; 366923, 3801118; 367023, 3801118; 367023, 3801318; 366923, 3801318; land bounded by 355523, 3801018; 355523, 3801218; 355423, 3801218; 355423, 3801318; 355323, 3801318; 355323, 3801418; 355423, 3801418; 355423, 3801518; 355223, 3801518; 355223, 3801218; 355323, 3801218; 355323, 3801118; 355423, 3801118; 355423, 3801018; 355523, 3801018; land bounded by 356523, 3800818; 356523, 3800718; 356723, 3800718; 356723, 3800818; 356523, 3800818; land bounded by 348723, 3800518; 348623, 3800518; 348623, 3800418; 348723, 3800418; 348723, 3800518; land bounded by 369323, 3800418; 369323, 3800318; 369423, 3800318; 369423, 3800418; 369323, 3800418; land bounded by 358323, 3799618; 358323, 3799518; 358423, 3799518; 358423, 3799618; 358323, 3799618; land bounded by 357923, 3799518; 357923, 3799418; 358023, 3799418; 358023, 3799518; 357923, 3799518; land bounded by 347723, 3798418; 347923, 3798418; 347923, 3798318; 348323, 3798318; 348323, 3798118; 348923, 3798118; 348923, 3798418; 348823, 3798418; 348823, 3798518; 348723, 3798518; 348723, 3798618; 348423, 3798618; 348423, 3798718; 348223, 3798718; 348223, 3798618; 348123, 3798618; 348123, 3798718; 347923, 3798718; 347923, 3798618; 347623, 3798618; 347623, 3798518; 347723, 3798518; 347723, 3798418; land bounded by 347723, 3798418; 347623, 3798418; 347623, 3798318; 347223, 3798318; 347223, 3798218; 347723, 3798218; 347723, 3798418; land bounded by 326523, 3798018; 326423, 3798018; 326423, 3797918; 326523, 3797918; 326523, 3798018; land bounded by 350323, 3803518; 350323, 3803618; 350223, 3803618; 350223, 3803518; 350323, 3803518; land bounded by 356523, 3800818; 356523, 3800918; 355723, 3800918; 355723, 3801018; 355523, 3801018; 355523, 3800818; 355623, 3800818; 355623, 3800718; 355823, 3800718; 355823, 3800818; 356523, 3800818; land bounded by 358023, 3799718; 358023, 3799618; 358323, 3799618; 358323, 3799718; 358023, 3799718; land bounded by 350423, 3803418; 350423, 3803518; 350323, 3803518; 350323, 3803418; 350423, 3803418; land bounded by 350423, 3803418; 350423, 3803218; 350023, 3803218; 350023, 3803118; 349823, 3803118; 349823, 3803018; 349923, 3803018; 349923, 3802918; 350023, 3802918; 350023, 3802818; 349823, 3802818; 349823, 3802718; 349723, 3802718; 349723, 3802818; 349523, 3802818; 349523, 3803018; 349323, 3803018; 349323, 3803218; 349123, 3803218; 349123, 3803018; 349023, 3803018; 349023, 3802918; 348923, 3802918; 348923, 3803118; 348823, 3803118; 348823, 3803218; 348723, 3803218; 348723, 3803018; 348623, 3803018; 348623, 3802918; 348523, 3802918; 348523, 3803118; 348323, 3803118; 348323, 3803018; 348223, 3803018; 348223, 3802918; 348123, 3802918; 348123, 3802818; 348023, 3802818; 348023, 3802718; 347823, 3802718; 347823, 3802618; 347623, 3802618; 347623, 3802718; 347523, 3802718; 347523, 3802918; 347423, 3802918; 347423, 3803018; 347523, 3803018; 347523, 3803318; 347623, 3803318; 347623, 3803418; 347523, 3803418; 347523, 3803518; 347423, 3803518; 347423, 3803618; 347323, 3803618; 347323, 3803418; 347123, 3803418; 347123, 3803318; 346923, 3803318; 346923, 3803418; 346823, 3803418; 346823, 3803718; 346623, 3803718; 346623, 3803818; 346423, 3803818; 346423, 3803718; 346523, 3803718; 346523, 3803618; 346223, 3803618; 346223, 3803818; 346123, 3803818; 346123, 3803918; 346023, 3803918; 346023, 3803718; 345323, 3803718; 345323, 3803618; 345223, 3803618; 345223, 3803718; 344923, 3803718; 344923, 3803618; 344623, 3803618; 344623, 3803718; 344423, 3803718; 344423, 3803618; 344523, 3803618; 344523, 3803518; 344623, 3803518; 344623, 3803418; 344823, 3803418; 344823, 3803218; 345023, 3803218; 345023, 3803118; 345223, 3803118; 345223, 3803018; 345323, 3803018; 345323, 3803118; 345523, 3803118; 345523, 3802918; 345623, 3802918; 345623, 3802418; 345823, 3802418; 345823, 3802618; 345723, 3802618; 345723, 3802818; 345823, 3802818; 345823, 3802718; 346223, 3802718; 346223, 3802818; 346323, 3802818; 346323, 3802718; 346423, 3802718; 346423,

3802518; 346623, 3802518; 346623, 3802418; 346723, 3802418; 346723, 3802218; 346823, 3802218; 346823, 3802318; 346923, 3802318; 346923, 3802018; 346823, 3802018; 346823, 3801918; 346923, 3801918; 346923, 3801818; 347223, 3801818; 347223, 3801718; 347323, 3801718; 347323, 3801618; 347423, 3801618; 347423, 3801518; 347623, 3801518; 347623, 3801418; 347823, 3801418; 347823, 3801618; 347923, 3801618; 347923, 3801418; 348023, 3801418; 348023, 3801118; 348123, 3801118; 348123, 3801018; 348223, 3801018; 348223, 3801118; 348523, 3801118; 348523, 3801218; 348723, 3801218; 348723, 3801518; 348823, 3801518; 348823, 3801718; 348923, 3801718; 348923, 3801618; 349023, 3801618; 349023, 3801518; 348923, 3801518; 348923, 3801418; 349023, 3801418; 349023, 3801318; 348923, 3801318; 348923, 3801018; 348823, 3801018; 348823, 3800718; 348723, 3800718; 348723, 3800518; 349023, 3800518; 349023, 3800718; 349223, 3800718; 349223, 3801118; 349423, 3801118; 349423, 3801018; 349523, 3801018; 349523, 3801318; 349423, 3801318; 349423, 3801418; 349823, 3801418; 349823, 3801318; 349723, 3801318; 349723, 3801218; 350023, 3801218; 350023, 3801318; 350123, 3801318; 350123, 3801118; 350023, 3801118; 350023, 3801018; 350123, 3801018; 350123, 3800918; 349923, 3800918; 349923, 3800818; 349823, 3800818; 349823, 3800718; 349923, 3800718; 349923, 3800518; 350223, 3800518; 350223, 3800418; 350123, 3800418; 350123, 3800318; 350023, 3800318; 350023, 3800218; 350223, 3800218; 350223, 3800018; 350423, 3800018; 350423, 3800118; 350523, 3800118; 350523, 3800318; 350723, 3800318; 350723, 3800018; 350923, 3800018; 350923, 3799918; 351123, 3799918; 351123, 3799818; 351223, 3799818; 351223, 3799718; 351523, 3799718; 351523, 3799618; 351323, 3799618; 351323, 3799518; 351223, 3799518; 351223, 3799418; 351123, 3799418; 351123, 3799318; 351023, 3799318; 351023, 3799118; 351123, 3799118; 351123, 3799018; 351223, 3799018; 351223, 3798718; 351423, 3798718; 351423, 3798818; 351523, 3798818; 351523, 3798918; 351623, 3798918; 351623, 3798818; 351723, 3798818; 351723, 3798718; 352023, 3798718; 352023, 3798618; 352123, 3798618; 352123, 3798418; 352223, 3798418; 352223, 3798318; 352323, 3798318; 352323, 3798418; 352523, 3798418; 352523, 3798718; 352423, 3798718; 352423, 3798818; 352523, 3798818; 352523, 3798918; 352623, 3798918; 352623, 3798718; 352923, 3798718; 352923, 3798818; 353023, 3798818; 353023, 3798918; 353223, 3798918; 353223, 3799018; 353623, 3799018; 353623, 3798818; 353823, 3798818; 353823, 3798718; 353723, 3798718; 353723, 3798618; 353823, 3798618; 353823, 3798418; 353723, 3798418; 353723, 3798218; 353823, 3798218; 353823, 3798118; 353923, 3798118; 353923, 3798018; 354023, 3798018; 354023, 3798118; 354223, 3798118; 354223, 3798418; 354723, 3798418; 354723, 3798318; 354923, 3798318; 354923, 3798218; 355023, 3798218; 355023, 3798018; 355223, 3798018; 355223, 3797818; 355323, 3797818; 355323, 3797618; 355623, 3797618; 355623, 3797518; 355723, 3797518; 355723, 3797418; 355823, 3797418; 355823, 3797718; 355923, 3797718; 355923, 3797618; 356023, 3797618; 356023, 3797518; 356123, 3797518; 356123, 3797618; 356223, 3797618; 356223, 3797518; 356323, 3797518; 356323, 3797418; 356623, 3797418; 356623, 3797518; 356523, 3797518; 356523, 3798018; 356423, 3798018; 356423, 3798318; 356523, 3798318; 356523, 3798218; 356723, 3798218; 356723, 3798318; 356823, 3798318; 356823, 3798218; 357023, 3798218; 357023, 3798318; 357123, 3798318; 357123, 3798618; 357623, 3798618; 357623, 3799018; 357823, 3799018; 357823, 3798918; 357923, 3798918; 357923, 3798818; 357823, 3798818; 357823, 3798618; 358023, 3798618; 358023, 3798718; 358123, 3798718; 358123, 3798618; 358223, 3798618; 358223, 3798518; 358123, 3798518; 358123, 3798418; 358223, 3798418; 358223, 3798318; 358423, 3798318; 358423, 3798218; 358523, 3798218; 358523, 3798118; 358723, 3798118; 358723, 3798018; 358823, 3798018; 358823, 3797818; 358723, 3797818; 358723, 3797718; 358623, 3797718; 358623, 3797518; 358523, 3797518; 358523, 3797418; 358923, 3797418; 358923, 3797518; 359223, 3797518; 359223, 3797618; 359123, 3797618; 359123, 3797718; 359023, 3797718; 359023, 3798018; 359123, 3798018; 359123, 3798118; 359023, 3798118; 359023, 3798318; 358923, 3798318; 358923, 3798418; 358823, 3798418; 358823, 3798518; 358523, 3798518; 358523, 3798718; 358423, 3798718; 358423, 3798818; 358323, 3798818; 358323, 3798918; 358423, 3798918; 358423, 3799118; 358123, 3799118; 358123, 3799218; 357823, 3799218; 357823, 3799518; 357923, 3799518; 357923, 3799618; 357823, 3799618; 357823, 3799718; 358023, 3799718; 358023, 3799918; 357923, 3799918; 357923, 3800218; 357823, 3800218; 357823, 3799818; 357723, 3799818; 357723, 3799618; 357623, 3799618; 357623, 3799718; 357523, 3799718; 357523, 3799618; 357423, 3799618; 357423, 3799418; 357323, 3799418; 357323, 3799518; 357223, 3799518; 357223, 3799318; 356923, 3799318; 356923, 3799418; 356823, 3799418; 356823, 3799618; 356623, 3799618; 356623, 3799718; 356723, 3799718; 356723, 3799918; 356523, 3799918; 356523, 3800018; 356323, 3800018; 356323, 3799818; 356223, 3799818; 356223, 3800018; 355923, 3800018; 355923, 3799918; 356023, 3799918; 356023, 3799818; 355823, 3799818; 355823, 3799718; 355723, 3799718; 355723, 3800018; 355623, 3800018; 355623, 3800118; 355723, 3800118; 355723, 3800218; 355623, 3800218; 355623, 3800318; 355823, 3800318; 355823, 3800418; 355723, 3800418; 355723, 3800518; 355623, 3800518; 355623, 3800618; 355523, 3800618; 355523, 3800518; 355423, 3800518; 355423, 3800318; 355223, 3800318; 355223,

3800718; 355023, 3800718; 355023, 3800518; 354823, 3800518; 354823, 3800618; 354723, 3800618; 354723, 3800418; 354523, 3800418; 354523, 3800518; 354423, 3800518; 354423, 3800418; 354323, 3800418; 354323, 3800718; 354223, 3800718; 354223, 3800618; 354123, 3800618; 354123, 3800718; 354023, 3800718; 354023, 3800518; 353923, 3800518; 353923, 3800718; 353823, 3800718; 353823, 3800618; 353623, 3800618; 353623, 3800918; 353423, 3800918; 353423, 3801018; 354123, 3801018; 354123, 3801118; 353823, 3801118; 353823, 3801218; 353723, 3801218; 353723, 3801318; 353623, 3801318; 353623, 3801418; 353423, 3801418; 353423, 3801518; 353223, 3801518; 353223, 3801718; 353123, 3801718; 353123, 3801618; 353023, 3801618; 353023, 3801718; 352723, 3801718; 352723, 3801618; 352523, 3801618; 352523, 3801718; 352623, 3801718; 352623, 3801818; 352723, 3801818; 352723, 3801918; 352823, 3801918; 352823, 3802018; 352723, 3802018; 352723, 3802118; 352623, 3802118; 352623, 3802318; 352523, 3802318; 352523, 3802418; 352423, 3802418; 352423, 3802518; 352323, 3802518; 352323, 3802818; 352423, 3802818; 352423, 3802718; 352523, 3802718; 352523, 3802618; 352623, 3802618; 352623, 3802818; 352723, 3802818; 352723, 3802918; 352823, 3802918; 352823, 3802818; 352923, 3802818; 352923, 3802718; 353123, 3802718; 353123, 3802618; 353223, 3802618; 353223, 3802718; 353323, 3802718; 353323, 3802618; 353423, 3802618; 353423, 3802518; 353523, 3802518; 353523, 3802418; 353723, 3802418; 353723, 3802318; 353823, 3802318; 353823, 3803018; 353923, 3803018; 353923, 3803118; 353623, 3803118; 353623, 3803018; 353423, 3803018; 353423, 3803218; 353223, 3803218; 353223, 3803118; 353023, 3803118; 353023, 3803218; 352923, 3803218; 352923, 3803118; 352823, 3803118; 352823, 3803218; 352723, 3803218; 352723, 3803318; 352623, 3803318; 352623, 3803218; 352523, 3803218; 352523, 3803118; 352423, 3803118; 352423, 3803218; 352223, 3803218; 352223, 3803318; 352423, 3803318; 352423, 3803518; 352323, 3803518; 352323, 3803418; 352123, 3803418; 352123, 3803518; 352223, 3803518; 352223, 3803618; 352023, 3803618; 352023, 3803718; 351723, 3803718; 351723, 3803818; 351823, 3803818; 351823, 3803918; 351923, 3803918; 351923, 3804018; 352123, 3804018; 352123, 3804118; 351623, 3804118; 351623, 3804218; 351423, 3804218; 351423, 3804318; 351223, 3804318; 351223, 3804218; 351123, 3804218; 351123, 3804118; 351323, 3804118; 351323, 3804018; 351423, 3804018; 351423, 3803918; 350923, 3803918; 350923, 3803818; 351023, 3803818; 351023, 3803718; 351123, 3803718; 351123, 3803618; 351223, 3803618; 351223, 3803518; 351323, 3803518; 351323, 3803618; 351423, 3803618; 351423, 3803418; 351523, 3803418; 351523, 3803318; 351823, 3803318; 351823, 3803218; 351923, 3803218; 351923, 3802918; 351823, 3802918; 351823, 3803018; 351723, 3803018; 351723, 3803118; 351623, 3803118; 351623, 3803018; 351423, 3803018; 351423, 3803118; 351323, 3803118; 351323, 3802718; 351123, 3802718; 351123, 3802918; 351023, 3802918; 351023, 3803118; 350823, 3803118; 350823, 3803318; 350623, 3803318; 350623, 3803418; 350423, 3803418; land bounded by 371723, 3805318; 371623, 3805318; 371623, 3805218; 371723, 3805218; 371723, 3805318; land bounded by 355423, 3801618; 355423, 3801718; 355323, 3801718; 355323, 3801618; 355423, 3801618; land bounded by 349923, 3798118; 349923, 3798418; 349823, 3798418; 349823, 3798518; 349623, 3798518; 349623, 3798618; 349523, 3798618; 349523, 3798718; 349223, 3798718; 349223, 3798618; 349323, 3798618; 349323, 3798518; 349423, 3798518; 349423, 3798418; 349523, 3798418; 349523, 3798318; 349723, 3798318; 349723, 3798218; 349823, 3798218; 349823, 3798118; 349923, 3798118; and land bounded by 349323, 3795518; 349323, 3795618; 349423, 3795618; 349423, 3795818; 349023, 3795818; 349023, 3795918; 348923, 3795918; 348923, 3796218; 349023, 3796218; 349023, 3796318; 348923, 3796318; 348923, 3796418; 348723, 3796418; 348723, 3796618; 348823, 3796618; 348823, 3796818; 349023, 3796818; 349023, 3796918; 348623, 3796918; 348623, 3797018; 348423, 3797018; 348423, 3797118; 348323, 3797118; 348323, 3796718; 348423, 3796718; 348423, 3796518; 348323, 3796518; 348323, 3796418; 348123, 3796418; 348123, 3796318; 348223, 3796318; 348223, 3796218; 348323, 3796218; 348323, 3796118; 348523, 3796118; 348523, 3795818; 348623, 3795818; 348623, 3795718; 348823, 3795718; 348823, 3795618; 348923, 3795618; 348923, 3795518; 349323, 3795518.

Land bounded by the following UTM NAD83 coordinates (E, N): 363023, 3805518; 362923, 3805518; 362923, 3805718; 363023, 3805718; 363023, 3806118; 363123, 3806118; 363123, 3806418; 363223, 3806418; 363223, 3806618; 363323, 3806618; 363323, 3806918; 363223, 3806918; 363223, 3807018; 363023, 3807018; 363023, 3807118; 362923, 3807118; 362923, 3807018; 362523, 3807018; 362523, 3806918; 362423, 3806918; 362423, 3806618; 362323, 3806618; 362323, 3806518; 362223, 3806518; 362223, 3805718; 361923, 3805718; 361923, 3805618; 361823, 3805618; 361823, 3806518; 361423, 3806518; 361423, 3806618; 361223, 3806618; 361223, 3806918; 360423, 3806918; 360423, 3807018; 360323, 3807018; 360323, 3807218; 360223, 3807218; 360223, 3807518; 360123, 3807518; 360123, 3807718; 360023, 3807718; 360023, 3807818; 359923, 3807818; 359923, 3808018; 359023, 3808018; 359023, 3808118; 358923, 3808118; 358923, 3808618; 358823, 3808618; 358823, 3809018; 358723, 3809018; 358723, 3809318; 358623, 3809318; 358623, 3809618; 358523, 3809618; 358523, 3809818; 358623, 3809818; 358623, 3809918; 358923, 3809918; 358923, 3809818; 359023, 3809818; 359023, 3809718; 359123, 3809718; 359123, 3809618; 359223, 3809618; 359223, 3809518; 359323, 3809518; 359323, 3809318; 359523, 3809318; 359523, 3809218; 359623, 3809218; 359623, 3809118; 359823, 3809118; 359823, 3809018; 360023, 3809018; 360023, 3808918; 360223, 3808918; 360223, 3808818; 360423, 3808818; 360423, 3808718; 360723, 3808718; 360723, 3808618; 360923, 3808618; 360923, 3808518; 361123, 3808518; 361123, 3808618; 361423, 3808618; 361423, 3808718; 361523, 3808718; 361523, 3808318; 361623, 3808318; 361623, 3808118; 361723, 3808118; 361723, 3808018; 361823, 3808018; 361823, 3807918; 362023, 3807918; 362023, 3808418; 362123, 3808418; 362123, 3808518; 362323, 3808518; 362323, 3809218; 362423, 3809218; 362423, 3809518; 362723, 3809518; 362723, 3809418; 362623, 3809418; 362623, 3809118; 362723, 3809118; 362723, 3808818; 362823, 3808818; 362823, 3808518; 362923, 3808518; 362923, 3808418; 363123, 3808418; 363123, 3808518; 363323, 3808518; 363323, 3808418; 363223, 3808418; 363223, 3808018; 363123, 3808018; 363123, 3807718; 363323, 3807718; 363323, 3807618; 363423, 3807618; 363423, 3807518; 363523, 3807518; 363523, 3807318; 363623, 3807318; 363623, 3807218; 363723, 3807218; 363723, 3807118; 363823, 3807118; 363823, 3807218; 364223, 3807218; 364223, 3806918; 363923, 3806918; 363923, 3806818; 363823, 3806818; 363823, 3806518; 364023, 3806518; 364023, 3806418; 364123, 3806418; 364123, 3806318; 364023, 3806318; 364023, 3806218; 363923, 3806218; 363923, 3806118; 363723, 3806118; 363723, 3806018; 363623, 3806018; 363623, 3805918; 363423, 3805918; 363423, 3805818; 363223, 3805818; 363223, 3805718; 363123, 3805718; 363123, 3805618; 363023, 3805618; returning to 363023, 3805518.

(ii) Note: Map of Unit 13 follows.

Dated: April 10, 2003.
Craig Manson,
Assistant Secretary for Fish and Wildlife and Parks.

[FR Doc. 03-9435 Filed 4-23-03; 8:45 am]

BILLING CODE 4310-55-P